ENVIRONMENTAL PROTECTION AGENCY

40 CFR Chapter I

[EPA-HQ-OAR-2013-0694, FRL-9909-93-OAR ]

RIN 2060-AS12

Identification of Nonattainment Classification and Deadlines for Submission of State Implementation Plan (SIP) Provisions for the 1997 Fine Particle (PM2.5) National Ambient Air Quality Standard (NAAQS) and 2006 PM2.5 NAAQS

AGENCY: Environmental Protection Agency.

ACTION: Final rule.

SUMMARY: On January 4, 2013, in Natural Resources Defense Council (NRDC) v. EPA, the D.C. Circuit Court remanded to the Environmental Protection Agency (EPA) the “Final Clean Air Fine Particle Implementation Rule” (April 25, 2007) (the “2007 PM2.5 Implementation Rule”) and the “Implementation of the New Source Review (NSR) Program for Particulate Matter Less than 2.5 Micrometers (PM2.5)” final rule (May 16, 2008) (the “2008 PM2.5 NSR Rule”). The Court found that the EPA erred in implementing the 1997 PM2.5 National Ambient Air Quality Standards (NAAQS) pursuant solely to the general implementation provisions of subpart 1 of Part D of Title I of the Clean Air Act (CAA or Act), without also considering the particulate matter-specific provisions of subpart 4 of Part D. The Court's ruling remanded the rules to the EPA to address implementation of the 1997 PM2.5 NAAQS under subpart 4. This final rulemaking identifies the classification under subpart 4 for areas currently designated nonattainment for the 1997 and/or 2006 PM2.5 standards, the deadlines for states to submit attainment-related and nonattainment new source review (NNSR) state implementation plan (SIP) elements required for these areas pursuant to subpart 4, and the EPA guidance that is currently available regarding subpart 4 requirements. The final deadlines for 1997 and 2006 PM2.5 NAAQS attainment-related SIP submissions and NNSR requirements for nonattainment areas would replace previous deadlines that were set solely pursuant to subpart 1. Specifically, the EPA is identifying the initial classification of current 1997 and/or 2006 PM2.5 NAAQS nonattainment areas as “Moderate,” and the EPA is setting a deadline of December 31, 2014, for submission of remaining required SIP submissions for these areas, pursuant to and considering the application of subpart 4. This rulemaking affects 1997 and 2006 PM2.5 NAAQS nonattainment areas. After the careful consideration of the comments received on the proposal, the EPA is planning to finalize the rule as it was proposed. As part of the final rulemaking, the EPA is also updating 40 CFR part 81, “Designation of Areas for Air Quality Planning Purposes” for the 1997 and 2006 PM2.5 NAAQS nonattainment areas.

DATES: This final rule is effective on July 2, 2014.

ADDRESSES: The EPA has established a docket for this action under Docket ID No. EPA-HQ-OAR-2013-0694. All documents in the docket are listed on the www.regulations.gov Web site. Although listed in the index, some information is not publicly available, i.e., confidential business information or other information whose disclosure is restricted by statute. Certain other material, such as copyrighted material, will be publicly available only in hard copy. Publicly available docket materials are available either electronically in www.regulations.gov or in hard copy at the Docket ID No. EPA-HQ-OAR-2010-0605, EPA/DC, William Jefferson Clinton West Building, Room 3334, 1301 Constitution Avenue Northwest, Washington, DC. The Public Reading Room is open from 8:30 a.m. to 4:30 p.m., Monday through Friday, excluding legal holidays. The telephone number for the Public Reading Room is (202) 566-1744 and the telephone number for the Air and Radiation Docket Information Center is (202) 566-1742. For additional information about the EPA's public docket, visit the EPA Docket Center homepage at: http://www.epa.gov/epahome/dockets.htm.

FOR FURTHER INFORMATION CONTACT: For further general information on this rulemaking, contact Ms. Mia South, Air Quality Policy Division, Office of Air Quality Planning and Standards (C539-01), Environmental Protection Agency, Research Triangle Park, North Carolina 27711; telephone number (919) 541-5550; fax number (919) 541-5315; email at south.mia@epa.gov.

SUPPLEMENTARY INFORMATION:

I. General Information

A. Does this action apply to me?

Entities potentially affected directly by this final rulemaking include state, local and tribal governments.

B. Where can I get a copy of this document and other related information?

In addition to being available in the docket, an electronic copy of this notice will be posted at http://www.epa.gov/airquality/particlepollution/actions.html.

C. How is this notice organized?

The information presented in this notice is organized as follows:

I. General Information

A. Does this action apply to me?

B. Where can I get a copy of this document and other related information?

C. How is this notice organized?

II. Background for the Final Rulemaking

III. Initial Identification of “Moderate” Classification for PM2.5 Nonattainment Areas under Subpart 4

A. Summary of Proposal

B. Comments and Responses

C. Final Action

IV. Deadline for Submission of Remaining Required SIP Elements

A. Summary of Proposal

B. Comments and Responses

C. Final Action

V. What guidance is currently available to states regarding subpart 4 requirements?

A. Summary of Proposal

B. Comments and Responses

C. Final Response

VI. Statutory and Executive Order Reviews

A. Executive Order 12866: Regulatory Planning and Review and Executive Order 13563: Improving Regulation and Regulatory Review

B. Paperwork Reduction Act

C. Regulatory Flexibility Act

D. Unfunded Mandates Reform Act

E. Executive Order 13132: Federalism

F. Executive Order 13175: Consultation and Coordination with Indian Tribal Governments

G. Executive Order 13045: Protection of Children from Environmental Health and Safety Risks

H. Executive Order 13211: Actions Concerning Regulations That Significantly Affect Energy Supply, Distribution, or Use

I. National Technology Transfer and Advancement Act

J. Executive Order 12898: Federal Actions to Address Environmental Justice in Minority Populations and Low-Income Populations

K. Congressional Review Act

L. Judicial Review

Statutory Authority

List of Subjects

II. Background for the Final Rulemaking

On January 4, 2013, in NRDC v. EPA, the DC Circuit Court remanded to the EPA the 2007 PM2.5 Implementation Rule and the 2008 PM2.5 NSR Rule. 706 F.3d 428 (D.C. Cir. 2013). Prior to the Court's decision, and continuously since 2005, the EPA had implemented the 1997 and 2006 PM2.5 NAAQS pursuant to regulations and guidance ¹ that were based on the general implementation provisions of subpart 1. The Court found that the EPA erred in implementing the 1997 PM2.5 NAAQS solely pursuant to subpart 1, without consideration of the particulate matter-specific provisions of subpart 4.

¹ “Implementation Guidance for the 2006 24-Hour Fine Particle (PM2.5) National Ambient Air Quality Standards (NAAQS),” from Stephen D. Page, Director, Office of Air Quality Planning and Standards, to Regional Air Directors, Region I-X, March 2, 2012. This guidance was withdrawn on June 6, 2013.

The subpart 4 requirements for areas classified as Moderate are generally comparable to those of subpart 1. The general provisions for requirements for all nonattainment areas for subpart 4 include: (1) Section 189(a)(1)(A) (NNSR permit program); (2) section 189(a)(1)(B) (attainment demonstration or demonstration that attainment by the applicable attainment date is impracticable); (3) section 189(a)(1)(C) (reasonably available control measures (RACM) and reasonable available control technology (RACT)); (4) section 189(c) (reasonable further progress (RFP) and quantitative milestones); and (5) section 189(e) (precursor requirements for major stationary sources). Subpart 4 introduces additional statutory SIP planning requirements in the event that the EPA reclassifies a Moderate nonattainment area to a Serious nonattainment area and in the event the area needs extensions of time to attain the NAAQS. The General Preamble and Addendum provide useful guidance on the specific subpart 4 statutory requirements.²

² “State Implementation Plans; General Preamble for the Implementation of Title I of the Clean Air Act Amendments of 1990” (57 FR 13498, April 16, 1992) (the “General Preamble”) and “State Implementation Plans for Serious PM-10 Nonattainment Areas, and Attainment Date Waivers for PM-10 Nonattainment Areas Generally; Addendum to the General Preamble for the Implementation of Title I of the Clean Air Act Amendments of 1990” (59 FR 41998, August 16, 1994) (the “Addendum”).

Following the January 2013 court decision, the EPA considered the implications of this decision on its implementation of the 1997 and 2006 PM2.5 standards and determined that it was important to clarify certain key issues. Accordingly, on November 21, 2013 (78 FR 69806), the EPA published a notice of proposed rulemaking seeking comment on the EPA's proposed identification of the classification under subpart 4 for areas currently designated nonattainment for these two standards, the deadlines for states to submit attainment-related and NNSR SIP elements required for these areas pursuant to subpart 4, and the EPA guidance that is currently available regarding subpart 4 requirements. In response to the notice of proposed rulemaking, the EPA received sixteen substantive comments. A summary of significant comments received and the EPA's response is provided throughout this notice. To review the full Responses to Comment Document, see Docket ID No. EPA-HQ-OAR-2013-0694.

In this final rulemaking, the EPA takes additional steps to respond to the court's remand and to address the implementation of the 1997 and 2006 PM2.5 NAAQS under subpart 4. In light of the long history of implementation of these standards under subpart 1, the EPA's final rulemaking seeks to integrate and harmonize ongoing implementation under subpart 1 with the subpart 4 requirements the Court has directed the EPA to address.

The states that are most affected by this rule include states that have 1997 and/or 2006 PM2.5 NAAQS nonattainment areas that meet one of the following criteria: (1) There has been no SIP submission for the 1997 and/or 2006 PM2.5 NAAQS; (2) there is no clean data determination; and (3) a complete redesignation request will not have been submitted prior to December 31, 2014.³

³ For the current status of 1997 PM2.5 NNSR SIPs, see http://www.epa.gov/airquality/urbanair/sipstatus/reports/pm-2.5_1997_pm-2.5_nonattainment_nsr_enbystate.html. For the current status of 1997 PM2.5 attainment-related SIPs, see http://www.epa.gov/airquality/urbanair/sipstatus/reports/pm-2.5_1997_pm-2.5_attainment_demonstration_enbystate.html. For the current status of 2006 PM2.5 NNSR SIPs, see http://www.epa.gov/airquality/urbanair/sipstatus/reports/pm-2.5_2006_pm-2.5_nonattainment_nsr_enbystate.html. For the current status of 2006 PM2.5 attainment-related SIPs, see http://www.epa.gov/airquality/urbanair/sipstatus/reports/pm-2.5_2006_pm-2.5_attainment_demonstration_enbystate.html.

III. Initial Identification of “Moderate” Classification for PM2.5 Nonattainment Areas Under Subpart 4

A. Summary of Proposal

Under the EPA's prior approach to implementing the 1997 and 2006 PM2.5 standards according to subpart 1, the EPA was not required to, and did not, identify any classifications for areas designated nonattainment. By contrast, subpart 4 of the CAA, section 188, provides that all areas designated nonattainment are initially classified “by operation of law” as “Moderate” nonattainment areas, and they remain classified as Moderate nonattainment areas unless and until the EPA later reclassifies them as Serious nonattainment areas or the EPA determines that an area has not attained the PM2.5 NAAQS by the area's applicable attainment date. Therefore, the EPA proposed to identify all PM2.5 nonattainment areas as “Moderate.”

B. Comments and Responses

Two public interest groups commented that the classification of PM2.5 nonattainment areas as “Moderate” occurs by operation of law upon designation, and therefore this Moderate classification does not require any EPA action beyond the initial designation of an area as nonattainment.

The EPA agrees that the CAA provides that all areas designated nonattainment are initially classified as “Moderate.” However, as explained in the proposal, the NRDC holding that the EPA erred in implementing the 1997 PM2.5 NAAQS solely pursuant to subpart 1 should not be applied retroactively. Nonattainment area designations for all areas became effective many years before the 2013 NRDC decision. See 70 FR 944, January 5, 2005; 74 FR 58688, November 13, 2009; 76 FR 6056, February 3, 2011. Subpart 1 contains no nondiscretionary provision for classification of nonattainment areas. Under the interpretation, which prevailed during years of implementation prior to the DC Circuit's 2013 ruling, no classifications were identified or recognized, nor were subpart 4 classifications implemented. In accordance with the NRDC decision, and because the EPA has not previously identified nonattainment area classifications under subpart 4 for areas designated nonattainment for the 1997 and 2006 PM2.5 standards, the EPA has done so in this rulemaking to clarify the current classification of areas.

A public interest group also commented that this rulemaking should identify Libby, Montana, San Joaquin Valley, California, and the Los Angeles-South Coast Air Basin, California, as having failed to attain the 1997 PM2.5 standards by the subpart 4 statutory attainment deadline and explain that the areas were reclassified by operation of law as Serious, as required by 42 U.S.C. 7513(b)(2). The commenter further claimed that Libby, Montana, San Joaquin Valley, California, and the Los Angeles-South Coast Air Basin, California, should be required to submit Serious area plans for the 1997 PM2.5 standard that satisfy the subpart 4 requirements.

As explained in the proposal and previously in this section, the EPA believes that the DC Circuit Court's 2013 holding in NRDC should not be applied retroactively. States with areas designated nonattainment for the 1997 PM2.5 standard had previously been instructed by the EPA, prior to the NRDC decision, to implement and attain the 1997 PM2.5 standard according to the general implementation provisions of subpart 1 as provided in the EPA's implementation rules. The EPA therefore disagrees that Libby, Montana, San Joaquin Valley, California, and the Los Angeles-South Coast Air Basin, California, were required to attain the 1997 PM2.5 standard no later than the statutory attainment date provided in subpart 4. As of that date, the EPA was implementing the 1997 standard pursuant to subpart 1, and no court had ruled that the EPA or any state should implement the PM2.5 standard under the provisions of subpart 4. The EPA therefore disagrees that Libby, Montana, San Joaquin Valley, California, and the Los Angeles-South Coast Air Basin, California, were reclassified “by operation of law” as Serious no later than June 30, 2011, as the commenter contends. Because these areas are classified as Moderate, and not Serious, the affected states are required at this time to submit plans for these areas that satisfy CAA section 189(a) and not section 189(b)(1).

At some future time, the EPA may reclassify as Serious any nonattainment area that the EPA determines cannot practicably attain the PM2.5 NAAQS by the applicable attainment date. These areas may also be reclassified as Serious by operation of law if the Administrator determines that any area has not in fact attained the PM2.5 NAAQS after each area's applicable attainment date has passed.⁴

⁴ In the General Preamble, the EPA has previously addressed the requirements of CAA section 188 concerning classifications under subpart 4, including the issue of discretionary and mandatory reclassification from Moderate to Serious. See 57 FR 13498, at 13537-8.

C. Final Action

Pursuant to subpart 4 of the CAA, section 188, and section 301 of the CAA, the EPA in this notice is identifying the classification of all PM2.5 areas currently designated nonattainment for the 1997 and 2006 NAAQS as “Moderate.” Thus, the provisions of subpart 4 relevant to areas currently designated nonattainment for the 1997 and/or 2006 PM2.5 NAAQS would initially be those applicable to Moderate areas.

IV. Deadline for Submission of Remaining Required SIP Elements

A. Summary of Proposal

The EPA proposed to set a deadline of December 31, 2014, for the states to submit any additional attainment-related SIP elements that may be needed to meet the applicable requirements of subpart 4 for areas currently designated nonattainment for the 1997 and/or 2006 PM2.5 NAAQS, and to submit SIPs addressing the NNSR requirements in subpart 4. The EPA proposed this date because the EPA believes that this period provides a relatively brief but reasonable amount of time for states to ascertain whether and to what extent any additional submissions are needed for a particular 1997 or 2006 PM2.5 NAAQS nonattainment area, and to develop, adopt and submit any such SIPs. States with PM2.5 NAAQS nonattainment areas have already been working on needed submittals, and the EPA will continue working with them to ensure timely submissions.

B. Comments and Responses

Several public interest groups and individuals commented that the EPA does not have authority to reset the deadlines and/or should not provide states until December 31, 2014, to submit SIPs complying with subpart 4 requirements. These commenters believe that SIPs for the 1997 and 2006 PM2.5 standards are overdue.

The EPA disagrees with the commenters. As stated in the proposal and previously in this notice, it is the EPA's position that the NRDC decision does not apply retroactively, including to create an obligation in the past for states to submit implementation plans under subpart 4 demonstrating attainment of the PM2.5 NAAQS. Prior to the Court's decision, the prevailing implementation rulemaking instructed states to submit plans solely under subpart 1. The DC Circuit Court did not vacate this rule. Nor did the Court compel the EPA to treat the deadlines for the obligations the Court announced in its decision as already having lapsed, and the states as if they had already failed to meet these obligations. Instead, the DC Circuit Court remanded the rules to the EPA for repromulgation under subpart 4. Thus, the NRDC decision directed that the EPA act prospectively to implement the PM2.5 NAAQS under subpart 4 through one or more national rulemakings consistent with the NRDC decision. This action is one such rulemaking.

Because of the complexity of the CAA's SIP provisions and the interrelationship between federal and state action, the EPA believes it is inappropriate to impose retroactive effect on decisions in a manner that would create deadlines that have long passed. Courts have supported this position. For example, in Sierra Club v. Whitman, 285 F.3d 63 (D.C. Cir. 2002), the DC Circuit Court of Appeals addressed an EPA failure to make a timely determination of failure to attain the applicable ozone NAAQS and to reclassify the St. Louis, Missouri area. Id. at 65. Reclassification would have resulted in requirements for the area to submit new attainment plans. Id. The DC Circuit Court ruled that the EPA was required to make the determination, but expressly rejected the Sierra Club's request to consider the area as reclassified as of the date that the EPA's determination should have been made. Id. at 67-68. The DC Circuit Court refused to impose the statutory deadline for SIP submittals when that deadline had passed long before the court's decision. Id. at 67-68. The DC Circuit Court noted that backdating the EPA's determination would only make the situation worse by likely imposing large costs on the states for failing to develop SIPs years earlier even though the states were not on notice at the time of their obligation to do so. Id. at 68.

This rulemaking is not an extension of the deadline established by the EPA when it was implementing the PM2.5 standards according to subpart 1. Rather, this rulemaking makes that deadline no longer operative, since the EPA is no longer following only subpart 1 to implement the PM2.5 standards. Under the unique circumstances presented here, the EPA relies on its authority under section 301 of the CAA to establish a reasonable, and expeditious, deadline, of December 31, 2014, by which states must submit SIPs consistent with the subpart 4 requirements.

Several commenters suggested that the EPA should allow states more time to submit any remaining SIP planning requirements and NNSR SIP submissions required pursuant to subpart 4, and therefore the deadline for submissions should be later than December 31, 2014.

The EPA disagrees with the commenters. Subpart 4, section 188, provides that states are to submit required plans 18 months after an area is designated nonattainment. However, the NRDC case was not decided until years after areas were designated nonattainment under subpart 1 of the CAA. In light of the timing and substance of the DC Circuit Court's opinion, the EPA believes that states should be provided a reasonable opportunity to submit any remaining SIP planning requirements and NNSR SIP submissions required pursuant to subpart 4. The EPA believes that setting the deadline for such submissions as December 31, 2014, provides a relatively brief but reasonable amount of time for states to ascertain whether and to what extent any additional submissions are needed for a particular nonattainment area, and to develop, adopt, and submit any such plans. States with PM2.5 NAAQS nonattainment areas have already been working on needed submittals, and the EPA will continue working with them to ensure timely submissions. In determining a deadline, the EPA considered: The amount of time that has passed since the NRDC decision, when this rulemaking will be finalized, and the amount of time remaining before the 2006 PM2.5 NAAQS attainment deadline under subpart 4 for most areas of December 31, 2015.⁵ The EPA is balancing the desire to allow states a reasonable amount of time to develop SIP submissions that conform to subpart 4 requirements, while leaving enough time before the 2006 PM2.5 NAAQS attainment date so that state plans have time to be implemented and work. In consideration of all of these circumstances, the EPA believes December 31, 2014, is a reasonable deadline.

⁵ The EPA designation for the West Central Pinal area in Arizona as nonattainment for the 2006 PM2.5 NAAQS became effective March 7, 2011. See 76 FR 6056, February 3, 2011. Therefore, the latest attainment date applicable to this area under subpart 4 is December 31, 2017.

Several public interest groups and individuals commented that instead of allowing states until December 31, 2014, to submit SIPs for PM2.5 NAAQS, the EPA should immediately find that areas failed to submit a SIP.

The EPA disagrees with the commenters. States' obligation to submit plans to the EPA demonstrating attainment of the 1997 and 2006 PM2.5 NAAQS was triggered by the EPA's designation of the relevant areas as nonattainment. The EPA, consistent with its prior interpretation of the Act, implemented the PM2.5 standards according to, and instructed states to follow only the requirements of subpart 1. Subpart 1 requires states to submit SIPs to demonstrate attainment of the NAAQS by a date established by the EPA that is no later than three years after the date of designation of an area as nonattainment. 42 U.S.C. 7502(b).

The EPA also explained in various rulemaking and guidance documents that SIPs would need to meet the requirements of section 172(c) of the CAA, which governs submissions under subpart 1. Thus, states were not instructed to submit their PM2.5 NAAQS SIPs under the subpart 4 timeline, and they were not instructed to submit a PM2.5 NAAQS SIP to meet the requirements of subpart 4. Therefore, the prevailing regulatory regime continuously since 2005, and until the NRDC decision in 2013, required submission only of subpart 1 plan on or before deadlines established according to subpart 1. As a result, the EPA has no outstanding duty to find that states have failed to make subpart 4 submissions that had not previously been required of states and which were unknown to them at the time.

If the EPA were to give retroactive effect to the NRDC decision when the DC Circuit Court declined to do so, and impose past duties on states, the EPA would effectively penalize states that followed the EPA's guidance and regulations to prepare SIPs in accordance with the timing and content of subpart 1. An EPA finding of failure to submit a SIP under subpart 4 that the commenter seeks would not give the states the opportunity to prepare or submit an appropriate SIP before being found in default of that obligation.

Because the states had no notice of the timing or content of any alleged earlier subpart 4 submissions, the EPA believes that the Administrator does not have a nondiscretionary duty to find failures to submit subpart 4 SIPs, and it would be inappropriate to issue such a finding.

The EPA's position on this issue has been recently upheld in federal court. In Wildearth Guardians v. McCarthy, 2014 U.S. Dist. LEXIS 31267, March 11, 2014 (D. Colo.), Wildearth Guardians claimed that states' 2006 PM2.5 NAAQS SIPs should have been submitted according to the timeline laid out in subpart 4 of the CAA, which would have been no later than June 14, 2011. Because the states had made no SIP submission, Wildearth Guardians claimed that the EPA was required to make a finding that states had failed to submit subpart 4 SIPs. The Court dismissed the claim and agreed with the EPA's position that “the NRDC court intended its decision to be prospective in effect, rather than retroactive.” Id. at *9. The Court also agreed that “the States were entitled to rely on the [2007 PM2.5] Implementing Rule promulgated by the EPA in scheduling the pace with which they would proceed in developing their PM2.5 SIPs.” Id. at *10.

The EPA believes that its position is supported by further case law, as well. In Sierra Club v. EPA, 356 F.3d 296 (D.C. Cir. 2004), the Court addressed the EPA's decision to reclassify Washington, DC from a Serious to Severe nonattainment area for ozone and declined to require the EPA to make the reclassification retroactive. Id. at 308. The reclassification had the effect of imposing additional obligations on Washington, DC, for which the deadlines had already passed. Id. at 309. The DC Circuit Court rejected the Sierra Club's argument because it “would give the reclassification retroactive effect by holding the states in default of their submission obligations before the events necessary to trigger that obligation (reclassification) . . . occurred.” Id. at 309. Therefore, the Court declined to give the reclassification retroactive effect before any deadline had been announced, and where it would impose a SIP submission deadline that had already passed. Id. at 309-10. See also Sierra Club v. Whitman, 285 F.3d 63 (D.C. Cir. 2002).

To the extent that commenters are arguing that the EPA should determine that certain states failed to submit a subpart 1 plan by the previously established December 14, 2012 deadline, the EPA believes that this rulemaking removes the basis to do so. This rulemaking supersedes any other, previously established deadline for the submission of PM2.5 NAAQS attainment or NNSR plans under subpart 1. In accordance with the Court's decision in NRDC, any deadline established by the EPA while the agency was implementing the PM2.5 standards under subpart 1 is being superseded.

Several commenters asked that the EPA clarify which nonattainment areas are potentially affected by this rule.

The EPA identified in the proposal areas that appear to be most affected by this rule. These include areas for which states have not submitted a SIP and/or for which EPA has not yet made a determination of attainment of the 1997 or 2006 PM2.5 NAAQS, and/or for which states have not yet submitted a request for redesignation to attainment for the PM2.5 NAAQS.

It is not necessarily the case that no additional submissions under subpart 4 will be required of an area that has attained the PM2.5 NAAQS or for which the EPA has approved attainment plans. This final rulemaking does not affect any action that the EPA has previously taken under section 110(k) of the Act on a SIP for a PM2.5 NAAQS nonattainment area. However, this does not necessarily mean that areas for which the EPA has previously approved attainment demonstration or NNSR plans have met all requirements of the Act. States may need to submit additional SIP planning requirements and NNSR SIP elements for any area currently designated nonattainment to show that they meet all of the applicable requirements of subpart 4.

The EPA would also like to clarify what the EPA considers to be the application of the rulemaking for areas that have submitted complete redesignation requests. First, as a general matter, pursuant to CAA section 175A(c), Part D requirements remain in effect until the EPA approves a redesignation request and an area is redesignated to attainment. However, for purposes of evaluating whether a redesignation request is approvable and meets the requirements of CAA section 107(d)(3)(E)(ii) and (v), the EPA's longstanding interpretation of section 107(d)(3)(E) of the CAA is that, as a threshold matter, the Part D provisions which are “applicable” and which must be approved in order for the EPA to redesignate an area include only those which came due prior to a state's submittal of a complete redesignation request. 78 FR 20856, 20861. See also “Procedures for Processing Requests to Redesignate Areas to Attainment,” Memorandum from John Calcagni, Director, Air Quality Management Division, September 4, 1992; Sierra Club, 375 F.3d 537. To the extent that implementation under subpart 4 would impose additional requirements for areas designated nonattainment, the EPA believes that those requirements are not “applicable” for the purposes of CAA section 107(d)(3)(E) in any area that has submitted a complete redesignation request prior to the due date for these requirements, and thus the EPA is not required to consider subpart 4 requirements with respect to areas that have submitted a complete redesignation request prior to December 31, 2014. Applicable requirements of the CAA that come due subsequent to the area's submittal of a complete redesignation request remain applicable until a redesignation is approved, but are not required as a prerequisite to redesignation.

Whether, and to what extent, any additional submissions are needed for a particular 1997 or 2006 PM2.5 NAAQS nonattainment area will depend upon the circumstances of each individual nonattainment area. Based on the most up-to-date status of SIP submissions and approved SIPs, the EPA will continue working with states on a case-by-case basis to assist them in addressing subpart 4 requirements. For help with questions or further clarification, states should consult with their respective EPA regional offices.

C. Final Action

Through this final rulemaking action, the EPA is setting a deadline of December 31, 2014, for the states to submit any additional attainment-related SIP elements that may be needed to meet the applicable requirements of subpart 4 for areas currently designated nonattainment for the 1997 and/or 2006 PM2.5 NAAQS, and to submit SIPs addressing the NNSR requirements in subpart 4. The EPA believes that this period provides a relatively brief but reasonable amount of time for states to ascertain whether and to what extent any additional submissions are needed for a particular 1997 or 2006 PM2.5 nonattainment area,⁶ and to develop, adopt and submit any such SIPs. Section 188(c)(1) of Subpart 4 establishes an attainment deadline of no later than the end of the sixth calendar year after designation as nonattainment. With respect to the 2006 24-hour PM2.5 NAAQS, nonattainment area designations for most areas became effective in December 2009 (74 FR 58688, November 13, 2009). Thus, these areas are subject to a Moderate area attainment deadline under subpart 4 of no later than December 31, 2015. A SIP submission deadline of December 31, 2014, for these areas will therefore ensure that there is at least a year between SIP submission and attainment deadlines.⁷ The December 31, 2014 deadline would allow a brief but reasonable amount of time for the states to modify their SIPs in consideration of subpart 4 in keeping with the timeframe established by the existing subpart 4 attainment deadline. With respect to the 1997 annual PM2.5 NAAQS, although nonattainment area designations in most areas became effective more than 8 years ago (see 70 FR 944, January 5, 2005), the EPA is establishing for these areas the same subpart 4 SIP submission deadline that would apply for purposes of the 2006 PM2.5 NAAQS (December 31, 2014), so that all states with PM2.5 nonattainment areas have a reasonable amount of time to develop any additional SIP elements that may be required under subpart 4 in response to the NRDC decision. Thus, for all PM2.5 nonattainment areas, the states would be required to submit any remaining SIPs that are necessary to satisfy the requirements applicable to Moderate nonattainment areas under subpart 4 of the Act no later than December 31, 2014.

⁶ The answers to these questions will depend upon the circumstances of each individual nonattainment area, including whether the area's monitored air quality meets the standard, and whether the state has already made attainment-related and NNSR SIP submissions for the area. As the EPA has explained in its proposed rulemaking on Approval and Promulgation of Air Quality Implementation Plans; Indiana; Redesignation of the Indianapolis Area to Attainment of the 1997 Annual Standard for Fine Particulate Matter (78 FR 20856, April 8, 2013), it is also important to evaluate, for each area, the interrelationship of the two subparts, and whether the substance of subpart 1 and subpart 4 provisions, should, for certain purposes, be considered equivalent.

⁷ The EPA designation for the West Central Pinal area in Arizona as nonattainment for the 2006 24-hour PM2.5 standard became effective March 7, 2011. See 76 FR 6056, February 3, 2011. Although the latest attainment date applicable to this area under subpart 4 is December 31, 2017 (2 years later than the December 31, 2015, attainment date that applies to areas designated nonattainment in 2009), the EPA is requiring Arizona to submit an attainment SIP meeting the requirements of subpart 4 for the 2006 24-hour PM2.5 standard for this area by the same December 31, 2014, date that we are requiring for other nonattainment areas. The December 31, 2014, SIP submission date would supplant the March 7, 2014, date by which the state was previously required under subpart 1 to submit a PM2.5 attainment SIP for this area, and would provide a reasonable amount of additional time for the state to both develop the required subpart 4 SIP elements and implement its control strategy in advance of the applicable attainment date.

V. What guidance is currently available to states regarding subpart 4 requirements?

A. Summary of Proposal

In the proposal, the EPA identified its longstanding general guidance that interprets the 1990 amendments to the CAA and made recommendations to states for meeting the statutory requirements for SIPs for nonattainment areas. See the General Preamble and the Addendum. The EPA also directed states to a series of recent rulemakings on Indianapolis and other areas, which provide helpful guidance. See, e.g., “Approval and Promulgation of Air Quality Implementation Plans; Indiana; Redesignation of the Indianapolis Area to Attainment of the 1997 Annual Standard for Fine Particulate Matter” (78 FR 20856, April 8, 2013—proposal) (78 FR 41698, July 11, 2013—final).

B. Comments and Responses

Two states commented that more specific information is needed from the EPA regarding the requirements of subpart 4 for submissions for PM2.5 Moderate area SIPs.

The CAA does not impose a requirement on the EPA to promulgate an implementation rule for any NAAQS. In the context of the unique circumstances presented here, the EPA seeks to respond in a timely way to the DC Circuit Court's NRDC decision and to enable states similarly to respond to the Court's decision that subpart 4 applies to implementation of PM2.5 NAAQS. Thus, the EPA's purpose is to provide sufficient notice and information to enable the states to move forward in complying with the directive of the Court. This rulemaking is not intended to address all issues that would be germane to an implementation rule, but rather answer preliminary questions that arise in the shift in implementation solely under subpart 1 to also include subpart 4.

The EPA agrees that guidance to states is helpful to clarify requirements and to respond more comprehensively to the Court's remand, but the EPA believes that this rulemaking, combined with the EPA's longstanding general guidance interpreting the requirements of subpart 4 of the CAA, provides an adequate basis for states to develop Moderate area attainment plans and NNSR plans. In the General Preamble, the EPA discussed the relationship of subpart 1 and subpart 4 SIP requirements, and pointed out that subpart 1 requirements were to an extent “subsumed by, or integrally related to, the more specific” subpart 4 requirements. 57 FR at 13538. Moreover, subsequent to the NRDC decision, the EPA has issued rulemakings for individual areas in which the EPA has further elaborated on the relationship of subpart 1 and subpart 4 requirements in the context of making determinations of attainment for areas that have attained the 1997 PM2.5 standard, approving requests to redesignate areas to attainment or approving an area's attainment demonstration.

C. Final Response

The EPA did not propose, nor is EPA at this time taking final action on an implementation rule governing PM2.5 implementation under subpart 4. The EPA is currently developing a proposal for a new implementation rule that would apply to current and future PM2.5 NAAQS. The agency plans to propose that rule later this year. The proposal will address a range of implementation requirements that apply to PM2.5 nonattainment areas under subparts 1 and 4. Until that implementation rule is finalized, the EPA believes that the General Preamble, Addendum, and recent rulemakings on Indianapolis and other areas ⁸ provide helpful guidance for states in ascertaining the impact of subpart 4 requirements on their ongoing efforts to meet the 1997 and 2006 PM2.5 standards and the EPA will approve states' submissions in accordance with those documents. For help with questions or further clarification, states should consult their respective EPA regional offices.

⁸ See also “Redesignation of Ohio Portion of the Parkersburg-Marietta Area to Attainment of the 1997 Annual Standard for Fine Particulate Matter” (78 FR 38256, June 26, 2013—proposal) (78 FR 53275, August 29, 2013—final); “Redesignation of the Ohio Portion of the Wheeling Area to Attainment of the 1997 Annual Standard for Fine Particulate Matter” (78 FR 38247, June 26, 2013—proposal) (78 FR 53275, August 29, 2013—final); “Redesignation of the Detroit-Ann Arbor Area to Attainment of the 1997 Annual Standard and the 2006 24-Hour Standard for Fine Particulate Matter” (7839654, July 2, 2013—proposal) (78 FR 53272, August 29, 2013—final); “Redesignation of the Cleveland-Akron-Lorain Area for the 1997 Annual Standard and 2006 24-Hour Standard for Fine Particulate Matter” (78 FR 45116, July 26, 2013—proposal) (78 FR 57270, September 18, 2013—final); “Redesignation of the Ohio Portion of the Steubenville-Weirton Area to Attainment of the 1997 Annual and 2006 24-Hour Standards for Fine Particulate Matter” (78 FR 41752, July 11, 2013—proposal) (78 FR 57273, September 18, 2013—final); “Redesignation of Dayton-Springfield Area to Attainment of the 1997 Annual Standard for Fine Particulate Matter” (78 FR 45135, July 26, 2013—proposal) (78 FR 59258, September 26, 2013—final); “Redesignation of the Canton-Massillon Area to Attainment of the 1997 Annual and 2006 24-Hour Standards for Fine Particulate Matter” (78 FR 48087, August 7, 2013—proposal) (78 FR 62459, October 22, 2013—final); and “Attainment Plan for the Philadelphia-Wilmington, Pennsylvania-New Jersey-Delaware Nonattainment Area for the 1997 Annual Fine Particulate Matter Standard” (78 FR 57573, September 19, 2013—proposal). For information on the on the most current Federal Register notices pertaining to clean data determinations and redesignations for 2006 PM2.5 nonattainment areas see http://www.epa.gov/airquality/greenbook/rfrnrpt1.html.

VI. Statutory and Executive Order Reviews

A. Executive Order 12866: Regulatory Planning and Review and Executive Order 13563: Improving Regulation and Regulatory Review

This action is not a “significant regulatory action” under the terms of Executive Order 12866 (58 FR 51735, October 4, 1993) and is therefore not subject to review under Executive Orders 12866 and 13563 (76 FR 3821, January 21, 2011).

B. Paperwork Reduction Act

This action does not impose an information collection burden under the provisions of the Paperwork Reduction Act, 44 U.S.C. 3501 et seq. Burden is defined at 5 CFR 1320.3(b). This final rulemaking identifies the classification under subpart 4 for areas currently designated nonattainment for the 1997 and/or 2006 PM2.5 standards and the deadline for states to submit SIP elements for these areas that are required pursuant to subpart 4.

C. Regulatory Flexibility Act

The Regulatory Flexibility Act (RFA) generally requires an agency to prepare a regulatory flexibility analysis of any regulation subject to notice and comment rulemaking requirements under the Administrative Procedures Act or any other statute unless the agency certifies the rule will not have a significant economic impact on a substantial number of small entities. Small entities include small businesses, small organizations and small governmental jurisdictions.

For purposes of assessing the impacts of this rule on small entities, small entity is defined as: (1) A small business as defined in the Small Business Administration's (SBA) regulations at 13 CFR 121.201); (2) a small governmental jurisdiction that is a government of a city, county, town, school district or special district with a population of less than 50,000; and (3) a small organization that is any not-for-profit enterprise which is independently owned and operated and is not dominant in its field.

After considering the economic impacts of this final rule on small entities, I certify that this action will not have a significant economic impact on a substantial number of small entities. This final rule will not impose any requirements directly on small entities. Entities potentially affected directly by this final rulemaking include state, local and tribal governments and none of these governments are small governments. Other types of small entities are not directly subject to the requirements of this rule because this action only identifies the classification under subpart 4 for areas currently designated nonattainment for the 1997 and/or 2006 PM2.5 standards and the deadline for states to submit SIP elements for these areas that are required pursuant to subpart 4.

D. Unfunded Mandates Reform Act

This action contains no federal mandate under the provisions of title II of the Unfunded Mandates Reform Act of 1995 (UMRA), 2 U.S.C. 1531-1538 for state, local and tribal governments, in the aggregate, or the private sector. This action imposes no enforceable duty on any state, local or tribal governments or the private sector. Therefore, this action is not subject to the requirements of section 202 and 205 of the UMRA.

This action is also not subject to the requirements of section 203 of the UMRA because it contains no regulatory requirements that might significantly or uniquely affect small governments. This final rulemaking identifies the classification under subpart 4 for areas currently designated nonattainment for the 1997 and/or 2006 PM2.5 standards and the deadline for states to submit SIP elements for these areas that are required pursuant to subpart 4.

E. Executive Order 13132: Federalism

This action does not have federalism implications. It will not have substantial direct effects on the states, on the relationship between the national government and the states, or on the distribution of power and responsibilities among the various levels of government, as specified in Executive Order 13132. The requirement to submit SIP revisions to meet the 1997 and 2006 PM2.5 NAAQS requirements under subpart 4 is imposed by the CAA. This final rule interprets those requirements as they apply to the 1997 and 2006 PM2.5 NAAQS. Thus, Executive Order 13132 does not apply to this action.

F. Executive Order 13175: Consultation and Coordination with Indian Tribal Governments

This action does not have tribal implications, as specified in Executive Order 13175 (65 FR 67249, November 9, 2000). It would not have a substantial direct effect on one or more Indian tribes, since no tribe has to develop an implementation plan under these regulatory revisions. Furthermore, these regulation revisions do not affect the relationship or distribution of power and responsibilities between the federal government and Indian tribes. The CAA and the Tribal Air Rule establish the relationship of the federal government and tribes in developing plans to attain the NAAQS, and these revisions to the regulations do nothing to modify that relationship. Thus, Executive Order 13175 does not apply to this action.

G. Executive Order 13045: Protection of Children from Environmental Health and Safety Risks

The EPA interprets EO 13045 (62 FR 19885, April 23, 1997) as applying only to those regulatory actions that concern health or safety risks, such that the analysis required under section 5-501 of the EO has the potential to influence the regulation. This action is not subject to EO 13045 because it does not establish an environmental standard intended to mitigate health or safety risks. This final rulemaking identifies the classification under subpart 4 for areas currently designated nonattainment for the 1997 and/or 2006 PM2.5 standards and the deadline for states to submit SIP elements for these areas that are required pursuant to subpart 4.

H. Executive Order 13211: Actions Concerning Regulations That Significantly Affect Energy Supply, Distribution, or Use

This action is not subject to Executive Order 13211 (66 FR 28355 (May 22, 2001)), because it is not a significant regulatory action under Executive Order 12866.

I. National Technology Transfer and Advancement Act

Section 12(d) of the National Technology Transfer and Advancement Act of 1995 (NTTAA), Public Law 104-113, section 12(d) (15 U.S.C. 272 note) directs the EPA to use voluntary consensus standards in its regulatory activities unless to do so would be inconsistent with applicable law or otherwise impractical. Voluntary consensus standards are technical standards (e.g., materials specifications, test methods, sampling procedures and business practices) that are developed or adopted by voluntary consensus standards bodies. NTTAA directs the EPA to provide Congress, through OMB, explanations when the agency decides not to use available and applicable voluntary consensus standards.

This action does not involve technical standards. Therefore, the EPA is not considering the use of any voluntary consensus standards.

J. Executive Order 12898: Federal Actions to Address Environmental Justice in Minority Populations and Low-Income Populations

Executive Order (E.O.) 12898 (59 FR 7629 (Feb. 16, 1994)) establishes federal executive policy on environmental justice. Its main provision directs federal agencies, to the greatest extent practicable and permitted by law, to make environmental justice part of their mission by identifying and addressing, as appropriate, disproportionately high and adverse human health or environmental effects of their programs, policies and activities on minority populations and low-income populations in the United States. The EPA has determined that this action will not have disproportionately high and adverse human health or environmental effects on minority or low-income populations because it does not affect the level of protection provided to human health or the environment. This final rulemaking identifies the classification under subpart 4 for areas currently designated nonattainment for the 1997 and/or 2006 PM2.5 standards and the deadline for states to submit SIP elements for these areas that are required pursuant to subpart 4.

K. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the U.S. The EPA will submit a report containing this rule and other required information to the U.S. Senate, the U.S. House of Representatives, and the Comptroller General of the U.S. prior to publication of the rule in the Federal Register. A major rule cannot take effect until 60 days after it is published in the Federal Register. This action is not a “major rule” as defined by 5 U.S.C. 804(2). This rule will be effective on July 2, 2014.

L. Judicial Review

Under section 307(b)(1) of the CAA, petitions for judicial review of this action must be filed in the United States Court of Appeals for the District of Columbia Circuit within 60 days from the date this action is published in the Federal Register. Filing a petition for reconsideration by the Administrator of this final action does not affect the finality of this action for the purposes of judicial review nor does it extend the time within which a petition for judicial review must be filed, and shall not postpone the effectiveness of this action.

Statutory Authority

The statutory authority for this action is provided by 42 U.S.C. 7407, 7410, 7502, 7513, 7513a and 7601.

List of Subjects in 40 CFR Chapter I

Environmental protection, Air pollution control, Intergovernmental relations, Particulate matter.

Dated: April 25, 2014.
Gina McCarthy,
Administrator.

For the reasons set forth in the preamble, 40 CFR part 81 is amended as follows:

PART 81—DESIGNATIONS OF AREAS FOR AIR QUALITY PLANNING PURPOSES

1. The authority citation for part 81 continues to read as follows:

Authority: 42 U.S.C. 7401, et seq.

Subpart C—Section 107 Attainment Status Designations

2. Section 81.301 is amended as follows:

a. By removing the tables titled “Alabama—PM2.5 (Annual NAAQS)” and “Alabama—PM2.5 [24-hour NAAQS]”.

b. By adding three tables titled “Alabama—1997 Annual PM2.5 NAAQS (Primary and Secondary)” and “Alabama—1997 24-hour PM2.5 NAAQS (Primary and Secondary)” and “Alabama—2006 24-hour PM2.5 NAAQS (Primary and Secondary)” before the table titled “Alabama—NO2 (1971 Annual Standard)” .

The additions read as follows:

§ 81.301 Alabama.

* * * * *

Alabama—1997 Annual PM2.5 NAAQS
[Primary and secondary]
Designated area | Designation ᵃ: Date ¹ | Designation ᵃ: Type | Classification: Date ² | Classification: Type
Birmingham, AL:
Jefferson County | 2/21/13 | Attainment
Shelby County | 2/21/13 | Attainment
Walker County (part) | 2/21/13 | Attainment
The area described by U S Census 2000 block group identifiers 01-127-0214-5, 01-127-0215-4, and 01-127-0216-2
Chattanooga, TN-GA:
Jackson County (part) |  | Nonattainment |  | Moderate.
The area described by U S Census 2000 block group identifier 01-071-9503-1 |  |
Rest of State:
Autauga County |  | Unclassifiable/Attainment.
Baldwin County |  | Unclassifiable/Attainment.
Barbour County |  | Unclassifiable/Attainment
Bibb County |  | Unclassifiable/Attainment
Blount County |  | Unclassifiable/Attainment
Bullock County |  | Unclassifiable/Attainment
Butler County |  | Unclassifiable/Attainment
Calhoun County |  | Unclassifiable/Attainment
Chambers County |  | Unclassifiable/Attainment
Cherokee County |  | Unclassifiable/Attainment
Chilton County |  | Unclassifiable/Attainment
Choctaw County |  | Unclassifiable/Attainment
Clarke County |  | Unclassifiable/Attainment
Clay County |  | Unclassifiable/Attainment
Cleburne County |  | Unclassifiable/Attainment
Coffee County |  | Unclassifiable/Attainment
Colbert County |  | Unclassifiable/Attainment
Conecuh County |  | Unclassifiable/Attainment
Coosa County |  | Unclassifiable/Attainment
Covington County |  | Unclassifiable/Attainment
Crenshaw County |  | Unclassifiable/Attainment
Cullman County |  | Unclassifiable/Attainment
Dale County |  | Unclassifiable/Attainment
Dallas County |  | Unclassifiable/Attainment
DeKalb County |  | Unclassifiable/Attainment
Elmore County |  | Unclassifiable/Attainment
Escambia County |  | Unclassifiable/Attainment
Etowah County |  | Unclassifiable/Attainment
Fayette County |  | Unclassifiable/Attainment
Franklin County |  | Unclassifiable/Attainment
Geneva County |  | Unclassifiable/Attainment
Greene County |  | Unclassifiable/Attainment
Hale County |  | Unclassifiable/Attainment
Henry County |  | Unclassifiable/Attainment
Houston County |  | Unclassifiable/Attainment
Jackson County (remainder) |  | Unclassifiable/Attainment
Lamar County |  | Unclassifiable/Attainment
Lauderdale County |  | Unclassifiable/Attainment
Lawrence County |  | Unclassifiable/Attainment
Lee County |  | Unclassifiable/Attainment
Limestone County |  | Unclassifiable/Attainment
Lowndes County |  | Unclassifiable/Attainment
Macon County |  | Unclassifiable/Attainment
Madison County |  | Unclassifiable/Attainment
Marengo County |  | Unclassifiable/Attainment
Marion County |  | Unclassifiable/Attainment
Marshall County |  | Unclassifiable/Attainment
Mobile County |  | Unclassifiable/Attainment
Monroe County |  | Unclassifiable/Attainment
Montgomery County |  | Unclassifiable/Attainment
Morgan County |  | Unclassifiable/Attainment
Perry County |  | Unclassifiable/Attainment
Pickens County |  | Unclassifiable/Attainment
Pike County |  | Unclassifiable/Attainment
Randolph County |  | Unclassifiable/Attainment
Russell County |  | Unclassifiable/Attainment
St Clair County |  | Unclassifiable/Attainment
Sumter County |  | Unclassifiable/Attainment
Talladega County |  | Unclassifiable/Attainment
Tallapoosa County |  | Unclassifiable/Attainment
Tuscaloosa County |  | Unclassifiable/Attainment
Walker County (remainder) |  | Unclassifiable/Attainment
Washington County |  | Unclassifiable/Attainment
Wilcox County |  | Unclassifiable/Attainment
Winston County |  | Unclassifiable/Attainment
ᵃ Includes Indian Country located in each county or area, except as otherwise specified.
¹ This date is 90 days after January 5, 2005, unless otherwise noted.
² This date is July 2, 2014, unless otherwise noted.

Alabama—1997 24-Hour PM2.5 NAAQS
[Primary and secondary]
Designation area | Designation ᵃ: Date ¹ | Designation ᵃ: Type | Classification: Date | Classification: Type
Statewide:
Autauga County |  | Unclassifiable/Attainment
Baldwin County |  | Unclassifiable/Attainment
Barbour County |  | Unclassifiable/Attainment
Bibb County |  | Unclassifiable/Attainment
Blount County |  | Unclassifiable/Attainment
Bullock County |  | Unclassifiable/Attainment
Butler County |  | Unclassifiable/Attainment
Calhoun County |  | Unclassifiable/Attainment
Chambers County |  | Unclassifiable/Attainment
Cherokee County |  | Unclassifiable/Attainment
Chilton County |  | Unclassifiable/Attainment
Choctaw County |  | Unclassifiable/Attainment
Clarke County |  | Unclassifiable/Attainment
Clay County |  | Unclassifiable/Attainment
Cleburne County |  | Unclassifiable/Attainment
Coffee County |  | Unclassifiable/Attainment
Colbert County |  | Unclassifiable/Attainment
Conecuh County |  | Unclassifiable/Attainment
Coosa County |  | Unclassifiable/Attainment
Covington County |  | Unclassifiable/Attainment
Crenshaw County |  | Unclassifiable/Attainment
Cullman County |  | Unclassifiable/Attainment
Dale County |  | Unclassifiable/Attainment
Dallas County |  | Unclassifiable/Attainment
DeKalb County |  | Unclassifiable/Attainment
Elmore County |  | Unclassifiable/Attainment
Escambia County |  | Unclassifiable/Attainment
Etowah County |  | Unclassifiable/Attainment
Fayette County |  | Unclassifiable/Attainment
Franklin County |  | Unclassifiable/Attainment
Geneva County |  | Unclassifiable/Attainment
Greene County |  | Unclassifiable/Attainment
Hale County |  | Unclassifiable/Attainment
Henry County |  | Unclassifiable/Attainment
Houston County |  | Unclassifiable/Attainment
Jackson County |  | Unclassifiable/Attainment
Jefferson County |  | Unclassifiable/Attainment
Lamar County |  | Unclassifiable/Attainment
Lauderdale County |  | Unclassifiable/Attainment
Lawrence County |  | Unclassifiable/Attainment
Lee County |  | Unclassifiable/Attainment
Limestone County |  | Unclassifiable/Attainment
Lowndes County |  | Unclassifiable/Attainment
Macon County |  | Unclassifiable/Attainment
Madison County |  | Unclassifiable/Attainment
Marengo County |  | Unclassifiable/Attainment
Marion County |  | Unclassifiable/Attainment
Marshall County |  | Unclassifiable/Attainment
Mobile County |  | Unclassifiable/Attainment
Monroe County |  | Unclassifiable/Attainment
Montgomery County |  | Unclassifiable/Attainment
Morgan County |  | Unclassifiable/Attainment
Perry County |  | Unclassifiable/Attainment
Pickens County |  | Unclassifiable/Attainment
Pike County |  | Unclassifiable/Attainment
Randolph County |  | Unclassifiable/Attainment
Russell County |  | Unclassifiable/Attainment
Shelby County |  | Unclassifiable/Attainment
St Clair County |  | Unclassifiable/Attainment
Sumter County |  | Unclassifiable/Attainment
Talladega County |  | Unclassifiable/Attainment
Tallapoosa County |  | Unclassifiable/Attainment
Tuscaloosa County |  | Unclassifiable/Attainment
Walker County |  | Unclassifiable/Attainment
The area described by U.S. Census 2000 block group identifiers 01-127-0214-5, 01-127-0215-4, and 01-127-0216-2 |  |
Washington County |  | Unclassifiable/Attainment
Wilcox County |  | Unclassifiable/Attainment
Winston County |  | Unclassifiable/Attainment
ᵃ Includes Indian Country located in each county or area, except as otherwise specified.
¹ This date is 90 days after January 5, 2005, unless otherwise noted.

Alabama—2006 24-Hour PM2.5 NAAQS
[Primary and secondary]
Designation area | Designation ᵃ: Date ¹ | Designation ᵃ: Type | Classification: Date | Classification: Type
Birmingham, AL:
Jefferson County | 2/25/13 | Attainment.
Shelby County | 2/25/13 | Attainment.
Walker County (part) | 2/25/13 | Attainment.
The area described by U S Census 2000 block group identifiers 01-127-0214-5, 01-127-0215-4, and 01-127-0216-2
Etowah County |  | Unclassifiable.
Rest of State:
Autauga County |  | Unclassifiable/Attainment
Baldwin County |  | Unclassifiable/Attainment
Barbour County |  | Unclassifiable/Attainment
Bibb County |  | Unclassifiable/Attainment
Blount County |  | Unclassifiable/Attainment
Bullock County |  | Unclassifiable/Attainment
Butler County |  | Unclassifiable/Attainment
Calhoun County |  | Unclassifiable/Attainment
Chambers County |  | Unclassifiable/Attainment
Cherokee County |  | Unclassifiable/Attainment
Chilton County |  | Unclassifiable/Attainment
Choctaw County |  | Unclassifiable/Attainment
Clarke County |  | Unclassifiable/Attainment
Clay County |  | Unclassifiable/Attainment
Cleburne County |  | Unclassifiable/Attainment
Coffee County |  | Unclassifiable/Attainment
Colbert County |  | Unclassifiable/Attainment
Conecuh County |  | Unclassifiable/Attainment
Coosa County |  | Unclassifiable/Attainment
Covington County |  | Unclassifiable/Attainment
Crenshaw County |  | Unclassifiable/Attainment
Cullman County |  | Unclassifiable/Attainment
Dale County |  | Unclassifiable/Attainment
Dallas County |  | Unclassifiable/Attainment
DeKalb County |  | Unclassifiable/Attainment
Elmore County |  | Unclassifiable/Attainment
Escambia County |  | Unclassifiable/Attainment
Fayette County |  | Unclassifiable/Attainment
Franklin County |  | Unclassifiable/Attainment
Geneva County |  | Unclassifiable/Attainment
Greene County |  | Unclassifiable/Attainment
Hale County |  | Unclassifiable/Attainment
Henry County |  | Unclassifiable/Attainment
Houston County |  | Unclassifiable/Attainment
Jackson County |  | Unclassifiable/Attainment
Lamar County |  | Unclassifiable/Attainment
Lauderdale County |  | Unclassifiable/Attainment
Lawrence County |  | Unclassifiable/Attainment
Lee County |  | Unclassifiable/Attainment
Limestone County |  | Unclassifiable/Attainment
Lowndes County |  | Unclassifiable/Attainment
Macon County |  | Unclassifiable/Attainment
Madison County |  | Unclassifiable/Attainment
Marengo County |  | Unclassifiable/Attainment
Marion County |  | Unclassifiable/Attainment
Marshall County |  | Unclassifiable/Attainment
Mobile County |  | Unclassifiable/Attainment
Monroe County |  | Unclassifiable/Attainment
Montgomery County |  | Unclassifiable/Attainment
Morgan County |  | Unclassifiable/Attainment
Perry County |  | Unclassifiable/Attainment
Pickens County |  | Unclassifiable/Attainment
Pike County |  | Unclassifiable/Attainment
Randolph County |  | Unclassifiable/Attainment
Russell County |  | Unclassifiable/Attainment
St Clair County |  | Unclassifiable/Attainment
Sumter County |  | Unclassifiable/Attainment
Talladega County |  | Unclassifiable/Attainment
Tallapoosa County |  | Unclassifiable/Attainment
Tuscaloosa County |  | Unclassifiable/Attainment
Walker County (remainder) |  | Unclassifiable/Attainment
Washington County |  | Unclassifiable/Attainment
Wilcox County |  | Unclassifiable/Attainment
Winston County |  | Unclassifiable/Attainment
ᵃ Includes Indian Country located in each county or area, except as otherwise specified.
¹ This date is 30 days after November 13, 2009, unless otherwise noted.

* * * * *

3. Section 81.302 is amended as follows:

a. By removing the tables titled “Alaska—PM2.5 [24-hour NAAQS]”. and “Alaska—PM2.5 [24-hour NAAQS]”.

b. By adding three tables titled “Alaska—1997 Annual PM2.5 NAAQS (Primary and Secondary)” and “Alaska—1997 24-hour PM2.5 NAAQS (Primary and Secondary)” and “Alaska—2006 24-hour PM2.5 NAAQS (Primary and Secondary)” before the table titled “Alaska—NO2 (1971 Annual Standard)”.

The additions read as follows:

§ 81.302 Alaska.

* * * * *

Alaska—1997 Annual PM2 5 NAAQS
[Primary and secondary]
Designated area | Designation ᵃ: Date ¹ | Designation ᵃ: Type | Classification: Date | Classification: Type
AQCR 08 Cook Inlet Intrastate:
Anchorage Borough |  | Unclassifiable/Attainment
Kenai Peninsula Borough |  | Unclassifiable/Attainment
Matanuska-Susitna Borough |  | Unclassifiable/Attainment
AQCR 09 Northern Alaska Intrastate:
Denali Borough |  | Unclassifiable/Attainment
Fairbanks North Star Borough |  | Unclassifiable/Attainment
Nome Census Area |  | Unclassifiable/Attainment
North Slope Borough |  | Unclassifiable/Attainment
Northwest Arctic Borough |  | Unclassifiable/Attainment
Southeast Fairbanks Census Area |  | Unclassifiable/Attainment
Yukon-Koyukuk Census Area |  | Unclassifiable/Attainment
AQCR 10 South Central Alaska Intrastate:
Aleutians East Borough |  | Unclassifiable/Attainment
Aleutians West Census Area |  | Unclassifiable/Attainment
Bethel Census Area |  | Unclassifiable/Attainment
Bristol Bay Borough |  | Unclassifiable/Attainment
Dillingham Census Area |  | Unclassifiable/Attainment
Kodiak Island Borough |  | Unclassifiable/Attainment
Lake and Peninsula Borough |  | Unclassifiable/Attainment
Valdez-Cordova Census Area |  | Unclassifiable/Attainment
Wade Hampton Census Area |  | Unclassifiable/Attainment
AQCR 11 Southeastern Alaska Intrastate:
Haines Borough |  | Unclassifiable/Attainment
Juneau Borough |  | Unclassifiable/Attainment
Ketchikan Gateway Borough |  | Unclassifiable/Attainment
Prince of Wales-Outer Ketchikan Census |  | Unclassifiable/Attainment
Sitka Borough |  | Unclassifiable/Attainment
Skagway-Hoonah-Angoon Census Area |  | Unclassifiable/Attainment
Wrangell-Petersburg Census Area |  | Unclassifiable/Attainment
Yakutat Borough |  | Unclassifiable/Attainment
ᵃ Includes Indian Country located in each county or area, except as otherwise specified.
¹ This date is 90 days after January 5, 2005, unless otherwise noted.

Alaska—1997 24-Hour PM2 5 NAAQS
[Primary and secondary]
Designated area | Designation ᵃ: Date ¹ | Designation ᵃ: Type | Classification: Date | Classification: Type
Fairbanks, AK:
AQCR 09 Northern Alaska Intrastate:
Fairbanks North Star Borough (part) |  | Unclassifiable/Attainment
The following townships and ranges:—MTRS F001N001—All Sections; —MTRS F001N001E—Sections 2-11, 14-23, 26-34; —MTRS F001N002—Sections 1-5, 8-17, 20-29, 32-36; —MTRS F001S001E—Sections 1, 3-30, 32-36; —MTRS F001S001W—Sections 1-30; —MTRS F001S002E—Sections 6-8, 17-20, 29-36; —MTRS F001S002W—Sections 1-5, 8-17, 20-29, 32-33; —MTRS F001S003E—Sections 31-32; —MTRS F002N001E—Sections 31-35; —MTRS F002N001—Sections 28, 31-36; —MTRS F002N002—Sections 32-33, 36; —MTRS F002S001E—Sections 1-2; —MTRS F002S002E—Sections 1-17, 21-24; —MTRS F002S003E—Sections 5-8, 18
Rest of State:
AQCR 08 Cook Inlet Intrastate:
Anchorage Borough |  | Unclassifiable/Attainment
Kenai Peninsula Borough |  | Unclassifiable/Attainment
Matanuska-Susitna Borough |  | Unclassifiable/Attainment
AQCR 09 Northern Alaska Intrastate:
Denali Borough |  | Unclassifiable/Attainment
Fairbanks North Star Borough (remainder) |  | Unclassifiable/Attainment
Nome Census Area |  | Unclassifiable/Attainment
North Slope Borough |  | Unclassifiable/Attainment
Northwest Arctic Borough |  | Unclassifiable/Attainment
Southeast Fairbanks Census Area |  | Unclassifiable/Attainment
Yukon-Koyukuk Census Area |  | Unclassifiable/Attainment
AQCR 10 South Central Alaska Intrastate:
Aleutians East Borough |  | Unclassifiable/Attainment
Aleutians West Census Area |  | Unclassifiable/Attainment
Bethel Census Area |  | Unclassifiable/Attainment
Bristol Bay Borough |  | Unclassifiable/Attainment
Dillingham Census Area |  | Unclassifiable/Attainment
Kodiak Island Borough |  | Unclassifiable/Attainment
Lake and Peninsula Borough |  | Unclassifiable/Attainment
Valdez-Cordova Census Area |  | Unclassifiable/Attainment
Wade Hampton Census Area |  | Unclassifiable/Attainment
AQCR 11 Southeastern Alaska Intrastate:
Haines Borough |  | Unclassifiable/Attainment
Juneau Borough |  | Unclassifiable/Attainment
Ketchikan Gateway Borough |  | Unclassifiable/Attainment
Prince of Wales-Outer Ketchikan Census |  | Unclassifiable/Attainment
Sitka Borough |  | Unclassifiable/Attainment
Skagway-Hoonah-Angoon Census Area |  | Unclassifiable/Attainment
Wrangell-Petersburg Census Area |  | Unclassifiable/Attainment
Yakutat Borough |  | Unclassifiable/Attainment
ᵃ Includes Indian Country located in each county or area, except as otherwise specified.
¹ This date is 90 days after January 5, 2005, unless otherwise noted.

Alaska—2006 24-Hour PM2.5 NAAQS
[Primary and secondary]
Designated area | Designationᵃ: Date ¹ | Designationᵃ: Type | Classification: Date ² | Classification: Type
Fairbanks, AK:
AQCR 09 Northern Alaska Intrastate:
Fairbanks North Star Borough (part) |  | Nonattainment |  | Moderate.
The following townships and ranges:—MTRS F001N001—All Sections; —MTRS F001N001E—Sections 2-11, 14-23, 26-34; —MTRS F001N002—Sections 1-5, 8-17, 20-29, 32-36; —MTRS F001S001E—Sections 1, 3-30, 32-36; —MTRS F001S001W—Sections 1-30; —MTRS F001S002E—Sections 6-8, 17-20, 29-36; —MTRS F001S002W—Sections 1-5, 8-17, 20-29, 32-33; —MTRS F001S003E—Sections 31-32; —MTRS F002N001E—Sections 31-35; —MTRS F002N001—Sections 28, 31-36; —MTRS F002N002—Sections 32-33, 36; —MTRS F002S001E—Sections 1-2; —MTRS F002S002E—Sections 1-17, 21-24; —MTRS F002S003E—Sections 5-8, 18
Rest of State:
AQCR 08 Cook Inlet Intrastate:
Anchorage Borough |  | Unclassifiable/Attainment
Kenai Peninsula Borough |  | Unclassifiable/Attainment
Matanuska-Susitna Borough |  | Unclassifiable/Attainment
AQCR 09 Northern Alaska Intrastate:
Denali Borough |  | Unclassifiable/Attainment
Fairbanks North Star Borough (remainder) |  | Unclassifiable/Attainment
Nome Census Area |  | Unclassifiable/Attainment
North Slope Borough |  | Unclassifiable/Attainment
Northwest Arctic Borough |  | Unclassifiable/Attainment
Southeast Fairbanks Census Area |  | Unclassifiable/Attainment
Yukon-Koyukuk Census Area |  | Unclassifiable/Attainment
AQCR 10 South Central Alaska Intrastate:
Aleutians East Borough |  | Unclassifiable/Attainment
Aleutians West Census Area |  | Unclassifiable/Attainment
Bethel Census Area |  | Unclassifiable/Attainment
Bristol Bay Borough |  | Unclassifiable/Attainment
Dillingham Census Area |  | Unclassifiable/Attainment
Kodiak Island Borough |  | Unclassifiable/Attainment
Lake and Peninsula Borough |  | Unclassifiable/Attainment
Valdez-Cordova Census Area |  | Unclassifiable/Attainment
Wade Hampton Census Area |  | Unclassifiable/Attainment
AQCR 11 Southeastern Alaska Intrastate:
Haines Borough |  | Unclassifiable/Attainment
Juneau Borough |  | Unclassifiable/Attainment
Ketchikan Gateway Borough |  | Unclassifiable/Attainment
Prince of Wales-Outer Ketchikan Census |  | Unclassifiable/Attainment
Sitka Borough |  | Unclassifiable/Attainment
Skagway-Hoonah-Angoon Census Area |  | Unclassifiable/Attainment
Wrangell-Petersburg Census Area |  | Unclassifiable/Attainment
Yakutat Borough |  | Unclassifiable/Attainment
ᵃ Includes Indian Country located in each county or area, except as otherwise specified.
¹ This date is 30 days after November 13, 2009, unless otherwise noted.
² This date is July 2, 2014, unless otherwise noted.

* * * * *

4. Section 81.303 is amended as follows:

a. By removing the tables titled “Arizona—PM2.5 (Annual NAAQS)” and “Arizona—PM2.5 [24-hour NAAQS]”.

b. By adding three tables titled “Arizona—1997 Annual PM2.5 NAAQS (Primary and Secondary)” and “Arizona—1997 24-hour PM2.5 NAAQS (Primary and Secondary)” and “Arizona—2006 24-hour PM2.5 NAAQS (Primary and Secondary)” before the table titled “Arizona—NO2 (1971 Annual Standard)”.

The additions read as follows:

§ 81.303 Arizona.

* * * * *

Arizona—1997 Annual PM2.5 NAAQS
[Primary and secondary]
Designated area | Designation ᵃ: Date ¹ | Designation ᵃ: Type | Classification: Date | Classification: Type
Statewide:
Apache County |  | Unclassifiable/Attainment
Cochise County |  | Unclassifiable/Attainment
Coconino County |  | Unclassifiable/Attainment
Gila County |  | Unclassifiable/Attainment
Graham County |  | Unclassifiable/Attainment
Greenlee County |  | Unclassifiable/Attainment
La Paz County |  | Unclassifiable/Attainment
Maricopa County |  | Unclassifiable/Attainment
Mohave County |  | Unclassifiable/Attainment
Navajo County |  | Unclassifiable/Attainment
Pima County |  | Unclassifiable/Attainment
Pinal County |  | Unclassifiable/Attainment
Santa Cruz County |  | Unclassifiable/Attainment
Yavapai County |  | Unclassifiable/Attainment
Yuma County |  | Unclassifiable/Attainment
ᵃ Includes Indian Country located in each county or area, except as otherwise specified.
¹ This date is 90 days after January 5, 2005, unless otherwise noted.

Arizona—1997 24-Hour PM2.5 NAAQS
[Primary and secondary]
Designated area | Designation ᵃ: Date ¹ | Designation ᵃ: Type | Classification: Date | Classification: Type
Nogales:
Santa Cruz County (part) |  | Unclassifiable/Attainment
Nogales planning area bounded as follows: The portions of the following Townships which are within the State of Arizona and lie east of 111 longitude: T23S, R13E; T23S, R14E; T24S, R13E; T24S, R14E.
West Central Pinal:
Pinal County (part) |  | Unclassifiable/Attainment
1. Commencing at a point which is the intersection of the eastern line of Range 1 East, Gila and Salt River Baseline and Meridian, and the northern line of Township 4 South, which is the point of beginning:
2. Thence, proceed easterly along the northern line of Township 4 South to a point where the northern line of Township 4 South intersects the eastern line of Range 4 East;
3. Thence, southerly along the eastern line of Range 4 East to a point where the eastern line of Range 4 East intersects the northern line of Township 6 South;
4. Thence, easterly along the northern line of Township 6 South to a point where the northern line of Township 6 South intersects the eastern line of Range 4 East;
5. Thence, southerly along the eastern line of Range 4 East to a point where the eastern line of Range 4 East intersects the southern line of Township 7 South;
6. Thence, westerly along the southern line of Township 7 South to a point where the southern line of Township 7 South intersects the quarter section line common to the southwestern southwest quarter section and the southeastern southwest quarter section of section 34, Range 3 East and Township 7 South;
7. Thence, northerly along the quarter section line common to the southwestern southwest quarter section and the southeastern southwest quarter section of sections 34, 27, 22, and 15, Range 3 East and Township 7 South, to a point where the quarter section line common to the southwestern southwest quarter section and the southeastern southwest quarter section of sections 34, 27, 22, and 15, Range 3 East and Township 7 South, intersects the northern line of section 15, Range 3 East and Township 7 South;
8. Thence, westerly along the northern line of sections 15, 16, 17, and 18, Range 3 East and Township 7 South, and the northern line of sections 13, 14, 15, 16, 17, and 18, Range 2 East and Township 7 South, to a point where the northern line of sections 15, 16, 17, and 18, Range 3 East and Township 7 South, and the northern line of sections 13, 14, 15, 16, 17, and 18, Range 2 East and Township 7 South, intersect the eastern line of Range 1 East, which is the common boundary between Maricopa and Pinal Counties, as described in Arizona Revised Statutes sections 11-109 and 11-113;
9. Thence, northerly along the eastern line of Range 1 East to the point of beginning which is the point where the eastern line of Range 1 East intersects the northern line of Township 4 South;
10. Except that portion of the area defined by paragraphs 1 through 9 above that lies in Indian country.
Rest of State:
Apache County |  | Unclassifiable/Attainment
Cochise County |  | Unclassifiable/Attainment
Coconino County |  | Unclassifiable/Attainment
Gila County |  | Unclassifiable/Attainment
Graham County |  | Unclassifiable/Attainment
Greenlee County |  | Unclassifiable/Attainment
La Paz County |  | Unclassifiable/Attainment
Maricopa County (remainder, excluding lands of the Gila River Indian Community) |  | Unclassifiable/Attainment
Mohave County |  | Unclassifiable/Attainment
Navajo County |  | Unclassifiable/Attainment
Pima County |  | Unclassifiable/Attainment
Pinal County (remainder, excluding lands of the Gila River Indian Community and Ak-Chin Indian Community) |  | Unclassifiable/Attainment
Santa Cruz County (remainder) |  | Unclassifiable/Attainment
Yavapai County |  | Unclassifiable/Attainment
Yuma County |  | Unclassifiable/Attainment
Lands of the Gila River Indian Community in Pinal County and Maricopa County |  | Unclassifiable/Attainment
Lands of the Ak-Chin Indian Community in Pinal County |  | Unclassifiable/Attainment
ᵃ Includes Indian Country located in each county or area, except as otherwise specified.
¹ This date is 90 days after January 5, 2005, unless otherwise noted.

Arizona—2006 24-Hour PM2.5 NAAQS
[Primary and secondary]
Designated area | Designation ᵃ: Date ¹ | Designation ᵃ: Type | Classification: Date ² | Classification: Type
Nogales:
Santa Cruz County (part) |  | Nonattainment |  | Moderate.
Nogales planning area bounded as follows: The portions of the following Townships which are within the State of Arizona and lie east of 111 longitude: T23S, R13E; T23S, R14E; T24S, R13E; T24S, R14E
West Central Pinal:
Pinal County (part) | 3/7/11 | Nonattainment |  | Moderate.
1. Commencing at a point which is the intersection of the eastern line of Range 1 East, Gila and Salt River Baseline and Meridian, and the northern line of Township 4 South, which is the point of beginning:
2. Thence, proceed easterly along the northern line of Township 4 South to a point where the northern line of Township 4 South intersects the eastern line of Range 4 East;
3. Thence, southerly along the eastern line of Range 4 East to a point where the eastern line of Range 4 East intersects the northern line of Township 6 South;
4. Thence, easterly along the northern line of Township 6 South to a point where the northern line of Township 6 South intersects the eastern line of Range 4 East;
5. Thence, southerly along the eastern line of Range 4 East to a point where the eastern line of Range 4 East intersects the southern line of Township 7 South;
6. Thence, westerly along the southern line of Township 7 South to a point where the southern line of Township 7 South intersects the quarter section line common to the southwestern southwest quarter section and the southeastern southwest quarter section of section 34, Range 3 East and Township 7 South;
7. Thence, northerly along the quarter section line common to the southwestern southwest quarter section and the southeastern southwest quarter section of sections 34, 27, 22, and 15, Range 3 East and Township 7 South, to a point where the quarter section line common to the southwestern southwest quarter section and the southeastern southwest quarter section of sections 34, 27, 22, and 15, Range 3 East and Township 7 South, intersects the northern line of section 15, Range 3 East and Township 7 South;
8. Thence, westerly along the northern line of sections 15, 16, 17, and 18, Range 3 East and Township 7 South, and the northern line of sections 13, 14, 15, 16, 17, and 18, Range 2 East and Township 7 South, to a point where the northern line of sections 15, 16, 17, and 18, Range 3 East and Township 7 South, and the northern line of sections 13, 14, 15, 16, 17, and 18, Range 2 East and Township 7 South, intersect the eastern line of Range 1 East, which is the common boundary between Maricopa and Pinal Counties, as described in Arizona Revised Statutes sections 11-109 and 11-113;
9. Thence, northerly along the eastern line of Range 1 East to the point of beginning which is the point where the eastern line of Range 1 East intersects the northern line of Township 4 South;
10. Except that portion of the area defined by paragraphs 1 through 9 above that lies in Indian country.
Rest of State:
Apache County |  | Unclassifiable/Attainment
Cochise County | 3/7/11 | Unclassifiable/Attainment
Coconino County |  | Unclassifiable/Attainment
Gila County | 3/7/11 | Unclassifiable/Attainment
Graham County | 3/7/11 | Unclassifiable/Attainment
Greenlee County |  | Unclassifiable/Attainment
La Paz County | 3/7/11 | Unclassifiable/Attainment
Maricopa County (remainder, excluding lands of the Gila River Indian Community) |  | Unclassifiable/Attainment
Mohave County |  | Unclassifiable/Attainment
Navajo County |  | Unclassifiable/Attainment
Pima County | 3/7/11 | Unclassifiable/Attainment
Pinal County (remainder, excluding lands of the Gila River Indian Community and Ak-Chin Indian Community) | 3/7/11 | Unclassifiable/Attainment
Santa Cruz County (remainder) |  | Unclassifiable/Attainment
Yavapai County | 3/7/11 | Unclassifiable/Attainment
Yuma County | 3/7/11 | Unclassifiable/Attainment
Lands of the Gila River Indian Community in Pinal County and Maricopa County | 11/26/12 | Unclassifiable/Attainment
Lands of the Ak-Chin Indian Community in Pinal County | 11/26/12 | Unclassifiable/Attainment
ᵃ Includes Indian Country located in each county or area, except as otherwise specified.
¹ This date is 30 days after November 13, 2009, unless otherwise noted.
² This date is July 2, 2014, unless otherwise noted.

* * * * *

5. Section 81.304 is amended as follows:

a. By removing the tables titled “Arkansas—PM2.5 (Annual NAAQS)” and “Arkansas—PM2.5 [24-hour NAAQS]”.

b. By adding three tables titled “Arkansas—1997 Annual PM2.5 NAAQS (Primary and Secondary)” and “Arkansas—1997 24-hour PM2.5 NAAQS (Primary and Secondary)” and “Arkansas—2006 24-hour PM2.5 NAAQS (Primary and Secondary)” before the table titled “Arkansas—NO2 (1971 Annual Standard)”

The additions read as follows:

§ 81.304 Arkansas.

* * * * *

Arkansas—1997 Annual PM2.5 NAAQS
[Primary and secondary]
Designated area | Designation ᵃ: Date ¹ | Designation ᵃ: Type | Classification: Date | Classification: Type
AQCR 016 Central Arkansas Intrastate:
Chicot County |  | Unclassifiable/Attainment
Clark County |  | Unclassifiable/Attainment
Cleveland County |  | Unclassifiable/Attainment
Conway County |  | Unclassifiable/Attainment
Dallas County |  | Unclassifiable/Attainment
Desha County |  | Unclassifiable/Attainment
Drew County |  | Unclassifiable/Attainment
Faulkner County |  | Unclassifiable/Attainment
Garland County |  | Unclassifiable/Attainment
Grant County |  | Unclassifiable/Attainment
Hot Spring County |  | Unclassifiable/Attainment
Jefferson County |  | Unclassifiable/Attainment
Lincoln County |  | Unclassifiable/Attainment
Lonoke County |  | Unclassifiable/Attainment
Perry County |  | Unclassifiable/Attainment
Pope County |  | Unclassifiable/Attainment
Pulaski County |  | Unclassifiable/Attainment
Saline County |  | Unclassifiable/Attainment
Yell County |  | Unclassifiable/Attainment
AQCR 017 Metropolitan Fort Smith Interstate:
Benton County |  | Unclassifiable/Attainment
Crawford County |  | Unclassifiable/Attainment
Sebastian County |  | Unclassifiable/Attainment
Washington County |  | Unclassifiable/Attainment
AQCR 019 Monroe-El Dorado Interstate:
Ashley County |  | Unclassifiable/Attainment
Bradley County |  | Unclassifiable/Attainment
Calhoun County |  | Unclassifiable/Attainment
Nevada County |  | Unclassifiable/Attainment
Ouachita County |  | Unclassifiable/Attainment
Union County |  | Unclassifiable/Attainment
AQCR 020 Northeast Arkansas Intrastate:
Arkansas County |  | Unclassifiable/Attainment
Clay County |  | Unclassifiable/Attainment
Craighead County |  | Unclassifiable/Attainment
Cross County |  | Unclassifiable/Attainment
Greene County |  | Unclassifiable/Attainment
Independence County |  | Unclassifiable/Attainment
Jackson County |  | Unclassifiable/Attainment
Lawrence County |  | Unclassifiable/Attainment
Lee County |  | Unclassifiable/Attainment
Mississippi County |  | Unclassifiable/Attainment
Monroe County |  | Unclassifiable/Attainment
Phillips County |  | Unclassifiable/Attainment
Poinsett County |  | Unclassifiable/Attainment
Prairie County |  | Unclassifiable/Attainment
Randolph County |  | Unclassifiable/Attainment
St. Francis County |  | Unclassifiable/Attainment
Sharp County |  | Unclassifiable/Attainment
White County |  | Unclassifiable/Attainment
Woodruff County |  | Unclassifiable/Attainment
AQCR 021 Northwest Arkansas Intrastate:
Baxter County |  | Unclassifiable/Attainment
Boone County |  | Unclassifiable/Attainment
Carroll County |  | Unclassifiable/Attainment
Cleburne County |  | Unclassifiable/Attainment
Franklin County |  | Unclassifiable/Attainment
Fulton County |  | Unclassifiable/Attainment
Izard County |  | Unclassifiable/Attainment
Johnson County |  | Unclassifiable/Attainment
Logan County |  | Unclassifiable/Attainment
Madison County |  | Unclassifiable/Attainment
Marion County |  | Unclassifiable/Attainment
Montgomery County |  | Unclassifiable/Attainment
Newton County |  | Unclassifiable/Attainment
Pike County |  | Unclassifiable/Attainment
Polk County |  | Unclassifiable/Attainment
Scott County |  | Unclassifiable/Attainment
Searcy County |  | Unclassifiable/Attainment
Stone County |  | Unclassifiable/Attainment
Van Buren County |  | Unclassifiable/Attainment
AQCR 022 Shreveport-Texarkana-Tyler Interstate:
Columbia County |  | Unclassifiable/Attainment
Hempstead County |  | Unclassifiable/Attainment
Howard County |  | Unclassifiable/Attainment
Lafayette County |  | Unclassifiable/Attainment
Little River County |  | Unclassifiable/Attainment
Miller County |  | Unclassifiable/Attainment
Sevier County |  | Unclassifiable/Attainment
Memphis, TN-AR: (AQCR 018 Metropolitan Memphis Interstate):
Crittenden County |  | Unclassifiable/Attainment
ᵃ Includes Indian Country located in each county or area, except as otherwise specified.
¹ This date is 90 days after January 5, 2005, unless otherwise noted.

Arkansas—1997 24-Hour PM2.5 NAAQS
[Primary and secondary]
Designated area | Designation ᵃ: Date ¹ | Designation ᵃ: Type | Classification: Date | Classification: Type
AQCR 016 Central Arkansas Intrastate:
Chicot County |  | Unclassifiable/Attainment
Clark County |  | Unclassifiable/Attainment
Cleveland County |  | Unclassifiable/Attainment
Conway County |  | Unclassifiable/Attainment
Dallas County |  | Unclassifiable/Attainment
Desha County |  | Unclassifiable/Attainment
Drew County |  | Unclassifiable/Attainment
Faulkner County |  | Unclassifiable/Attainment
Garland County |  | Unclassifiable/Attainment
Grant County |  | Unclassifiable/Attainment
Hot Spring County |  | Unclassifiable/Attainment
Jefferson County |  | Unclassifiable/Attainment
Lincoln County |  | Unclassifiable/Attainment
Lonoke County |  | Unclassifiable/Attainment
Perry County |  | Unclassifiable/Attainment
Pope County |  | Unclassifiable/Attainment
Pulaski County |  | Unclassifiable/Attainment
Saline County |  | Unclassifiable/Attainment
Yell County |  | Unclassifiable/Attainment
AQCR 017 Metropolitan Fort Smith Interstate:
Benton County |  | Unclassifiable/Attainment
Crawford County |  | Unclassifiable/Attainment
Sebastian County |  | Unclassifiable/Attainment
Washington County |  | Unclassifiable/Attainment
AQCR 019 Monroe-El Dorado Interstate:
Ashley County |  | Unclassifiable/Attainment
Bradley County |  | Unclassifiable/Attainment
Calhoun County |  | Unclassifiable/Attainment
Nevada County |  | Unclassifiable/Attainment
Ouachita County |  | Unclassifiable/Attainment
Union County |  | Unclassifiable/Attainment
AQCR 020 Northeast Arkansas Intrastate:
Arkansas County |  | Unclassifiable/Attainment
Clay County |  | Unclassifiable/Attainment
Craighead County |  | Unclassifiable/Attainment
Cross County |  | Unclassifiable/Attainment
Greene County |  | Unclassifiable/Attainment
Independence County |  | Unclassifiable/Attainment
Jackson County |  | Unclassifiable/Attainment
Lawrence County |  | Unclassifiable/Attainment
Lee County |  | Unclassifiable/Attainment
Mississippi County |  | Unclassifiable/Attainment
Monroe County |  | Unclassifiable/Attainment
Phillips County |  | Unclassifiable/Attainment
Poinsett County |  | Unclassifiable/Attainment
Prairie County |  | Unclassifiable/Attainment
Randolph County |  | Unclassifiable/Attainment
St. Francis County |  | Unclassifiable/Attainment
Sharp County |  | Unclassifiable/Attainment
White County |  | Unclassifiable/Attainment
Woodruff County |  | Unclassifiable/Attainment
AQCR 021 Northwest Arkansas Intrastate:
Baxter County |  | Unclassifiable/Attainment
Boone County |  | Unclassifiable/Attainment
Carroll County |  | Unclassifiable/Attainment
Cleburne County |  | Unclassifiable/Attainment
Franklin County |  | Unclassifiable/Attainment
Fulton County |  | Unclassifiable/Attainment
Izard County |  | Unclassifiable/Attainment
Johnson County |  | Unclassifiable/Attainment
Logan County |  | Unclassifiable/Attainment
Madison County |  | Unclassifiable/Attainment
Marion County |  | Unclassifiable/Attainment
Montgomery County |  | Unclassifiable/Attainment
Newton County |  | Unclassifiable/Attainment
Pike County |  | Unclassifiable/Attainment
Polk County |  | Unclassifiable/Attainment
Scott County |  | Unclassifiable/Attainment
Searcy County |  | Unclassifiable/Attainment
Stone County |  | Unclassifiable/Attainment
Van Buren County |  | Unclassifiable/Attainment
AQCR 022 Shreveport-Texarkana-Tyler Interstate:
Columbia County |  | Unclassifiable/Attainment
Hempstead County |  | Unclassifiable/Attainment
Howard County |  | Unclassifiable/Attainment
Lafayette County |  | Unclassifiable/Attainment
Little River County |  | Unclassifiable/Attainment
Miller County |  | Unclassifiable/Attainment
Sevier County |  | Unclassifiable/Attainment
Memphis, TN-AR: (AQCR 018 Metropolitan Memphis Interstate):
Crittenden County |  | Unclassifiable/Attainment
ᵃ Includes Indian Country located in each county or area, except as otherwise specified.
¹ This date is 90 days after January 5, 2005, unless otherwise noted.

Arkansas—2006 24-Hour PM2.5 NAAQS
[Primary and secondary]
Designated area | Designation ᵃ: Date ¹ | Designation ᵃ: Type | Classification: Date | Classification: Type
AQCR 016 Central Arkansas Intrastate:
Chicot County |  | Unclassifiable/Attainment
Clark County |  | Unclassifiable/Attainment
Cleveland County |  | Unclassifiable/Attainment
Conway County |  | Unclassifiable/Attainment
Dallas County |  | Unclassifiable/Attainment
Desha County |  | Unclassifiable/Attainment
Drew County |  | Unclassifiable/Attainment
Faulkner County |  | Unclassifiable/Attainment
Garland County |  | Unclassifiable/Attainment
Grant County |  | Unclassifiable/Attainment
Hot Spring County |  | Unclassifiable/Attainment
Jefferson County |  | Unclassifiable/Attainment
Lincoln County |  | Unclassifiable/Attainment
Lonoke County |  | Unclassifiable/Attainment
Perry County |  | Unclassifiable/Attainment
Pope County |  | Unclassifiable/Attainment
Pulaski County |  | Unclassifiable/Attainment
Saline County |  | Unclassifiable/Attainment
Yell County |  | Unclassifiable/Attainment
AQCR 017 Metropolitan Fort Smith Interstate:
Benton County |  | Unclassifiable/Attainment
Crawford County |  | Unclassifiable/Attainment
Sebastian County |  | Unclassifiable/Attainment
Washington County |  | Unclassifiable/Attainment
AQCR 019 Monroe-El Dorado Interstate:
Ashley County |  | Unclassifiable/Attainment
Bradley County |  | Unclassifiable/Attainment
Calhoun County |  | Unclassifiable/Attainment
Nevada County |  | Unclassifiable/Attainment
Ouachita County |  | Unclassifiable/Attainment
Union County |  | Unclassifiable/Attainment
AQCR 020 Northeast Arkansas Intrastate:
Arkansas County |  | Unclassifiable/Attainment
Clay County |  | Unclassifiable/Attainment
Craighead County |  | Unclassifiable/Attainment
Cross County |  | Unclassifiable/Attainment
Greene County |  | Unclassifiable/Attainment
Independence County |  | Unclassifiable/Attainment
Jackson County |  | Unclassifiable/Attainment
Lawrence County |  | Unclassifiable/Attainment
Lee County |  | Unclassifiable/Attainment
Mississippi County |  | Unclassifiable/Attainment
Monroe County |  | Unclassifiable/Attainment
Phillips County |  | Unclassifiable/Attainment
Poinsett County |  | Unclassifiable/Attainment
Prairie County |  | Unclassifiable/Attainment
Randolph County |  | Unclassifiable/Attainment
St. Francis County |  | Unclassifiable/Attainment
Sharp County |  | Unclassifiable/Attainment
White County |  | Unclassifiable/Attainment
Woodruff County |  | Unclassifiable/Attainment
AQCR 021 Northwest Arkansas Intrastate:
Baxter County |  | Unclassifiable/Attainment
Boone County |  | Unclassifiable/Attainment
Carroll County |  | Unclassifiable/Attainment
Cleburne County |  | Unclassifiable/Attainment
Franklin County |  | Unclassifiable/Attainment
Fulton County |  | Unclassifiable/Attainment
Izard County |  | Unclassifiable/Attainment
Johnson County |  | Unclassifiable/Attainment
Logan County |  | Unclassifiable/Attainment
Madison County |  | Unclassifiable/Attainment
Marion County |  | Unclassifiable/Attainment
Montgomery County |  | Unclassifiable/Attainment
Newton County |  | Unclassifiable/Attainment
Pike County |  | Unclassifiable/Attainment
Polk County |  | Unclassifiable/Attainment
Scott County |  | Unclassifiable/Attainment
Searcy County |  | Unclassifiable/Attainment
Stone County |  | Unclassifiable/Attainment
Van Buren County |  | Unclassifiable/Attainment
AQCR 022 Shreveport-Texarkana-Tyler Interstate:
Columbia County |  | Unclassifiable/Attainment
Hempstead County |  | Unclassifiable/Attainment
Howard County |  | Unclassifiable/Attainment
Lafayette County |  | Unclassifiable/Attainment
Little River County |  | Unclassifiable/Attainment
Miller County |  | Unclassifiable/Attainment
Sevier County |  | Unclassifiable/Attainment
Memphis, TN-AR: (AQCR 018 Metropolitan Memphis Interstate):
Crittenden County |  | Unclassifiable/Attainment
ᵃ Includes Indian Country located in each county or area, except as otherwise specified.
¹ This date is 30 days after November 13, 2009, unless otherwise noted.

* * * * *

6. Section 81.305 is amended as follows:

a. By removing the tables titled “California—PM2.5 (Annual NAAQS)” and “California—PM2.5 [24-hour NAAQS]”.

b. By adding three tables titled “California—1997 Annual PM2.5 NAAQS (Primary and Secondary)” and “California—1997 24-hour PM2.5 NAAQS (Primary and Secondary)” and “California—2006 24-hour PM2.5 NAAQS (Primary and Secondary)” before the table titled “California—NO2 (1971 Annual Standard)” .

The additions read as follows:

§ 81.305 California.

* * * * *

California—1997 Annual PM2.5 NAAQS
[Primary and secondary]
Designated area | Designation ᵃ: Date ¹ | Designation ᵃ: Type | Classification: Date ² | Classification: Type
Los Angeles-South Coast Air Basin, CA:
Los Angeles County (part) |  | Nonattainment |  | Moderate
That portion of Los Angeles County which lies south and west of a line described as follows: Beginning at the Los Angeles-San Bernardino County boundary and running west along the Township line common to Township 3 North and Township 2 North, San Bernardino Base and Meridian; then north along the range line common to Range 8 West and Range 9 West; then west along the Township line common to Township 4 North and Township 3 North; then north along the range line common to Range 12 West and Range 13 West to the southeast corner of Section 12, Township 5 North and Range 13 West; then west along the south boundaries of Sections 12, 11, 10, 9, 8, and 7, Township 5 North and Range 13 West to the boundary of the Angeles National Forest which is collinear with the range line common to Range 13 West and Range 14 West; then north and west along the Angeles National Forest boundary to the point of intersection with the Township line common to Township 7 North and Township 6 North (point is at the northwest corner of Section 4 in Township 6 North and Range 14 West); then west along the Township line common to Township 7 North and Township 6 North; then north along the range line common to Range 15 West and Range 16 West to the southeast corner of Section 13, Township 7 North and Range 16 West; then along the south boundaries of Sections 13, 14, 15, 16, 17, and 18, Township 7 North and Range 16 West; then north along the range line common to Range 16 West and Range 17 West to the north boundary of the Angeles National Forest (collinear with the Township line common to Township 8 North and Township 7 North); then west and north along the Angeles National Forest boundary to the point of intersection with the south boundary of the Rancho La Liebre Land Grant; then west and north along this land grant boundary to the Los Angeles-Kern County boundary
Orange County |  | Nonattainment |  | Moderate.
Riverside County (part) |  | Nonattainment |  | Moderate.
That portion of Riverside County which lies to the west of a line described as follows: Beginning at the Riverside-San Diego County boundary and running north along the range line common to Range 4 East and Range 3 East, San Bernardino Base and Meridian; then east along the Township line common to Township 8 South and Township 7 South; then north along the range line common to Range 5 East and Range 4 East; then west along the Township line common to Township 6 South and Township 7 South to the southwest corner of Section 34, Township 6 South, Range 4 East; then north along the west boundaries of Sections 34, 27, 22, 15, 10, and 3, Township 6 South, Range 4 East; then west along the Township line common to Township 5 South and Township 6 South; then north along the range line common to Range 4 East and Range 3 East; then west along the south boundaries of Sections 13, 14, 15, 16, 17, and 18, Township 5 South, Range 3 East; then north along the range line common to Range 2 East and Range 3 East; to the Riverside-San Bernardino County line
San Bernardino County (part) |  | Nonattainment |  | Moderate.
That portion of San Bernardino County which lies south and west of a line described as follows: Beginning at the San Bernardino-Riverside County boundary and running north along the range line common to Range 3 East and Range 2 East, San Bernardino Base and Meridian; then west along the Township line common to Township 3 North and Township 2 North to the San Bernardino-Los Angeles County boundary
San Diego, CA:
San Diego County |  | Unclassifiable/Attainment |  |
San Joaquin Valley, CA:
Fresno County |  | Nonattainment |  | Moderate.
Kern County (part) |  | Nonattainment |  | Moderate.
That portion of Kern County which lies west and north of a line described as follows: Beginning at the Kern-Los Angeles County boundary and running north and east along the northwest boundary of the Rancho La Libre Land Grant to the point of intersection with the range line common to R. 16 W. and R. 17 W., San Bernardino Base and Meridian; north along the range line to the point of intersection with the Rancho El Tejon Land Grant boundary; then southeast, northeast, and northwest along the boundary of the Rancho El Tejon Land Grant to the northwest corner of S. 3, T. 11 N., R. 17 W.; then west 1.2 miles; then north to the Rancho El Tejon Land Grant boundary; then northwest along the Rancho El Tejon line to the southeast corner of S. 34, T. 32 S., R. 30 E., Mount Diablo Base and Meridian; then north to the northwest corner of S. 35, T. 31 S., R. 30 E.; then northeast along the boundary of the Rancho El Tejon Land Grant to the southwest corner of S. 18, T. 31 S., R. 31 E.; then east to the southeast corner of S. 13, T. 31 S., R. 31 E.; then north along the range line common to R. 31 E. and R. 32 E., Mount Diablo Base and Meridian, to the northwest corner of S. 6, T. 29 S., R. 32 E.; then east to the southwest corner of S. 31, T. 28 S., R. 32 E.; then north along the range line common to R. 31 E. and R. 32 E. to the northwest corner of S. 6, T. 28 S., R. 32 E., then west to the southeast corner of S. 36, T. 27 S., R. 31 E., then north along the range line common to R. 31 E. and R. 32 E. to the Kern-Tulare County boundary
Kings County |  | Nonattainment |  | Moderate.
Madera County |  | Nonattainment |  | Moderate.
Merced County |  | Nonattainment |  | Moderate.
San Joaquin County |  | Nonattainment |  | Moderate.
Stanislaus County |  | Nonattainment |  | Moderate.
Tulare County |  | Nonattainment |  | Moderate.
North Coast Air Basin:
Del Norte County |  | Unclassifiable/Attainment>
Humboldt County |  | Unclassifiable/Attainment
Mendocino County |  | Unclassifiable/Attainment
Sonoma County (part) |  | Unclassifiable/Attainment
That portion of Sonoma county which lies north and west of a line described as follows: Beginning at the south-easterly corner of the Rancho Estero Americano, being on the boundary line between Marin and Sonoma Counties, California; thence running northerly along the easterly boundary line of said Rancho Estero Americano to the northeasterly corner thereof, being an angle corner in the westerly boundary line of Rancho Canada de Jonive, thence running along said boundary of Rancho Canada de Jonive westerly; northerly and easterly to its intersection with the easterly line of Graton Road; thence running along the easterly and southerly line of Graton Road northerly and easterly to its intersection with the easterly line of Sullivan Road; thence running northerly along said easterly line of Sullivan Road to the southerly line of Green Valley Road; thence running easterly along the said southerly line of Green Valley Road and easterly along the southerly line of State Highway 116, to the westerly and northerly line of Vine Hill Road; thence running along the westerly and northerly line of Vine Hill Road, northerly and easterly to its intersection with the westerly line of Laguna Road; thence running northerly along the westerly line of Laguna Road and the northerly projection thereof to the northerly line of Trenton Road; thence running westerly along the northerly line of said Trenton Road to the easterly line of Trenton-Healdsburg Road to the easterly line of Eastside Road: thence running northerly along said easterly line of Eastside Road to its intersection with the southerly line of Rancho Sotoyome; thence running easterly along said southerly line of Rancho Sotoyome to its intersection with the Township line common to Townships 8 and 9 north, Mt. Diablo Base and Meridian; thence running easterly along said Township line to its intersection with the boundary line between Sonoma and Napa Counties, State of California
Trinity County | 3/7/11 | Unclassifiable/Attainment
Northeast Plateau Air Basin:
Lassen County | 3/7/11 | Unclassifiable/Attainment
Modoc County | 3/7/11 | Unclassifiable/Attainment
Siskiyou County | 3/7/11 | Unclassifiable/Attainment
Lake County Air Basin:
Lake County |  | Unclassifiable/Attainment
Upper Sacramento Valley Region:
Butte County (remainder) | 3/7/11 | Unclassifiable/Attainment
Colusa County |  | Unclassifiable/Attainment
Glenn County |  | Unclassifiable/Attainment
Shasta County | 3/7/11 | Unclassifiable/Attainment
Sutter County (part) |  | Unclassifiable/Attainment
Tehama County | 3/7/11 | Unclassifiable/Attainment
Yuba County (remainder) | 3/7/11 | Unclassifiable/Attainment
Sacramento Metropolitan Region:
El Dorado County (part) |  | Unclassifiable/Attainment
All portions of the county except that portion of El Dorado County within the drainage area naturally tributary to Lake Tahoe including said Lake
Placer County (part) |  | Unclassifiable/Attainment
All portions of the county except that portion of Placer County within the drainage area naturally tributary to Lake Tahoe including said Lake, plus that area in the vicinity of the head of the Truckee River described as follows: Commencing at the point common to the aforementioned drainage area crestline and the line common to Townships 15 North and 16 North, Mount Diablo Base and Meridian, and following that line in a westerly direction to the northwest corner of Section 3, Township 15 North, Range 16 East, Mount Diablo Base and Meridian, thence south along the west line of Sections 3 and 10, Township 15 North, Range 16 East, Mount Diablo Base and Meridian, to the intersection with the said drainage area crestline, thence following the said drainage area boundary in a southeasterly, then northeasterly direction to and along the Lake Tahoe Dam, thence following the said drainage area crestline in a northeasterly, then northwesterly direction to the point of beginning
Sacramento County |  | Unclassifiable/Attainment
Solano County (part) |  | Unclassifiable/Attainment
That portion of Solano County which lies north and east of a line described as follows: Beginning at the intersection of the westerly boundary of Solano County and the 1/4 section line running east and west through the center of Section 34; Township 6 North, Range 2 West, Mount Diablo Base and Meridian, thence east along said 1/4 section line to the east boundary of Section 36, Township 6 North, Range 2 West, thence south 1/2 mile and east 2.0 miles, more or less, along the west and south boundary of Los Putos Rancho to the northwest corner of Section 4, Township 5 North, Range 1 West, thence east along a line common to Township 5 North and Township 6 North to the northeast corner of Section 3, Township 5 North, Range 1 East, thence south along section lines to the southeast corner of Section 10, Township 3 North, Range 1 East, thence east along section lines to the south 1/4 corner of Section 8, Township 3 North, Range 2 East, thence east to the boundary between Solano and Sacramento Counties
Sutter County (part) |  | Unclassifiable/Attainment
That portion south of a line connecting the northern border of Yolo County to the southwest tip of Yuba County and continuing along the southern Yuba County border to Placer County
Yolo County |  | Unclassifiable/Attainment
Northern Mountain Counties:
Nevada County |  | Unclassifiable/Attainment.
Plumas County | 3/7/11 | Unclassifiable/Attainment
Sierra County | 3/7/11 | Unclassifiable/Attainment
Central Mountain Counties:
Amador County |  | Unclassifiable/Attainment
Calaveras County |  | Unclassifiable/Attainment
Southern Mountain Counties:
Mariposa County |  | Unclassifiable/Attainment
Tuolumne County |  | Unclassifiable/Attainment
Lake Tahoe Air Basin:
El Dorado County (part) |  | Unclassifiable/Attainment
That portion of El Dorado County within the drainage area naturally tributary to Lake Tahoe including said Lake.
Placer County (part) |  | Unclassifiable/Attainment
That portion of Placer County within the drainage area naturally tributary to Lake Tahoe including said Lake, plus that area in the vicinity of the head of the Truckee River described as follows: commencing at the point common to the aforementioned drainage area crestline and the line common to Townships 15 North and 16 North, Mount Diablo Base and Meridian, and following that line in a westerly direction to the northwest corner of Section 3, Township 15 North, Range 16 East, Mount Diablo Base and Meridian, thence south along the west line of Sections 3 and 10, Township 15 North, Range 16 East, Mount Diablo Base and Meridian, to the intersection with the said drainage area crestline, thence following the said drainage area boundary in a southeasterly, then northeasterly direction to and along the Lake Tahoe Dam, thence following the said drainage area crestline in a northeasterly, then northwesterly direction to the point of beginning
San Francisco Bay Area Air Basin:
Alameda County |  | Unclassifiable/Attainment
Contra Costa County |  | Unclassifiable/Attainment
Marin County |  | Unclassifiable/Attainment
Napa County |  | Unclassifiable/Attainment
San Francisco County |  | Unclassifiable/Attainment
San Mateo County |  | Unclassifiable/Attainment
Santa Clara County |  | Unclassifiable/Attainment
Solano County (part) |  | Unclassifiable/Attainment
Portion of Solano County which lies south and west of a line described as follows: Beginning at the intersection of the westerly boundary of Solano County and the 1/4 section line running east and west through the center of Section 34, T6N, R2W, M.D.B. & M., thence east along said 1/4 section line to the east boundary of Section 36, T6N, R2W, thence south 1/2 mile and east 2.0 miles, more or less, along the west and south boundary of Los Putos Rancho to the northwest corner of Section 4, T5N, R1W, thence east along a line common to T5N and T6N to the northeast corner of Section 3, T5N, R1E, thence south along section lines to the southeast corner of Section 10, T3N, R1E, thence east along section lines to the south 1/4 corner of Section 8, T3N, R2E, thence east to the boundary between Solano and Sacramento Counties
Sonoma County (part) |  | Unclassifiable/Attainment.
That portion of Sonoma County which lies south and east of a line described as follows: Beginning at the southeasterly corner of the Rancho Estero Americano, being on the boundary line between Marin and Sonoma Counties, California; thence running northerly along the easterly boundary line of said Rancho Estero Americano to the northeasterly corner thereof, being an angle corner in the westerly boundary line of Rancho Canada de Jonive; thence running along said boundary of Rancho Canada de Jonive westerly, northerly and easterly to its intersection with the easterly line of Graton Road; thence running along the easterly and southerly line of Graton Road, northerly and easterly to its intersection with the easterly line of Sullivan Road; thence running northerly along said easterly line of Sullivan Road to the southerly line of Green Valley Road; thence running easterly along the said southerly line of Green Valley Road and easterly along the southerly line of State Highway 116, to the westerly line of Vine Hill Road; thence running along the westerly and northerly line of Vine Hill Road, northerly and easterly to its intersection with the westerly line of Laguna Road; thence running northerly along the westerly line of Laguna Road and the northerly projection thereof to the northerly line of Trenton Road; thence running westerly along the northerly line of said Trenton Road to the easterly line of Trenton-Healdsburg Road; thence running northerly along said easterly line of Trenton-Healdsburg Road to the easterly line of Eastside Road; thence running northerly along said easterly line of Eastside Road to its intersection with the southerly line of Rancho Sotoyome; thence running easterly along said southerly line of Rancho Sotoyome to its intersection with the Township line common to Townships 8 and 9 North, M.D.M.; thence running easterly along said township line to its intersection with the boundary line between Sonoma and Napa Counties
North Central Coast Air Basin:
Monterey County |  | Unclassifiable/Attainment
San Benito County |  | Unclassifiable/Attainment
Santa Cruz County |  | Unclassifiable/Attainment
San Luis Obispo County:
San Luis Obispo County |  | Unclassifiable/Attainment
Santa Barbara County:
Santa Barbara County (part) |  | Unclassifiable/Attainment
Excluding San Miguel, Santa Rosa, Santa Cruz, and Santa Barbara Islands
Santa Barbara County (part) |  | Unclassifiable/Attainment
San Miguel, Santa Rosa, Santa Cruz, and Santa Barbara Islands.
Ventura County:
Ventura County (part) |  | Unclassifiable/Attainment
Excluding Anacapa and San Nicolas Islands.
Ventura County (part) |  | Unclassifiable/Attainment
Anacapa and San Nicolas Islands.
Great Basin Valleys Air Basin:
Alpine County |  | Unclassifiable/Attainment
Inyo County (part) |  | Unclassifiable/Attainment
That portion of Inyo County that lies outside Hydrologic Unit Number 18090205.
Mono County |  | Unclassifiable/Attainment
Coso Junction:
Inyo County (part) |  | Unclassifiable/Attainment
That portion of Inyo County that lies inside Hydrologic Unit Number 18090205.
Eastern Kern County:
Kern County (part) |  | Unclassifiable/Attainment
That portion of Kern County (with the exception of that portion in Hydrologic Unit Number 18090205—the Indian Wells Valley) east and south of a line described as follows: Beginning at the Kern—Los Angeles County boundary and running north and east along the northwest boundary of the Rancho La Liebre Land Grant to the point of intersection with the range line common to Range 16 West and Range 17 West, San Bernardino Base and Meridian; north along the range line to the point of intersection with the Rancho El Tejon Land Grant boundary; then southeast, northeast, and northwest along the boundary of the Rancho El Tejon Grant to the northwest corner of Section 3, Township 11 North, Range 17 West; then west 1.2 miles; then north to the Rancho El Tejon Land Grant boundary; then northwest along the Rancho El Tejon line to the southeast corner of Section 34, Township 32 South, Range 30 East, Mount Diablo Base and Meridian; then north to the northwest corner of Section 35, Township 31 South, Range 30 East; then northeast along the boundary of the Rancho El Tejon Land Grant to the southwest corner of Section 18, Township 31 South, Range 31 East; then east to the southeast corner of Section 13, Township 31 South, Range 31 East; then north along the range line common to Range 31 East and Range 32 East, Mount Diablo Base and Meridian, to the northwest corner of Section 6, Township 29 South, Range 32 East; then east to the southwest corner of Section 31, Township 28 South, Range 32 East; then north along the range line common to Range 31 East and Range 32 East to the northwest corner of Section 6, Township 28 South, Range 32 East, then west to the southeast corner of Section 36, Township 27 South, Range 31 East, then north along the range line common to Range 31 East and Range 32 East to the Kern-Tulare County boundary
Indian Wells Valley:
Kern County (part) |  | Unclassifiable/Attainment
That portion of Kern County that lies inside Hydrologic Unit Number 18090205.
Western Mojave Desert and Antelope Valley:
Los Angeles County (part) |  | Unclassifiable/Attainment
That portion of Los Angeles County which lies north and east of a line described as follows: Beginning at the Los Angeles—San Bernardino County boundary and running west along the Township line common to Township 3 North and Township 2 North, San Bernardino Base and Meridian; then north along the range line common to Range 8 West and Range 9 West; then west along the Township line common to Township 4 North and Township 3 North; then north along the range line common to Range 12 West and Range 13 West to the southeast corner of Section 12, Township 5 North and Range 13 West; then west along the south boundaries of Sections 12, 11, 10, 9, 8, and 7, Township 5 North and Range 13 West to the boundary of the Angeles National Forest which is collinear with the range line common to Range 13 West and Range 14 West; then north and west along the Angeles National Forest boundary to the point of intersection with the Township line common to Township 7 North and Township 6 North (point is at the northwest corner of Section 4 in Township 6 North and Range 14 West); then west along the Township line common to Township 7 North and Township 6 North; then north along the range line common to Range 15 West and Range 16 West to the southeast corner of Section 13, Township 7 North and Range 16 West; then along the south boundaries of Sections 13, 14, 15, 16, 17, and 18, Township 7 North and Range 16 West; then north along the range line common to Range 16 West and Range 17 West to the north boundary of the Angeles National Forest (collinear with the Township line common to Township 8 North and Township 7 North); then west and north along the Angeles National Forest boundary to the point of intersection with the south boundary of the Rancho La Liebre Land Grant; then west and north along this land grant boundary to the Los Angeles-Kern County boundary.
Trona:
San Bernardino County (part) |  | Unclassifiable/Attainment
That portion of San Bernardino County that lies inside Hydrologic Unit Number 18090205.
Coachella Valley:
Riverside County (part) |  | Unclassifiable/Attainment
That portion of Riverside County which lies to the east of a line described as follows: Beginning at the Riverside—San Diego County boundary and running north along the range line common to Range 4 East and Range 3 East, San Bernardino Base and Meridian; then east along the Township line common to Township 8 South and Township 7 South; then north along the range line common to Range 5 East and Range 4 East; then west along the Township line common to Township 6 South and Township 7 South to the southwest corner of Section 34, Township 6 South, Range 4 East; then north along the west boundaries of Sections 34, 27, 22, 15, 10, and 3, Township 6 South, Range 4 East; then west along the Township line common to Township 5 South and Township 6 South; then north along the range line common to Range 4 East and Range 3 East; then west along the south boundaries of Sections 13, 14, 15, 16, 17, and 18, Township 5 South, Range 3 East; then north along the range line common to Range 2 East and Range 3 East;, to the Riverside-San Bernardino County line: And that portion of Riverside County which lies to the west of a line described as follows: That segment of the southwestern boundary line of Hydrologic Unit Number 18100100 within Riverside County, further described as follows: Beginning at the Riverside-Imperial County boundary and running north along the range line common to Range 17 East and Range 16 East, San Bernardino Base and Meridian; then northwest along the ridge line of the Chuckwalla Mountains, through Township 8 South, Range 16 East and Township 7 South, Range 16 East, until the Black Butte Mountain, elevation 4504'; then west and northwest along the ridge line to the southwest corner of Township 5 South, Range 14 East; then north along the range line common to Range 14 East and Range 13 East; then west and northwest along the ridge line to Monument Mountain, elevation 4834'; then southwest and then northwest along the ridge line of the Little San Bernardino Mountains to Quail Mountain, elev. 5814'; then northwest along the ridge line to the Riverside-San Bernardino County line.
Far Eastern Riverside and San Bernardino Counties:
San Bernardino County (remainder) |  | Unclassifiable/Attainment
Riverside County (remainder) |  | Unclassifiable/Attainment.
Imperial County:
Imperial County |  | Unclassifiable/Attainment.
ᵃ Includes Indian Country located in each county or area, except as otherwise specified.
¹ This date is 90 days after January 5, 2005, unless otherwise noted.
² This date is July 2, 2014, unless otherwise noted.

California—1997 24-Hour PM2.5 NAAQS
[Primary and secondary]
Designated area | Designation ᵃ: Date ¹ | Designation ᵃ: Type | Classification: Date ² | Classification: Type
Chico, CA:
Butte County (part) |  | Unclassifiable/Attainment
That portion of Butte County which lies west of the line described as follows: (Mount Diablo Base and Meridian) Beginning at the intersection of the Butte-Yuba county line and the township line common to T18N R6E and T19N R6E, west to the township line common to T18N R6E and T19N R6E, then north along the range line common to R5E and R6E, then west along the township line common to T21N and T20N, then north along the range line common to R4E and R5E, then west along the township line common to T24N and T23N to the Butte-Tehama County boundary.
Imperial County, CA:
Imperial County (part) |  | Unclassifiable/Attainment
That portion of Imperial County which lies within the line described as follows: (San Bernardino Base and Meridan) Beginning at the intersection of the United States-Mexico border and the southeast corner of T17S R11E, then north along the range line of the eastern edge of range R11E, then east along the township line of the southern edge of T12S to the northeast corner of T13S R15E, then south along the range line common to R15E and R16E, to the United States-Mexico border.
Los Angeles-South Coast Air Basin, CA:
Los Angeles County (part) |  | Nonattainment |  | Moderate.
That portion of Los Angeles County which lies south and west of a line described as follows: Beginning at the Los Angeles-San Bernardino County boundary and running west along the Township line common to Township 3 North and Township 2 North, San Bernardino Base and Meridian; then North along the range line common to Range 8 West and Range 9 West; then west along the Township line common to Township 4 North and Township 3 North; then north along the range line common to Range 12 West and Range 13 West to the southeast corner of Section 12, Township 5 North and Range 13 West; then west along the south boundaries of Sections 12, 11, 10, 9, 8, and 7, Township 5 North and Range 13 West to the boundary of the Angeles National Forest which is collinear with the range line common to Range 13 West and Range 14 West; then north and west along the Angeles National Forest boundary to the point of intersection with the Township line common to Township 7 North and Township 6 North (point is at the northwest corner of Section 4 in Township 6 North and Range 14 West); then west along the Township line common to Township 7 North and Township 6 North; then north along the range line common to Range 15 West and Range 16 West to the southeast corner of Section 13, Township 7 North and Range 16 West; then along the south boundaries of Sections 13, 14, 15, 16, 17 and 18, Township 7 North and Range 16 West; then north along the range line common to Range 16 West and Range 17 West to the north boundary of the Angeles National Forest (collinear with the Township line common to Township 8 North and Township 7 North); then west and north along the Angeles National Forest boundary to the point of intersection with the south boundary of the Rancho La Liebre Land Grant; then west and north along this land grant boundary to the Los Angeles-Kern County boundary.
Orange County |  | Nonattainment |  | Moderate.
Riverside County (part) |  | Nonattainment |  | Moderate.
That portion of Riverside County which lies to the west of a line described as follows: Beginning at the Riverside-San Diego County boundary and running north along the range line common to Range 4 East and Range 3 East, San Bernardino Base and Meridian; then east along the Township line common to Township 8 South and Township 7 South; then north along the range line common to Range 5 East and Range 4 East; then west along the Township line common to Township 6 South and Township 7 South to the southwest corner of Section 34, Township 6 South, Range 4 East; then north along the west boundaries of Sections 34, 27, 22, 15, 10, and 3, Township 6 South, Range 4 East; then west along the Township line common to Township 5 South and Township 6 South; then north along the range line common to Range 4 East and Range 3 East; then west along the south boundaries of Sections 13, 14, 15, 16, 17, and 18, Township 5 South, Range 3 East; then north along the range line common to Range 2 East and Range 3 East; to the Riverside-San Bernardino County Line (excluding the lands of the Santa Rosa Band of Cahuilla Mission Indians).
That part of the lands of the Santa Rosa Band of Cahuilla Mission Indians which is excluded from the Riverside County (part) nonattainment area |  | Nonattainment |  | Moderate.
San Bernardino County (part) |  | Nonattainment |  | Moderate.
That portion of San Bernardino County which lies south and west of a line described as follows: Beginning at the San Bernardino-Riverside County boundary and running north along the range line common to Range 3 East and Range 2 East, San Bernardino Base and Meridian; then west along the Township line common to Township 3 North and Township 2 North to the San Bernardino-Los Angeles County boundary.
Sacramento, CA:
El Dorado County (part) |  | Unclassifiable/Attainment
That portion of El Dorado County which lies west of the line described as follows: (Mount Diablo Base and Meridian) Beginning at the intersection of El Dorado-Amador county line and the township line common to townships T8N R10E and T8N R11E, then north along the range line common to ranges R10E and R11E, then east along the township line common to T9N and T8N, then north along the range line common to ranges R12E and R13E, then west along the township line common to T12N and T11N, then north along the range line common to ranges R10E and R11E, then west along the township line common to T13N and T12N, then north along the range line common to ranges R9E and R10E, to the El Dorado-Placer County boundary.
Placer County (part) |  | Unclassifiable/Attainment
That portion of Placer County which lies west of the line described as follows: (Mount Diablo Base and Meridian) Beginning at the intersection of the Placer-El Dorado County line and the township line common to townships T12N R9E and T13N R9E, then running west along the township line common to townships T12N R9E and T13N R9E, then north along the range line common to ranges R8E and R9E, to the Placer-Nevada County boundary.
Sacramento County |  | Unclassifiable/Attainment
Solano County (part) |  | Unclassifiable/Attainment
That portion of Solano County which lies north and east of a line described as follows: beginning at the intersection of the westerly boundary of Solano County and the ¼ section line running east and west through the center of Section 34; Township 6 North, Range 2 West, Mount Diablo Base and Meridian, thence east along said ¼ section line to the east boundary of Section 36, Township 6 North, Range 2 West, thence south ½ mile and east 2.0 miles, more or less, along the west and south boundary of Los Putos Rancho to the northwest corner of Section 4, Township 5 North, Range 1 West, thence east along a line common to Township 5 North and Township 6 North to the northeast corner of Section 3, Township 5 North, Range 1 East, thence south along section lines to the southeast corner of Section 10, Township 3 North, Range 1 East, thence east along section lines to the south ¼ corner of Section 8, Township 3 North, Range 2 East, thence east to the boundary between Solano and Sacramento Counties.
Yolo County (part) |  | Unclassifiable/Attainment
That portion of Yolo County which lies east of the line described as follows: (Mount Diablo Base and Meridian) Beginning at the intersection of Yolo-Solano County boundary and the range line of the eastern edge of township T8N R2W, north along the range line of the eastern edge of township T8N R2W, continuing north along the range line common to ranges R2W and R1W, to the Yolo-Colusa County boundary.
San Francisco Bay Area, CA:
Alameda County |  | Unclassifiable/Attainment
Contra Costa County |  | Unclassifiable/Attainment
Marin County |  | Unclassifiable/Attainment
Napa County |  | Unclassifiable/Attainment
San Francisco County |  | Unclassifiable/Attainment
San Mateo County |  | Unclassifiable/Attainment
Santa Clara County |  | Unclassifiable/Attainment
Solano County (part) |  | Unclassifiable/Attainment
That portion of Solano County which lies south and west of a line described as follows: Beginning at the intersection of the westerly boundary of Solano County and the ¼ section line running east and west through the center of Section 34, Township 6 North, Range 2 West, Mount Diablo Base and Meridian, thence east along said ¼ section line to the east boundary of Section 36, Township 6 North, Range 2 West, thence south ½ mile and east 2.0 miles, more or less, along the west and south boundary of Los Putos Rancho to the northwest corner of Section 4, Township 5 North, Range 1 West thence east along a line common to T5N and T6N to the northeast corner of Section 3, T5N, R1E, thence south along section lines to the southeast corner of Section 10, T3N, R1E, thence east along section lines to the south ¼ corner of Section 8, T3N, R2E, thence east to the boundary between Solano and Sacramento Counties.
Sonoma County (part) |  | Unclassifiable/Attainment.
That portion of Sonoma County which lies south and east of a line described as follows: Beginning at the southeasterly corner of the Rancho Estero Americano, being on the boundary line between Marin and Sonoma Counties, California; thence running northerly along the easterly boundary line of said Rancho Estero Americano to the northeasterly corner thereof, being an angle corner in the westerly boundary line of Rancho Canada de Jonive; thence running along said boundary of Rancho Canada de Jonive westerly, northerly and easterly to its intersection with the easterly line of Graton Road; thence running along the easterly and southerly line of Graton Road, northerly and easterly to its intersection with the easterly line of Sullivan Road; thence running northerly along said easterly line of Sullivan Road to the southerly line of Green Valley Road; thence running easterly along the said southerly line of Green Valley Road and easterly along the southerly line of State Highway 116, to the westerly line of Vine Hill Road; thence running along the westerly and northerly line of Vine Hill Road, northerly and easterly to its intersection with the westerly line of Laguna Road; thence running northerly along the westerly line of Laguna Road and the northerly projection thereof to the northerly line of Trenton Road; thence running westerly along the northerly line of said Trenton Road to the easterly line of Trenton-Healdsburg Road; thence running northerly along said easterly line of Trenton-Healdsburg Road to the easterly line of Eastside Road; thence running northerly along said easterly line of Eastside Road to its intersection with the southerly line of Rancho Sotoyome; thence running easterly along said southerly line of Rancho Sotoyome to its intersection with the Township line common to Townships 8 and 9 North, M.D.M.; thence running easterly along said township line to its intersection with the boundary line between Sonoma and Napa Counties.
San Joaquin Valley, CA:
Fresno County |  | Nonattainment |  | Moderate.
Kern County (part) |  | Nonattainment |  | Moderate.
That portion of Kern County which lies west and north of a line described as follows: Beginning at the Kern-Los Angeles County boundary and running north and east along the northwest boundary of the Rancho La Liebre Land Grant to the point of intersection with the range line common to R. 16 W. and R. 17 W., San Bernardino Base and Meridian; north along the range line to the point of intersection with the Rancho El Tejon Land Grant boundary; then southeast, northeast, and northwest along the boundary of the Rancho El Tejon Land Grant to the northwest corner of Sec. 3, T11N, R17W; then west 1.2 miles; then north to the Rancho El Tejon Land Grant boundary; then northwest along the Rancho El Tejon line to the southeast corner of Sec. 34, T32S, R30E Mount Diablo Base And Meridian; then north to the northwest corner of Sec. 35, T31S, R30E; then Northeast along the boundary of the Rancho El Tejon Land Grant to the southwest corner of Sec. 18, T. 31 S., R. 31 E.; then east to the southeast corner of Sec. 13, T. 31 S., R. 31 E.; then north along the range line common to R. 31 E. and R. 32 E., Mount Diablo Base and Meridian, to the northwest corner of Sec. 6, T. 29 S., R. 32 E.; then east to the southwest corner of Sec. 31, T. 28 S., R. 32 E.; then north along the range line common to R. 31 E. and R. 32 E. to the northwest corner of Sec. 6, T. 28 S., R. 32 E., then west to the southeast corner of Sec. 36, T. 27 S., R. 31 E., then north along the range line common to R. 31 E. and R. 32 E. to the Kern-Tulare County boundary.
Kings County |  | Nonattainment |  | Moderate.
Madera County |  | Nonattainment |  | Moderate.
Merced County |  | Nonattainment |  | Moderate.
San Joaquin County |  | Nonattainment |  | Moderate.
Stanislaus County |  | Nonattainment |  | Moderate.
Tulare County |  | Nonattainment |  | Moderate.
Yuba City-Marysville, CA:
Sutter County |  | Unclassifiable/Attainment
Yuba County (part) |  | Unclassifiable/Attainment
That portion of Yuba County which lies west of the line described as follows: (Mount Diablo Base and Meridian) Beginning at the intersection of the Yuba-Nevada county line and the range line common to ranges R7E and R8E, north to the southeast corner of township T18N R7E, then west along the township line common to T17N and T18N, then north along the range line common to ranges R6E and R7E, then west along the township line common to T19N and T18N to the Yuba-Butte County boundary.
North Coast Air Basin:
Del Norte County |  | Unclassifiable/Attainment
Humboldt County |  | Unclassifiable/Attainment
Mendocino County |  | Unclassifiable/Attainment
Sonoma County (part) |  | Unclassifiable/Attainment
That portion of Sonoma County which lies north and west of a line described as follows: Beginning at the southeasterly corner of the Rancho Estero Americano, being on the boundary line between Marin and Sonoma Counties, California; thence running northerly along the easterly boundary line of said Rancho Estero Americano to the northeasterly corner thereof, being an angle corner in the westerly boundary line of Rancho Canada de Jonive, thence running along said boundary of Rancho Canada de Jonive westerly; northerly and easterly to its intersection with the easterly line of Graton Road; thence running along the easterly and southerly line of Graton Road northerly and easterly to its intersection with the easterly line of Sullivan Road; thence running northerly along said easterly line of Sullivan Road to the southerly line of Green Valley Road; thence running easterly along the said southerly line of Green Valley Road and easterly along the southerly line of State Highway 116, to the westerly and northerly line of Vine Hill Road; thence running along the westerly and northerly line of Vine Hill Road, northerly and easterly to its intersection with the westerly line of Laguna Road; thence running northerly along the westerly line of Laguna Road and the northerly projection thereof to the northerly line of Trenton Road; thence running westerly along the northerly line of said Trenton Road to the easterly line of Trenton-Healdsburg Road to the easterly line of Eastside Road: thence running northerly along said easterly line of Eastside Road to its intersection with the southerly line of Rancho Sotoyome; thence running easterly along said southerly line of Rancho Sotoyome to its intersection with the Township line common to Townships 8 and 9 north, Mt. Diablo Base and Meridian; thence running easterly along said Township line to its intersection with the boundary line between Sonoma and Napa Counties, State of California.
Trinity County |  | Unclassifiable/Attainment
Northeast Plateau Air Basin:
Lassen County |  | Unclassifiable/Attainment
Modoc County |  | Unclassifiable/Attainment.
Siskiyou County |  | Unclassifiable/Attainment
Lake County Air Basin:
Lake County |  | Unclassifiable/Attainment
Upper Sacramento Valley Region:
Butte County (remainder) |  | Unclassifiable/Attainment
Colusa County |  | Unclassifiable/Attainment
Glenn County |  | Unclassifiable/Attainment
Shasta County |  | Unclassifiable/Attainment
Tehama County |  | Unclassifiable/Attainment
Yuba County (remainder) |  | Unclassifiable/Attainment
Sacramento Metropolitan Region:
Yolo County (remainder) |  | Unclassifiable/Attainment
Northern Mountain Counties:
Nevada County |  | Unclassifiable/Attainment
Plumas County |  | Unclassifiable/Attainment
Sierra County |  | Unclassifiable/Attainment
Central Mountain Counties:
Amador County |  | Unclassifiable/Attainment
Calaveras County |  | Unclassifiable/Attainment
Southern Mountain Counties:
Mariposa County |  | Unclassifiable/Attainment
Tuolumne County |  | Unclassifiable/Attainment
Lake Tahoe Air Basin:
El Dorado County (remainder) |  | Unclassifiable/Attainment
Placer County (remainder) |  | Unclassifiable/Attainment
North Central Coast Air Basin:
Monterey County |  | Unclassifiable/Attainment
San Benito County |  | Unclassifiable/Attainment
Santa Cruz County |  | Unclassifiable/Attainment
San Luis Obispo County:
San Luis Obispo County |  | Unclassifiable/Attainment
Santa Barbara County:
Santa Barbara County (part) |  | Unclassifiable/Attainment
Excluding San Miguel, Santa Rosa, Santa Cruz and Santa Barbara Islands
Santa Barbara County (part) |  | Unclassifiable/Attainment
San Miguel, Santa Rosa, Santa Cruz and Santa Barbara Islands
Ventura County:
Ventura County (part) |  | Unclassifiable/Attainment
Excluding Anacapa and San Nicolas Islands.
Ventura County (part) |  | Unclassifiable/Attainment
Anacapa and San Nicolas Islands.
Great Basin Valleys Air Basin:
Alpine County |  | Unclassifiable/Attainment
Inyo County (part) |  | Unclassifiable/Attainment
That portion of Inyo County that Lies outside Hydrologic Unit Number 18090205.
Mono County |  | Unclassifiable/Attainment
Coso Junction:
Inyo County (part) |  | Unclassifiable/Attainment
That portion of Inyo County that lies inside Hydrologic Unit Number 18090205.
Eastern Kern County:
Kern County (part) |  | Unclassifiable/Attainment
That portion of Kern County (with the exception of that portion in Hydrologic Unit Number 18090205—the Indian Wells Valley) east and south of a line described as follows: Beginning at the Kern-Los Angeles County boundary and running north and east along the northwest boundary of the Rancho La Liebre Land Grant to the point of intersection with the range line common to Range 16 West and Range 17 West, San Bernardino Base and Meridian; north along the range line to the point of intersection with the Rancho El Tejon Land Grant boundary; then southeast, northeast, and northwest along the boundary of the Rancho El Tejon Grant to the northwest corner of Section 3, Township 11 North, Range 17 West; then west 1.2 miles; then north to the Rancho El Tejon Land Grant boundary; Then northwest Along the Rancho El Tejon line to the southeast corner of Section 34, Township 32 South, Range 30 East, Mount Diablo Base and Meridian; then north to the northwest corner of Section 35, Township 31 South, Range 30 East; then northeast along the boundary of the Rancho El Tejon Land Grant to the southwest corner of Section 18, Township 31 South, Range 31 East; then east to the southeast corner of Section 13, Township 31 South, Range 31 East; then north along the range line common to Range 31 East and Range 32 East, Mount Diablo Base and Meridian, to the northwest corner of Section 6, Township 29 South, Range 32 East; then east to the southwest corner of Section 31, Township 28 South, Range 32 East; then north along the range line common to Range 31 East and Range 32 East to the northwest corner of Section 6, Township 28 South, Range 32 East, then west to the southeast corner of Section 36, Township 27 South, Range 31 East, then north along the range line common to Range 31 East and Range 32 East to the Kern-Tulare County boundary.
Indian Wells Valley:
Kern County (part) |  | Unclassifiable/Attainment
That portion of Kern County that lies inside Hydrologic Unit Number 18090205.
Western Mojave Desert and Antelope Valley:
Los Angeles County (part) |  | Unclassifiable/Attainment
That portion of Los Angeles County which lies north and east of a line described as follows: Beginning at the Los Angeles-San Bernardino County boundary and running west along the Township line common to Township 3 North and Township 2 North, San Bernardino Base and Meridian; then north along the range line common to Range 8 West and Range 9 West; then west along the Township line common to Township 4 North and Township 3 North; then north along the range line common to Range 12 West and Range 13 West to the southeast corner of Section 12, Township 5 North and Range 13 West; then west along the south boundaries of Sections 12, 11, 10, 9, 8, and 7, Township 5 North and Range 13 West to the boundary of the Angeles National Forest which is collinear with the range line common to Range 13 West and Range 14 West; then north and west along the Angeles National Forest boundary to the point of intersection with the Township line common to Township 7 North and Township 6 North (point is at the northwest corner of Section 4 in Township 6 North and Range 14 West); then west along the Township line common to Township 7 North and Township 6 North; then north along the range line common to Range 15 West and Range 16 West to the southeast corner of Section 13, Township 7 North and Range 16 West; then along the south boundaries of Sections 13, 14, 15, 16, 17, and 18, Township 7 North and Range 16 West; then north along the range line common to Range 16 West and Range 17 West to the north boundary of the Angeles National Forest (collinear with the Township line common to Township 8 North and Township 7 North); then west and north along the Angeles National Forest boundary to the point of intersection with the south boundary of the Rancho La Liebre Land Grant; then west and north along this land grant boundary to the Los Angeles-Kern County boundary.
San Bernardino County (part) |  | Unclassifiable/Attainment
That portion of San Bernardino County (with the exception of that portion in Hydrologic Unit Number 18090205) which lies north and east of a line described as follows: Beginning at the San Bernardino-Riverside County boundary and running north along the range line common to Range 3 East and Range 2 East, San Bernardino Base and Meridian; then west along the Township line common to Township 3 North and Township 2 North to the San Bernardino-Los Angeles County boundary; And that portion of San Bernardino County which lies south and west of a line described as follows: latitude 35 degrees, 10 minutes north and longitude 115 degrees, 45 minutes west.
Trona:
San Bernardino County (part) |  | Unclassifiable/Attainment
That portion of San Bernardino County that lies inside Hydrologic Unit Number 18090205.
Coachella Valley:
Riverside County (part) |  | Unclassifiable/Attainment
That portion of Riverside County which lies to the east of a line described as follows: Beginning at the Riverside-San Diego County boundary and running north along the range line common to Range 4 East and Range 3 East, San Bernardino Base and Meridian; then east along the Township line common to Township 8 South and Township 7 South; then north along the range line common to Range 5 East and Range 4 East; then west along the Township line common to Township 6 South and Township 7 South to the southwest corner of Section 34, Township 6 South, Range 4 East; then north along the west boundaries of Sections 34, 27, 22, 15, 10, and 3, Township 6 South, Range 4 East; then west along the Township line common to Township 5 South and Township 6 South; then north along the range line common to Range 4 East and Range 3 East; then west along the south boundaries of Sections 13, 14, 15, 16, 17, and 18, Township 5 South, Range 3 East; then North along the range line common to Range 2 East and Range 3 East; to the Riverside-San Bernardino County line: And that portion of Riverside County which lies to the west of a line described as follows: That segment of the southwestern boundary line of Hydrologic Unit Number 18100100 within Riverside County, further described as follows: Beginning at the Riverside-Imperial County boundary and running north along the range line common to Range 17 East and Range 16 East, San Bernardino Base and Meridian; then northwest along the ridge line of the Chuckwalla Mountains, through Township 8 South, Range 16 East and Township 7 South, Range 16 East, until the Black Butte Mountain, Elevation 4504′; then west and northwest along the ridge line to the southwest corner of Township 5 South, Range 14 East; then north along the range line common to Range 14 East and Range 13 East; then west and northwest along the ridge line to Monument Mountain, elevation 4834′; then southwest and then northwest along the ridge line of the Little San Bernardino Mountains to Quail Mountain, elev. 5814′; then northwest along the ridge line to the Riverside-San Bernardino County line.
Far Eastern Riverside and San Bernardino Counties:
San Bernardino County (remainder) |  | Unclassifiable/Attainment.
Riverside County (remainder) |  | Unclassifiable/Attainment.
Imperial County (remainder) |  | Unclassifiable/Attainment
San Diego County |  | Unclassifiable/Attainment
ᵃ Includes Indian Country located in each county or area, except as otherwise specified.
¹ This date is 90 days after January 5, 2005, unless otherwise noted.
² This date is July 2, 2014, unless otherwise noted.

California—2006 24-Hour PM2.5 NAAQS
[Primary and secondary]
Designated area | Designation ᵃ: Date ¹ | Designation ᵃ: Type | Classification: Date ² | Classification: Type
Chico, CA:
Butte County (part) |  | Nonattainment |  | Moderate.
That portion of Butte County which lies west of the line described as follows: (Mount Diablo Base and Meridian) Beginning at the intersection of the Butte-Yuba county line and the township line common to T18N R6E and T19N R6E, west to the township line common to T18N R6E and T19N R6E, then north along the range line common to R5E and R6E, then west along the township line common to T21N and T20N, then north along the range line common to R4E and R5E, then west along the township line common to T24N and T23N to the Butte-Tehama County boundary.
Imperial County, CA:
Imperial County (part) |  | Nonattainment |  | Moderate.
That portion of Imperial County which lies within the line described as follows: (San Bernardino Base and Meridian) Beginning at the intersection of the United States-Mexico border and the southeast corner of T17S R11E, then north along the range line of the eastern edge of range R11E, then east along the township line of the southern edge of T12S to the northeast corner of T13S R15E, then south along the range line common to R15E and R16E, to the United States-Mexico border.
Los Angeles-South Coast Air Basin, CA:
Los Angeles County (part) |  | Nonattainment |  | Moderate.
That portion of Los Angeles County which lies south and west of a line described as follows: Beginning at the Los Angeles-San Bernardino County boundary and running west along the Township line common to Township 3 North and Township 2 North, San Bernardino Base and Meridian; then North along the range line common to Range 8 West and Range 9 West; then west along the Township line common to Township 4 North and Township 3 North; then north along the range line common to Range 12 West and Range 13 West to the southeast corner of Section 12, Township 5 North and Range 13 West; then west along the south boundaries of Sections 12, 11, 10, 9, 8, and 7, Township 5 North and Range 13 West to the boundary of the Angeles National Forest which is collinear with the range line common to Range 13 West and Range 14 West; then north and west along the Angeles National Forest boundary to the point of intersection with the Township line common to Township 7 North and Township 6 North (point is at the northwest corner of Section 4 in Township 6 North and Range 14 West); then west along the Township line common to Township 7 North and Township 6 North; then north along the range line common to Range 15 West and Range 16 West to the southeast corner of Section 13, Township 7 North and Range 16 West; then along the south boundaries of Sections 13, 14, 15, 16, 17 and 18, Township 7 North and Range 16 West; then north along the range line common to Range 16 West and Range 17 West to the north boundary of the Angeles National Forest (collinear with the Township line common to Township 8 North and Township 7 North); then west and north along the Angeles National Forest boundary to the point of intersection with the south boundary of the Rancho La Liebre Land Grant; then west and north along this land grant boundary to the Los Angeles-Kern County boundary.
Orange County |  | Nonattainment |  | Moderate.
Riverside County (part) |  | Nonattainment |  | Moderate.
That portion of Riverside County which lies to the west of a line described as follows: Beginning at the Riverside-San Diego County boundary and running north along the range line common to Range 4 East and Range 3 East, San Bernardino Base and Meridian; then east along the Township line common to Township 8 South and Township 7 South; then north along the range line common to Range 5 East and Range 4 East; then west along the Township line common to Township 6 South and Township 7 South to the southwest corner of Section 34, Township 6 South, Range 4 East; then north along the west boundaries of Sections 34, 27, 22, 15, 10, and 3, Township 6 South, Range 4 East; then west along the Township line common to Township 5 South and Township 6 South; then north along the range line common to Range 4 East and Range 3 East; then west along the south boundaries of Sections 13, 14, 15, 16, 17, and 18, Township 5 South, Range 3 East; then north along the range line common to Range 2 East and Range 3 East; to the Riverside-San Bernardino County Line (excluding the lands of the Santa Rosa Band of Cahuilla Mission Indians).
That part of the lands of the Santa Rosa Band of Cahuilla Mission Indians which is excluded from the Riverside County (part) nonattainment area |  | Unclassifiable/Attainment
San Bernardino County (part) |  | Nonattainment |  | Moderate.
That portion of San Bernardino County which lies south and west of a line described as follows: Beginning at the San Bernardino-Riverside County boundary and running north along the range line common to Range 3 East and Range 2 East, San Bernardino Base and Meridian; then west along the Township line common to Township 3 North and Township 2 North to the San Bernardino-Los Angeles County boundary.
Sacramento, CA:
El Dorado County (part) |  | Nonattainment |  | Moderate.
That portion of El Dorado County which lies west of the line described as follows: (Mount Diablo Base and Meridian) Beginning at the intersection of El Dorado-Amador county line and the township line common to townships T8N R10E and T8N R11E, then north along the range line common to ranges R10E and R11E, then east along the township line common to T9N and T8N, then north along the range line common to ranges R12E and R13E, then west along the township line common to T12N and T11N, then north along the range line common to ranges R10E and R11E, then west along the township line common to T13N and T12N, then north along the range line common to ranges R9E and R10E, to the El Dorado-Placer County boundary.
Placer County (part) |  | Nonattainment |  | Moderate.
That portion of Placer County which lies west of the line described as follows: (Mount Diablo Base and Meridian) Beginning at the intersection of the Placer-El Dorado County line and the township line common to townships T12N R9E and T13N R9E, then running west along the township line common to townships T12N R9E and T13N R9E, then north along the range line common to ranges R8E and R9E, to the Placer-Nevada County boundary.
Sacramento County |  | Nonattainment |  | Moderate.
Solano County (part) |  | Nonattainment |  | Moderate.
That portion of Solano County which lies north and east of a line described as follows: beginning at the intersection of the westerly boundary of Solano County and the 1/4 section line running east and west through the center of Section 34; Township 6 North, Range 2 West, Mount Diablo Base and Meridian, thence east along said 1/4 section line to the east boundary of Section 36, Township 6 North, Range 2 West, thence south 1/2 mile and east 2.0 miles, more or less, along the west and south boundary of Los Putos Rancho to the northwest corner of Section 4, Township 5 North, Range 1 West, thence east along a line common to Township 5 North and Township 6 North to the northeast corner of Section 3, Township 5 North, Range 1 East, thence south along section lines to the southeast corner of Section 10, Township 3 North, Range 1 East, thence east along section lines to the south 1/4 corner of Section 8, Township 3 North, Range 2 East, thence east to the boundary between Solano and Sacramento Counties.
Yolo County (part) |  | Nonattainment |  | Moderate.
That portion of Yolo County which lies east of the line described as follows: (Mount Diablo Base and Meridian) Beginning at the intersection of Yolo-Solano County boundary and the range line of the eastern edge of township T8N R2W, north along the range line of the eastern edge of township T8N R2W, continuing north along the range line common to ranges R2W and R1W, to the Yolo-Colusa County boundary.
San Francisco Bay Area, CA:
Alameda County |  | Nonattainment |  | Moderate.
Contra Costa County |  | Nonattainment |  | Moderate.
Marin County |  | Nonattainment |  | Moderate.
Napa County |  | Nonattainment |  | Moderate.
San Francisco County |  | Nonattainment |  | Moderate.
San Mateo County |  | Nonattainment |  | Moderate.
Santa Clara County |  | Nonattainment |  | Moderate.
Solano County (part) |  | Nonattainment |  | Moderate.
That portion of Solano County which lies south and west of a line described as follows: Beginning at the intersection of the westerly boundary of Solano County and the 1/4 section line running east and west through the center of Section 34, Township 6 North, Range 2 West, Mount Diablo Base and Meridian, thence east along said 1/4 section line to the east boundary of Section 36, Township 6 North, Range 2 West, thence south 1/2 mile and east 2.0 miles, more or less, along the west and south boundary of Los Putos Rancho to the northwest corner of Section 4, Township 5 North, Range 1 West thence east along a line common to T5N and T6N to the northeast corner of Section 3, T5N, R1E, thence south along section lines to the southeast corner of Section 10, T3N, R1E, thence east along section lines to the south 1/4 corner of Section 8, T3N, R2E, thence east to the boundary between Solano and Sacramento Counties.
Sonoma County (part) |  | Nonattainment |  | Moderate.
That portion of Sonoma County which lies south and east of a line described as follows: Beginning at the southeasterly corner of the Rancho Estero Americano, being on the boundary line between Marin and Sonoma Counties, California; thence running northerly along the easterly boundary line of said Rancho Estero Americano to the northeasterly corner thereof, being an angle corner in the westerly boundary line of Rancho Canada de Jonive; thence running along said boundary of Rancho Canada de Jonive westerly, northerly and easterly to its intersection with the easterly line of Graton Road; thence running along the easterly and southerly line of Graton Road, northerly and easterly to its intersection with the easterly line of Sullivan Road; thence running northerly along said easterly line of Sullivan Road to the southerly line of Green Valley Road; thence running easterly along the said southerly line of Green Valley Road and easterly along the southerly line of State Highway 116, to the westerly line of Vine Hill Road; thence running along the westerly and northerly line of Vine Hill Road, northerly and easterly to its intersection with the westerly line of Laguna Road; thence running northerly along the westerly line of Laguna Road and the northerly projection thereof to the northerly line of Trenton Road; thence running westerly along the northerly line of said Trenton Road to the easterly line of Trenton-Healdsburg Road; thence running northerly along said easterly line of Trenton-Healdsburg Road to the easterly line of Eastside Road; thence running northerly along said easterly line of Eastside Road to its intersection with the southerly line of Rancho Sotoyome; thence running easterly along said southerly line of Rancho Sotoyome to its intersection with the Township line common to Townships 8 and 9 North, M.D.M.; thence running easterly along said township line to its intersection with the boundary line between Sonoma and Napa Counties.
San Joaquin Valley, CA:
Fresno County |  | Nonattainment |  | Moderate.
Kern County (part) |  | Nonattainment |  | Moderate.
That portion of Kern County which lies west and north of a line described as follows: Beginning at the Kern-Los Angeles County boundary and running north and east along the northwest boundary of the Rancho La Liebre Land Grant to the point of intersection with the range line common to R. 16 W. and R. 17 W., San Bernardino Base and Meridian; north along the range line to the point of intersection with the Rancho El Tejon Land Grant boundary; then southeast, northeast, and northwest along the boundary of the Rancho El Tejon Land Grant to the northwest corner of Sec. 3, T11N, R17W; then west 1.2 miles; then north to the Rancho El Tejon Land Grant boundary; then northwest along the Rancho El Tejon line to the southeast corner of Sec. 34, T32S, R30E Mount Diablo Base And Meridian; then north to the northwest corner of Sec. 35, T31S, R30E; then Northeast along the boundary of the Rancho El Tejon Land Grant to the southwest corner of Sec. 18, T. 31 S., R. 31 E.; then east to the southeast corner of Sec. 13, T. 31 S., R. 31 E.; then north along the range line common to R. 31 E. and R. 32 E., Mount Diablo Base and Meridian, to the northwest corner of Sec. 6, T. 29 S., R. 32 E.; then east to the southwest corner of Sec. 31, T. 28 S., R. 32 E.; then north along the range line common to R. 31 E. and R. 32 E. to the northwest corner of Sec. 6, T. 28 S., R. 32 E., then west to the southeast corner of Sec. 36, T. 27 S., R. 31 E., then north along the range line common to R. 31 E. and R. 32 E. to the Kern-Tulare County boundary.
Kings County |  | Nonattainment |  | Moderate.
Madera County |  | Nonattainment |  | Moderate.
Merced County |  | Nonattainment |  | Moderate.
San Joaquin County |  | Nonattainment |  | Moderate.
Stanislaus County |  | Nonattainment |  | Moderate.
Tulare County |  | Nonattainment |  | Moderate.
Yuba City-Marysville, CA:
Sutter County |  | Nonattainment |  | Moderate.
Yuba County (part) |  | Nonattainment |  | Moderate.
That portion of Yuba County which lies west of the line described as follows: (Mount Diablo Base and Meridian) Beginning at the intersection of the Yuba-Nevada county line and the range line common to ranges R7E and R8E, north to the southeast corner of township T18N R7E, then west along the township line common to T17N and T18N, then north along the range line common to ranges R6E and R7E, then west along the township line common to T19N and T18N to the Yuba-Butte County boundary.
Rest of State:
North Coast Air Basin:
Del Norte County |  | Unclassifiable/Attainment
Humboldt County |  | Unclassifiable/Attainment
Mendocino County |  | Unclassifiable/Attainment
Sonoma County (part) |  | Unclassifiable/Attainment
That portion of Sonoma County which lies north and west of a line described as follows: Beginning at the southeasterly corner of the Rancho Estero Americano, being on the boundary line between Marin and Sonoma Counties, California; thence running northerly along the easterly boundary line of said Rancho Estero Americano to the northeasterly corner thereof, being an angle corner in the westerly boundary line of Rancho Canada de Jonive, thence running along said boundary of Rancho Canada de Jonive westerly; northerly and easterly to its intersection with the easterly line of Graton Road; thence running along the easterly and southerly line of Graton Road northerly and easterly to its intersection with the easterly line of Sullivan Road; thence running northerly along said easterly line of Sullivan Road to the southerly line of Green Valley Road; thence running easterly along the said southerly line of Green Valley Road and easterly along the southerly line of State Highway 116, to the westerly and northerly line of Vine Hill Road; thence running along the westerly and northerly line of Vine Hill Road, northerly and easterly to its intersection with the westerly line of Laguna Road; thence running northerly along the westerly line of Laguna Road and the northerly projection thereof to the northerly line of Trenton Road; thence running westerly along the northerly line of said Trenton Road to the easterly line of Trenton-Healdsburg Road to the easterly line of Eastside Road: thence running northerly along said easterly line of Eastside Road to its intersection with the southerly line of Rancho Sotoyome; thence running easterly along said southerly line of Rancho Sotoyome to its intersection with the Township line common to Townships 8 and 9 north, Mt. Diablo Base and Meridian; thence running easterly along said Township line to its intersection with the boundary line between Sonoma and Napa Counties, State of California.
Trinity County |  | Unclassifiable/Attainment
Northeast Plateau Air Basin:
Lassen County |  | Unclassifiable/Attainment
Modoc County |  | Unclassifiable/Attainment
Siskiyou County |  | Unclassifiable/Attainment
Lake County Air Basin:
Lake County |  | Unclassifiable/Attainment
Upper Sacramento Valley Region:
Butte County (remainder) |  | Unclassifiable/Attainment
Colusa County |  | Unclassifiable/Attainment
Glenn County |  | Unclassifiable/Attainment
Shasta County |  | Unclassifiable/Attainment
Tehama County |  | Unclassifiable/Attainment
Yuba County (remainder) |  | Unclassifiable/Attainment
Sacramento Metropolitan Region:
Yolo County (remainder) |  | Unclassifiable/Attainment
Northern Mountain Counties:
Nevada County |  | Unclassifiable/Attainment
Plumas County |  | Unclassifiable/Attainment
Sierra County |  | Unclassifiable/Attainment
Central Mountain Counties:
Amador County |  | Unclassifiable/Attainment
Calaveras County |  | Unclassifiable/Attainment
Southern Mountain Counties:
Mariposa County |  | Unclassifiable/Attainment
Tuolumne County |  | Unclassifiable/Attainment
Lake Tahoe Air Basin:
El Dorado County (remainder) |  | Unclassifiable/Attainment
Placer County (remainder) |  | Unclassifiable/Attainment
North Central Coast Air Basin:
Monterey County |  | Unclassifiable/Attainment
San Benito County |  | Unclassifiable/Attainment
Santa Cruz County |  | Unclassifiable/Attainment
San Luis Obispo County:
San Luis Obispo County |  | Unclassifiable/Attainment
Santa Barbara County:
Santa Barbara County (part) |  | Unclassifiable/Attainment
Excluding San Miguel, Santa Rosa, Santa Cruz, and Santa Barbara Islands
Santa Barbara County (part) |  | Unclassifiable/Attainment
San Miguel, Santa Rosa, Santa Cruz, and Santa Barbara Islands
Ventura County:
Ventura County (part) |  | Unclassifiable/Attainment
Excluding Anacapa and San Nicolas Islands.
Ventura County (part) |  | Unclassifiable/Attainment
Anacapa and San Nicolas Islands.
Great Basin Valleys Air Basin:
Alpine County |  | Unclassifiable/Attainment
Inyo County (part) |  | Unclassifiable/Attainment
That portion of Inyo County that Lies outside Hydrologic Unit Number 18090205.
Mono County |  | Unclassifiable/Attainment
Coso Junction:
Inyo County (part) |  | Unclassifiable/Attainment
That portion of Inyo County that lies inside Hydrologic Unit Number 18090205.
Eastern Kern County:
Kern County (part) |  | Unclassifiable/Attainment
That portion of Kern County (with the exception of that portion in Hydrologic Unit Number 18090205—the Indian Wells Valley) east and south of a line described as follows: Beginning at the Kern-Los Angeles County boundary and running north and east along the northwest boundary of the Rancho La Liebre Land Grant to the point of intersection with the range line common to Range 16 West and Range 17 West, San Bernardino Base and Meridian; north along the range line to the point of intersection with the Rancho El Tejon Land Grant boundary; then southeast, northeast, and northwest along the boundary of the Rancho El Tejon Grant to the northwest corner of Section 3, Township 11 North, Range 17 West; then west 1.2 miles; then north to the Rancho El Tejon Land Grant boundary; Then northwest Along the Rancho El Tejon line to the southeast corner of Section 34, Township 32 South, Range 30 East, Mount Diablo Base and Meridian; then north to the northwest corner of Section 35, Township 31 South, Range 30 East; then northeast along the boundary of the Rancho El Tejon Land Grant to the southwest corner of Section 18, Township 31 South, Range 31 East; then east to the southeast corner of Section 13, Township 31 South, Range 31 East; then north along the range line common to Range 31 East and Range 32 East, Mount Diablo Base and Meridian, to the northwest corner of Section 6, Township 29 South, Range 32 East; then east to the southwest corner of Section 31, Township 28 South, Range 32 East; then north along the range line common to Range 31 East and Range 32 East to the northwest corner of Section 6, Township 28 South, Range 32 East, then west to the southeast corner of Section 36, Township 27 South, Range 31 East, then north along the range line common to Range 31 East and Range 32 East to the Kern-Tulare County boundary.
Indian Wells Valley:
Kern County (part) |  | Unclassifiable/Attainment
That portion of Kern County that lies inside Hydrologic Unit Number 18090205.
Western Mojave Desert and Antelope Valley:
Los Angeles County (part) |  | Unclassifiable/Attainment
That portion of Los Angeles County which lies north and east of a line described as follows: Beginning at the Los Angeles-San Bernardino County boundary and running west along the Township line common to Township 3 North and Township 2 North, San Bernardino Base and Meridian; then north along the range line common to Range 8 West and Range 9 West; then west along the Township line common to Township 4 North and Township 3 North; then north along the range line common to Range 12 West and Range 13 West to the southeast corner of Section 12, Township 5 North and Range 13 West; then west along the south boundaries of Sections 12, 11, 10, 9, 8, and 7, Township 5 North and Range 13 West to the boundary of the Angeles National Forest which is collinear with the range line common to Range 13 West and Range 14 West; then north and west along the Angeles National Forest boundary to the point of intersection with the Township line common to Township 7 North and Township 6 North (point is at the northwest corner of Section 4 in Township 6 North and Range 14 West); then west along the Township line common to Township 7 North and Township 6 North; then north along the range line common to Range 15 West and Range 16 West to the southeast corner of Section 13, Township 7 North and Range 16 West; then along the south boundaries of Sections 13, 14, 15, 16, 17, and 18, Township 7 North and Range 16 West; then north along the range line common to Range 16 West and Range 17 West to the north boundary of the Angeles National Forest (collinear with the Township line common to Township 8 North and Township 7 North); then west and north along the Angeles National Forest boundary to the point of intersection with the south boundary of the Rancho La Liebre Land Grant; then west and north along this land grant boundary to the Los Angeles-Kern County boundary.
San Bernardino County (part) |  | Unclassifiable/Attainment
That portion of San Bernardino County (with the exception of that portion in Hydrologic Unit Number 18090205) which lies north and east of a line described as follows: Beginning at the San Bernardino-Riverside County boundary and running north along the range line common to Range 3 East and Range 2 East, San Bernardino Base and Meridian; then west along the Township line common to Township 3 North and Township 2 North to the San Bernardino-Los Angeles County boundary; And that portion of San Bernardino County which lies south and west of a line described as follows: latitude 35 degrees, 10 minutes north and longitude 115 degrees, 45 minutes west.
Trona:
San Bernardino County (part) |  | Unclassifiable/Attainment
That portion of San Bernardino County that lies inside Hydrologic Unit Number 18090205.
Coachella Valley:
Riverside County (part) |  | Unclassifiable/Attainment
That portion of Riverside County which lies to the east of a line described as follows: Beginning at the Riverside-San Diego County boundary and running north along the range line common to Range 4 East and Range 3 East, San Bernardino Base and Meridian; then east along the Township line common to Township 8 South and Township 7 South; then north along the range line common to Range 5 East and Range 4 East; then west along the Township line common to Township 6 South and Township 7 South to the southwest corner of Section 34, Township 6 South, Range 4 East; then north along the west boundaries of Sections 34, 27, 22, 15, 10, and 3, Township 6 South, Range 4 East; then west along the Township line common to Township 5 South and Township 6 South; then north along the range line common to Range 4 East and Range 3 East; then west along the south boundaries of Sections 13, 14, 15, 16, 17, and 18, Township 5 South, Range 3 East; then North along the range line common to Range 2 East and Range 3 East; to the Riverside-San Bernardino County line: And that portion of Riverside County which lies to the west of a line described as follows: That segment of the southwestern boundary line of Hydrologic Unit Number 18100100 within Riverside County, further described as follows: Beginning at the Riverside-Imperial County boundary and running north along the range line common to Range 17 East and Range 16 East, San Bernardino Base and Meridian; then northwest along the ridge line of the Chuckwalla Mountains, through Township 8 South, Range 16 East and Township 7 South, Range 16 East, until the Black Butte Mountain, Elevation 45"05"′; then west and northwest along the ridge line to the southwest corner of Township 5 South, Range 14 East; then north along the range line common to Range 14 East and Range 13 East; then west and northwest along the ridge line to Monument Mountain, elevation 4834′; then southwest and then northwest along the ridge line of the Little San Bernardino Mountains to Quail Mountain, elev. 5814′; then northwest along the ridge line to the Riverside-San Bernardino County line.
Far Eastern Riverside and San Bernardino Counties:
San Bernardino County (remainder) |  | Unclassifiable/Attainment
Riverside County (remainder) |  | Unclassifiable/Attainment
Imperial County (remainder) |  | Unclassifiable Attainment
San Diego County |  | Unclassifiable/Attainment
ᵃ Includes Indian Country located in each county or area, except as otherwise specified.
¹ This date is 30 days after November 13, 2009, unless otherwise noted.
² This date is July 2, 2014, unless otherwise noted.

* * * * *

7. Section 81.306 is amended as follows:

a. By removing the tables titled “Colorado—PM2.5 (Annual NAAQS)” and “Colorado—PM2.5 [24-hour NAAQS]”.

b. By adding three tables titled “Colorado—1997 Annual PM2.5 NAAQS (Primary and Secondary)” and “Colorado—1997 24-hour PM2.5 NAAQS (Primary and Secondary)” and “Colorado—2006 24-hour PM2.5 NAAQS (Primary and Secondary)” before the table titled “Colorado—NO2 (1971 Annual Standard)”.

The additions read as follows:

§ 81.306 Colorado.

* * * * *

Colorado—1997 Annual PM2.5 NAAQS
[Primary and secondary]
Designated area | Designation ᵃ: Date ¹ | Designation ᵃ: Type | Classification: Date | Classification: Type
Denver-Boulder Area:
Adams County (part) West of Kiowa Creek |  | Unclassifiable/Attainment
Arapahoe County (part) West of Kiowa Creek |  | Unclassifiable/Attainment
Boulder County (part) Excluding Rocky Mountain National Park |  | Unclassifiable/Attainment
Broomfield County |  | Unclassifiable/Attainment
Denver County |  | Unclassifiable/Attainment
Douglas County |  | Unclassifiable/Attainment
Jefferson County |  | Unclassifiable/Attainment
State AQCR 01:
Logan County |  | Unclassifiable/Attainment
Morgan County |  | Unclassifiable/Attainment
Phillips County |  | Unclassifiable/Attainment
Sedgwick County |  | Unclassifiable/Attainment
Washington County |  | Unclassifiable/Attainment
Yuma County |  | Unclassifiable/Attainment
State AQCR 02:
Larimer County |  | Unclassifiable/Attainment
Weld County |  | Unclassifiable/Attainment
State AQCR 03 (remainder of):
Adams County (remainder) |  | Unclassifiable/Attainment
Arapahoe County (remainder) |  | Unclassifiable/Attainment
Boulder County (remainder) |  | Unclassifiable/Attainment
Clear Creek County |  | Unclassifiable/Attainment
Gilpin County |  | Unclassifiable/Attainment
State AQCR 04:
El Paso County |  | Unclassifiable/Attainment
Park County |  | Unclassifiable/Attainment
Teller County |  | Unclassifiable/Attainment
State AQCR 05:
Cheyenne County |  | Unclassifiable/Attainment
Elbert County |  | Unclassifiable/Attainment
Kit Carson County |  | Unclassifiable/Attainment
Lincoln County |  | Unclassifiable/Attainment
State AQCR 06:
Baca County |  | Unclassifiable/Attainment
Bent County |  | Unclassifiable/Attainment
Crowley County |  | Unclassifiable/Attainment
Kiowa County |  | Unclassifiable/Attainment
Otero County |  | Unclassifiable/Attainment
Prowers County |  | Unclassifiable/Attainment
State AQCR 07:
Huerfano County |  | Unclassifiable/Attainment
Las Animas County |  | Unclassifiable/Attainment
Pueblo County |  | Unclassifiable/Attainment
State AQCR 08:
Alamosa County |  | Unclassifiable/Attainment
Conejos County |  | Unclassifiable/Attainment
Costilla County |  | Unclassifiable/Attainment
Mineral County |  | Unclassifiable/Attainment
Rio Grande County |  | Unclassifiable/Attainment
Saguache County |  | Unclassifiable/Attainment
State AQCR 09:
Archuleta County |  | Unclassifiable/Attainment
Dolores County |  | Unclassifiable/Attainment
La Plata County |  | Unclassifiable/Attainment
Montezuma County |  | Unclassifiable/Attainment
San Juan County |  | Unclassifiable/Attainment
State AQCR 10:
Delta County |  | Unclassifiable/Attainment
Gunnison County |  | Unclassifiable/Attainment
Hinsdale County |  | Unclassifiable/Attainment
Montrose County |  | Unclassifiable/Attainment
Ouray County |  | Unclassifiable/Attainment
San Miguel County |  | Unclassifiable/Attainment
State AQCR 11:
Garfield County |  | Unclassifiable/Attainment
Mesa County |  | Unclassifiable/Attainment
Moffat County |  | Unclassifiable/Attainment
Rio Blanco County |  | Unclassifiable/Attainment
State AQCR 12:
Eagle County |  | Unclassifiable/Attainment
Grand County |  | Unclassifiable/Attainment
Jackson County |  | Unclassifiable/Attainment
Pitkin County |  | Unclassifiable/Attainment
Routt County |  | Unclassifiable/Attainment
Summit County |  | Unclassifiable/Attainment
State AQCR 13:
Chaffee County |  | Unclassifiable/Attainment
Custer County |  | Unclassifiable/Attainment
Fremont County |  | Unclassifiable/Attainment
Lake County |  | Unclassifiable/Attainment
ᵃ Includes Indian Country located in each county or area, except as otherwise specified.
¹This date is 90 days after January 5, 2005, unless otherwise noted.

Colorado—1997 24-Hour PM2.5 NAAQS
[Primary and secondary]
Designated area | Designation ᵃ: Date ¹ | Designation ᵃ: Type | Classification: Date | Classification: Type
Denver-Boulder Area:
Adams County (part) West of Kiowa Creek |  | Unclassifiable/Attainment
Arapahoe County (part) West of Kiowa Creek |  | Unclassifiable/Attainment
Boulder County (part) Excluding Rocky Mountain National Park |  | Unclassifiable/Attainment
Broomfield County |  | Unclassifiable/Attainment
Denver County |  | Unclassifiable/Attainment
Douglas County |  | Unclassifiable/Attainment
Jefferson County |  | Unclassifiable/Attainment
State AQCR 01:
Logan County |  | Unclassifiable/Attainment
Morgan County |  | Unclassifiable/Attainment
Phillips County |  | Unclassifiable/Attainment
Sedgwick County |  | Unclassifiable/Attainment
Washington County |  | Unclassifiable/Attainment
Yuma County |  | Unclassifiable/Attainment
State AQCR 02:
Larimer County |  | Unclassifiable/Attainment
Weld County |  | Unclassifiable/Attainment
State AQCR 03 (remainder of):
Adams County (remainder) |  | Unclassifiable/Attainment
Arapahoe County (remainder) |  | Unclassifiable/Attainment
Boulder County (remainder) |  | Unclassifiable/Attainment
Clear Creek County |  | Unclassifiable/Attainment
Gilpin County |  | Unclassifiable/Attainment
State AQCR 04:
El Paso County |  | Unclassifiable/Attainment
Park County |  | Unclassifiable/Attainment
Teller County |  | Unclassifiable/Attainment
State AQCR 05:
Cheyenne County |  | Unclassifiable/Attainment
Elbert County |  | Unclassifiable/Attainment
Kit Carson County |  | Unclassifiable/Attainment
Lincoln County |  | Unclassifiable/Attainment
State AQCR 06:
Baca County |  | Unclassifiable/Attainment
Bent County |  | Unclassifiable/Attainment
Crowley County |  | Unclassifiable/Attainment
Kiowa County |  | Unclassifiable/Attainment
Otero County |  | Unclassifiable/Attainment
Prowers County |  | Unclassifiable/Attainment
State AQCR 07:
Huerfano County |  | Unclassifiable/Attainment
Las Animas County |  | Unclassifiable/Attainment
Pueblo County |  | Unclassifiable/Attainment
State AQCR 08:
Alamosa County |  | Unclassifiable/Attainment
Conejos County |  | Unclassifiable/Attainment
Costilla County |  | Unclassifiable/Attainment
Mineral County |  | Unclassifiable/Attainment
Rio Grande County |  | Unclassifiable/Attainment
Saguache County |  | Unclassifiable/Attainment
State AQCR 09:
Archuleta County |  | Unclassifiable/Attainment
Dolores County |  | Unclassifiable/Attainment
La Plata County |  | Unclassifiable/Attainment
Montezuma County |  | Unclassifiable/Attainment
San Juan County |  | Unclassifiable/Attainment
State AQCR 10:
Delta County |  | Unclassifiable/Attainment
Gunnison County |  | Unclassifiable/Attainment
Hinsdale County |  | Unclassifiable/Attainment
Montrose County |  | Unclassifiable/Attainment
Ouray County |  | Unclassifiable/Attainment
San Miguel County |  | Unclassifiable/Attainment
State AQCR 11:
Garfield County |  | Unclassifiable/Attainment
Mesa County |  | Unclassifiable/Attainment
Moffat County |  | Unclassifiable/Attainment
Rio Blanco County |  | Unclassifiable/Attainment
State AQCR 12:
Eagle County |  | Unclassifiable/Attainment
Grand County |  | Unclassifiable/Attainment
Jackson County |  | Unclassifiable/Attainment
Pitkin County |  | Unclassifiable/Attainment
Routt County |  | Unclassifiable/Attainment
Summit County |  | Unclassifiable/Attainment
State AQCR 13:
Chaffee County |  | Unclassifiable/Attainment
Custer County |  | Unclassifiable/Attainment
Fremont County |  | Unclassifiable/Attainment
Lake County |  | Unclassifiable/Attainment
ᵃ Includes Indian Country located in each county or area, except as otherwise specified.
¹This date is 90 days after January 5, 2005, unless otherwise noted.

Colorado—2006 24-Hour PM2.5 NAAQS
[Primary and secondary]
Designated area | Designation ᵃ: Date ¹ | Designation ᵃ: Type | Classification: Date | Classification: Type
Denver-Boulder Area:
Adams County (part) West of Kiowa Creek |  | Unclassifiable/Attainment.
Arapahoe County (part) West of Kiowa Creek |  | Unclassifiable/Attainment.
Boulder County (part) Excluding Rocky Mountain National Park |  | Unclassifiable/Attainment.
Broomfield County |  | Unclassifiable/Attainment.
Denver County |  | Unclassifiable/Attainment.
Douglas County |  | Unclassifiable/Attainment.
Jefferson County |  | Unclassifiable/Attainment.
State AQCR 01:
Logan County |  | Unclassifiable/Attainment.
Morgan County |  | Unclassifiable/Attainment.
Phillips County |  | Unclassifiable/Attainment.
Sedgwick County |  | Unclassifiable/Attainment.
Washington County |  | Unclassifiable/Attainment.
Yuma County |  | Unclassifiable/Attainment.
State AQCR 02:
Larimer County |  | Unclassifiable/Attainment.
Weld County |  | Unclassifiable/Attainment.
State AQCR 03 (remainder of):
Adams County (remainder) |  | Unclassifiable/Attainment.
Arapahoe County (remainder) |  | Unclassifiable/Attainment.
Boulder County (remainder) |  | Unclassifiable/Attainment.
Clear Creek County |  | Unclassifiable/Attainment.
Gilpin County |  | Unclassifiable/Attainment.
State AQCR 04:
El Paso County |  | Unclassifiable/Attainment.
Park County |  | Unclassifiable/Attainment.
Teller County |  | Unclassifiable/Attainment.
State AQCR 05:
Cheyenne County |  | Unclassifiable/Attainment.
Elbert County |  | Unclassifiable/Attainment.
Kit Carson County |  | Unclassifiable/Attainment.
Lincoln County |  | Unclassifiable/Attainment.
State AQCR 06:
Baca County |  | Unclassifiable/Attainment.
Bent County |  | Unclassifiable/Attainment.
Crowley County |  | Unclassifiable/Attainment.
Kiowa County |  | Unclassifiable/Attainment.
Otero County |  | Unclassifiable/Attainment.
Prowers County |  | Unclassifiable/Attainment.
State AQCR 07:
Huerfano County |  | Unclassifiable/Attainment.
Las Animas County |  | Unclassifiable/Attainment.
Pueblo County |  | Unclassifiable/Attainment.
State AQCR 08:
Alamosa County |  | Unclassifiable/Attainment.
Conejos County |  | Unclassifiable/Attainment.
Costilla County |  | Unclassifiable/Attainment.
Mineral County |  | Unclassifiable/Attainment.
Rio Grande County |  | Unclassifiable/Attainment.
Saguache County |  | Unclassifiable/Attainment.
State AQCR 09:
Archuleta County |  | Unclassifiable/Attainment.
Dolores County |  | Unclassifiable/Attainment.
La Plata County |  | Unclassifiable/Attainment.
Montezuma County |  | Unclassifiable/Attainment.
San Juan County |  | Unclassifiable/Attainment.
State AQCR 10:
Delta County |  | Unclassifiable/Attainment.
Gunnison County |  | Unclassifiable/Attainment.
Hinsdale County |  | Unclassifiable/Attainment.
Montrose County |  | Unclassifiable/Attainment.
Ouray County |  | Unclassifiable/Attainment.
San Miguel County |  | Unclassifiable/Attainment.
State AQCR 11:
Garfield County |  | Unclassifiable/Attainment.
Mesa County |  | Unclassifiable/Attainment.
Moffat County |  | Unclassifiable/Attainment.
Rio Blanco County |  | Unclassifiable/Attainment.
State AQCR 12:
Eagle County |  | Unclassifiable/Attainment.
Grand County |  | Unclassifiable/Attainment.
Jackson County |  | Unclassifiable/Attainment.
Pitkin County |  | Unclassifiable/Attainment.
Routt County |  | Unclassifiable/Attainment.
Summit County |  | Unclassifiable/Attainment.
State AQCR 13:
Chaffee County |  | Unclassifiable/Attainment.
Custer County |  | Unclassifiable/Attainment.
Fremont County |  | Unclassifiable/Attainment.
Lake County |  | Unclassifiable/Attainment.
ᵃ Includes Indian Country located in each county or area, except as otherwise specified.
¹ This date is 30 days after November 13, 2009, unless otherwise noted.

* * * * *

8. Section 81.307 is amended as follows:

a. By removing the tables titled “Connecticut—PM2.5 (Annual NAAQS)” and “Connecticut—PM2.5 [24-hour NAAQS]”.

b. By adding three tables titled “Connecticut—1997 Annual PM2.5 NAAQS (Primary and Secondary)” and “Connecticut—1997 24-hour PM2.5 NAAQS (Primary and Secondary)” and “Connecticut—2006 24-hour PM2.5 NAAQS (Primary and Secondary)” before the table titled “Connecticut—NO2 (1971 Annual Standard)”.

The additions read as follows:

§ 81.307 Connecticut.

* * * * *

Connecticut—1997 Annual PM2.5 NAAQS
[Primary and secondary]
Designated area | Designationᵃ: Date¹ | Designationᵃ: Type | Classification: Date | Classification: Type
New York-N. New Jersey-Long Island, NY-NJ-CT:
Fairfield County | 10/24/13 | Attainment.
New Haven County | 10/24/13 | Attainment.
Rest of State:
Hartford County |  | Unclassifiable/Attainment.
Litchfield County |  | Unclassifiable/Attainment.
Middlesex County |  | Unclassifiable/Attainment.
New London County |  | Unclassifiable/Attainment.
Tolland County |  | Unclassifiable/Attainment.
Windham County |  | Unclassifiable/Attainment.
ᵃ Includes Indian Country located in each county or area, except as otherwise specified.
¹ This date is 90 days after January 5, 2005, unless otherwise noted.

Connecticut—1997 24-Hour PM2.5 NAAQS
[Primary and secondary]
Designated area | Designationᵃ: Date¹ | Designationᵃ: Type | Classification: Date | Classification: Type
New York-N. New Jersey-Long Island, NY-NJ-CT:
Fairfield County |  | Unclassifiable/Attainment
New Haven County |  | Unclassifiable/Attainment
Rest of State:
Hartford County |  | Unclassifiable/Attainment
Litchfield County |  | Unclassifiable/Attainment
Middlesex County |  | Unclassifiable/Attainment
New London County |  | Unclassifiable/Attainment
Tolland County |  | Unclassifiable/Attainment
Windham County |  | Unclassifiable/Attainment
ᵃ Includes Indian Country located in each county or area, except as otherwise specified.
¹ This date is 90 days after January 5, 2005, unless otherwise noted

Connecticut—2006 24-Hour PM2.5 NAAQS
[Primary and secondary]
Designated area | Designationᵃ: Date¹ | Designationᵃ: Type | Classification: Date | Classification: Type
New York-N. New Jersey-Long Island, NY-NJ-CT:
Fairfield County | 10/24/13 | Attainment.
New Haven County | 10/24/13 | Attainment.
Rest of State:
Hartford County |  | Unclassifiable/Attainment
Litchfield County |  | Unclassifiable/Attainment
Middlesex County |  | Unclassifiable/Attainment
New London County |  | Unclassifiable/Attainment
Tolland County |  | Unclassifiable/Attainment
Windham County |  | Unclassifiable/Attainment
ᵃ Includes Indian Country located in each county or area, except as otherwise specified.
¹ This date is 30 days after November 13, 2009, unless otherwise noted.

* * * * *

9. Section 81.308 is amended as follows:

a. By removing the tables titled “Delaware—PM2.5 (Annual NAAQS)” and “Delaware—PM2.5 [24-hour NAAQS]”.

b. By adding three tables titled “Delaware—1997 Annual PM2.5 NAAQS (Primary and Secondary)” and “Delaware—1997 24-hour PM2.5 NAAQS (Primary and Secondary)” and “Delaware—2006 24-hour PM2.5 NAAQS (Primary and Secondary)” before the table titled “Delaware—NO2 (1971 Annual Standard)”.

The additions read as follows:

§ 81.308 Delaware.

* * * * *

Delaware—1997 Annual PM2.5 NAAQS
[Primary and secondary]
Designated area | Designationᵃ: Date¹ | Designationᵃ: Type | Classification: Date | Classification: Type
Philadelphia-Wilmington, PA-NJ-DE:
New Castle County |  | Nonattainment |  | Moderate.
Southern Delaware Intrastate AQCR:
Kent County |  | Unclassifiable/Attainment.
Sussex County |  | Unclassifiable/Attainment.
ᵃ Includes Indian Country located in each county or area, except as otherwise specified.
¹ This date is 90 days after January 5, 2005, unless otherwise noted.
² This date is July 2, 2014, unless otherwise noted.

Delaware—1997 24-Hour PM2.5 NAAQS
[Primary and econdary]
Designated area | Designationᵃ: Date¹ | Designationᵃ: Type | Classification: Date | Classification: Type
Philadelphia-Wilmington, PA-NJ-DE:
New Castle County |  | Unclassifiable/Attainment.
Southern Delaware Intrastate AQCR:
Kent County |  | Unclassifiable/Attainment.
Sussex County |  | Unclassifiable/Attainment.
ᵃ Includes Indian Country located in each county or area, except as otherwise specified.
¹ This date is 90 days after January 5, 2005, unless otherwise noted.

Delaware—2006 24-Hour PM2.5 NAAQS
[Primary and secondary]
Designated area | Designationᵃ: Date¹ | Designationᵃ: Type | Classification: Date | Classification: Type
Philadelphia-Wilmington, PA-NJ-DE:
New Castle County |  | Nonattainment |  | Moderate.
Southern Delaware Intrastate AQCR:
Kent County |  | Unclassifiable/Attainment.
Sussex County |  | Unclassifiable/Attainment.
ᵃ Includes Indian Country located in each county or area, except as otherwise specified.
¹ This date is 30 days after November 13, 2009, unless otherwise noted.
² This date is July 2, 2014, unless otherwise noted.

* * * * *

10. Section 81.309 is amended as follows:

a. By removing the tables titled “District of Columbia—PM2.5 (Annual NAAQS)” and “District of Columbia—PM2.5 [24-hour NAAQS]”.

b. By adding three tables titled “District of Columbia—1997 Annual PM2.5 NAAQS (Primary and Secondary)” and “District of Columbia—1997 24-hour PM2.5 NAAQS (Primary and Secondary)” and “District of Columbia—2006 24-hour PM2.5 NAAQS (Primary and Secondary)” before the table titled “District of Columbia—NO2 (1971 Annual Standard)”.

The additions read as follows:

§ 81.309 District of Columbia.

* * * * *

District of Columbia—1997 Annual PM2.5 NAAQS
[Primary and secondary]
Designated area | Designationᵃ: Date¹ | Designationᵃ: Type | Classification: Date | Classification: Type
Washington, DC-MD-VA:
District of Columbia |  | Nonattainment |  | Moderate.
ᵃ Includes Indian Country located in each county or area, except as otherwise specified.
¹ This date is 90 days after January 5, 2005, unless otherwise noted.
² This date is July 2, 2014, unless otherwise noted.

District of Columbia—1997 24-Hour PM2.5 NAAQS
[Primary and secondary]
Designated area | Designationᵃ: Date¹ | Designationᵃ: Type | Classification: Date | Classification: Type
AQCR 047 National Capital Interstate (DC-MD-VA) (part)
District of Columbia |  | Unclassifiable/Attainment.
ᵃ Includes Indian Country located in each county or area, except as otherwise specified.
¹ This date is 90 days after January 5, 2005, unless otherwise noted.

District of Columbia—2006 24-Hour PM2.5 NAAQS
[Primary and secondary]
Designated area | Designationᵃ: Date¹ | Designationᵃ: Type | Classification: Date | Classification: Type
AQCR 047 National Capital Interstate (DC-MD-VA) (part)
District of Columbia |  | Unclassifiable/Attainment.
ᵃ Includes Indian Country located in each county or area, except as otherwise specified.
¹ This date is 30 days after November 13, 2009, unless otherwise noted.

* * * * *

11. Section 81.310 is amended as follows:

a. By removing the tables titled “Florida—PM2.5 (Annual NAAQS)” and “Florida—PM2.5 [24-hour NAAQS]”.

b. By adding three tables titled “Florida—1997 Annual PM2.5 NAAQS (Primary and Secondary)” and “Florida—1997 24-hour PM2.5 NAAQS (Primary and Secondary)” and “Florida—2006 24-hour PM2.5 NAAQS (Primary and Secondary)” before the table titled “Florida—NO2 (1971 Annual Standard)”.

The additions read as follows:

§ 81.310 Florida.

* * * * *

Florida—1997 Annual PM2.5 NAAQS
[Primary and secondary]
Designated area | Designation ᵃ: Date ¹ | Designation ᵃ: Type | Classification: Date | Classification: Type
Statewide:
Alachua County |  | Unclassifiable/Attainment
Baker County |  | Unclassifiable/Attainment
Bay County |  | Unclassifiable/Attainment
Bradford County |  | Unclassifiable/Attainment
Brevard County |  | Unclassifiable/Attainment
Broward County |  | Unclassifiable/Attainment
Calhoun County |  | Unclassifiable/Attainment
Charlotte County |  | Unclassifiable/Attainment
Citrus County |  | Unclassifiable/Attainment
Clay County |  | Unclassifiable/Attainment
Collier County |  | Unclassifiable/Attainment
Columbia County |  | Unclassifiable/Attainment
DeSoto County |  | Unclassifiable/Attainment
Dixie County |  | Unclassifiable/Attainment
Duval County |  | Unclassifiable/Attainment
Escambia County |  | Unclassifiable/Attainment
Flagler County |  | Unclassifiable/Attainment
Franklin County |  | Unclassifiable/Attainment
Gadsden County |  | Unclassifiable/Attainment
Gilchrist County |  | Unclassifiable/Attainment
Glades County |  | Unclassifiable/Attainment
Gulf County |  | Unclassifiable/Attainment
Hamilton County |  | Unclassifiable/Attainment
Hardee County |  | Unclassifiable/Attainment
Hendry County |  | Unclassifiable/Attainment
Hernando County |  | Unclassifiable/Attainment
Highlands County |  | Unclassifiable/Attainment
Hillsborough County |  | Unclassifiable/Attainment
Holmes County |  | Unclassifiable/Attainment
Indian River County |  | Unclassifiable/Attainment
Jackson County |  | Unclassifiable/Attainment
Jefferson County |  | Unclassifiable/Attainment
Lafayette County |  | Unclassifiable/Attainment
Lake County |  | Unclassifiable/Attainment
Lee County |  | Unclassifiable/Attainment
Leon County |  | Unclassifiable/Attainment
Levy County |  | Unclassifiable/Attainment
Liberty County |  | Unclassifiable/Attainment
Madison County |  | Unclassifiable/Attainment
Manatee County |  | Unclassifiable/Attainment
Marion County |  | Unclassifiable/Attainment
Martin County |  | Unclassifiable/Attainment
Miami-Dade County |  | Unclassifiable/Attainment
Monroe County |  | Unclassifiable/Attainment
Nassau County |  | Unclassifiable/Attainment
Okaloosa County |  | Unclassifiable/Attainment
Okeechobee County |  | Unclassifiable/Attainment
Orange County |  | Unclassifiable/Attainment
Osceola County |  | Unclassifiable/Attainment
Palm Beach County |  | Unclassifiable/Attainment
Pasco County |  | Unclassifiable/Attainment
Pinellas County |  | Unclassifiable/Attainment
Polk County |  | Unclassifiable/Attainment
Putnam County |  | Unclassifiable/Attainment
St. Johns County |  | Unclassifiable/Attainment
St. Lucie County |  | Unclassifiable/Attainment
Santa Rosa County |  | Unclassifiable/Attainment
Sarasota County |  | Unclassifiable/Attainment
Seminole County |  | Unclassifiable/Attainment
Sumter County |  | Unclassifiable/Attainment
Suwannee County |  | Unclassifiable/Attainment
Taylor County |  | Unclassifiable/Attainment
Union County |  | Unclassifiable/Attainment
Volusia County |  | Unclassifiable/Attainment
Wakulla County |  | Unclassifiable/Attainment
Walton County |  | Unclassifiable/Attainment
Washington County |  | Unclassifiable/Attainment
ᵃ Includes Indian Country located in each county or area, except as otherwise specified.
¹ This date is 90 days after January 5, 2005, unless otherwise noted.

Florida—1997 24-Hour PM2.5 NAAQS
[Primary and secondary]
Designated area | Designation ᵃ: Date ¹ | Designation ᵃ: Type | Classification: Date | Classification: Type
Statewide:
Alachua County |  | Unclassifiable/Attainment
Baker County |  | Unclassifiable/Attainment
Bay County |  | Unclassifiable/Attainment
Bradford County |  | Unclassifiable/Attainment
Brevard County |  | Unclassifiable/Attainment
Broward County |  | Unclassifiable/Attainment
Calhoun County |  | Unclassifiable/Attainment
Charlotte County |  | Unclassifiable/Attainment
Citrus County |  | Unclassifiable/Attainment
Clay County |  | Unclassifiable/Attainment
Collier County |  | Unclassifiable/Attainment
Columbia County |  | Unclassifiable/Attainment
DeSoto County |  | Unclassifiable/Attainment
Dixie County |  | Unclassifiable/Attainment
Duval County |  | Unclassifiable/Attainment
Escambia County |  | Unclassifiable/Attainment
Flagler County |  | Unclassifiable/Attainment
Franklin County |  | Unclassifiable/Attainment
Gadsden County |  | Unclassifiable/Attainment
Gilchrist County |  | Unclassifiable/Attainment
Glades County |  | Unclassifiable/Attainment
Gulf County |  | Unclassifiable/Attainment
Hamilton County |  | Unclassifiable/Attainment
Hardee County |  | Unclassifiable/Attainment
Hendry County |  | Unclassifiable/Attainment
Hernando County |  | Unclassifiable/Attainment
Highlands County |  | Unclassifiable/Attainment
Hillsborough County |  | Unclassifiable/Attainment
Holmes County |  | Unclassifiable/Attainment
Indian River County |  | Unclassifiable/Attainment
Jackson County |  | Unclassifiable/Attainment
Jefferson County |  | Unclassifiable/Attainment
Lafayette County |  | Unclassifiable/Attainment
Lake County |  | Unclassifiable/Attainment
Lee County |  | Unclassifiable/Attainment
Leon County |  | Unclassifiable/Attainment
Levy County |  | Unclassifiable/Attainment
Liberty County |  | Unclassifiable/Attainment
Madison County |  | Unclassifiable/Attainment
Manatee County |  | Unclassifiable/Attainment
Marion County |  | Unclassifiable/Attainment
Martin County |  | Unclassifiable/Attainment
Miami-Dade County |  | Unclassifiable/Attainment
Monroe County |  | Unclassifiable/Attainment
Nassau County |  | Unclassifiable/Attainment
Okaloosa County |  | Unclassifiable/Attainment
Okeechobee County |  | Unclassifiable/Attainment
Orange County |  | Unclassifiable/Attainment
Osceola County |  | Unclassifiable/Attainment
Palm Beach County |  | Unclassifiable/Attainment
Pasco County |  | Unclassifiable/Attainment
Pinellas County |  | Unclassifiable/Attainment
Polk County |  | Unclassifiable/Attainment
Putnam County |  | Unclassifiable/Attainment
St. Johns County |  | Unclassifiable/Attainment
St. Lucie County |  | Unclassifiable/Attainment
Santa Rosa County |  | Unclassifiable/Attainment
Sarasota County |  | Unclassifiable/Attainment
Seminole County |  | Unclassifiable/Attainment
Sumter County |  | Unclassifiable/Attainment
Suwannee County |  | Unclassifiable/Attainment
Taylor County |  | Unclassifiable/Attainment
Union County |  | Unclassifiable/Attainment
Volusia County |  | Unclassifiable/Attainment
Wakulla County |  | Unclassifiable/Attainment
Walton County |  | Unclassifiable/Attainment
Washington County |  | Unclassifiable/Attainment
ᵃ Includes Indian Country located in each county or area, except as otherwise specified.
¹ This date is 90 days after January 5, 2005, unless otherwise noted.

Florida—2006 24-Hour PM2.5 NAAQS
[Primary and secondary]
Designated area | Designation ᵃ: Date ¹ | Designation ᵃ: Type | Classification: Date | Classification: Type
Statewide:
Alachua County |  | Unclassifiable/Attainement
Baker County |  | Unclassifiable/Attainement
Bay County |  | Unclassifiable/Attainement
Bradford County |  | Unclassifiable/Attainement
Brevard County |  | Unclassifiable/Attainement
Broward County |  | Unclassifiable/Attainement
Calhoun County |  | Unclassifiable/Attainement
Charlotte County |  | Unclassifiable/Attainement
Citrus County |  | Unclassifiable/Attainement
Clay County |  | Unclassifiable/Attainement
Collier County |  | Unclassifiable/Attainement
Columbia County |  | Unclassifiable/Attainement
DeSoto County |  | Unclassifiable/Attainement
Dixie County |  | Unclassifiable/Attainement
Duval County |  | Unclassifiable/Attainement
Escambia County |  | Unclassifiable/Attainement
Flagler County |  | Unclassifiable/Attainement
Franklin County |  | Unclassifiable/Attainement
Gadsden County |  | Unclassifiable/Attainement
Gilchrist County |  | Unclassifiable/Attainement
Glades County |  | Unclassifiable/Attainement
Gulf County |  | Unclassifiable/Attainement
Hamilton County |  | Unclassifiable/Attainement
Hardee County |  | Unclassifiable/Attainement
Hendry County |  | Unclassifiable/Attainement
Hernando County |  | Unclassifiable/Attainement
Highlands County |  | Unclassifiable/Attainement
Hillsborough County |  | Unclassifiable/Attainement
Holmes County |  | Unclassifiable/Attainement
Indian River County |  | Unclassifiable/Attainement
Jackson County |  | Unclassifiable/Attainement
Jefferson County |  | Unclassifiable/Attainement
Lafayette County |  | Unclassifiable/Attainement
Lake County |  | Unclassifiable/Attainement
Lee County |  | Unclassifiable/Attainement
Leon County |  | Unclassifiable/Attainement
Levy County |  | Unclassifiable/Attainement
Liberty County |  | Unclassifiable/Attainement
Madison County |  | Unclassifiable/Attainement
Manatee County |  | Unclassifiable/Attainement
Marion County |  | Unclassifiable/Attainement
Martin County |  | Unclassifiable/Attainement
Miami-Dade County |  | Unclassifiable/Attainement
Monroe County |  | Unclassifiable/Attainement
Nassau County |  | Unclassifiable/Attainement
Okaloosa County |  | Unclassifiable/Attainement
Okeechobee County |  | Unclassifiable/Attainement
Orange County |  | Unclassifiable/Attainement
Osceola County |  | Unclassifiable/Attainement
Palm Beach County |  | Unclassifiable/Attainement
Pasco County |  | Unclassifiable/Attainement
Pinellas County |  | Unclassifiable/Attainement
Polk County |  | Unclassifiable/Attainement
Putnam County |  | Unclassifiable/Attainement
St. Johns County |  | Unclassifiable/Attainement
St. Lucie County |  | Unclassifiable/Attainement
Santa Rosa County |  | Unclassifiable/Attainement
Sarasota County |  | Unclassifiable/Attainement
Seminole County |  | Unclassifiable/Attainement
Sumter County |  | Unclassifiable/Attainement
Suwannee County |  | Unclassifiable/Attainement
Taylor County |  | Unclassifiable/Attainement
Union County |  | Unclassifiable/Attainement
Volusia County |  | Unclassifiable/Attainement
Wakulla County |  | Unclassifiable/Attainement
Walton County |  | Unclassifiable/Attainement
Washington County |  | Unclassifiable/Attainement
ᵃ Includes Indian Country located in each county or area, except as otherwise specified.
¹ This date is 30 days after November 13, 2009, unless otherwise noted.

* * * * *

12. Section 81.311 is amended as follows:

a. By removing the tables titled “Georgia—PM2.5 (Annual NAAQS)” and “Georgia—PM2.5 [24-hour NAAQS]”.

b. By adding three tables titled “Georgia—1997 Annual PM2.5 NAAQS (Primary and Secondary)” and “Georgia—1997 24-hour PM2.5 NAAQS (Primary and Secondary)” and “Georgia—2006 24-hour PM2.5 NAAQS (Primary and Secondary)” before the table titled “Georgia—NO2 (1971 Annual Standard)” .

The additions read as follows:

§ 81.311 Georgia.

* * * * *

Georgia—1997 Annual PM2.5 NAAQS
[Primary and secondary]
Designated area | Designation ᵃ: Date ¹ | Designation ᵃ: Type | Classification: Date ² | Classification: Type
Atlanta, GA:
Barrow County |  | Nonattainment |  | Moderate.
Bartow County |  | Nonattainment |  | Moderate.
Carroll County |  | Nonattainment |  | Moderate.
Cherokee County |  | Nonattainment |  | Moderate.
Clayton County |  | Nonattainment |  | Moderate.
Cobb County |  | Nonattainment |  | Moderate.
Coweta County |  | Nonattainment |  | Moderate.
DeKalb County |  | Nonattainment |  | Moderate.
Douglas County |  | Nonattainment |  | Moderate.
Fayette County |  | Nonattainment |  | Moderate.
Forsyth County |  | Nonattainment |  | Moderate.
Fulton County |  | Nonattainment |  | Moderate.
Gwinnett County |  | Nonattainment |  | Moderate.
Hall County |  | Nonattainment |  | Moderate.
Heard County (part) |  | Nonattainment |  | Moderate.
The northeast portion that extends north of 33 degrees 24 minutes (north) to the Carroll County border and east of 85 degrees 3 minutes (west) to the Coweta County border.
Henry County |  | Nonattainment |  | Moderate.
Newton County |  | Nonattainment |  | Moderate.
Paulding County |  | Nonattainment |  | Moderate.
Putnam County (part) |  | Nonattainment |  | Moderate.
The area described by U.S. Census 2000 block group identifier 13-237-9603-1.
Rockdale County |  | Nonattainment |  | Moderate.
Spalding County |  | Nonattainment |  | Moderate.
Walton County |  | Nonattainment |  | Moderate.
Chattanooga, TN-GA:
Catoosa County |  | Nonattainment |  | Moderate.
Walker County |  | Nonattainment |  | Moderate.
Rome, GA:
Floyd County |  | Nonattainment |  | Moderate.
Macon, GA:
Bibb County |  | Nonattainment |  | Moderate.
Monroe County (part) |  | Nonattainment |  | Moderate.
From the point where Bibb and Monroe Counties meet at U.S. Hwy 23/Georgia Hwy 98 follow the Bibb/Monroe County line westward 150′ from the U.S. Hwy 23/Georgia Hwy 87 centerline, proceed northward 150′ west of and parallel to the U.S. Hwy 23/Georgia Hwy 87 centerline to 33 degrees, 04 minutes, 30 seconds; proceed westward to 83 degrees, 49 minutes, 45 seconds; proceed due south to 150′ north of the Georgia Hwy 18 centerline, proceed eastward 150′ north of and parallel to the Georgia Hwy 18 centerline to 1150′ west of the U.S. Hwy 23/Georgia Hwy 87 centerline, proceed southward 1150′ west of and parallel to the U.S. Hwy 23/Georgia Hwy 87 centerline to the Monroe/Bibb County line; then follow the Monroe/Bibb County line to 150′ west of the U.S. Hwy 23/Georgia Hwy 87 centerline.
Rest of State:
Appling County |  | Unclassifiable/Attainment
Atkinson County |  | Unclassifiable/Attainment
Bacon County |  | Unclassifiable/Attainment
Baker County |  | Unclassifiable/Attainment
Baldwin County |  | Unclassifiable/Attainment
Banks County |  | Unclassifiable/Attainment
Ben Hill County |  | Unclassifiable/Attainment
Berrien County |  | Unclassifiable/Attainment
Bleckley County |  | Unclassifiable/Attainment
Brantley County |  | Unclassifiable/Attainment
Brooks County |  | Unclassifiable/Attainment
Bryan County |  | Unclassifiable/Attainment
Bulloch County |  | Unclassifiable/Attainment
Burke County |  | Unclassifiable/Attainment
Butts County |  | Unclassifiable/Attainment
Calhoun County |  | Unclassifiable/Attainment
Camden County |  | Unclassifiable/Attainment
Candler County |  | Unclassifiable/Attainment
Charlton County |  | Unclassifiable/Attainment
Chatham County |  | Unclassifiable/Attainment
Chattahoochee County |  | Unclassifiable/Attainment
Chattooga County |  | Unclassifiable/Attainment
Clarke County |  | Unclassifiable/Attainment
Clay County |  | Unclassifiable/Attainment
Clinch County |  | Unclassifiable/Attainment
Coffee County |  | Unclassifiable/Attainment
Colquitt County |  | Unclassifiable/Attainment
Columbia County |  | Unclassifiable/Attainment
Cook County |  | Unclassifiable/Attainment
Crawford County |  | Unclassifiable/Attainment
Crisp County |  | Unclassifiable/Attainment
Dade County |  | Unclassifiable/Attainment
Dawson County |  | Unclassifiable/Attainment
Decatur County |  | Unclassifiable/Attainment
Dodge County |  | Unclassifiable/Attainment
Dooly County |  | Unclassifiable/Attainment
Dougherty County |  | Unclassifiable/Attainment
Early County |  | Unclassifiable/Attainment
Echols County |  | Unclassifiable/Attainment
Effingham County |  | Unclassifiable/Attainment
Elbert County |  | Unclassifiable/Attainment
Emanuel County |  | Unclassifiable/Attainment
Evans County |  | Unclassifiable/Attainment
Fannin County |  | Unclassifiable/Attainment
Franklin County |  | Unclassifiable/Attainment
Gilmer County |  | Unclassifiable/Attainment
Glascock County |  | Unclassifiable/Attainment
Glynn County |  | Unclassifiable/Attainment
Gordon County |  | Unclassifiable/Attainment
Grady County |  | Unclassifiable/Attainment
Greene County |  | Unclassifiable/Attainment
Habersham County |  | Unclassifiable/Attainment
Hancock County |  | Unclassifiable/Attainment
Haralson County |  | Unclassifiable/Attainment
Harris County |  | Unclassifiable/Attainment
Hart County |  | Unclassifiable/Attainment
Heard County (remainder) |  | Unclassifiable/Attainment
Houston County |  | Unclassifiable/Attainment
Irwin County |  | Unclassifiable/Attainment
Jackson County |  | Unclassifiable/Attainment
Jasper County |  | Unclassifiable/Attainment
Jeff Davis County |  | Unclassifiable/Attainment
Jefferson County |  | Unclassifiable/Attainment
Jenkins County |  | Unclassifiable/Attainment
Johnson County |  | Unclassifiable/Attainment
Jones County |  | Unclassifiable/Attainment
Lamar County |  | Unclassifiable/Attainment
Lanier County |  | Unclassifiable/Attainment
Laurens County |  | Unclassifiable/Attainment
Lee County |  | Unclassifiable/Attainment
Liberty County |  | Unclassifiable/Attainment
Lincoln County |  | Unclassifiable/Attainment
Long County |  | Unclassifiable/Attainment
Lowndes County |  | Unclassifiable/Attainment
Lumpkin County |  | Unclassifiable/Attainment
McDuffie County |  | Unclassifiable/Attainment
McIntosh County |  | Unclassifiable/Attainment
Macon County |  | Unclassifiable/Attainment
Madison County |  | Unclassifiable/Attainment
Marion County |  | Unclassifiable/Attainment
Meriwether County |  | Unclassifiable/Attainment
Miller County |  | Unclassifiable/Attainment
Mitchell County |  | Unclassifiable/Attainment
Monroe County (remainder) |  | Unclassifiable/Attainment
Montgomery County |  | Unclassifiable/Attainment
Morgan County |  | Unclassifiable/Attainment
Murray County |  | Unclassifiable/Attainment
Muscogee County |  | Unclassifiable/Attainment
Oconee County |  | Unclassifiable/Attainment
Oglethorpe County |  | Unclassifiable/Attainment
Peach County |  | Unclassifiable/Attainment
Pickens County |  | Unclassifiable/Attainment
Pierce County |  | Unclassifiable/Attainment
Pike County |  | Unclassifiable/Attainment
Polk County |  | Unclassifiable/Attainment
Pulaski County |  | Unclassifiable/Attainment
Putnam County (remainder) |  | Unclassifiable/Attainment
Quitman County |  | Unclassifiable/Attainment
Rabun County |  | Unclassifiable/Attainment
Randolph County |  | Unclassifiable/Attainment
Richmond County |  | Unclassifiable/Attainment
Schley County |  | Unclassifiable/Attainment
Screven County |  | Unclassifiable/Attainment
Seminole County |  | Unclassifiable/Attainment
Stephens County |  | Unclassifiable/Attainment
Stewart County |  | Unclassifiable/Attainment
Sumter County |  | Unclassifiable/Attainment
Talbot County |  | Unclassifiable/Attainment
Taliaferro County |  | Unclassifiable/Attainment
Tattnall County |  | Unclassifiable/Attainment
Taylor County |  | Unclassifiable/Attainment
Telfair County |  | Unclassifiable/Attainment
Terrell County |  | Unclassifiable/Attainment
Thomas County |  | Unclassifiable/Attainment
Tift County |  | Unclassifiable/Attainment
Toombs County |  | Unclassifiable/Attainment
Towns County |  | Unclassifiable/Attainment
Treutlen County |  | Unclassifiable/Attainment
Troup County |  | Unclassifiable/Attainment
Turner County |  | Unclassifiable/Attainment
Twiggs County |  | Unclassifiable/Attainment
Union County |  | Unclassifiable/Attainment
Upson County |  | Unclassifiable/Attainment
Ware County |  | Unclassifiable/Attainment
Warren County |  | Unclassifiable/Attainment
Washington County |  | Unclassifiable/Attainment
Wayne County |  | Unclassifiable/Attainment
Webster County |  | Unclassifiable/Attainment
Wheeler County |  | Unclassifiable/Attainment
White County |  | Unclassifiable/Attainment
Whitfield County |  | Unclassifiable/Attainment
Wilcox County |  | Unclassifiable/Attainment
Wilkes County |  | Unclassifiable/Attainment
Wilkinson County |  | Unclassifiable/Attainment
Worth County |  | Unclassifiable/Attainment
ᵃ Includes Indian Country located in each county or area, except as otherwise specified.
¹ This date is 90 days after January 5, 2005, unless otherwise noted.
² This date is July 2, 2014, unless otherwise noted.

Georgia—1997 24-Hour PM2.5 NAAQS
[Primary and secondary]
Designated area | Designation ᵃ: Date ¹ | Designation ᵃ: Type | Classification: Date | Classification: Type
Statewide:
Appling County |  | Unclassifiable/Attainment
Atkinson County |  | Unclassifiable/Attainment
Bacon County |  | Unclassifiable/Attainment
Baker County |  | Unclassifiable/Attainment
Baldwin County |  | Unclassifiable/Attainment
Banks County |  | Unclassifiable/Attainment
Barrow County |  | Unclassifiable/Attainment
Bartow County |  | Unclassifiable/Attainment
Ben Hill County |  | Unclassifiable/Attainment
Berrien County |  | Unclassifiable/Attainment
Bibb County |  | Unclassifiable/Attainment
Bleckley County |  | Unclassifiable/Attainment
Brantley County |  | Unclassifiable/Attainment
Brooks County |  | Unclassifiable/Attainment
Bryan County |  | Unclassifiable/Attainment
Bulloch County |  | Unclassifiable/Attainment
Burke County |  | Unclassifiable/Attainment
Butts County |  | Unclassifiable/Attainment
Calhoun County |  | Unclassifiable/Attainment
Camden County |  | Unclassifiable/Attainment
Candler County |  | Unclassifiable/Attainment
Carroll County |  | Unclassifiable/Attainment
Catoosa County |  | Unclassifiable/Attainment
Charlton County |  | Unclassifiable/Attainment
Chatham County |  | Unclassifiable/Attainment
Chattahoochee County |  | Unclassifiable/Attainment
Chattooga County |  | Unclassifiable/Attainment
Cherokee County |  | Unclassifiable/Attainment
Clarke County |  | Unclassifiable/Attainment
Clay County |  | Unclassifiable/Attainment
Clayton County |  | Unclassifiable/Attainment
Clinch County |  | Unclassifiable/Attainment
Cobb County |  | Unclassifiable/Attainment
Coffee County |  | Unclassifiable/Attainment
Colquitt County |  | Unclassifiable/Attainment
Columbia County |  | Unclassifiable/Attainment
Cook County |  | Unclassifiable/Attainment
Coweta County |  | Unclassifiable/Attainment
Crawford County |  | Unclassifiable/Attainment
Crisp County |  | Unclassifiable/Attainment
Dade County |  | Unclassifiable/Attainment
Dawson County |  | Unclassifiable/Attainment
Decatur County |  | Unclassifiable/Attainment
DeKalb County |  | Unclassifiable/Attainment
Dodge County |  | Unclassifiable/Attainment
Dooly County |  | Unclassifiable/Attainment
Dougherty County |  | Unclassifiable/Attainment
Douglass County |  | Unclassifiable/Attainment
Early County |  | Unclassifiable/Attainment
Echols County |  | Unclassifiable/Attainment
Effingham County |  | Unclassifiable/Attainment
Elbert County |  | Unclassifiable/Attainment
Emanuel County |  | Unclassifiable/Attainment
Evans County |  | Unclassifiable/Attainment
Fannin County |  | Unclassifiable/Attainment
Fayette County |  | Unclassifiable/Attainment
Floyd County |  | Unclassifiable/Attainment
Forsyth County |  | Unclassifiable/Attainment
Franklin County |  | Unclassifiable/Attainment
Fulton County |  | Unclassifiable/Attainment
Gilmer County |  | Unclassifiable/Attainment
Glascock County |  | Unclassifiable/Attainment
Glynn County |  | Unclassifiable/Attainment
Gordon County |  | Unclassifiable/Attainment
Grady County |  | Unclassifiable/Attainment
Greene County |  | Unclassifiable/Attainment
Gwinnett County |  | Unclassifiable/Attainment
Habersham County |  | Unclassifiable/Attainment
Hall County |  | Unclassifiable/Attainment
Hancock County |  | Unclassifiable/Attainment
Haralson County |  | Unclassifiable/Attainment
Harris County |  | Unclassifiable/Attainment
Hart County |  | Unclassifiable/Attainment
Heard County |  | Unclassifiable/Attainment
Henry County |  | Unclassifiable/Attainment
Houston County |  | Unclassifiable/Attainment
Irwin County |  | Unclassifiable/Attainment
Jackson County |  | Unclassifiable/Attainment
Jasper County |  | Unclassifiable/Attainment
Jeff Davis County |  | Unclassifiable/Attainment
Jefferson County |  | Unclassifiable/Attainment
Jenkins County |  | Unclassifiable/Attainment
Johnson County |  | Unclassifiable/Attainment
Jones County |  | Unclassifiable/Attainment
Lamar County |  | Unclassifiable/Attainment
Lanier County |  | Unclassifiable/Attainment
Laurens County |  | Unclassifiable/Attainment
Lee County |  | Unclassifiable/Attainment
Liberty County |  | Unclassifiable/Attainment
Lincoln County |  | Unclassifiable/Attainment
Long County |  | Unclassifiable/Attainment
Lowdes County |  | Unclassifiable/Attainment
Lumpkin County |  | Unclassifiable/Attainment
McDuffie County |  | Unclassifiable/Attainment
McIntosh County |  | Unclassifiable/Attainment
Macon County |  | Unclassifiable/Attainment
Madison County |  | Unclassifiable/Attainment
Marion County |  | Unclassifiable/Attainment
Meriwether County |  | Unclassifiable/Attainment
Miller County |  | Unclassifiable/Attainment
Mitchell County |  | Unclassifiable/Attainment
Monroe County |  | Unclassifiable/Attainment
Montgomery County |  | Unclassifiable/Attainment
Morgan County |  | Unclassifiable/Attainment
Murray County |  | Unclassifiable/Attainment
Muscogee County |  | Unclassifiable/Attainment
Newton County |  | Unclassifiable/Attainment
Oconee County |  | Unclassifiable/Attainment
Oglethorpe County |  | Unclassifiable/Attainment
Pauling County |  | Unclassifiable/Attainment
Peach County |  | Unclassifiable/Attainment
Pickens County |  | Unclassifiable/Attainment
Pierce County |  | Unclassifiable/Attainment
Pike County |  | Unclassifiable/Attainment
Polk County |  | Unclassifiable/Attainment
Pulaski County |  | Unclassifiable/Attainment
Putnam County |  | Unclassifiable/Attainment
Quitman County |  | Unclassifiable/Attainment
Rabun County |  | Unclassifiable/Attainment
Randolph County |  | Unclassifiable/Attainment
Richmond County |  | Unclassifiable/Attainment
Rockdale County |  | Unclassifiable/Attainment
Schley County |  | Unclassifiable/Attainment
Screven County |  | Unclassifiable/Attainment
Seminole County |  | Unclassifiable/Attainment
Spalding County |  | Unclassifiable/Attainment
Stephens County |  | Unclassifiable/Attainment
Stewart County |  | Unclassifiable/Attainment
Sumter County |  | Unclassifiable/Attainment
Talbot County |  | Unclassifiable/Attainment
Taliaferro County |  | Unclassifiable/Attainment
Tattnall County |  | Unclassifiable/Attainment
Taylor County |  | Unclassifiable/Attainment
Telfair County |  | Unclassifiable/Attainment
Terrell County |  | Unclassifiable/Attainment
Thomas County |  | Unclassifiable/Attainment
Tift County |  | Unclassifiable/Attainment
Toombs County |  | Unclassifiable/Attainment
Towns County |  | Unclassifiable/Attainment
Treutlen County |  | Unclassifiable/Attainment
Troup County |  | Unclassifiable/Attainment
Turner County |  | Unclassifiable/Attainment
Twiggs County |  | Unclassifiable/Attainment
Union County |  | Unclassifiable/Attainment
Upson County |  | Unclassifiable/Attainment
Walker County |  | Unclassifiable/Attainment
Walton County |  | Unclassifiable/Attainment
Ware County |  | Unclassifiable/Attainment
Warren County |  | Unclassifiable/Attainment
Washington County |  | Unclassifiable/Attainment
Wayne County |  | Unclassifiable/Attainment
Webster County |  | Unclassifiable/Attainment
Wheeler County |  | Unclassifiable/Attainment
White County |  | Unclassifiable/Attainment
Whitfield County |  | Unclassifiable/Attainment
Wilcox County |  | Unclassifiable/Attainment
Wilkes County |  | Unclassifiable/Attainment
Wilkinson County |  | Unclassifiable/Attainment
Worth County |  | Unclassifiable/Attainment
ᵃ Includes Indian Country located in each county or area, except as otherwise specified.
¹ This date is 90 days after January 5, 2005, unless otherwise noted.

Georgia—2006 24-Hour PM2.5 NAAQS
[Primary and secondary]
Designated area | Designation ᵃ: Date ¹ | Designation ᵃ: Type | Classification: Date | Classification: Type
Statewide:
Appling County |  | Unclassifiable/Attainment
Atkinson County |  | Unclassifiable/Attainment
Bacon County |  | Unclassifiable/Attainment
Baker County |  | Unclassifiable/Attainment
Baldwin County |  | Unclassifiable/Attainment
Banks County |  | Unclassifiable/Attainment
Barrow County |  | Unclassifiable/Attainment
Bartow County |  | Unclassifiable/Attainment
Ben Hill County |  | Unclassifiable/Attainment
Berrien County |  | Unclassifiable/Attainment
Bibb County |  | Unclassifiable/Attainment
Bleckley County |  | Unclassifiable/Attainment
Brantley County |  | Unclassifiable/Attainment
Brooks County |  | Unclassifiable/Attainment
Bryan County |  | Unclassifiable/Attainment
Bulloch County |  | Unclassifiable/Attainment
Burke County |  | Unclassifiable/Attainment
Butts County |  | Unclassifiable/Attainment
Calhoun County |  | Unclassifiable/Attainment
Camden County |  | Unclassifiable/Attainment
Candler County |  | Unclassifiable/Attainment
Carroll County |  | Unclassifiable/Attainment
Catoosa County |  | Unclassifiable/Attainment
Charlton County |  | Unclassifiable/Attainment
Chatham County |  | Unclassifiable/Attainment
Chattahoochee County |  | Unclassifiable/Attainment
Chattooga County |  | Unclassifiable/Attainment
Cherokee County |  | Unclassifiable/Attainment
Clarke County |  | Unclassifiable/Attainment
Clay County |  | Unclassifiable/Attainment
Clayton County |  | Unclassifiable/Attainment
Clinch County |  | Unclassifiable/Attainment
Cobb County |  | Unclassifiable/Attainment
Coffee County |  | Unclassifiable/Attainment
Colquitt County |  | Unclassifiable/Attainment
Columbia County |  | Unclassifiable/Attainment
Cook County |  | Unclassifiable/Attainment
Coweta County |  | Unclassifiable/Attainment
Crawford County |  | Unclassifiable/Attainment
Crisp County |  | Unclassifiable/Attainment
Dade County |  | Unclassifiable/Attainment
Dawson County |  | Unclassifiable/Attainment
Decatur County |  | Unclassifiable/Attainment
DeKalb County |  | Unclassifiable/Attainment
Dodge County |  | Unclassifiable/Attainment
Dooly County |  | Unclassifiable/Attainment
Dougherty County |  | Unclassifiable/Attainment
Douglass County |  | Unclassifiable/Attainment
Early County |  | Unclassifiable/Attainment
Echols County |  | Unclassifiable/Attainment
Effingham County |  | Unclassifiable/Attainment
Elbert County |  | Unclassifiable/Attainment
Emanuel County |  | Unclassifiable/Attainment
Evans County |  | Unclassifiable/Attainment
Fannin County |  | Unclassifiable/Attainment
Fayette County |  | Unclassifiable/Attainment
Floyd County |  | Unclassifiable/Attainment
Forsyth County |  | Unclassifiable/Attainment
Franklin County |  | Unclassifiable/Attainment
Fulton County |  | Unclassifiable/Attainment
Gilmer County |  | Unclassifiable/Attainment
Glascock County |  | Unclassifiable/Attainment
Glynn County |  | Unclassifiable/Attainment
Gordon County |  | Unclassifiable/Attainment
Grady County |  | Unclassifiable/Attainment
Greene County |  | Unclassifiable/Attainment
Gwinnett County |  | Unclassifiable/Attainment
Habersham County |  | Unclassifiable/Attainment
Hall County |  | Unclassifiable/Attainment
Hancock County |  | Unclassifiable/Attainment
Haralson County |  | Unclassifiable/Attainment
Harris County |  | Unclassifiable/Attainment
Hart County |  | Unclassifiable/Attainment
Heard County |  | Unclassifiable/Attainment
Henry County |  | Unclassifiable/Attainment
Houston County |  | Unclassifiable/Attainment
Irwin County |  | Unclassifiable/Attainment
Jackson County |  | Unclassifiable/Attainment
Jasper County |  | Unclassifiable/Attainment
Jeff Davis County |  | Unclassifiable/Attainment
Jefferson County |  | Unclassifiable/Attainment
Jenkins County |  | Unclassifiable/Attainment
Johnson County |  | Unclassifiable/Attainment
Jones County |  | Unclassifiable/Attainment
Lamar County |  | Unclassifiable/Attainment
Lanier County |  | Unclassifiable/Attainment
Laurens County |  | Unclassifiable/Attainment
Lee County |  | Unclassifiable/Attainment
Liberty County |  | Unclassifiable/Attainment
Lincoln County |  | Unclassifiable/Attainment
Long County |  | Unclassifiable/Attainment
Lowdes County |  | Unclassifiable/Attainment
Lumpkin County |  | Unclassifiable/Attainment
McDuffie County |  | Unclassifiable/Attainment
McIntosh County |  | Unclassifiable/Attainment
Macon County |  | Unclassifiable/Attainment
Madison County |  | Unclassifiable/Attainment
Marion County |  | Unclassifiable/Attainment
Meriwether County |  | Unclassifiable/Attainment
Miller County |  | Unclassifiable/Attainment
Mitchell County |  | Unclassifiable/Attainment
Monroe County |  | Unclassifiable/Attainment
Montgomery County |  | Unclassifiable/Attainment
Morgan County |  | Unclassifiable/Attainment
Murray County |  | Unclassifiable/Attainment
Muscogee County |  | Unclassifiable/Attainment
Newton County |  | Unclassifiable/Attainment
Oconee County |  | Unclassifiable/Attainment
Oglethorpe County |  | Unclassifiable/Attainment
Pauling County |  | Unclassifiable/Attainment
Peach County |  | Unclassifiable/Attainment
Pickens County |  | Unclassifiable/Attainment
Pierce County |  | Unclassifiable/Attainment
Pike County |  | Unclassifiable/Attainment
Polk County |  | Unclassifiable/Attainment
Pulaski County |  | Unclassifiable/Attainment
Putnam County |  | Unclassifiable/Attainment
Quitman County |  | Unclassifiable/Attainment
Rabun County |  | Unclassifiable/Attainment
Randolph County |  | Unclassifiable/Attainment
Richmond County |  | Unclassifiable/Attainment
Rockdale County |  | Unclassifiable/Attainment
Schley County |  | Unclassifiable/Attainment
Screven County |  | Unclassifiable/Attainment
Seminole County |  | Unclassifiable/Attainment
Spalding County |  | Unclassifiable/Attainment
Stephens County |  | Unclassifiable/Attainment
Stewart County |  | Unclassifiable/Attainment
Sumter County |  | Unclassifiable/Attainment
Talbot County |  | Unclassifiable/Attainment
Taliaferro County |  | Unclassifiable/Attainment
Tattnall County |  | Unclassifiable/Attainment
Taylor County |  | Unclassifiable/Attainment
Telfair County |  | Unclassifiable/Attainment
Terrell County |  | Unclassifiable/Attainment
Thomas County |  | Unclassifiable/Attainment
Tift County |  | Unclassifiable/Attainment
Toombs County |  | Unclassifiable/Attainment
Towns County |  | Unclassifiable/Attainment
Treutlen County |  | Unclassifiable/Attainment
Troup County |  | Unclassifiable/Attainment
Turner County |  | Unclassifiable/Attainment
Twiggs County |  | Unclassifiable/Attainment
Union County |  | Unclassifiable/Attainment
Upson County |  | Unclassifiable/Attainment
Walker County |  | Unclassifiable/Attainment
Walton County |  | Unclassifiable/Attainment
Ware County |  | Unclassifiable/Attainment
Warren County |  | Unclassifiable/Attainment
Washington County |  | Unclassifiable/Attainment
Wayne County |  | Unclassifiable/Attainment
Webster County |  | Unclassifiable/Attainment
Wheeler County |  | Unclassifiable/Attainment
White County |  | Unclassifiable/Attainment
Whitfield County |  | Unclassifiable/Attainment
Wilcox County |  | Unclassifiable/Attainment
Wilkes County |  | Unclassifiable/Attainment
Wilkinson County |  | Unclassifiable/Attainment
Worth County |  | Unclassifiable/Attainment
ᵃ Includes Indian Country located in each county or area, except as otherwise specified.
¹ This date is 30 days after November 13, 2009, unless otherwise noted.

* * * * *

13. Section 81.312 is amended as follows:

a. By removing the tables titled “Hawaii—PM2.5 (Annual NAAQS)” and “Hawaii—PM2.5 [24-hour NAAQS]”.

b. By adding three tables titled “Hawaii—1997 Annual PM2.5 NAAQS (Primary and Secondary)” and “Hawaii—1997 24-hour PM2.5 NAAQS (Primary and Secondary)” and “Hawaii—2006 24-hour PM2.5 NAAQS (Primary and Secondary)” before the table titled “Hawaii—NO2 (1971 Annual Standard)”.

The additions read as follows:

§ 81.312 Hawaii.

* * * * *

Hawaii—1997 Annual PM2.5 NAAQS
[Primary and secondary]
Designated area | Designation ᵃ: Date ¹ | Designation ᵃ: Type | Classification: Date | Classification: Type
Statewide:
Hawaii County |  | Unclassifiable/Attainment
Honolulu County |  | Unclassifiable/Attainment
Kalawao County |  | Unclassifiable/Attainment
Kauai County |  | Unclassifiable/Attainment
Maui County |  | Unclassifiable/Attainment
ᵃ Includes Indian Country located in each county or area, except as otherwise specified.
¹ This date is 90 days after January 5, 2005, unless otherwise noted.

Hawaii—1997 24-Hour PM2.5 NAAQS
[Primary and secondary]
Designated area | Designation ᵃ: Date ¹ | Designation ᵃ: Type | Classification: Date | Classification: Type
Statewide:
Hawaii County |  | Unclassifiable/Attainment
Honolulu County |  | Unclassifiable/Attainment
Kalawao County |  | Unclassifiable/Attainment
Kauai County |  | Unclassifiable/Attainment
Maui County |  | Unclassifiable/Attainment
ᵃ Includes Indian Country located in each county or area, except as otherwise specified.
¹ This date is 90 days after January 5, 2005, unless otherwise noted.

Hawaii—2006 24-Hour PM2.5 NAAQS
[Primary and secondary]
Designated area | Designation ᵃ: Date ¹ | Designation ᵃ: Type | Classification: Date | Classification: Type
Statewide:
Hawaii County |  | Unclassifiable/Attainment
Honolulu County |  | Unclassifiable/Attainment
Kalawao County |  | Unclassifiable/Attainment
Kauai County |  | Unclassifiable/Attainment
Maui County |  | Unclassifiable/Attainment
ᵃ Includes Indian Country located in each county or area, except as otherwise specified.
¹ This date is 30 days after November 13, 2009, unless otherwise noted.

* * * * *

14. Section 81.313 is amended as follows:

a. By removing the tables titled “Idaho—PM2.5 (Annual NAAQS)” and “Idaho—PM2.5 [24-hour NAAQS]”.

b. By adding three tables titled “Idaho—1997 Annual PM2.5 NAAQS (Primary and Secondary)” and “Idaho—1997 24-hour PM2.5 NAAQS (Primary and Secondary)” and “Idaho—2006 24-hour PM2.5 NAAQS (Primary and Secondary)” before the table titled “Idaho—NO2 (1971 Annual Standard)”.

The additions read as follows:

§ 81.313 Idaho.

* * * * *

Idaho—1997 Annual PM2.5 NAAQS
[Primary and secondary]
Designated area | Designation ᵃ: Date ¹ | Designation ᵃ: Type | Classification: Date | Classification: Type
AQCR 61 Eastern Idaho Intrastate:
Bannock County |  | Unclassifiable/Attainment
Bear Lake County |  | Unclassifiable/Attainment
Bingham County |  | Unclassifiable/Attainment
Bonneville County |  | Unclassifiable/Attainment
Butte County |  | Unclassifiable/Attainment
Caribou County |  | Unclassifiable/Attainment
Clark County |  | Unclassifiable/Attainment
Franklin County |  | Unclassifiable/Attainment
Fremont County |  | Unclassifiable/Attainment
Jefferson County |  | Unclassifiable/Attainment
Madison County |  | Unclassifiable/Attainment
Oneida County |  | Unclassifiable/Attainment
Power County |  | Unclassifiable/Attainment
Teton County |  | Unclassifiable/Attainment
AQCR 62 E Washington-N Idaho Interstate:
Benewah County |  | Unclassifiable/Attainment
Kootenai County |  | Unclassifiable/Attainment
Latah County |  | Unclassifiable/Attainment
Nez Perce County |  | Unclassifiable/Attainment
Shoshone County |  | Unclassifiable/Attainment
AQCR 63 Idaho Intrastate:
Adams County |  | Unclassifiable/Attainment
Blaine County |  | Unclassifiable/Attainment
Boise County |  | Unclassifiable/Attainment
Bonner County |  | Unclassifiable/Attainment
Boundary County |  | Unclassifiable/Attainment
Camas County |  | Unclassifiable/Attainment
Cassia County |  | Unclassifiable/Attainment
Clearwater County |  | Unclassifiable/Attainment
Custer County |  | Unclassifiable/Attainment
Elmore County |  | Unclassifiable/Attainment
Gem County |  | Unclassifiable/Attainment
Gooding County |  | Unclassifiable/Attainment
Idaho County |  | Unclassifiable/Attainment
Jerome County |  | Unclassifiable/Attainment
Lemhi County |  | Unclassifiable/Attainment
Lewis County |  | Unclassifiable/Attainment
Lincoln County |  | Unclassifiable/Attainment
Minidoka County |  | Unclassifiable/Attainment
Owyhee County |  | Unclassifiable/Attainment
Payette County |  | Unclassifiable/Attainment
Twin Falls County |  | Unclassifiable/Attainment
Valley County |  | Unclassifiable/Attainment
Washington County |  | Unclassifiable/Attainment
AQCR 64 Metropolitan Boise Interstate:
Ada County |  | Unclassifiable/Attainment
Canyon County |  | Unclassifiable/Attainment
ᵃ Includes Indian Country located in each county or area, except as otherwise specified.
¹ This date is 90 days after January 5, 2005, unless otherwise noted.

Idaho—1997 24-Hour PM2.5 NAAQS
[Primary and secondary]
Designated area | Designation ᵃ: Date ¹ | Designation ᵃ: Type | Classification: Date | Classification: Type
Logan, UT-ID:
Franklin County (part) |  | Unclassifiable/Attainment.
Begin in the bottom left corner (southwest) of the nonattainment area boundary, southwest corner of the PLSS-Boise Meridian, Township 16 South, Range 37 East, Section 25. The boundary then proceeds north to the northwest corner of Township 15 South, Range 37 East, Section 25; then the boundary proceeds east to the southeast corner of Township 15 South, Range 38 East, Section 19; then north to the Franklin County boundary at the northwest corner of Township 13 South, Range 38 East, Section 20. From this point the boundary proceeds east 3.5 sections along the northern border of the county boundary where it then turns south 2 sections, and then proceeds east 5 more sections, and then north 2 sections more. At this point, the boundary leaves the county boundary and proceeds east at the southeast corner of Township 13 South, Range 39 East, Section 14; then the boundary heads north 2 sections to northwest corner of Township 13 South, Range 39 East, Section 12; then the boundary proceeds east 2 sections to the northeast corner of Township 13 South, Range 40 East, Section 7. The boundary then proceeds south 2 sections to the northwest corner of Township 13 South, Range 40 East, Section 20; the boundary then proceeds east 6 sections to the northeast corner of Township 13 South, Range 41 East, Section 19. The boundary then proceeds south 20 sections to the southeast corner of Township 16 South, Range 41 East, Section 30. Finally, the boundary is completed as it proceeds west 20 sections along the southern Idaho state boundary to the southwest corner of the Township 16 South, Range 37 East, Section 25.
Rest of State: AQCR 61 Eastern Idaho Intrastate:
Bannock County |  | Unclassifiable/Attainment.
Bear Lake County |  | Unclassifiable/Attainment.
Bingham County |  | Unclassifiable/Attainment.
Bonneville County |  | Unclassifiable/Attainment.
Butte County |  | Unclassifiable/Attainment.
Caribou County |  | Unclassifiable/Attainment.
Clark County |  | Unclassifiable/Attainment.
Franklin County (remainder) |  | Unclassifiable/Attainment.
Fremont County |  | Unclassifiable/Attainment.
Jefferson County |  | Unclassifiable/Attainment.
Madison County |  | Unclassifiable/Attainment.
Oneida County |  | Unclassifiable/Attainment.
Power County |  | Unclassifiable/Attainment.
Teton County |  | Unclassifiable/Attainment.
AQCR 62 E Washington-N Idaho Interstate:
Benewah County |  | Unclassifiable/Attainment.
Kootenai County |  | Unclassifiable/Attainment.
Latah County |  | Unclassifiable/Attainment.
Nez Perce County |  | Unclassifiable/Attainment.
Shoshone County |  | Unclassifiable/Attainment.
AQCR 63 Idaho Intrastate:
Adams County |  | Unclassifiable/Attainment.
Blaine County |  | Unclassifiable/Attainment.
Boise County |  | Unclassifiable/Attainment.
Bonner County |  | Unclassifiable/Attainment.
Boundary County |  | Unclassifiable/Attainment.
Camas County |  | Unclassifiable/Attainment.
Cassia County |  | Unclassifiable/Attainment.
Clearwater County |  | Unclassifiable/Attainment.
Custer County |  | Unclassifiable/Attainment.
Elmore County |  | Unclassifiable/Attainment.
Gem County |  | Unclassifiable/Attainment.
Gooding County |  | Unclassifiable/Attainment.
Idaho County |  | Unclassifiable/Attainment.
Jerome County |  | Unclassifiable/Attainment.
Lemhi County |  | Unclassifiable/Attainment.
Lewis County |  | Unclassifiable/Attainment.
Lincoln County |  | Unclassifiable/Attainment.
Minidoka County |  | Unclassifiable/Attainment.
Owyhee County |  | Unclassifiable/Attainment.
Payette County |  | Unclassifiable/Attainment.
Twin Falls County |  | Unclassifiable/Attainment.
Valley County |  | Unclassifiable/Attainment.
Washington County |  | Unclassifiable/Attainment.
AQCR 64 Metropolitan Boise Interstate:
Ada County |  | Unclassifiable/Attainment.
Canyon County |  | Unclassifiable/Attainment.
ᵃ Includes Indian Country located in each county or area, except as otherwise specified.
¹ This date is 90 days after January 5, 2005, unless otherwise noted.

Idaho—2006 24-Hour PM2.5 NAAQS
[Primary and secondary]
Designated area | Designation ᵃ: Date ¹ | Designation ᵃ: Type | Classification: Date ² | Classification: Type
Logan, UT-ID:
Franklin County (part) |  | Nonattainment |  | Moderate.
Begin in the bottom left corner (southwest) of the nonattainment area boundary, southwest corner of the PLSS-Boise Meridian, Township 16 South, Range 37 East, Section 25. The boundary then proceeds north to the northwest corner of Township 15 South, Range 37 East, Section 25; then the boundary proceeds east to the southeast corner of Township 15 South, Range 38 East, Section 19; then north to the Franklin County boundary at the northwest corner of Township 13 South, Range 38 East, Section 20. From this point the boundary proceeds east 3.5 sections along the northern border of the county boundary where it then turns south 2 sections, and then proceeds east 5 more sections, and then north 2 sections more. At this point, the boundary leaves the county boundary and proceeds east at the southeast corner of Township 13 South, Range 39 East, Section 14; then the boundary heads north 2 sections to northwest corner of Township 13 South, Range 39 east, Section 12; then the boundary proceeds east 2 sections to the northeast corner of Township 13 South, Range 40 East, Section 7. The boundary then proceeds south 2 sections to the northwest corner of Township 13 South, Range 40 East, Section 20; the boundary then proceeds east 6 sections to the northeast corner of Township 13 South, Range 41 East, Section 19. The boundary then proceeds south 20 sections to the southeast corner of Township 16 South, Range 41 East, Section 30. Finally, the boundary is completed as it proceeds west 20 sections along the southern Idaho state boundary to the southwest corner of the Township 16 South, Range 37 East, Section 25.
Rest of State: AQCR 61 Eastern Idaho Intrastate:
Bannock County |  | Unclassifiable/Attainment.
Bear Lake County |  | Unclassifiable/Attainment.
Bingham County |  | Unclassifiable/Attainment.
Bonneville County |  | Unclassifiable/Attainment.
Butte County |  | Unclassifiable/Attainment.
Caribou County |  | Unclassifiable/Attainment.
Clark County |  | Unclassifiable/Attainment.
Franklin County (remainder) |  | Unclassifiable/Attainment.
Fremont County |  | Unclassifiable/Attainment.
Jefferson County |  | Unclassifiable/Attainment.
Madison County |  | Unclassifiable/Attainment.
Oneida County |  | Unclassifiable/Attainment.
Power County |  | Unclassifiable/Attainment.
Teton County |  | Unclassifiable/Attainment.
AQCR 62 E Washington-N Idaho Interstate:
Benewah County |  | Unclassifiable/Attainment.
Kootenai County |  | Unclassifiable/Attainment.
Latah County |  | Unclassifiable/Attainment.
Nez Perce County |  | Unclassifiable/Attainment.
Shoshone County |  | Unclassifiable/Attainment.
AQCR 63 Idaho Intrastate:
Adams County |  | Unclassifiable/Attainment.
Blaine County |  | Unclassifiable/Attainment.
Boise County |  | Unclassifiable/Attainment.
Bonner County |  | Unclassifiable/Attainment.
Boundary County |  | Unclassifiable/Attainment.
Camas County |  | Unclassifiable/Attainment.
Cassia County |  | Unclassifiable/Attainment.
Clearwater County |  | Unclassifiable/Attainment.
Custer County |  | Unclassifiable/Attainment.
Elmore County |  | Unclassifiable/Attainment.
Gem County |  | Unclassifiable/Attainment.
Gooding County |  | Unclassifiable/Attainment.
Idaho County |  | Unclassifiable/Attainment.
Jerome County |  | Unclassifiable/Attainment.
Lemhi County |  | Unclassifiable/Attainment.
Lewis County |  | Unclassifiable/Attainment.
Lincoln County |  | Unclassifiable/Attainment.
Minidoka County |  | Unclassifiable/Attainment.
Owyhee County |  | Unclassifiable/Attainment.
Payette County |  | Unclassifiable/Attainment.
Twin Falls County |  | Unclassifiable/Attainment.
Valley County |  | Unclassifiable/Attainment.
Washington County |  | Unclassifiable/Attainment.
AQCR 64 Metropolitan Boise Interstate:
Ada County |  | Unclassifiable/Attainment.
Canyon County |  | Unclassifiable/Attainment.
ᵃ Includes Indian Country located in each county or area, except as otherwise specified.
¹ This date is 30 days after November 13, 2009, unless otherwise noted.
² This date is July 2, 2014, unless otherwise noted.

* * * * *

15. Section 81.314 is amended as follows:

a. By removing the tables titled “Illinois—PM2.5 (Annual NAAQS)” and “Illinois—PM2.5 [24-hour NAAQS]”.

b. By adding three tables titled “Illinois—1997 Annual PM2.5 NAAQS (Primary and Secondary)” and “Illinois—1997 24-hour PM2.5 NAAQS (Primary and Secondary)” and “Illinois—2006 24-hour PM2.5 NAAQS (Primary and Secondary)” before the table titled “Illinois—NO2 (1971 Annual Standard)”.

The additions read as follows:

§ 81.314 Illinois.

* * * * *

* * * * *

Illinois—1997 Annual PM2.5 NAAQS
[Primary and secondary]
Designated area | Designation ᵃ: Date ¹ | Designation ᵃ: Type | Classification: Date ² | Classification: Type
Chicago-Gary-Lake County, IL-IN: | 10/2/13 | Attainment.
Cook County
DuPage County
Grundy County (part):
Goose Lake and Aux Sable Townships
Kane County
Kendall County (part):
Oswego Township
Lake County
McHenry County
Will County
St. Louis, MO-IL:
Madison County |  | Nonattainment |  | Moderate.
Monroe County |  | Nonattainment |  | Moderate.
Randolph County (part)
Baldwin Village |  | Nonattainment |  | Moderate.
St. Clair County |  | Nonattainment |  | Moderate.
Rest of State:
Adams County |  | Unclassifiable/Attainment.
Alexander County |  | Unclassifiable/Attainment.
Bond County |  | Unclassifiable/Attainment.
Boone County |  | Unclassifiable/Attainment.
Brown County |  | Unclassifiable/Attainment.
Bureau County |  | Unclassifiable/Attainment.
Calhoun County |  | Unclassifiable/Attainment.
Carroll County |  | Unclassifiable/Attainment.
Cass County |  | Unclassifiable/Attainment.
Champaign County |  | Unclassifiable/Attainment.
Christian County |  | Unclassifiable/Attainment.
Clark County |  | Unclassifiable/Attainment.
Clay County |  | Unclassifiable/Attainment.
Clinton County |  | Unclassifiable/Attainment.
Coles County |  | Unclassifiable/Attainment.
Crawford County |  | Unclassifiable/Attainment.
Cumberland County |  | Unclassifiable/Attainment.
DeKalb County |  | Unclassifiable/Attainment.
De Witt County |  | Unclassifiable/Attainment.
Douglas County |  | Unclassifiable/Attainment.
Edgar County |  | Unclassifiable/Attainment.
Edwards County |  | Unclassifiable/Attainment.
Effingham County |  | Unclassifiable/Attainment.
Fayette County |  | Unclassifiable/Attainment.
Ford County |  | Unclassifiable/Attainment.
Franklin County |  | Unclassifiable/Attainment.
Fulton County |  | Unclassifiable/Attainment.
Gallatin County |  | Unclassifiable/Attainment.
Greene County |  | Unclassifiable/Attainment.
Grundy County (remainder) |  | Unclassifiable/Attainment.
Hamilton County |  | Unclassifiable/Attainment.
Hancock County |  | Unclassifiable/Attainment.
Hardin County |  | Unclassifiable/Attainment.
Henderson County |  | Unclassifiable/Attainment.
Henry County |  | Unclassifiable/Attainment.
Iroquois County |  | Unclassifiable/Attainment.
Jackson County |  | Unclassifiable/Attainment.
Jasper County |  | Unclassifiable/Attainment.
Jefferson County |  | Unclassifiable/Attainment.
Jersey County |  | Unclassifiable/Attainment.
Jo Daviess County |  | Unclassifiable/Attainment.
Johnson County |  | Unclassifiable/Attainment.
Kankakee County |  | Unclassifiable/Attainment.
Kendall County (remainder) |  | Unclassifiable/Attainment.
Knox County |  | Unclassifiable/Attainment.
La Salle County |  | Unclassifiable/Attainment.
Lawrence County |  | Unclassifiable/Attainment.
Lee County |  | Unclassifiable/Attainment.
Livingston County |  | Unclassifiable/Attainment.
Logan County |  | Unclassifiable/Attainment.
McDonough County |  | Unclassifiable/Attainment.
McLean County |  | Unclassifiable/Attainment.
Macon County |  | Unclassifiable/Attainment.
Macoupin County |  | Unclassifiable/Attainment.
Marion County |  | Unclassifiable/Attainment.
Marshall County |  | Unclassifiable/Attainment.
Mason County |  | Unclassifiable/Attainment.
Massac County |  | Unclassifiable/Attainment.
Menard County |  | Unclassifiable/Attainment.
Mercer County |  | Unclassifiable/Attainment.
Montgomery County |  | Unclassifiable/Attainment.
Morgan County |  | Unclassifiable/Attainment.
Moultrie County |  | Unclassifiable/Attainment.
Ogle County |  | Unclassifiable/Attainment.
Peoria County |  | Unclassifiable/Attainment.
Perry County |  | Unclassifiable/Attainment.
Piatt County |  | Unclassifiable/Attainment.
Pike County |  | Unclassifiable/Attainment.
Pope County |  | Unclassifiable/Attainment.
Pulaski County |  | Unclassifiable/Attainment.
Putnam County |  | Unclassifiable/Attainment.
Randolph County (remainder) |  | Unclassifiable/Attainment.
Richland County |  | Unclassifiable/Attainment.
Rock Island County |  | Unclassifiable/Attainment.
Saline County |  | Unclassifiable/Attainment.
Sangamon County |  | Unclassifiable/Attainment.
Schuyler County |  | Unclassifiable/Attainment.
Scott County |  | Unclassifiable/Attainment.
Shelby County |  | Unclassifiable/Attainment.
Stark County |  | Unclassifiable/Attainment.
Stephenson County |  | Unclassifiable/Attainment.
Tazewell County |  | Unclassifiable/Attainment.
Union County |  | Unclassifiable/Attainment.
Vermilion County |  | Unclassifiable/Attainment.
Wabash County |  | Unclassifiable/Attainment.
Warren County |  | Unclassifiable/Attainment.
Washington County |  | Unclassifiable/Attainment.
Wayne County |  | Unclassifiable/Attainment.
White County |  | Unclassifiable/Attainment.
Whiteside County |  | Unclassifiable/Attainment.
Williamson County |  | Unclassifiable/Attainment.
Winnebago County |  | Unclassifiable/Attainment.
Woodford County |  | Unclassifiable/Attainment.
ᵃ Includes Indian Country located in each county or area, except as otherwise specified.
¹ This date is 90 days after January 5, 2005, unless otherwise noted.
² This date is July 2, 2014, unless otherwise noted.

Illinois—1997 24-Hour PM2.5 NAAQS
[Primary and secondary]
Designated area | Designation ᵃ: Date ¹ | Designation ᵃ: Type | Classification: Date | Classification: Type
Statewide:
Adams County |  | Unclassifiable/Attainment.
Alexander County |  | Unclassifiable/Attainment.
Bond County |  | Unclassifiable/Attainment.
Boone County |  | Unclassifiable/Attainment.
Brown County |  | Unclassifiable/Attainment.
Bureau County |  | Unclassifiable/Attainment.
Calhoun County |  | Unclassifiable/Attainment.
Carroll County |  | Unclassifiable/Attainment.
Cass County |  | Unclassifiable/Attainment.
Champaign County |  | Unclassifiable/Attainment.
Christian County |  | Unclassifiable/Attainment.
Clark County |  | Unclassifiable/Attainment.
Clay County |  | Unclassifiable/Attainment.
Clinton County |  | Unclassifiable/Attainment.
Coles County |  | Unclassifiable/Attainment.
Cook County |  | Unclassifiable/Attainment.
Crawford County |  | Unclassifiable/Attainment.
Cumberland County |  | Unclassifiable/Attainment.
DeKalb County |  | Unclassifiable/Attainment.
De Witt County |  | Unclassifiable/Attainment.
Douglas County |  | Unclassifiable/Attainment.
DuPage County |  | Unclassifiable/Attainment.
Edgar County |  | Unclassifiable/Attainment.
Edwards County |  | Unclassifiable/Attainment.
Effingham County |  | Unclassifiable/Attainment.
Fayette County |  | Unclassifiable/Attainment.
Ford County |  | Unclassifiable/Attainment.
Franklin County |  | Unclassifiable/Attainment.
Fulton County |  | Unclassifiable/Attainment.
Gallatin County |  | Unclassifiable/Attainment.
Greene County |  | Unclassifiable/Attainment.
Grundy County |  | Unclassifiable/Attainment.
Hamilton County |  | Unclassifiable/Attainment.
Hancock County |  | Unclassifiable/Attainment.
Hardin County |  | Unclassifiable/Attainment.
Henderson County |  | Unclassifiable/Attainment.
Henry County |  | Unclassifiable/Attainment.
Iroquois County |  | Unclassifiable/Attainment.
Jackson County |  | Unclassifiable/Attainment.
Jasper County |  | Unclassifiable/Attainment.
Jefferson County |  | Unclassifiable/Attainment.
Jersey County |  | Unclassifiable/Attainment.
Jo Daviess County |  | Unclassifiable/Attainment.
Johnson County |  | Unclassifiable/Attainment.
Kane County |  | Unclassifiable/Attainment.
Kankakee County |  | Unclassifiable/Attainment.
Kendall County |  | Unclassifiable/Attainment.
Knox County |  | Unclassifiable/Attainment.
La Salle County |  | Unclassifiable/Attainment.
Lake County |  | Unclassifiable/Attainment.
Lawrence County |  | Unclassifiable/Attainment.
Lee County |  | Unclassifiable/Attainment.
Livingston County |  | Unclassifiable/Attainment.
Logan County |  | Unclassifiable/Attainment.
McDonough County |  | Unclassifiable/Attainment.
McHenry County |  | Unclassifiable/Attainment.
McLean County |  | Unclassifiable/Attainment.
Macon County |  | Unclassifiable/Attainment.
Macoupin County |  | Unclassifiable/Attainment.
Madison County |  | Unclassifiable/Attainment.
Marion County |  | Unclassifiable/Attainment.
Marshall County |  | Unclassifiable/Attainment.
Mason County |  | Unclassifiable/Attainment.
Massac County |  | Unclassifiable/Attainment.
Menard County |  | Unclassifiable/Attainment.
Mercer County |  | Unclassifiable/Attainment.
Monroe County |  | Unclassifiable/Attainment.
Montgomery County |  | Unclassifiable/Attainment.
Morgan County |  | Unclassifiable/Attainment.
Moultrie County |  | Unclassifiable/Attainment.
Ogle County |  | Unclassifiable/Attainment.
Peoria County |  | Unclassifiable/Attainment.
Perry County |  | Unclassifiable/Attainment.
Piatt County |  | Unclassifiable/Attainment.
Pike County |  | Unclassifiable/Attainment.
Pope County |  | Unclassifiable/Attainment.
Pulaski County |  | Unclassifiable/Attainment.
Putnam County |  | Unclassifiable/Attainment.
Randolph County |  | Unclassifiable/Attainment.
Richland County |  | Unclassifiable/Attainment.
Rock Island County |  | Unclassifiable/Attainment.
St. Clair County |  | Unclassifiable/Attainment.
Saline County |  | Unclassifiable/Attainment.
Sangamon County |  | Unclassifiable/Attainment.
Schuyler County |  | Unclassifiable/Attainment.
Scott County |  | Unclassifiable/Attainment.
Shelby County |  | Unclassifiable/Attainment.
Stark County |  | Unclassifiable/Attainment.
Stephenson County |  | Unclassifiable/Attainment.
Tazewell County |  | Unclassifiable/Attainment.
Union County |  | Unclassifiable/Attainment.
Vermilion County |  | Unclassifiable/Attainment.
Wabash County |  | Unclassifiable/Attainment.
Warren County |  | Unclassifiable/Attainment.
Washington County |  | Unclassifiable/Attainment.
Wayne County |  | Unclassifiable/Attainment.
White County |  | Unclassifiable/Attainment.
Whiteside County |  | Unclassifiable/Attainment.
Will County |  | Unclassifiable/Attainment.
Williamson County |  | Unclassifiable/Attainment.
Winnebago County |  | Unclassifiable/Attainment.
Woodford County |  | Unclassifiable/Attainment.
ᵃ Includes Indian Country located in each county or area, except as otherwise specified.
¹ This date is 90 days after January 5, 2005, unless otherwise noted.

Illinois—2006 24-Hour PM2.5 NAAQS
[Primary and secondary]
Designated area | Designation ᵃ: Date ¹ | Designation ᵃ: Type | Classification: Date | Classification: Type
Statewide:
Adams County |  | Unclassifiable/Attainment
Alexander County |  | Unclassifiable/Attainment
Bond County |  | Unclassifiable/Attainment
Boone County |  | Unclassifiable/Attainment
Brown County |  | Unclassifiable/Attainment
Bureau County |  | Unclassifiable/Attainment
Calhoun County |  | Unclassifiable/Attainment
Carroll County |  | Unclassifiable/Attainment
Cass County |  | Unclassifiable/Attainment
Champaign County |  | Unclassifiable/Attainment
Christian County |  | Unclassifiable/Attainment
Clark County |  | Unclassifiable/Attainment
Clay County |  | Unclassifiable/Attainment
Clinton County |  | Unclassifiable/Attainment
Coles County |  | Unclassifiable/Attainment
Cook County |  | Unclassifiable/Attainment
Crawford County |  | Unclassifiable/Attainment
Cumberland County |  | Unclassifiable/Attainment
DeKalb County |  | Unclassifiable/Attainment
De Witt County |  | Unclassifiable/Attainment
Douglas County |  | Unclassifiable/Attainment
DuPage County |  | Unclassifiable/Attainment
Edgar County |  | Unclassifiable/Attainment
Edwards County |  | Unclassifiable/Attainment
Effingham County |  | Unclassifiable/Attainment
Fayette County |  | Unclassifiable/Attainment
Ford County |  | Unclassifiable/Attainment
Franklin County |  | Unclassifiable/Attainment
Fulton County |  | Unclassifiable/Attainment
Gallatin County |  | Unclassifiable/Attainment
Greene County |  | Unclassifiable/Attainment
Grundy County |  | Unclassifiable/Attainment
Hamilton County |  | Unclassifiable/Attainment
Hancock County |  | Unclassifiable/Attainment
Hardin County |  | Unclassifiable/Attainment
Henderson County |  | Unclassifiable/Attainment
Henry County |  | Unclassifiable/Attainment
Iroquois County |  | Unclassifiable/Attainment
Jackson County |  | Unclassifiable/Attainment
Jasper County |  | Unclassifiable/Attainment
Jefferson County |  | Unclassifiable/Attainment
Jersey County |  | Unclassifiable/Attainment
Jo Daviess County |  | Unclassifiable/Attainment
Johnson County |  | Unclassifiable/Attainment
Kane County |  | Unclassifiable/Attainment
Kankakee County |  | Unclassifiable/Attainment
Kendall County |  | Unclassifiable/Attainment
Knox County |  | Unclassifiable/Attainment
La Salle County |  | Unclassifiable/Attainment
Lake County |  | Unclassifiable/Attainment
Lawrence County |  | Unclassifiable/Attainment
Lee County |  | Unclassifiable/Attainment
Livingston County |  | Unclassifiable/Attainment
Logan County |  | Unclassifiable/Attainment
McDonough County |  | Unclassifiable/Attainment
McHenry County |  | Unclassifiable/Attainment
McLean County |  | Unclassifiable/Attainment
Macon County |  | Unclassifiable/Attainment
Macoupin County |  | Unclassifiable/Attainment
Madison County |  | Unclassifiable/Attainment
Marion County |  | Unclassifiable/Attainment
Marshall County |  | Unclassifiable/Attainment
Mason County |  | Unclassifiable/Attainment
Massac County |  | Unclassifiable/Attainment
Menard County |  | Unclassifiable/Attainment
Mercer County |  | Unclassifiable/Attainment
Monroe County |  | Unclassifiable/Attainment
Montgomery County |  | Unclassifiable/Attainment
Morgan County |  | Unclassifiable/Attainment
Moultrie County |  | Unclassifiable/Attainment
Ogle County |  | Unclassifiable/Attainment
Peoria County |  | Unclassifiable/Attainment
Perry County |  | Unclassifiable/Attainment
Piatt County |  | Unclassifiable/Attainment
Pike County |  | Unclassifiable/Attainment
Pope County |  | Unclassifiable/Attainment
Pulaski County |  | Unclassifiable/Attainment
Putnam County |  | Unclassifiable/Attainment
Randolph County |  | Unclassifiable/Attainment
Richland County |  | Unclassifiable/Attainment
Rock Island County |  | Unclassifiable/Attainment
St. Clair County |  | Unclassifiable/Attainment
Saline County |  | Unclassifiable/Attainment
Sangamon County |  | Unclassifiable/Attainment
Schuyler County |  | Unclassifiable/Attainment
Scott County |  | Unclassifiable/Attainment
Shelby County |  | Unclassifiable/Attainment
Stark County |  | Unclassifiable/Attainment
Stephenson County |  | Unclassifiable/Attainment
Tazewell County |  | Unclassifiable/Attainment
Union County |  | Unclassifiable/Attainment
Vermilion County |  | Unclassifiable/Attainment
Wabash County |  | Unclassifiable/Attainment
Warren County |  | Unclassifiable/Attainment
Washington County |  | Unclassifiable/Attainment
Wayne County |  | Unclassifiable/Attainment
White County |  | Unclassifiable/Attainment
Whiteside County |  | Unclassifiable/Attainment
Will County |  | Unclassifiable/Attainment
Williamson County |  | Unclassifiable/Attainment
Winnebago County |  | Unclassifiable/Attainment
Woodford County |  | Unclassifiable/Attainment
ᵃ Includes Indian Country located in each county or area, except as otherwise specified.
¹ This date is 30 days after November 13, 2009, unless otherwise noted.

* * * * *

16. Section 81.315 is amended as follows:

a. By removing the tables titled “Indiana—PM2.5 (Annual NAAQS)” and “Indiana—PM2.5 [24-hour NAAQS]”.

b. By adding three tables titled “Indiana—1997 Annual PM2.5 NAAQS (Primary and Secondary)” and “Indiana—1997 24-hour PM2.5 NAAQS (Primary and Secondary)” and “Indiana—2006 24-hour PM2.5 NAAQS (Primary and Secondary)” before the table titled “Indiana—NO2 (1971 Annual Standard)”.

The additions read as follows:

§ 81.315 Indiana.

* * * * *

Indiana—1997 Annual PM2.5 NAAQS
[Primary and secondary]
Designated area | Designation ᵃ: Date ¹ | Designation ᵃ: Type | Classification: Date ² | Classification: Type
Chicago-Gary-Lake County, IL-IN | 02/06/12 | Attainment.
Lake County
Porter County
Cincinnati-Hamilton, IN | 12/23/11 | Attainment.
Dearborn County (part):
Lawrenceburg Township
Elkhart, IN:
Elkhart County |  | Unclassifiable/Attainment.
St. Joseph County |  | Unclassifiable/Attainment.
Evansville, IN | 10/27/11 | Attainment.
Dubois County
Gibson County (part):
Montgomery Township
Pike County (part):
Washington Township
Spencer County (part):
Ohio Township
Vanderburgh County
Warrick County
Indianapolis, IN | 7/11/13 | Attainment.
Hamilton County
Hendricks County
Johnson County
Marion County
Morgan County
Louisville, KY-IN:
Clark County |  | Nonattainment |  | Moderate.
Floyd County |  | Nonattainment |  | Moderate.
Jefferson County (part) |  | Nonattainment |  | Moderate.
Madison Township
Muncie, IN:
Delaware County |  | Unclassifiable/Attainment.
Rest of State:
Adams County |  | Unclassifiable/Attainment.
Allen County |  | Unclassifiable/Attainment.
Bartholomew County |  | Unclassifiable/Attainment.
Benton County |  | Unclassifiable/Attainment.
Blackford County |  | Unclassifiable/Attainment.
Boone County |  | Unclassifiable/Attainment.
Brown County |  | Unclassifiable/Attainment.
Carroll County |  | Unclassifiable/Attainment.
Cass County |  | Unclassifiable/Attainment.
Clay County |  | Unclassifiable/Attainment.
Clinton County |  | Unclassifiable/Attainment.
Crawford County |  | Unclassifiable/Attainment.
Daviess County |  | Unclassifiable/Attainment.
Dearborn County (remainder) |  | Unclassifiable/Attainment.
Decatur County |  | Unclassifiable/Attainment.
De Kalb County |  | Unclassifiable/Attainment.
Fayette County |  | Unclassifiable/Attainment.
Fountain County |  | Unclassifiable/Attainment.
Franklin County |  | Unclassifiable/Attainment.
Fulton County |  | Unclassifiable/Attainment.
Gibson County (remainder) |  | Unclassifiable/Attainment.
Grant County |  | Unclassifiable/Attainment.
Greene County |  | Unclassifiable/Attainment.
Hancock County |  | Unclassifiable/Attainment.
Harrison County |  | Unclassifiable/Attainment.
Henry County |  | Unclassifiable/Attainment.
Howard County |  | Unclassifiable/Attainment.
Huntington County |  | Unclassifiable/Attainment.
Jackson County |  | Unclassifiable/Attainment.
Jasper County |  | Unclassifiable/Attainment.
Jay County |  | Unclassifiable/Attainment.
Jefferson County (remainder) |  | Unclassifiable/Attainment.
Jennings County |  | Unclassifiable/Attainment.
Knox County |  | Unclassifiable/Attainment.
Kosciusko County |  | Unclassifiable/Attainment.
LaGrange County |  | Unclassifiable/Attainment.
La Porte County |  | Unclassifiable/Attainment.
Lawrence County |  | Unclassifiable/Attainment.
Madison County |  | Unclassifiable/Attainment.
Marshall County |  | Unclassifiable/Attainment.
Martin County |  | Unclassifiable/Attainment.
Miami County |  | Unclassifiable/Attainment.
Monroe County |  | Unclassifiable/Attainment.
Montgomery County |  | Unclassifiable/Attainment.
Newton County |  | Unclassifiable/Attainment.
Noble County |  | Unclassifiable/Attainment.
Ohio County |  | Unclassifiable/Attainment.
Orange County |  | Unclassifiable/Attainment.
Owen County |  | Unclassifiable/Attainment.
Parke County |  | Unclassifiable/Attainment.
Perry County |  | Unclassifiable/Attainment.
Pike County (remainder) |  | Unclassifiable/Attainment.
Posey County |  | Unclassifiable/Attainment.
Pulaski County |  | Unclassifiable/Attainment.
Putnam County |  | Unclassifiable/Attainment.
Randolph County |  | Unclassifiable/Attainment.
Ripley County |  | Unclassifiable/Attainment.
Rush County |  | Unclassifiable/Attainment.
Scott County |  | Unclassifiable/Attainment.
Shelby County |  | Unclassifiable/Attainment.
Spencer County (remainder) |  | Unclassifiable/Attainment.
Starke County |  | Unclassifiable/Attainment.
Steuben County |  | Unclassifiable/Attainment.
Sullivan County |  | Unclassifiable/Attainment.
Switzerland County |  | Unclassifiable/Attainment.
Tippecanoe County |  | Unclassifiable/Attainment.
Tipton County |  | Unclassifiable/Attainment.
Union County |  | Unclassifiable/Attainment.
Vermillion County |  | Unclassifiable/Attainment.
Vigo County |  | Unclassifiable/Attainment.
Wabash County |  | Unclassifiable/Attainment.
Warren County |  | Unclassifiable/Attainment.
Washington County |  | Unclassifiable/Attainment.
Wayne County |  | Unclassifiable/Attainment.
Wells County |  | Unclassifiable/Attainment.
White County |  | Unclassifiable/Attainment.
Whitley County |  | Unclassifiable/Attainment.
ᵃ Includes Indian Country located in each county or area, except as otherwise specified.
¹ This date is 90 days after January 5, 2005, unless otherwise noted.
² This date is July 2, 2014, unless otherwise noted.

Indiana—1997 24-Hour PM2.5
[Primary and secondary]
Designated area | Designation ᵃ: Date ¹ | Designation ᵃ: Type | Classification: Date | Classification: Type
Statewide:
Adams County |  | Unclassifiable/Attainment.
Allen County |  | Unclassifiable/Attainment.
Bartholomew County |  | Unclassifiable/Attainment.
Benton County |  | Unclassifiable/Attainment.
Blackford County |  | Unclassifiable/Attainment.
Boone County |  | Unclassifiable/Attainment.
Brown County |  | Unclassifiable/Attainment.
Carroll County |  | Unclassifiable/Attainment.
Cass County |  | Unclassifiable/Attainment.
Clark County |  | Unclassifiable/Attainment.
Clay County |  | Unclassifiable/Attainment.
Clinton County |  | Unclassifiable/Attainment.
Crawford County |  | Unclassifiable/Attainment.
Daviess County |  | Unclassifiable/Attainment.
Dearborn County |  | Unclassifiable/Attainment.
Decatur County |  | Unclassifiable/Attainment.
De Kalb County |  | Unclassifiable/Attainment.
Elkhart County |  | Unclassifiable/Attainment.
Delaware County |  | Unclassifiable/Attainment.
Dubois County |  | Unclassifiable/Attainment.
Elkhart County |  | Unclassifiable/Attainment.
Fayette County |  | Unclassifiable/Attainment.
Floyd County |  | Unclassifiable/Attainment.
Fountain County |  | Unclassifiable/Attainment.
Franklin County |  | Unclassifiable/Attainment.
Fulton County |  | Unclassifiable/Attainment.
Gibson County |  | Unclassifiable/Attainment.
Grant County |  | Unclassifiable/Attainment.
Greene County |  | Unclassifiable/Attainment.
Hamilton County |  | Unclassifiable/Attainment.
Hancock County |  | Unclassifiable/Attainment.
Harrison County |  | Unclassifiable/Attainment.
Hendricks County |  | Unclassifiable/Attainment.
Henry County |  | Unclassifiable/Attainment.
Howard County |  | Unclassifiable/Attainment.
Huntington County |  | Unclassifiable/Attainment.
Jackson County |  | Unclassifiable/Attainment.
Jasper County |  | Unclassifiable/Attainment.
Jay County |  | Unclassifiable/Attainment.
Jefferson County |  | Unclassifiable/Attainment.
Jennings County |  | Unclassifiable/Attainment.
Johnson County |  | Unclassifiable/Attainment.
Knox County |  | Unclassifiable/Attainment.
Kosciusko County |  | Unclassifiable/Attainment.
LaGrange County |  | Unclassifiable/Attainment.
La Porte County |  | Unclassifiable/Attainment.
Lake County |  | Unclassifiable/Attainment.
Lawrence County |  | Unclassifiable/Attainment.
Madison County |  | Unclassifiable/Attainment.
Marion County |  | Unclassifiable/Attainment.
Marshall County |  | Unclassifiable/Attainment.
Martin County |  | Unclassifiable/Attainment.
Miami County |  | Unclassifiable/Attainment.
Monroe County |  | Unclassifiable/Attainment.
Montgomery County |  | Unclassifiable/Attainment.
Morgan County |  | Unclassifiable/Attainment.
Newton County |  | Unclassifiable/Attainment.
Noble County |  | Unclassifiable/Attainment.
Ohio County |  | Unclassifiable/Attainment.
Orange County |  | Unclassifiable/Attainment.
Owen County |  | Unclassifiable/Attainment.
Parke County |  | Unclassifiable/Attainment.
Perry County |  | Unclassifiable/Attainment.
Pike County |  | Unclassifiable/Attainment.
Porter County |  | Unclassifiable/Attainment.
Posey County |  | Unclassifiable/Attainment.
Pulaski County |  | Unclassifiable/Attainment.
Putnam County |  | Unclassifiable/Attainment.
Randolph County |  | Unclassifiable/Attainment.
Ripley County |  | Unclassifiable/Attainment.
Rush County |  | Unclassifiable/Attainment.
St Joseph County |  | Unclassifiable/Attainment.
Scott County |  | Unclassifiable/Attainment.
Shelby County |  | Unclassifiable/Attainment.
Spencer County |  | Unclassifiable/Attainment.
Starke County |  | Unclassifiable/Attainment.
Steuben County |  | Unclassifiable/Attainment.
Sullivan County |  | Unclassifiable/Attainment.
Switzerland County |  | Unclassifiable/Attainment.
Tippecanoe County |  | Unclassifiable/Attainment.
Tipton County |  | Unclassifiable/Attainment.
Union County |  | Unclassifiable/Attainment.
Vandenberg County |  | Unclassifiable/Attainment.
Vermillion County |  | Unclassifiable/Attainment.
Vigo County |  | Unclassifiable/Attainment.
Wabash County |  | Unclassifiable/Attainment.
Warren County |  | Unclassifiable/Attainment.
Warrick County |  | Unclassifiable/Attainment.
Washington County |  | Unclassifiable/Attainment.
Wayne County |  | Unclassifiable/Attainment.
Wells County |  | Unclassifiable/Attainment.
White County |  | Unclassifiable/Attainment.
Whitley County |  | Unclassifiable/Attainment.
ᵃ Includes Indian Country located in each county or area, except as otherwise specified.
¹ This date is 90 days after January 5, 2005, unless otherwise noted.

Indiana—2006 24-Hour PM2.5 NAAQS
[Primary and secondary]
Designated area | Designation ᵃ: Date ¹ | Designation ᵃ: Type | Classification: Date | Classification: Type
Statewide:
Adams County |  | Unclassifiable/Attainment.
Allen County |  | Unclassifiable/Attainment.
Bartholomew County |  | Unclassifiable/Attainment.
Benton County |  | Unclassifiable/Attainment.
Blackford County |  | Unclassifiable/Attainment.
Boone County |  | Unclassifiable/Attainment.
Brown County |  | Unclassifiable/Attainment.
Carroll County |  | Unclassifiable/Attainment.
Cass County |  | Unclassifiable/Attainment.
Clark County |  | Unclassifiable/Attainment.
Clay County |  | Unclassifiable/Attainment.
Clinton County |  | Unclassifiable/Attainment.
Crawford County |  | Unclassifiable/Attainment.
Daviess County |  | Unclassifiable/Attainment.
Dearborn County |  | Unclassifiable/Attainment.
Decatur County |  | Unclassifiable/Attainment.
De Kalb County |  | Unclassifiable/Attainment.
Elkhart County |  | Unclassifiable/Attainment.
Delaware County |  | Unclassifiable/Attainment.
Dubois County |  | Unclassifiable/Attainment.
Elkhart County |  | Unclassifiable/Attainment.
Fayette County |  | Unclassifiable/Attainment.
Floyd County |  | Unclassifiable/Attainment.
Fountain County |  | Unclassifiable/Attainment.
Franklin County |  | Unclassifiable/Attainment.
Fulton County |  | Unclassifiable/Attainment.
Gibson County |  | Unclassifiable/Attainment.
Grant County |  | Unclassifiable/Attainment.
Greene County |  | Unclassifiable/Attainment.
Hamilton County |  | Unclassifiable/Attainment.
Hancock County |  | Unclassifiable/Attainment.
Harrison County |  | Unclassifiable/Attainment.
Hendricks County |  | Unclassifiable/Attainment.
Henry County |  | Unclassifiable/Attainment.
Howard County |  | Unclassifiable/Attainment.
Huntington County |  | Unclassifiable/Attainment.
Jackson County |  | Unclassifiable/Attainment.
Jasper County |  | Unclassifiable/Attainment.
Jay County |  | Unclassifiable/Attainment.
Jefferson County |  | Unclassifiable/Attainment.
Jennings County |  | Unclassifiable/Attainment.
Johnson County |  | Unclassifiable/Attainment.
Knox County |  | Unclassifiable/Attainment.
Kosciusko County |  | Unclassifiable/Attainment.
LaGrange County |  | Unclassifiable/Attainment.
La Porte County |  | Unclassifiable/Attainment.
Lake County |  | Unclassifiable/Attainment.
Lawrence County |  | Unclassifiable/Attainment.
Madison County |  | Unclassifiable/Attainment.
Marion County |  | Unclassifiable/Attainment.
Marshall County |  | Unclassifiable/Attainment.
Martin County |  | Unclassifiable/Attainment.
Miami County |  | Unclassifiable/Attainment.
Monroe County |  | Unclassifiable/Attainment.
Montgomery County |  | Unclassifiable/Attainment.
Morgan County |  | Unclassifiable/Attainment.
Newton County |  | Unclassifiable/Attainment.
Noble County |  | Unclassifiable/Attainment.
Ohio County |  | Unclassifiable/Attainment.
Orange County |  | Unclassifiable/Attainment.
Owen County |  | Unclassifiable/Attainment.
Parke County |  | Unclassifiable/Attainment.
Perry County |  | Unclassifiable/Attainment.
Pike County |  | Unclassifiable/Attainment.
Porter County |  | Unclassifiable/Attainment.
Posey County |  | Unclassifiable/Attainment.
Pulaski County |  | Unclassifiable/Attainment.
Putnam County |  | Unclassifiable/Attainment.
Randolph County |  | Unclassifiable/Attainment.
Ripley County |  | Unclassifiable/Attainment.
Rush County |  | Unclassifiable/Attainment.
St Joseph County |  | Unclassifiable/Attainment.
Scott County |  | Unclassifiable/Attainment.
Shelby County |  | Unclassifiable/Attainment.
Spencer County |  | Unclassifiable/Attainment.
Starke County |  | Unclassifiable/Attainment.
Steuben County |  | Unclassifiable/Attainment.
Sullivan County |  | Unclassifiable/Attainment.
Switzerland County |  | Unclassifiable/Attainment.
Tippecanoe County |  | Unclassifiable/Attainment.
Tipton County |  | Unclassifiable/Attainment.
Union County |  | Unclassifiable/Attainment.
Vandenberg County |  | Unclassifiable/Attainment.
Vermillion County |  | Unclassifiable/Attainment.
Vigo County |  | Unclassifiable/Attainment.
Wabash County |  | Unclassifiable/Attainment.
Warren County |  | Unclassifiable/Attainment.
Warrick County |  | Unclassifiable/Attainment.
Washington County |  | Unclassifiable/Attainment.
Wayne County |  | Unclassifiable/Attainment.
Wells County |  | Unclassifiable/Attainment.
White County |  | Unclassifiable/Attainment.
Whitley County |  | Unclassifiable/Attainment.
ᵃ Includes Indian Country located in each county or area, except as otherwise specified.
¹ This date is 30 days after November 13, 2009, unless otherwise noted.

* * * * *

17. Section 81.316 is amended as follows:

a. By removing the tables titled “Iowa—PM2.5 (Annual NAAQS)” and “Iowa—PM2.5 [24-hour NAAQS]”.

b. By adding three tables titled “Iowa—1997 Annual PM2.5 NAAQS (Primary and Secondary)” and “Iowa—1997 24-hour PM2.5 NAAQS (Primary and Secondary)” and “Iowa—2006 24-hour PM2.5 NAAQS (Primary and Secondary)” before the table titled “Iowa—NO2 (1971 Annual Standard)”.

The additions read as follows:

§ 81.316 Iowa.

* * * * *

Iowa—1997 Annual PM2.5 NAAQS
[Primary and secondary]
Designated area | Designation ᵃ: Date ¹ | Designation ᵃ: Type | Classification: Date | Classification: Type
Statewide:
Adair County |  | Unclassifiable/Attainment.
Adams County |  | Unclassifiable/Attainment.
Allamakee County |  | Unclassifiable/Attainment.
Appanoose County |  | Unclassifiable/Attainment.
Audubon County |  | Unclassifiable/Attainment.
Benton County |  | Unclassifiable/Attainment.
Black Hawk County |  | Unclassifiable/Attainment.
Boone County |  | Unclassifiable/Attainment.
Bremer County |  | Unclassifiable/Attainment.
Buchanan County |  | Unclassifiable/Attainment.
Buena Vista County |  | Unclassifiable/Attainment.
Butler County |  | Unclassifiable/Attainment.
Calhoun County |  | Unclassifiable/Attainment.
Carroll County |  | Unclassifiable/Attainment.
Cass County |  | Unclassifiable/Attainment.
Cedar County |  | Unclassifiable/Attainment.
Cerro Gordo County |  | Unclassifiable/Attainment.
Cherokee County |  | Unclassifiable/Attainment.
Chickasaw County |  | Unclassifiable/Attainment.
Clarke County |  | Unclassifiable/Attainment.
Clay County |  | Unclassifiable/Attainment.
Clayton County |  | Unclassifiable/Attainment.
Clinton County |  | Unclassifiable/Attainment.
Crawford County |  | Unclassifiable/Attainment.
Dallas County |  | Unclassifiable/Attainment.
Davis County |  | Unclassifiable/Attainment.
Decatur County |  | Unclassifiable/Attainment.
Delaware County |  | Unclassifiable/Attainment.
Des Moines County |  | Unclassifiable/Attainment.
Dickinson County |  | Unclassifiable/Attainment.
Dubuque County |  | Unclassifiable/Attainment.
Emmet County |  | Unclassifiable/Attainment.
Fayette County |  | Unclassifiable/Attainment.
Floyd County |  | Unclassifiable/Attainment.
Franklin County |  | Unclassifiable/Attainment.
Fremont County |  | Unclassifiable/Attainment.
Greene County |  | Unclassifiable/Attainment.
Grundy County |  | Unclassifiable/Attainment.
Guthrie County |  | Unclassifiable/Attainment.
Hamilton County |  | Unclassifiable/Attainment.
Hancock County |  | Unclassifiable/Attainment.
Hardin County |  | Unclassifiable/Attainment.
Harrison County |  | Unclassifiable/Attainment.
Henry County |  | Unclassifiable/Attainment.
Howard County |  | Unclassifiable/Attainment.
Humboldt County |  | Unclassifiable/Attainment.
Ida County |  | Unclassifiable/Attainment.
Iowa County |  | Unclassifiable/Attainment.
Jackson County |  | Unclassifiable/Attainment.
Jasper County |  | Unclassifiable/Attainment.
Jefferson County |  | Unclassifiable/Attainment.
Johnson County |  | Unclassifiable/Attainment.
Jones County |  | Unclassifiable/Attainment.
Keokuk County |  | Unclassifiable/Attainment.
Kossuth County |  | Unclassifiable/Attainment.
Lee County |  | Unclassifiable/Attainment.
Linn County |  | Unclassifiable/Attainment.
Louisa County |  | Unclassifiable/Attainment.
Lucas County |  | Unclassifiable/Attainment.
Lyon County |  | Unclassifiable/Attainment.
Madison County |  | Unclassifiable/Attainment.
Mahaska County |  | Unclassifiable/Attainment.
Marion County |  | Unclassifiable/Attainment.
Marshall County |  | Unclassifiable/Attainment.
Mills County |  | Unclassifiable/Attainment.
Mitchell County |  | Unclassifiable/Attainment.
Monona County |  | Unclassifiable/Attainment.
Monroe County |  | Unclassifiable/Attainment.
Montgomery County |  | Unclassifiable/Attainment.
Muscatine County |  | Unclassifiable/Attainment.
O'Brien County |  | Unclassifiable/Attainment.
Osceola County |  | Unclassifiable/Attainment.
Page County |  | Unclassifiable/Attainment.
Palo Alto County |  | Unclassifiable/Attainment.
Plymouth County |  | Unclassifiable/Attainment.
Pocahontas County |  | Unclassifiable/Attainment.
Polk County |  | Unclassifiable/Attainment.
Pottawattamie County |  | Unclassifiable/Attainment.
Poweshiek County |  | Unclassifiable/Attainment.
Ringgold County |  | Unclassifiable/Attainment.
Sac County |  | Unclassifiable/Attainment.
Scott County |  | Unclassifiable/Attainment.
Shelby County |  | Unclassifiable/Attainment.
Sioux County |  | Unclassifiable/Attainment.
Story County |  | Unclassifiable/Attainment.
Tama County |  | Unclassifiable/Attainment.
Taylor County |  | Unclassifiable/Attainment.
Union County |  | Unclassifiable/Attainment.
Van Buren County |  | Unclassifiable/Attainment.
Wapello County |  | Unclassifiable/Attainment.
Warren County |  | Unclassifiable/Attainment.
Washington County |  | Unclassifiable/Attainment.
Wayne County |  | Unclassifiable/Attainment.
Webster County |  | Unclassifiable/Attainment.
Winnebago County |  | Unclassifiable/Attainment.
Winneshiek County |  | Unclassifiable/Attainment.
Woodbury County |  | Unclassifiable/Attainment.
Worth County |  | Unclassifiable/Attainment.
Wright County |  | Unclassifiable/Attainment.
ᵃ Includes Indian Country located in each county or area, except as otherwise specified.
¹ This date is 90 days after January 5, 2005, unless otherwise noted.

Iowa—1997 24-Hour PM2.5 NAAQS
[Primary and secondary]
Designated area | Designationᵃ: Date¹ | Designationᵃ: Type | Classification: Date | Classification: Type
Statewide:
Adair County |  | Unclassifiable/Attainment
Adams County |  | Unclassifiable/Attainment
Allamakee County |  | Unclassifiable/Attainment
Appanoose County |  | Unclassifiable/Attainment
Audubon County |  | Unclassifiable/Attainment
Benton County |  | Unclassifiable/Attainment
Black Hawk County |  | Unclassifiable/Attainment
Boone County |  | Unclassifiable/Attainment
Bremer County |  | Unclassifiable/Attainment
Buchanan County |  | Unclassifiable/Attainment
Buena Vista County |  | Unclassifiable/Attainment
Butler County |  | Unclassifiable/Attainment
Calhoun County |  | Unclassifiable/Attainment
Carroll County |  | Unclassifiable/Attainment
Cass County |  | Unclassifiable/Attainment
Cedar County |  | Unclassifiable/Attainment
Cerro Gordo County |  | Unclassifiable/Attainment
Cherokee County |  | Unclassifiable/Attainment
Chickasaw County |  | Unclassifiable/Attainment
Clarke County |  | Unclassifiable/Attainment
Clay County |  | Unclassifiable/Attainment
Clayton County |  | Unclassifiable/Attainment
Clinton County |  | Unclassifiable/Attainment
Crawford County |  | Unclassifiable/Attainment
Dallas County |  | Unclassifiable/Attainment
Davis County |  | Unclassifiable/Attainment
Decatur County |  | Unclassifiable/Attainment
Delaware County |  | Unclassifiable/Attainment
Des Moines County |  | Unclassifiable/Attainment
Dickinson County |  | Unclassifiable/Attainment
Dubuque County |  | Unclassifiable/Attainment
Emmet County |  | Unclassifiable/Attainment
Fayette County |  | Unclassifiable/Attainment
Floyd County |  | Unclassifiable/Attainment
Franklin County |  | Unclassifiable/Attainment
Fremont County |  | Unclassifiable/Attainment
Greene County |  | Unclassifiable/Attainment
Grundy County |  | Unclassifiable/Attainment
Guthrie County |  | Unclassifiable/Attainment
Hamilton County |  | Unclassifiable/Attainment
Hancock County |  | Unclassifiable/Attainment
Hardin County |  | Unclassifiable/Attainment
Harrison County |  | Unclassifiable/Attainment
Henry County |  | Unclassifiable/Attainment
Howard County |  | Unclassifiable/Attainment
Humboldt County |  | Unclassifiable/Attainment
Ida County |  | Unclassifiable/Attainment
Iowa County |  | Unclassifiable/Attainment
Jackson County |  | Unclassifiable/Attainment
Jasper County |  | Unclassifiable/Attainment
Jefferson County |  | Unclassifiable/Attainment
Johnson County |  | Unclassifiable/Attainment
Jones County |  | Unclassifiable/Attainment
Keokuk County |  | Unclassifiable/Attainment
Kossuth County |  | Unclassifiable/Attainment
Lee County |  | Unclassifiable/Attainment
Linn County |  | Unclassifiable/Attainment
Louisa County |  | Unclassifiable/Attainment
Lucas County |  | Unclassifiable/Attainment
Lyon County |  | Unclassifiable/Attainment
Madison County |  | Unclassifiable/Attainment
Mahaska County |  | Unclassifiable/Attainment
Marion County |  | Unclassifiable/Attainment
Marshall County |  | Unclassifiable/Attainment
Mills County |  | Unclassifiable/Attainment
Mitchell County |  | Unclassifiable/Attainment
Monona County |  | Unclassifiable/Attainment
Monroe County |  | Unclassifiable/Attainment
Montgomery County |  | Unclassifiable/Attainment
Muscatine County |  | Unclassifiable/Attainment
O'Brien County |  | Unclassifiable/Attainment
Osceola County |  | Unclassifiable/Attainment
Page County |  | Unclassifiable/Attainment
Palo Alto County |  | Unclassifiable/Attainment
Plymouth County |  | Unclassifiable/Attainment
Pocahontas County |  | Unclassifiable/Attainment
Polk County |  | Unclassifiable/Attainment
Pottawattamie County |  | Unclassifiable/Attainment
Poweshiek County |  | Unclassifiable/Attainment
Ringgold County |  | Unclassifiable/Attainment
Sac County |  | Unclassifiable/Attainment
Scott County |  | Unclassifiable/Attainment
Shelby County |  | Unclassifiable/Attainment
Sioux County |  | Unclassifiable/Attainment
Story County |  | Unclassifiable/Attainment
Tama County |  | Unclassifiable/Attainment
Taylor County |  | Unclassifiable/Attainment
Union County |  | Unclassifiable/Attainment
Van Buren County |  | Unclassifiable/Attainment
Wapello County |  | Unclassifiable/Attainment
Warren County |  | Unclassifiable/Attainment
Washington County |  | Unclassifiable/Attainment
Wayne County |  | Unclassifiable/Attainment
Webster County |  | Unclassifiable/Attainment
Winnebago County |  | Unclassifiable/Attainment
Winneshiek County |  | Unclassifiable/Attainment
Woodbury County |  | Unclassifiable/Attainment
Worth County |  | Unclassifiable/Attainment
Wright County |  | Unclassifiable/Attainment
ᵃ Includes Indian Country located in each county or area, except as otherwise specified.
¹ This date is 90 days after January 5, 2005, unless otherwise noted.

Iowa—2006 24-Hour PM2.5 NAAQS
[Primary and secondary]
Designated area | Designationᵃ: Date¹ | Designationᵃ: Type | Classification: Date | Classification: Type
Statewide:
Adair County |  | Unclassifiable/Attainment.
Adams County |  | Unclassifiable/Attainment
Allamakee County |  | Unclassifiable/Attainment
Appanoose County |  | Unclassifiable/Attainment
Audubon County |  | Unclassifiable/Attainment
Benton County |  | Unclassifiable/Attainment
Black Hawk County |  | Unclassifiable/Attainment
Boone County |  | Unclassifiable/Attainment
Bremer County |  | Unclassifiable/Attainment
Buchanan County |  | Unclassifiable/Attainment
Buena Vista County |  | Unclassifiable/Attainment
Butler County |  | Unclassifiable/Attainment
Calhoun County |  | Unclassifiable/Attainment
Carroll County |  | Unclassifiable/Attainment
Cass County |  | Unclassifiable/Attainment
Cedar County |  | Unclassifiable/Attainment
Cerro Gordo County |  | Unclassifiable/Attainment
Cherokee County |  | Unclassifiable/Attainment
Chickasaw County |  | Unclassifiable/Attainment
Clarke County |  | Unclassifiable/Attainment
Clay County |  | Unclassifiable/Attainment
Clayton County |  | Unclassifiable/Attainment
Clinton County |  | Unclassifiable/Attainment
Crawford County |  | Unclassifiable/Attainment
Dallas County |  | Unclassifiable/Attainment
Davis County |  | Unclassifiable/Attainment
Decatur County |  | Unclassifiable/Attainment
Delaware County |  | Unclassifiable/Attainment
Des Moines County |  | Unclassifiable/Attainment
Dickinson County |  | Unclassifiable/Attainment
Dubuque County |  | Unclassifiable/Attainment
Emmet County |  | Unclassifiable/Attainment
Fayette County |  | Unclassifiable/Attainment
Floyd County |  | Unclassifiable/Attainment
Franklin County |  | Unclassifiable/Attainment
Fremont County |  | Unclassifiable/Attainment
Greene County |  | Unclassifiable/Attainment
Grundy County |  | Unclassifiable/Attainment
Guthrie County |  | Unclassifiable/Attainment
Hamilton County |  | Unclassifiable/Attainment
Hancock County |  | Unclassifiable/Attainment
Hardin County |  | Unclassifiable/Attainment
Harrison County |  | Unclassifiable/Attainment
Henry County |  | Unclassifiable/Attainment
Howard County |  | Unclassifiable/Attainment
Humboldt County |  | Unclassifiable/Attainment
Ida County |  | Unclassifiable/Attainment
Iowa County |  | Unclassifiable/Attainment
Jackson County |  | Unclassifiable/Attainment
Jasper County |  | Unclassifiable/Attainment
Jefferson County |  | Unclassifiable/Attainment
Johnson County |  | Unclassifiable/Attainment
Jones County |  | Unclassifiable/Attainment
Keokuk County |  | Unclassifiable/Attainment
Kossuth County |  | Unclassifiable/Attainment
Lee County |  | Unclassifiable/Attainment
Linn County |  | Unclassifiable/Attainment
Louisa County |  | Unclassifiable/Attainment
Lucas County |  | Unclassifiable/Attainment
Lyon County |  | Unclassifiable/Attainment
Madison County |  | Unclassifiable/Attainment
Mahaska County |  | Unclassifiable/Attainment
Marion County |  | Unclassifiable/Attainment
Marshall County |  | Unclassifiable/Attainment
Mills County |  | Unclassifiable/Attainment
Mitchell County |  | Unclassifiable/Attainment
Monona County |  | Unclassifiable/Attainment
Monroe County |  | Unclassifiable/Attainment
Montgomery County |  | Unclassifiable/Attainment
Muscatine County |  | Unclassifiable/Attainment
O'Brien County |  | Unclassifiable/Attainment
Osceola County |  | Unclassifiable/Attainment
Page County |  | Unclassifiable/Attainment
Palo Alto County |  | Unclassifiable/Attainment
Plymouth County |  | Unclassifiable/Attainment
Pocahontas County |  | Unclassifiable/Attainment
Polk County |  | Unclassifiable/Attainment
Pottawattamie County |  | Unclassifiable/Attainment
Poweshiek County |  | Unclassifiable/Attainment
Ringgold County |  | Unclassifiable/Attainment
Sac County |  | Unclassifiable/Attainment
Scott County |  | Unclassifiable/Attainment
Shelby County |  | Unclassifiable/Attainment
Sioux County |  | Unclassifiable/Attainment
Story County |  | Unclassifiable/Attainment
Tama County |  | Unclassifiable/Attainment
Taylor County |  | Unclassifiable/Attainment
Union County |  | Unclassifiable/Attainment
Van Buren County |  | Unclassifiable/Attainment
Wapello County |  | Unclassifiable/Attainment
Warren County |  | Unclassifiable/Attainment
Washington County |  | Unclassifiable/Attainment
Wayne County |  | Unclassifiable/Attainment
Webster County |  | Unclassifiable/Attainment
Winnebago County |  | Unclassifiable/Attainment
Winneshiek County |  | Unclassifiable/Attainment
Woodbury County |  | Unclassifiable/Attainment
Worth County |  | Unclassifiable/Attainment
Wright County |  | Unclassifiable/Attainment
ᵃIncludes Indian Country located in each county or area, except as otherwise specified.
¹This date is 30 days after November 13, 2009, unless otherwise noted.

* * * * *

18. Section 81.317 is amended as follows:

a. By removing the tables titled “Kansas—PM2.5 (Annual NAAQS)” and “Kansas—PM2.5 [24-hour NAAQS]”.

b. By adding three tables titled “Kansas—1997 Annual PM2.5 NAAQS (Primary and Secondary)” and “Kansas—1997 24-hour PM2.5 NAAQS (Primary and Secondary)” and “Kansas—2006 24-hour PM2.5 NAAQS (Primary and Secondary)” before the table titled “Kansas—NO2 (1971 Annual Standard)”

The additions read as follows:

§ 81.317 Kansas.

* * * * *

Kansas—1997 Annual PM2.5 NAAQS
[Primary and secondary]
Designated area | Designation ᵃ: Date ¹ | Designation ᵃ: Type | Classification: Date | Classification: Type
Statewide:
Allen County |  | Unclassifiable/Attainment.
Anderson County |  | Unclassifiable/Attainment.
Atchison County |  | Unclassifiable/Attainment.
Barber County |  | Unclassifiable/Attainment.
Barton County |  | Unclassifiable/Attainment.
Bourbon County |  | Unclassifiable/Attainment.
Brown County |  | Unclassifiable/Attainment.
Butler County |  | Unclassifiable/Attainment.
Chase County |  | Unclassifiable/Attainment.
Chautauqua County |  | Unclassifiable/Attainment.
Cherokee County |  | Unclassifiable/Attainment.
Cheyenne County |  | Unclassifiable/Attainment.
Clark County |  | Unclassifiable/Attainment.
Clay County |  | Unclassifiable/Attainment.
Cloud County |  | Unclassifiable/Attainment.
Coffey County |  | Unclassifiable/Attainment.
Comanche County |  | Unclassifiable/Attainment.
Cowley County |  | Unclassifiable/Attainment.
Crawford County |  | Unclassifiable/Attainment.
Decatur County |  | Unclassifiable/Attainment.
Dickinson County |  | Unclassifiable/Attainment.
Doniphan County |  | Unclassifiable/Attainment.
Douglas County |  | Unclassifiable/Attainment.
Edwards County |  | Unclassifiable/Attainment.
Elk County |  | Unclassifiable/Attainment.
Ellis County |  | Unclassifiable/Attainment.
Ellsworth County |  | Unclassifiable/Attainment.
Finney County |  | Unclassifiable/Attainment.
Ford County |  | Unclassifiable/Attainment.
Franklin County |  | Unclassifiable/Attainment.
Geary County |  | Unclassifiable/Attainment.
Gove County |  | Unclassifiable/Attainment.
Graham County |  | Unclassifiable/Attainment.
Grant County |  | Unclassifiable/Attainment.
Gray County |  | Unclassifiable/Attainment.
Greeley County |  | Unclassifiable/Attainment.
Greenwood County |  | Unclassifiable/Attainment.
Hamilton County |  | Unclassifiable/Attainment.
Harper County |  | Unclassifiable/Attainment.
Harvey County |  | Unclassifiable/Attainment.
Haskell County |  | Unclassifiable/Attainment.
Hodgeman County |  | Unclassifiable/Attainment.
Jackson County |  | Unclassifiable/Attainment.
Jefferson County |  | Unclassifiable/Attainment.
Jewell County |  | Unclassifiable/Attainment.
Johnson County |  | Unclassifiable/Attainment.
Kearny County |  | Unclassifiable/Attainment.
Kingman County |  | Unclassifiable/Attainment.
Kiowa County |  | Unclassifiable/Attainment.
Labette County |  | Unclassifiable/Attainment.
Lane County |  | Unclassifiable/Attainment.
Leavenworth County |  | Unclassifiable/Attainment.
Lincoln County |  | Unclassifiable/Attainment.
Linn County |  | Unclassifiable/Attainment.
Logan County |  | Unclassifiable/Attainment.
Lyon County |  | Unclassifiable/Attainment.
McPherson County |  | Unclassifiable/Attainment.
Marion County |  | Unclassifiable/Attainment.
Marshall County |  | Unclassifiable/Attainment.
Meade County |  | Unclassifiable/Attainment.
Miami County |  | Unclassifiable/Attainment.
Mitchell County |  | Unclassifiable/Attainment.
Montgomery County |  | Unclassifiable/Attainment.
Morris County |  | Unclassifiable/Attainment.
Morton County |  | Unclassifiable/Attainment.
Nemaha County |  | Unclassifiable/Attainment.
Neosho County |  | Unclassifiable/Attainment.
Ness County |  | Unclassifiable/Attainment.
Norton County |  | Unclassifiable/Attainment.
Osage County |  | Unclassifiable/Attainment.
Osborne County |  | Unclassifiable/Attainment.
Ottawa County |  | Unclassifiable/Attainment.
Pawnee County |  | Unclassifiable/Attainment.
Phillips County |  | Unclassifiable/Attainment.
Pottawatomie County |  | Unclassifiable/Attainment.
Pratt County |  | Unclassifiable/Attainment.
Rawlins County |  | Unclassifiable/Attainment.
Reno County |  | Unclassifiable/Attainment.
Republic County |  | Unclassifiable/Attainment.
Rice County |  | Unclassifiable/Attainment.
Riley County |  | Unclassifiable/Attainment.
Rooks County |  | Unclassifiable/Attainment.
Rush County |  | Unclassifiable/Attainment.
Russell County |  | Unclassifiable/Attainment.
Saline County |  | Unclassifiable/Attainment.
Scott County |  | Unclassifiable/Attainment.
Sedgwick County |  | Unclassifiable/Attainment.
Seward County |  | Unclassifiable/Attainment.
Shawnee County |  | Unclassifiable/Attainment.
Sheridan County |  | Unclassifiable/Attainment.
Sherman County |  | Unclassifiable/Attainment.
Smith County |  | Unclassifiable/Attainment.
Stafford County |  | Unclassifiable/Attainment.
Stanton County |  | Unclassifiable/Attainment.
Stevens County |  | Unclassifiable/Attainment.
Sumner County |  | Unclassifiable/Attainment.
Thomas County |  | Unclassifiable/Attainment.
Trego County |  | Unclassifiable/Attainment.
Wabaunsee County |  | Unclassifiable/Attainment.
Wallace County |  | Unclassifiable/Attainment.
Washington County |  | Unclassifiable/Attainment.
Wichita County |  | Unclassifiable/Attainment.
Wilson County |  | Unclassifiable/Attainment.
Woodson County |  | Unclassifiable/Attainment.
Wyandotte County |  | Unclassifiable/Attainment.
ᵃ Includes Indian Country located in each county or area, except as otherwise specified.
¹ This date is 90 days after January 5, 2005, unless otherwise noted.

Kansas—1997 24-Hour PM2.5 NAAQS
[Primary and secondary]
Designated area | Designation ᵃ: Date ¹ | Designation ᵃ: Type | Classification: Date | Classification: Type
Statewide:
Allen County |  | Unclassifiable/Attainment.
Anderson County |  | Unclassifiable/Attainment.
Atchison County |  | Unclassifiable/Attainment.
Barber County |  | Unclassifiable/Attainment.
Barton County |  | Unclassifiable/Attainment.
Bourbon County |  | Unclassifiable/Attainment.
Brown County |  | Unclassifiable/Attainment.
Butler County |  | Unclassifiable/Attainment.
Chase County |  | Unclassifiable/Attainment.
Chautauqua County |  | Unclassifiable/Attainment.
Cherokee County |  | Unclassifiable/Attainment.
Cheyenne County |  | Unclassifiable/Attainment.
Clark County |  | Unclassifiable/Attainment.
Clay County |  | Unclassifiable/Attainment.
Cloud County |  | Unclassifiable/Attainment.
Coffey County |  | Unclassifiable/Attainment.
Comanche County |  | Unclassifiable/Attainment.
Cowley County |  | Unclassifiable/Attainment.
Crawford County |  | Unclassifiable/Attainment.
Decatur County |  | Unclassifiable/Attainment.
Dickinson County |  | Unclassifiable/Attainment.
Doniphan County |  | Unclassifiable/Attainment.
Douglas County |  | Unclassifiable/Attainment.
Edwards County |  | Unclassifiable/Attainment.
Elk County |  | Unclassifiable/Attainment.
Ellis County |  | Unclassifiable/Attainment.
Ellsworth County |  | Unclassifiable/Attainment.
Finney County |  | Unclassifiable/Attainment.
Ford County |  | Unclassifiable/Attainment.
Franklin County |  | Unclassifiable/Attainment.
Geary County |  | Unclassifiable/Attainment.
Gove County |  | Unclassifiable/Attainment.
Graham County |  | Unclassifiable/Attainment.
Grant County |  | Unclassifiable/Attainment.
Gray County |  | Unclassifiable/Attainment.
Greeley County |  | Unclassifiable/Attainment.
Greenwood County |  | Unclassifiable/Attainment.
Hamilton County |  | Unclassifiable/Attainment.
Harper County |  | Unclassifiable/Attainment.
Harvey County |  | Unclassifiable/Attainment.
Haskell County |  | Unclassifiable/Attainment.
Hodgeman County |  | Unclassifiable/Attainment.
Jackson County |  | Unclassifiable/Attainment.
Jefferson County |  | Unclassifiable/Attainment.
Jewell County |  | Unclassifiable/Attainment.
Johnson County |  | Unclassifiable/Attainment.
Kearny County |  | Unclassifiable/Attainment.
Kingman County |  | Unclassifiable/Attainment.
Kiowa County |  | Unclassifiable/Attainment.
Labette County |  | Unclassifiable/Attainment.
Lane County |  | Unclassifiable/Attainment.
Leavenworth County |  | Unclassifiable/Attainment.
Lincoln County |  | Unclassifiable/Attainment.
Linn County |  | Unclassifiable/Attainment.
Logan County |  | Unclassifiable/Attainment.
Lyon County |  | Unclassifiable/Attainment.
McPherson County |  | Unclassifiable/Attainment.
Marion County |  | Unclassifiable/Attainment.
Marshall County |  | Unclassifiable/Attainment.
Meade County |  | Unclassifiable/Attainment.
Miami County |  | Unclassifiable/Attainment.
Mitchell County |  | Unclassifiable/Attainment.
Montgomery County |  | Unclassifiable/Attainment.
Morris County |  | Unclassifiable/Attainment.
Morton County |  | Unclassifiable/Attainment.
Nemaha County |  | Unclassifiable/Attainment.
Neosho County |  | Unclassifiable/Attainment.
Ness County |  | Unclassifiable/Attainment.
Norton County |  | Unclassifiable/Attainment.
Osage County |  | Unclassifiable/Attainment.
Osborne County |  | Unclassifiable/Attainment.
Ottawa County |  | Unclassifiable/Attainment.
Pawnee County |  | Unclassifiable/Attainment.
Phillips County |  | Unclassifiable/Attainment.
Pottawatomie County |  | Unclassifiable/Attainment.
Pratt County |  | Unclassifiable/Attainment.
Rawlins County |  | Unclassifiable/Attainment.
Reno County |  | Unclassifiable/Attainment.
Republic County |  | Unclassifiable/Attainment.
Rice County |  | Unclassifiable/Attainment.
Riley County |  | Unclassifiable/Attainment.
Rooks County |  | Unclassifiable/Attainment.
Rush County |  | Unclassifiable/Attainment.
Russell County |  | Unclassifiable/Attainment.
Saline County |  | Unclassifiable/Attainment.
Scott County |  | Unclassifiable/Attainment.
Sedgwick County |  | Unclassifiable/Attainment.
Seward County |  | Unclassifiable/Attainment.
Shawnee County |  | Unclassifiable/Attainment.
Sheridan County |  | Unclassifiable/Attainment.
Sherman County |  | Unclassifiable/Attainment.
Smith County |  | Unclassifiable/Attainment.
Stafford County |  | Unclassifiable/Attainment.
Stanton County |  | Unclassifiable/Attainment.
Stevens County |  | Unclassifiable/Attainment.
Sumner County |  | Unclassifiable/Attainment.
Thomas County |  | Unclassifiable/Attainment.
Trego County |  | Unclassifiable/Attainment.
Wabaunsee County |  | Unclassifiable/Attainment.
Wallace County |  | Unclassifiable/Attainment.
Washington County |  | Unclassifiable/Attainment.
Wichita County |  | Unclassifiable/Attainment.
Wilson County |  | Unclassifiable/Attainment.
Woodson County |  | Unclassifiable/Attainment.
Wyandotte County |  | Unclassifiable/Attainment.
ᵃ Includes Indian Country located in each county or area, except as otherwise specified.
¹ This date is 90 days after January 5, 2005, unless otherwise noted.

Kansas—2006 24-Hour PM2.5 NAAQS
[Primary and secondary]
Designated area | Designation ᵃ: Date ¹ | Designation ᵃ: Type | Classification: Date | Classification: Type
Statewide:
Allen County |  | Unclassifiable/Attainment.
Anderson County |  | Unclassifiable/Attainment.
Atchison County |  | Unclassifiable/Attainment.
Barber County |  | Unclassifiable/Attainment.
Barton County |  | Unclassifiable/Attainment.
Bourbon County |  | Unclassifiable/Attainment.
Brown County |  | Unclassifiable/Attainment.
Butler County |  | Unclassifiable/Attainment.
Chase County |  | Unclassifiable/Attainment.
Chautauqua County |  | Unclassifiable/Attainment.
Cherokee County |  | Unclassifiable/Attainment.
Cheyenne County |  | Unclassifiable/Attainment.
Clark County |  | Unclassifiable/Attainment.
Clay County |  | Unclassifiable/Attainment.
Cloud County |  | Unclassifiable/Attainment.
Coffey County |  | Unclassifiable/Attainment.
Comanche County |  | Unclassifiable/Attainment.
Cowley County |  | Unclassifiable/Attainment.
Crawford County |  | Unclassifiable/Attainment.
Decatur County |  | Unclassifiable/Attainment.
Dickinson County |  | Unclassifiable/Attainment.
Doniphan County |  | Unclassifiable/Attainment.
Douglas County |  | Unclassifiable/Attainment.
Edwards County |  | Unclassifiable/Attainment.
Elk County |  | Unclassifiable/Attainment.
Ellis County |  | Unclassifiable/Attainment.
Ellsworth County |  | Unclassifiable/Attainment.
Finney County |  | Unclassifiable/Attainment.
Ford County |  | Unclassifiable/Attainment.
Franklin County |  | Unclassifiable/Attainment.
Geary County |  | Unclassifiable/Attainment.
Gove County |  | Unclassifiable/Attainment.
Graham County |  | Unclassifiable/Attainment.
Grant County |  | Unclassifiable/Attainment.
Gray County |  | Unclassifiable/Attainment.
Greeley County |  | Unclassifiable/Attainment.
Greenwood County |  | Unclassifiable/Attainment.
Hamilton County |  | Unclassifiable/Attainment.
Harper County |  | Unclassifiable/Attainment.
Harvey County |  | Unclassifiable/Attainment.
Haskell County |  | Unclassifiable/Attainment.
Hodgeman County |  | Unclassifiable/Attainment.
Jackson County |  | Unclassifiable/Attainment.
Jefferson County |  | Unclassifiable/Attainment.
Jewell County |  | Unclassifiable/Attainment.
Johnson County |  | Unclassifiable/Attainment.
Kearny County |  | Unclassifiable/Attainment.
Kingman County |  | Unclassifiable/Attainment.
Kiowa County |  | Unclassifiable/Attainment.
Labette County |  | Unclassifiable/Attainment.
Lane County |  | Unclassifiable/Attainment.
Leavenworth County |  | Unclassifiable/Attainment.
Lincoln County |  | Unclassifiable/Attainment.
Linn County |  | Unclassifiable/Attainment.
Logan County |  | Unclassifiable/Attainment.
Lyon County |  | Unclassifiable/Attainment.
McPherson County |  | Unclassifiable/Attainment.
Marion County |  | Unclassifiable/Attainment.
Marshall County |  | Unclassifiable/Attainment.
Meade County |  | Unclassifiable/Attainment.
Miami County |  | Unclassifiable/Attainment.
Mitchell County |  | Unclassifiable/Attainment.
Montgomery County |  | Unclassifiable/Attainment.
Morris County |  | Unclassifiable/Attainment.
Morton County |  | Unclassifiable/Attainment.
Nemaha County |  | Unclassifiable/Attainment.
Neosho County |  | Unclassifiable/Attainment.
Ness County |  | Unclassifiable/Attainment.
Norton County |  | Unclassifiable/Attainment.
Osage County |  | Unclassifiable/Attainment.
Osborne County |  | Unclassifiable/Attainment.
Ottawa County |  | Unclassifiable/Attainment.
Pawnee County |  | Unclassifiable/Attainment.
Phillips County |  | Unclassifiable/Attainment.
Pottawatomie County |  | Unclassifiable/Attainment.
Pratt County |  | Unclassifiable/Attainment.
Rawlins County |  | Unclassifiable/Attainment.
Reno County |  | Unclassifiable/Attainment.
Republic County |  | Unclassifiable/Attainment.
Rice County |  | Unclassifiable/Attainment.
Riley County |  | Unclassifiable/Attainment.
Rooks County |  | Unclassifiable/Attainment.
Rush County |  | Unclassifiable/Attainment.
Russell County |  | Unclassifiable/Attainment.
Saline County |  | Unclassifiable/Attainment.
Scott County |  | Unclassifiable/Attainment.
Sedgwick County |  | Unclassifiable/Attainment.
Seward County |  | Unclassifiable/Attainment.
Shawnee County |  | Unclassifiable/Attainment.
Sheridan County |  | Unclassifiable/Attainment.
Sherman County |  | Unclassifiable/Attainment.
Smith County |  | Unclassifiable/Attainment.
Stafford County |  | Unclassifiable/Attainment.
Stanton County |  | Unclassifiable/Attainment.
Stevens County |  | Unclassifiable/Attainment.
Sumner County |  | Unclassifiable/Attainment.
Thomas County |  | Unclassifiable/Attainment.
Trego County |  | Unclassifiable/Attainment.
Wabaunsee County |  | Unclassifiable/Attainment.
Wallace County |  | Unclassifiable/Attainment.
Washington County |  | Unclassifiable/Attainment.
Wichita County |  | Unclassifiable/Attainment.
Wilson County |  | Unclassifiable/Attainment.
Woodson County |  | Unclassifiable/Attainment.
Wyandotte County |  | Unclassifiable/Attainment.
ᵃ Includes Indian Country located in each county or area, except as otherwise specified.
¹ This date is 30 days after November 13, 2009, unless otherwise noted.

* * * * *

19. Section 81.318 is amended as follows:

a. By removing the tables titled “Kentucky—PM2.5 (Annual NAAQS)” and “Kentucky—PM2.5 [24-hour NAAQS]”.

b. By adding three tables titled “Kentucky—1997 Annual PM2.5 NAAQS (Primary and Secondary)” and “Kentucky—1997 24-hour PM2.5 NAAQS (Primary and Secondary)” and “Kentucky—2006 24-hour PM2.5 NAAQS (Primary and Secondary)” before the table titled “Kentucky—NO2 (1971 Annual Standard)”.

The additions read as follows:

§ 81.318 Kentucky.

* * * * *

Kentucky—1997 Annual PM2.5 NAAQS
[Primary and secondary]
Designated area | Designation ᵃ: Date ¹ | Designation ᵃ: Type | Classification: Date ² | Classification: Type
Cincinnati-Hamilton, OH-KY-IN:
Boone County | 12/15/11 | Attainment.
Campbell County | 12/15/11 | Attainment.
Kenton County | 12/15/11 | Attainment.
Huntington-Ashland, WV-KY-OH:
Boyd County | 12/26/12 | Attainment.
Lawrence County (part) | 12/26/12 | Attainment.
The area described by U.S. Census 2000 block group identifier 21-127-9901-6.
Louisville, KY-IN:
Bullitt County |  | Nonattainment |  | Moderate.
Jefferson County |  | Nonattainment |  | Moderate.
Rest of State:
Adair County |  | Unclassifiable/Attainment.
Allen County |  | Unclassifiable/Attainment.
Anderson County |  | Unclassifiable/Attainment.
Ballard County |  | Unclassifiable/Attainment.
Barren County |  | Unclassifiable/Attainment.
Bath County |  | Unclassifiable/Attainment.
Bell County |  | Unclassifiable/Attainment.
Bourbon County |  | Unclassifiable/Attainment.
Boyle County |  | Unclassifiable/Attainment.
Bracken County |  | Unclassifiable/Attainment.
Breathitt County |  | Unclassifiable/Attainment.
Breckinridge County |  | Unclassifiable/Attainment.
Butler County |  | Unclassifiable/Attainment.
Caldwell County |  | Unclassifiable/Attainment.
Calloway County |  | Unclassifiable/Attainment.
Carlisle County |  | Unclassifiable/Attainment.
Carroll County |  | Unclassifiable/Attainment.
Carter County |  | Unclassifiable/Attainment.
Casey County |  | Unclassifiable/Attainment.
Christian County |  | Unclassifiable/Attainment.
Clark County |  | Unclassifiable/Attainment.
Clay County |  | Unclassifiable/Attainment.
Clinton County |  | Unclassifiable/Attainment.
Crittenden County |  | Unclassifiable/Attainment.
Cumberland County |  | Unclassifiable/Attainment.
Daviess County |  | Unclassifiable/Attainment.
Edmonson County |  | Unclassifiable/Attainment.
Elliott County |  | Unclassifiable/Attainment.
Estill County |  | Unclassifiable/Attainment.
Fayette County |  | Unclassifiable/Attainment.
Fleming County |  | Unclassifiable/Attainment.
Floyd County |  | Unclassifiable/Attainment.
Franklin County |  | Unclassifiable/Attainment.
Fulton County |  | Unclassifiable/Attainment.
Gallatin County |  | Unclassifiable/Attainment.
Garrard County |  | Unclassifiable/Attainment.
Grant County |  | Unclassifiable/Attainment.
Graves County |  | Unclassifiable/Attainment.
Grayson County |  | Unclassifiable/Attainment.
Green County |  | Unclassifiable/Attainment.
Greenup County |  | Unclassifiable/Attainment.
Hancock County |  | Unclassifiable/Attainment.
Hardin County |  | Unclassifiable/Attainment.
Harlan County |  | Unclassifiable/Attainment.
Harrison County |  | Unclassifiable/Attainment.
Hart County |  | Unclassifiable/Attainment.
Henderson County |  | Unclassifiable/Attainment.
Henry County |  | Unclassifiable/Attainment.
Hickman County |  | Unclassifiable/Attainment.
Hopkins County |  | Unclassifiable/Attainment.
Jackson County |  | Unclassifiable/Attainment.
Jessamine County |  | Unclassifiable/Attainment.
Johnson County |  | Unclassifiable/Attainment.
Knott County |  | Unclassifiable/Attainment.
Knox County |  | Unclassifiable/Attainment.
Larue County |  | Unclassifiable/Attainment.
Laurel County |  | Unclassifiable/Attainment.
Lawrence County (remainder) |  | Unclassifiable/Attainment.
Lee County |  | Unclassifiable/Attainment.
Leslie County |  | Unclassifiable/Attainment.
Letcher County |  | Unclassifiable/Attainment.
Lewis County |  | Unclassifiable/Attainment.
Lincoln County |  | Unclassifiable/Attainment.
Livingston County |  | Unclassifiable/Attainment.
Logan County |  | Unclassifiable/Attainment.
Lyon County |  | Unclassifiable/Attainment.
McCracken County |  | Unclassifiable/Attainment.
McCreary County |  | Unclassifiable/Attainment.
McLean County |  | Unclassifiable/Attainment.
Madison County |  | Unclassifiable/Attainment.
Magoffin County |  | Unclassifiable/Attainment.
Marion County |  | Unclassifiable/Attainment.
Marshall County |  | Unclassifiable/Attainment.
Martin County |  | Unclassifiable/Attainment.
Mason County |  | Unclassifiable/Attainment.
Meade County |  | Unclassifiable/Attainment.
Menifee County |  | Unclassifiable/Attainment.
Mercer County |  | Unclassifiable/Attainment.
The area described by U.S. Census 2000 block group identifier 21-167-9605-1.
Metcalfe County |  | Unclassifiable/Attainment.
Monroe County |  | Unclassifiable/Attainment.
Montgomery County |  | Unclassifiable/Attainment.
Morgan County |  | Unclassifiable/Attainment.
Muhlenberg County |  | Unclassifiable/Attainment.
Nelson County |  | Unclassifiable/Attainment.
Nicholas County |  | Unclassifiable/Attainment.
Ohio County |  | Unclassifiable/Attainment.
Oldham County |  | Unclassifiable/Attainment.
Owen County |  | Unclassifiable/Attainment.
Owsley County |  | Unclassifiable/Attainment.
Pendleton County |  | Unclassifiable/Attainment.
Perry County |  | Unclassifiable/Attainment.
Pike County |  | Unclassifiable/Attainment.
Powell County |  | Unclassifiable/Attainment.
Pulaski County |  | Unclassifiable/Attainment.
Robertson County |  | Unclassifiable/Attainment.
Rockcastle County |  | Unclassifiable/Attainment.
Rowan County |  | Unclassifiable/Attainment.
Russell County |  | Unclassifiable/Attainment.
Scott County |  | Unclassifiable/Attainment.
Shelby County |  | Unclassifiable/Attainment.
Simpson County |  | Unclassifiable/Attainment.
Spencer County |  | Unclassifiable/Attainment.
Taylor County |  | Unclassifiable/Attainment.
Todd County |  | Unclassifiable/Attainment.
Trigg County |  | Unclassifiable/Attainment.
Trimble County |  | Unclassifiable/Attainment.
Union County |  | Unclassifiable/Attainment.
Warren County |  | Unclassifiable/Attainment.
Washington County |  | Unclassifiable/Attainment.
Wayne County |  | Unclassifiable/Attainment.
Webster County |  | Unclassifiable/Attainment.
Whitley County |  | Unclassifiable/Attainment.
Wolfe County |  | Unclassifiable/Attainment.
Woodford County |  | Unclassifiable/Attainment.
ᵃ Includes Indian Country located in each county or area, except as otherwise specified.
¹ This date is 90 days after January 5, 2005, unless otherwise noted.
² This date is July 2, 2014, unless otherwise noted.

Kentucky—1997 24-Hour PM2.5 NAAQS
[Primary and secondary]
Designated area | Designation ᵃ: Date ¹ | Designation ᵃ: Type | Classification: Date | Classification: Type
Statewide:
Adair County |  | Unclassifiable/Attainment
Allen County |  | Unclassifiable/Attainment
Anderson County |  | Unclassifiable/Attainment
Ballard County |  | Unclassifiable/Attainment
Barren County |  | Unclassifiable/Attainment
Bath County |  | Unclassifiable/Attainment
Bell County |  | Unclassifiable/Attainment
Boone County |  | Unclassifiable/Attainment
Bourbon County |  | Unclassifiable/Attainment
Boyd County |  | Unclassifiable/Attainment
Boyle County |  | Unclassifiable/Attainment
Bracken County |  | Unclassifiable/Attainment
Breathitt County |  | Unclassifiable/Attainment
Breckinridge County |  | Unclassifiable/Attainment
Bullitt County |  | Unclassifiable/Attainment
Butler County |  | Unclassifiable/Attainment
Caldwell County |  | Unclassifiable/Attainment
Calloway County |  | Unclassifiable/Attainment
Campbell County |  | Unclassifiable/Attainment
Carlisle County |  | Unclassifiable/Attainment
Carroll County |  | Unclassifiable/Attainment
Carter County |  | Unclassifiable/Attainment
Casey County |  | Unclassifiable/Attainment
Christian County |  | Unclassifiable/Attainment
Clark County |  | Unclassifiable/Attainment
Clay County |  | Unclassifiable/Attainment
Clinton County |  | Unclassifiable/Attainment
Crittenden County |  | Unclassifiable/Attainment
Cumberland County |  | Unclassifiable/Attainment
Daviess County |  | Unclassifiable/Attainment
Edmonson County |  | Unclassifiable/Attainment
Elliott County |  | Unclassifiable/Attainment
Estill County |  | Unclassifiable/Attainment
Fayette County |  | Unclassifiable/Attainment
Fleming County |  | Unclassifiable/Attainment
Floyd County |  | Unclassifiable/Attainment
Franklin County |  | Unclassifiable/Attainment
Fulton County |  | Unclassifiable/Attainment
Gallatin County |  | Unclassifiable/Attainment
Garrard County |  | Unclassifiable/Attainment
Grant County |  | Unclassifiable/Attainment
Graves County |  | Unclassifiable/Attainment
Grayson County |  | Unclassifiable/Attainment
Green County |  | Unclassifiable/Attainment
Greenup County |  | Unclassifiable/Attainment
Hancock County |  | Unclassifiable/Attainment
Hardin County |  | Unclassifiable/Attainment
Harlan County |  | Unclassifiable/Attainment
Harrison County |  | Unclassifiable/Attainment
Hart County |  | Unclassifiable/Attainment
Henderson County |  | Unclassifiable/Attainment
Henry County |  | Unclassifiable/Attainment
Hickman County |  | Unclassifiable/Attainment
Hopkins County |  | Unclassifiable/Attainment
Jackson County |  | Unclassifiable/Attainment
Jefferson County |  | Unclassifiable/Attainment
Jessamine County |  | Unclassifiable/Attainment
Johnson County |  | Unclassifiable/Attainment
Kenton County |  | Unclassifiable/Attainment
Knott County |  | Unclassifiable/Attainment
Knox County |  | Unclassifiable/Attainment
Larue County |  | Unclassifiable/Attainment
Laurel County |  | Unclassifiable/Attainment
Lawrence County |  | Unclassifiable/Attainment
Lee County |  | Unclassifiable/Attainment
Leslie County |  | Unclassifiable/Attainment
Letcher County |  | Unclassifiable/Attainment
Lewis County |  | Unclassifiable/Attainment
Lincoln County |  | Unclassifiable/Attainment
Livingston County |  | Unclassifiable/Attainment
Logan County |  | Unclassifiable/Attainment
Lyon County |  | Unclassifiable/Attainment
McCracken County |  | Unclassifiable/Attainment
McCreary County |  | Unclassifiable/Attainment
McLean County |  | Unclassifiable/Attainment
Madison County |  | Unclassifiable/Attainment
Magoffin County |  | Unclassifiable/Attainment
Marion County |  | Unclassifiable/Attainment
Marshall County |  | Unclassifiable/Attainment
Martin County |  | Unclassifiable/Attainment
Mason County |  | Unclassifiable/Attainment
Meade County |  | Unclassifiable/Attainment
Menifee County |  | Unclassifiable/Attainment
Mercer County |  | Unclassifiable/Attainment
Metcalfe County |  | Unclassifiable/Attainment
Monroe County |  | Unclassifiable/Attainment
Montgomery County |  | Unclassifiable/Attainment
Morgan County |  | Unclassifiable/Attainment
Muhlenberg County |  | Unclassifiable/Attainment
Nelson County |  | Unclassifiable/Attainment
Nicholas County |  | Unclassifiable/Attainment
Ohio County |  | Unclassifiable/Attainment
Oldham County |  | Unclassifiable/Attainment
Owen County |  | Unclassifiable/Attainment
Owsley County |  | Unclassifiable/Attainment
Pendleton County |  | Unclassifiable/Attainment
Perry County |  | Unclassifiable/Attainment
Pike County |  | Unclassifiable/Attainment
Powell County |  | Unclassifiable/Attainment
Pulaski County |  | Unclassifiable/Attainment
Robertson County |  | Unclassifiable/Attainment
Rockcastle County |  | Unclassifiable/Attainment
Rowan County |  | Unclassifiable/Attainment
Russell County |  | Unclassifiable/Attainment
Scott County |  | Unclassifiable/Attainment
Shelby County |  | Unclassifiable/Attainment
Simpson County |  | Unclassifiable/Attainment
Spencer County |  | Unclassifiable/Attainment
Taylor County |  | Unclassifiable/Attainment
Todd County |  | Unclassifiable/Attainment
Trigg County |  | Unclassifiable/Attainment
Trimble County |  | Unclassifiable/Attainment
Union County |  | Unclassifiable/Attainment
Warren County |  | Unclassifiable/Attainment
Washington County |  | Unclassifiable/Attainment
Wayne County |  | Unclassifiable/Attainment
Webster County |  | Unclassifiable/Attainment
Whitley County |  | Unclassifiable/Attainment
Wolfe County |  | Unclassifiable/Attainment
Woodford County |  | Unclassifiable/Attainment
ᵃ Includes Indian Country located in each county or area, except as otherwise specified.
¹ This date is 90 days after January 5, 2005, unless otherwise noted.

Kentucky—2006 24-Hour PM2.5 NAAQS
[Primary and secondary]
Designated area | Designation ᵃ: Date ¹ | Designation ᵃ: Type | Classification: Date | Classification: Type
Statewide:
Adair County |  | Unclassifiable/Attainment.
Allen County |  | Unclassifiable/Attainment.
Anderson County |  | Unclassifiable/Attainment.
Ballard County |  | Unclassifiable/Attainment.
Barren County |  | Unclassifiable/Attainment.
Bath County |  | Unclassifiable/Attainment.
Bell County |  | Unclassifiable/Attainment.
Boone County |  | Unclassifiable/Attainment.
Bourbon County |  | Unclassifiable/Attainment.
Boyd County |  | Unclassifiable/Attainment.
Boyle County |  | Unclassifiable/Attainment.
Bracken County |  | Unclassifiable/Attainment.
Breathitt County |  | Unclassifiable/Attainment.
Breckinridge County |  | Unclassifiable/Attainment.
Bullitt County |  | Unclassifiable/Attainment.
Butler County |  | Unclassifiable/Attainment.
Caldwell County |  | Unclassifiable/Attainment.
Calloway County |  | Unclassifiable/Attainment.
Campbell County |  | Unclassifiable/Attainment.
Carlisle County |  | Unclassifiable/Attainment.
Carroll County |  | Unclassifiable/Attainment.
Carter County |  | Unclassifiable/Attainment.
Casey County |  | Unclassifiable/Attainment.
Christian County |  | Unclassifiable/Attainment.
Clark County |  | Unclassifiable/Attainment.
Clay County |  | Unclassifiable/Attainment.
Clinton County |  | Unclassifiable/Attainment.
Crittenden County |  | Unclassifiable/Attainment.
Cumberland County |  | Unclassifiable/Attainment.
Daviess County |  | Unclassifiable/Attainment.
Edmonson County |  | Unclassifiable/Attainment.
Elliott County |  | Unclassifiable/Attainment.
Estill County |  | Unclassifiable/Attainment.
Fayette County |  | Unclassifiable/Attainment.
Fleming County |  | Unclassifiable/Attainment.
Floyd County |  | Unclassifiable/Attainment.
Franklin County |  | Unclassifiable/Attainment.
Fulton County |  | Unclassifiable/Attainment.
Gallatin County |  | Unclassifiable/Attainment.
Garrard County |  | Unclassifiable/Attainment.
Grant County |  | Unclassifiable/Attainment.
Graves County |  | Unclassifiable/Attainment.
Grayson County |  | Unclassifiable/Attainment.
Green County |  | Unclassifiable/Attainment.
Greenup County |  | Unclassifiable/Attainment.
Hancock County |  | Unclassifiable/Attainment.
Hardin County |  | Unclassifiable/Attainment.
Harlan County |  | Unclassifiable/Attainment.
Harrison County |  | Unclassifiable/Attainment.
Hart County |  | Unclassifiable/Attainment.
Henderson County |  | Unclassifiable/Attainment.
Henry County |  | Unclassifiable/Attainment.
Hickman County |  | Unclassifiable/Attainment.
Hopkins County |  | Unclassifiable/Attainment.
Jackson County |  | Unclassifiable/Attainment.
Jefferson County |  | Unclassifiable/Attainment.
Jessamine County |  | Unclassifiable/Attainment.
Johnson County |  | Unclassifiable/Attainment.
Kenton County |  | Unclassifiable/Attainment.
Knott County |  | Unclassifiable/Attainment.
Knox County |  | Unclassifiable/Attainment.
Larue County |  | Unclassifiable/Attainment.
Laurel County |  | Unclassifiable/Attainment.
Lawrence County |  | Unclassifiable/Attainment.
Lee County |  | Unclassifiable/Attainment.
Leslie County |  | Unclassifiable/Attainment.
Letcher County |  | Unclassifiable/Attainment.
Lewis County |  | Unclassifiable/Attainment.
Lincoln County |  | Unclassifiable/Attainment.
Livingston County |  | Unclassifiable/Attainment.
Logan County |  | Unclassifiable/Attainment.
Lyon County |  | Unclassifiable/Attainment.
McCracken County |  | Unclassifiable/Attainment.
McCreary County |  | Unclassifiable/Attainment.
McLean County |  | Unclassifiable/Attainment.
Madison County |  | Unclassifiable/Attainment.
Magoffin County |  | Unclassifiable/Attainment.
Marion County |  | Unclassifiable/Attainment.
Marshall County |  | Unclassifiable/Attainment.
Martin County |  | Unclassifiable/Attainment.
Mason County |  | Unclassifiable/Attainment.
Meade County |  | Unclassifiable/Attainment.
Menifee County |  | Unclassifiable/Attainment.
Mercer County |  | Unclassifiable/Attainment.
Metcalfe County |  | Unclassifiable/Attainment.
Monroe County |  | Unclassifiable/Attainment.
Montgomery County |  | Unclassifiable/Attainment.
Morgan County |  | Unclassifiable/Attainment.
Muhlenberg County |  | Unclassifiable/Attainment.
Nelson County |  | Unclassifiable/Attainment.
Nicholas County |  | Unclassifiable/Attainment.
Ohio County |  | Unclassifiable/Attainment.
Oldham County |  | Unclassifiable/Attainment.
Owen County |  | Unclassifiable/Attainment.
Owsley County |  | Unclassifiable/Attainment.
Pendleton County |  | Unclassifiable/Attainment.
Perry County |  | Unclassifiable/Attainment.
Pike County |  | Unclassifiable/Attainment.
Powell County |  | Unclassifiable/Attainment.
Pulaski County |  | Unclassifiable/Attainment.
Robertson County |  | Unclassifiable/Attainment.
Rockcastle County |  | Unclassifiable/Attainment.
Rowan County |  | Unclassifiable/Attainment.
Russell County |  | Unclassifiable/Attainment.
Scott County |  | Unclassifiable/Attainment.
Shelby County |  | Unclassifiable/Attainment.
Simpson County |  | Unclassifiable/Attainment.
Spencer County |  | Unclassifiable/Attainment.
Taylor County |  | Unclassifiable/Attainment.
Todd County |  | Unclassifiable/Attainment.
Trigg County |  | Unclassifiable/Attainment.
Trimble County |  | Unclassifiable/Attainment.
Union County |  | Unclassifiable/Attainment.
Warren County |  | Unclassifiable/Attainment.
Washington County |  | Unclassifiable/Attainment.
Wayne County |  | Unclassifiable/Attainment.
Webster County |  | Unclassifiable/Attainment.
Whitley County |  | Unclassifiable/Attainment.
Wolfe County |  | Unclassifiable/Attainment.
Woodford County |  | Unclassifiable/Attainment.
ᵃ Includes Indian Country located in each county or area, except as otherwise specified.
¹ This date is 30 days after November 13, 2009, unless otherwise noted.

* * * * *

20. Section 81.319 is amended as follows:

a. By removing the tables titled “Louisiana—PM2.5 (Annual NAAQS)” and “Louisiana—PM2.5 [24-hour NAAQS]”.

b. By adding three tables titled “Louisiana—1997 Annual PM2.5 NAAQS (Primary and Secondary)” and “Louisiana—1997 24-hour PM2.5 NAAQS (Primary and Secondary)” and “Louisiana—2006 24-hour PM2.5 NAAQS (Primary and Secondary)” before the table titled “Louisiana—NO2 (1971 Annual Standard)”.

The additions read as follows:

§ 81.319 Louisiana.

* * * * *

Louisiana—1997 Annual PM2.5 NAAQS
[Primary and secondary]
Designated area | Designation ᵃ: Date ¹ | Designation ᵃ: Type | Classification: Date | Classification: Type
AQCR 019 Monroe-El Dorado Interstate:
Caldwell Parish |  | Unclassifiable/Attainment.
Catahoula Parish |  | Unclassifiable/Attainment.
Concordia Parish |  | Unclassifiable/Attainment.
East Carroll Parish |  | Unclassifiable/Attainment.
Franklin Parish |  | Unclassifiable/Attainment.
La Salle Parish |  | Unclassifiable/Attainment.
Madison Parish |  | Unclassifiable/Attainment.
Morehouse Parish |  | Unclassifiable/Attainment.
Ouachita Parish |  | Unclassifiable/Attainment.
Richland Parish |  | Unclassifiable/Attainment.
Tensas Parish |  | Unclassifiable/Attainment.
Union Parish |  | Unclassifiable/Attainment.
West Carroll Parish |  | Unclassifiable/Attainment.
AQCR 022 Shreveport-Texarkana-Tyler Interstate: |  | Unclassifiable/Attainment.
Bienville Parish |  | Unclassifiable/Attainment.
Bossier Parish |  | Unclassifiable/Attainment.
Caddo Parish |  | Unclassifiable/Attainment.
Claiborne Parish |  | Unclassifiable/Attainment.
De Soto Parish |  | Unclassifiable/Attainment.
Jackson Parish |  | Unclassifiable/Attainment.
Lincoln Parish |  | Unclassifiable/Attainment.
Natchitoches Parish |  | Unclassifiable/Attainment.
Red River Parish |  | Unclassifiable/Attainment.
Sabine Parish |  | Unclassifiable/Attainment.
Webster Parish |  | Unclassifiable/Attainment.
Winn Parish |  | Unclassifiable/Attainment.
AQCR 106 S. Louisiana-S.E. Texas Interstate: |  | Unclassifiable/Attainment.
Acadia Parish |  | Unclassifiable/Attainment.
Allen Parish |  | Unclassifiable/Attainment.
Ascension Parish |  | Unclassifiable/Attainment.
Assumption Parish |  | Unclassifiable/Attainment.
Avoyelles Parish |  | Unclassifiable/Attainment.
Beauregard Parish |  | Unclassifiable/Attainment.
Calcasieu Parish |  | Unclassifiable/Attainment.
Cameron Parish |  | Unclassifiable/Attainment.
East Baton Rouge Parish |  | Unclassifiable/Attainment.
East Feliciana Parish |  | Unclassifiable/Attainment.
Evangeline Parish |  | Unclassifiable/Attainment.
Grant Parish |  | Unclassifiable/Attainment.
Iberia Parish |  | Unclassifiable/Attainment.
Iberville Parish |  | Unclassifiable/Attainment.
Jefferson Davis Parish |  | Unclassifiable/Attainment.
Jefferson Parish |  | Unclassifiable/Attainment.
Lafayette Parish |  | Unclassifiable/Attainment.
Lafourche Parish |  | Unclassifiable/Attainment.
Livingston Parish |  | Unclassifiable/Attainment.
Orleans Parish |  | Unclassifiable/Attainment.
Plaquemines Parish |  | Unclassifiable/Attainment.
Pointe Coupee Parish |  | Unclassifiable/Attainment.
Rapides Parish |  | Unclassifiable/Attainment.
St. Bernard Parish |  | Unclassifiable/Attainment.
St. Charles Parish |  | Unclassifiable/Attainment.
St. Helena Parish |  | Unclassifiable/Attainment.
St. James Parish |  | Unclassifiable/Attainment.
St. John the Baptist Parish |  | Unclassifiable/Attainment.
St. Landry Parish |  | Unclassifiable/Attainment.
St. Martin Parish |  | Unclassifiable/Attainment.
St. Tammany Parish |  | Unclassifiable/Attainment.
Tangipahoa Parish |  | Unclassifiable/Attainment.
Terrebonne Parish |  | Unclassifiable/Attainment.
Vermilion Parish |  | Unclassifiable/Attainment.
Vernon Parish |  | Unclassifiable/Attainment.
Washington Parish |  | Unclassifiable/Attainment.
West Baton Rouge Parish |  | Unclassifiable/Attainment.
West Feliciana Parish |  | Unclassifiable/Attainment.
ᵃ Includes Indian Country located in each county or area, except as otherwise specified.
¹ This date is 90 days after January 5, 2005, unless otherwise noted.

Louisiana—1997 24-Hour PM2.5 NAAQS
[Primary and secondary]
Designated area | Designation ᵃ: Date ¹ | Designation ᵃ: Type | Classification: Date | Classification: Type
AQCR 019 Monroe-El Dorado Interstate:
Caldwell Parish |  | Unclassifiable/Attainment.
Catahoula Parish |  | Unclassifiable/Attainment.
Concordia Parish |  | Unclassifiable/Attainment.
East Carroll Parish |  | Unclassifiable/Attainment.
Franklin Parish |  | Unclassifiable/Attainment.
La Salle Parish |  | Unclassifiable/Attainment.
Madison Parish |  | Unclassifiable/Attainment.
Morehouse Parish |  | Unclassifiable/Attainment.
Ouachita Parish |  | Unclassifiable/Attainment.
Richland Parish |  | Unclassifiable/Attainment.
Tensas Parish |  | Unclassifiable/Attainment.
Union Parish |  | Unclassifiable/Attainment.
West Carroll Parish |  | Unclassifiable/Attainment.
AQCR 022 Shreveport-Texarkana-Tyler Interstate:
Bienville Parish |  | Unclassifiable/Attainment.
Bossier Parish |  | Unclassifiable/Attainment.
Caddo Parish |  | Unclassifiable/Attainment.
Claiborne Parish |  | Unclassifiable/Attainment.
De Soto Parish |  | Unclassifiable/Attainment.
Jackson Parish |  | Unclassifiable/Attainment.
Lincoln Parish |  | Unclassifiable/Attainment.
Natchitoches Parish |  | Unclassifiable/Attainment.
Red River Parish |  | Unclassifiable/Attainment.
Sabine Parish |  | Unclassifiable/Attainment.
Webster Parish |  | Unclassifiable/Attainment.
Winn Parish |  | Unclassifiable/Attainment.
AQCR 106 S. Louisiana-S.E. Texas Interstate:
Acadia Parish |  | Unclassifiable/Attainment.
Allen Parish |  | Unclassifiable/Attainment.
Ascension Parish |  | Unclassifiable/Attainment.
Assumption Parish |  | Unclassifiable/Attainment.
Avoyelles Parish |  | Unclassifiable/Attainment.
Beauregard Parish |  | Unclassifiable/Attainment.
Calcasieu Parish |  | Unclassifiable/Attainment.
Cameron Parish |  | Unclassifiable/Attainment.
East Baton Rouge Parish |  | Unclassifiable/Attainment.
East Feliciana Parish |  | Unclassifiable/Attainment.
Evangeline Parish |  | Unclassifiable/Attainment.
Grant Parish |  | Unclassifiable/Attainment.
Iberia Parish |  | Unclassifiable/Attainment.
Iberville Parish |  | Unclassifiable/Attainment.
Jefferson Davis Parish |  | Unclassifiable/Attainment.
Jefferson Parish |  | Unclassifiable/Attainment.
Lafayette Parish |  | Unclassifiable/Attainment.
Lafourche Parish |  | Unclassifiable/Attainment.
Livingston Parish |  | Unclassifiable/Attainment.
Orleans Parish |  | Unclassifiable/Attainment.
Plaquemines Parish |  | Unclassifiable/Attainment.
Pointe Coupee Parish |  | Unclassifiable/Attainment.
Rapides Parish |  | Unclassifiable/Attainment.
St. Bernard Parish |  | Unclassifiable/Attainment.
St. Charles Parish |  | Unclassifiable/Attainment.
St. Helena Parish |  | Unclassifiable/Attainment.
St. James Parish |  | Unclassifiable/Attainment.
St. John the Baptist Parish |  | Unclassifiable/Attainment.
St. Landry Parish |  | Unclassifiable/Attainment.
St. Martin Parish |  | Unclassifiable/Attainment.
St. Tammany Parish |  | Unclassifiable/Attainment.
Tangipahoa Parish |  | Unclassifiable/Attainment.
Terrebonne Parish |  | Unclassifiable/Attainment.
Vermilion Parish |  | Unclassifiable/Attainment.
Vernon Parish |  | Unclassifiable/Attainment.
Washington Parish |  | Unclassifiable/Attainment.
West Baton Rouge Parish |  | Unclassifiable/Attainment.
West Feliciana Parish |  | Unclassifiable/Attainment.
ᵃ Includes Indian Country located in each county or area, except as otherwise specified.
¹ This date is 90 days after January 5, 2005, unless otherwise noted.

Louisiana—2006 24-Hour PM2.5 NAAQS
[Primary and secondary]
Designated area | Designation ᵃ: Date ¹ | Designation ᵃ: Type | Classification: Date | Classification: Type
AQCR 019 Monroe-El Dorado Interstate:
Caldwell Parish |  | Unclassifiable/Attainment.
Catahoula Parish |  | Unclassifiable/Attainment.
Concordia Parish |  | Unclassifiable/Attainment.
East Carroll Parish |  | Unclassifiable/Attainment.
Franklin Parish |  | Unclassifiable/Attainment.
La Salle Parish |  | Unclassifiable/Attainment.
Madison Parish |  | Unclassifiable/Attainment.
Morehouse Parish |  | Unclassifiable/Attainment.
Ouachita Parish |  | Unclassifiable/Attainment.
Richland Parish |  | Unclassifiable/Attainment.
Tensas Parish |  | Unclassifiable/Attainment.
Union Parish |  | Unclassifiable/Attainment.
West Carroll Parish |  | Unclassifiable/Attainment.
AQCR 022 Shreveport-Texarkana-Tyler Interstate:
Bienville Parish |  | Unclassifiable/Attainment.
Bossier Parish |  | Unclassifiable/Attainment.
Caddo Parish |  | Unclassifiable/Attainment.
Claiborne Parish |  | Unclassifiable/Attainment.
De Soto Parish |  | Unclassifiable/Attainment.
Jackson Parish |  | Unclassifiable/Attainment.
Lincoln Parish |  | Unclassifiable/Attainment.
Natchitoches Parish |  | Unclassifiable/Attainment.
Red River Parish |  | Unclassifiable/Attainment.
Sabine Parish |  | Unclassifiable/Attainment.
Webster Parish |  | Unclassifiable/Attainment.
Winn Parish |  | Unclassifiable/Attainment.
AQCR 106 S. Louisiana-S.E. Texas Interstate:
Acadia Parish |  | Unclassifiable/Attainment.
Allen Parish |  | Unclassifiable/Attainment.
Ascension Parish |  | Unclassifiable/Attainment.
Assumption Parish |  | Unclassifiable/Attainment.
Avoyelles Parish |  | Unclassifiable/Attainment.
Beauregard Parish |  | Unclassifiable/Attainment.
Calcasieu Parish |  | Unclassifiable/Attainment.
Cameron Parish |  | Unclassifiable/Attainment.
East Baton Rouge Parish |  | Unclassifiable/Attainment.
East Feliciana Parish |  | Unclassifiable/Attainment.
Evangeline Parish |  | Unclassifiable/Attainment.
Grant Parish |  | Unclassifiable/Attainment.
Iberia Parish |  | Unclassifiable/Attainment.
Iberville Parish |  | Unclassifiable/Attainment.
Jefferson Davis Parish |  | Unclassifiable/Attainment.
Jefferson Parish |  | Unclassifiable/Attainment.
Lafayette Parish |  | Unclassifiable/Attainment.
Lafourche Parish |  | Unclassifiable/Attainment.
Livingston Parish |  | Unclassifiable/Attainment.
Orleans Parish |  | Unclassifiable/Attainment.
Plaquemines Parish |  | Unclassifiable/Attainment.
Pointe Coupee Parish |  | Unclassifiable/Attainment.
Rapides Parish |  | Unclassifiable/Attainment.
St. Bernard Parish |  | Unclassifiable/Attainment.
St. Charles Parish |  | Unclassifiable/Attainment.
St. Helena Parish |  | Unclassifiable/Attainment.
St. James Parish |  | Unclassifiable/Attainment.
St. John the Baptist Parish |  | Unclassifiable/Attainment.
St. Landry Parish |  | Unclassifiable/Attainment.
St. Martin Parish |  | Unclassifiable/Attainment.
St. Tammany Parish |  | Unclassifiable/Attainment.
Tangipahoa Parish |  | Unclassifiable/Attainment.
Terrebonne Parish |  | Unclassifiable/Attainment.
Vermilion Parish |  | Unclassifiable/Attainment.
Vernon Parish |  | Unclassifiable/Attainment.
Washington Parish |  | Unclassifiable/Attainment.
West Baton Rouge Parish |  | Unclassifiable/Attainment.
West Feliciana Parish |  | Unclassifiable/Attainment.
ᵃ Includes Indian Country located in each county or area, except as otherwise specified.
¹ This date is 30 days after November 13, 2009, unless otherwise noted.

* * * * *

21. Section 81.320 is amended as follows:

a. By removing the tables titled “Maine—PM2.5 (Annual NAAQS)” and “Maine—PM2.5 [24-hour NAAQS]”.

b. By adding three tables titled “Maine—1997 Annual PM2.5 NAAQS (Primary and Secondary)” and “Maine—1997 24-hour PM2.5 NAAQS (Primary and Secondary)” and “Maine—2006 24-hour PM2.5 NAAQS (Primary and Secondary)” before the table titled “Maine—NO2 (1971 Annual Standard)”.

The additions read as follows:

§ 81.320 Maine.

* * * * *

Maine—1997 Annual PM2.5 NAAQS
[Primary and secondary]
Designated area | Designation ᵃ: Date ¹ | Designation ᵃ: Type | Classification: Date | Classification: Type
Statewide:
Androscoggin County |  | Unclassifiable/Attainment.
Aroostook County |  | Unclassifiable/Attainment.
Cumberland County |  | Unclassifiable/Attainment.
Franklin County |  | Unclassifiable/Attainment.
Hancock County |  | Unclassifiable/Attainment.
Kennebec County |  | Unclassifiable/Attainment.
Knox County |  | Unclassifiable/Attainment.
Lincoln County |  | Unclassifiable/Attainment.
Oxford County |  | Unclassifiable/Attainment.
Penobscot County |  | Unclassifiable/Attainment.
Piscataquis County |  | Unclassifiable/Attainment.
Sagadahoc County |  | Unclassifiable/Attainment.
Somerset County |  | Unclassifiable/Attainment.
Waldo County |  | Unclassifiable/Attainment.
Washington County |  | Unclassifiable/Attainment.
York County |  | Unclassifiable/Attainment.
ᵃ Includes Indian Country located in each county or area, except as otherwise specified.
¹ This date is 90 days after January 5, 2005, unless otherwise noted.

Maine—1997 24-Hour PM2.5 NAAQS
[Primary and secondary]
Designated area | Designation ᵃ: Date ¹ | Designation ᵃ: Type | Classification: Date | Classification: Type
Statewide:
Androscoggin County |  | Unclassifiable/Attainment.
Aroostook County |  | Unclassifiable/Attainment.
Cumberland County |  | Unclassifiable/Attainment.
Franklin County |  | Unclassifiable/Attainment.
Hancock County |  | Unclassifiable/Attainment.
Kennebec County |  | Unclassifiable/Attainment.
Knox County |  | Unclassifiable/Attainment.
Lincoln County |  | Unclassifiable/Attainment.
Oxford County |  | Unclassifiable/Attainment.
Penobscot County |  | Unclassifiable/Attainment.
Piscataquis County |  | Unclassifiable/Attainment.
Sagadahoc County |  | Unclassifiable/Attainment.
Somerset County |  | Unclassifiable/Attainment.
Waldo County |  | Unclassifiable/Attainment.
Washington County |  | Unclassifiable/Attainment.
York County |  | Unclassifiable/Attainment.
ᵃ Includes Indian Country located in each county or area, except as otherwise specified.
¹ This date is 90 days after January 5, 2005, unless otherwise noted.

Maine—2006 24-Hour PM2.5 NAAQS
[Primary and secondary]
Designated area | Designation ᵃ: Date ¹ | Designation ᵃ: Type | Classification: Date | Classification: Type
Statewide:
Androscoggin County |  | Unclassifiable/Attainment.
Aroostook County |  | Unclassifiable/Attainment.
Cumberland County |  | Unclassifiable/Attainment.
Franklin County |  | Unclassifiable/Attainment.
Hancock County |  | Unclassifiable/Attainment.
Kennebec County |  | Unclassifiable/Attainment.
Knox County |  | Unclassifiable/Attainment.
Lincoln County |  | Unclassifiable/Attainment.
Oxford County |  | Unclassifiable/Attainment.
Penobscot County |  | Unclassifiable/Attainment.
Piscataquis County |  | Unclassifiable/Attainment.
Sagadahoc County |  | Unclassifiable/Attainment.
Somerset County |  | Unclassifiable/Attainment.
Waldo County |  | Unclassifiable/Attainment.
Washington County |  | Unclassifiable/Attainment.
York County |  | Unclassifiable/Attainment.
ᵃ Includes Indian Country located in each county or area, except as otherwise specified.
¹ This date is 30 days after November 13, 2009, unless otherwise noted.

* * * * *

22. Section 81.321 is amended as follows:

a. By removing the tables titled “Maryland—PM2.5 (Annual NAAQS)” and “Maryland—PM2.5 [24-hour NAAQS]”.

b. By adding three tables titled “Maryland—1997 Annual PM2.5 NAAQS (Primary and Secondary)” and “Maryland—1997 24-hour PM2.5 NAAQS (Primary and Secondary)” and “Maryland—2006 24-hour PM2.5 NAAQS (Primary and Secondary)” before the table titled “Maryland—NO2 (1971 Annual Standard)”.

The additions read as follows:

§ 81.321 Maryland.

* * * * *

Maryland—1997 Annual PM2.5 NAAQS
[Primary and secondary]
Designated area | Designation ᵃ: Date ¹ | Designation ᵃ: Type | Classification: Date ² | Classification: Type
Baltimore, MD:
Anne Arundel County |  | Nonattainment |  | Moderate.
Baltimore County |  | Nonattainment |  | Moderate.
Carroll County |  | Nonattainment |  | Moderate.
Harford County |  | Nonattainment |  | Moderate.
Howard County |  | Nonattainment |  | Moderate.
City of Baltimore |  | Nonattainment |  | Moderate.
Martinsburg, WV-Hagerstown, MD:
Washington County |  | Nonattainment |  | Moderate.
Washington, DC-MD-VA:
Charles County |  | Nonattainment |  | Moderate.
Frederick County |  | Nonattainment |  | Moderate.
Montgomery County |  | Nonattainment |  | Moderate.
Prince George's County |  | Nonattainment |  | Moderate.
AQCR 113 Cumberland-Keyser Interstate:
Allegany County |  | Unclassifiable/Attainment.
Garrett County |  | Unclassifiable/Attainment.
AQCR 114 Eastern Shore Interstate (remainder of):
Caroline County |  | Unclassifiable/Attainment.
Cecil County |  | Unclassifiable/Attainment.
Dorchester County |  | Unclassifiable/Attainment.
Kent County |  | Unclassifiable/Attainment.
Queen Anne's County |  | Unclassifiable/Attainment.
Somerset County |  | Unclassifiable/Attainment.
Talbot County |  | Unclassifiable/Attainment.
Wicomico County |  | Unclassifiable/Attainment.
Worcester County |  | Unclassifiable/Attainment.
AQCR 116 Southern Maryland Intrastate (remainder of):
Calvert County |  | Unclassifiable/Attainment.
St. Mary's County |  | Unclassifiable/Attainment.
ᵃ Includes Indian Country located in each county or area, except as otherwise specified.
¹ This date is 90 days after January 5, 2005, unless otherwise noted.
² This date is July 2, 2014, unless otherwise noted.

Maryland—1997 24-Hour PM2.5 NAAQS
[Primary and secondary]
Designated area | Designation ᵃ: Date ¹ | Designation ᵃ: Type | Classification: Date | Classification: Type
AQCR 047 National Capital Interstate (DC-MD-VA) (part):
Montgomery County |  | Unclassifiable/Attainment.
Prince George's County |  | Unclassifiable/Attainment.
Metropolitan Baltimore Intrastate AQCR:
Anne Arundel County |  | Unclassifiable/Attainment.
Baltimore County |  | Unclassifiable/Attainment.
City of Baltimore |  | Unclassifiable/Attainment.
Carroll County |  | Unclassifiable/Attainment.
Harford County |  | Unclassifiable/Attainment.
Howard County |  | Unclassifiable/Attainment.
AQCR 112 Central Maryland Intrastate:
Frederick County |  | Unclassifiable/Attainment.
AQCR 113 Cumberland-Keyser Interstate:
Allegany County |  | Unclassifiable/Attainment.
Garrett County |  | Unclassifiable/Attainment.
Washington County |  | Unclassifiable/Attainment.
AQCR 114 Eastern Shore Intrastate:
Caroline County |  | Unclassifiable/Attainment.
Cecil County |  | Unclassifiable/Attainment.
Dorchester County |  | Unclassifiable/Attainment.
Kent County |  | Unclassifiable/Attainment.
Queen Anne's County |  | Unclassifiable/Attainment.
Somerset County |  | Unclassifiable/Attainment.
Talbot County |  | Unclassifiable/Attainment.
Wicomico County |  | Unclassifiable/Attainment.
Worcester County |  | Unclassifiable/Attainment.
AQCR 116 Southern Maryland Intrastate:
Calvert County |  | Unclassifiable/Attainment.
Charles County |  | Unclassifiable/Attainment.
St. Mary's County |  | Unclassifiable/Attainment.
ᵃ Includes Indian Country located in each county or area, except as otherwise specified.
¹ This date is 90 days after January 5, 2005, unless otherwise noted.

Maryland—2006 24-Hour PM2.5 NAAQS
[Primary and secondary]
Designated area | Designation ᵃ: Date ¹ | Designation ᵃ: Type | Classification: Date | Classification: Type
AQCR 047 National Capital Interstate (DC-MD-VA) (part):
Montgomery County |  | Unclassifiable/Attainment.
Prince George's County |  | Unclassifiable/Attainment.
Metropolitan Baltimore Intrastate AQCR:
Anne Arundel County |  | Unclassifiable/Attainment.
Baltimore County |  | Unclassifiable/Attainment.
City of Baltimore |  | Unclassifiable/Attainment.
Carroll County |  | Unclassifiable/Attainment.
Harford County |  | Unclassifiable/Attainment.
Howard County |  | Unclassifiable/Attainment.
AQCR 112 Central Maryland Intrastate:
Frederick County |  | Unclassifiable/Attainment.
AQCR 113 Cumberland-Keyser Interstate:
Allegany County |  | Unclassifiable/Attainment.
Garrett County |  | Unclassifiable/Attainment.
Washington County |  | Unclassifiable/Attainment.
AQCR 114 Eastern Shore Intrastate:
Caroline County |  | Unclassifiable/Attainment.
Cecil County |  | Unclassifiable/Attainment.
Dorchester County |  | Unclassifiable/Attainment.
Kent County |  | Unclassifiable/Attainment.
Queen Anne's County |  | Unclassifiable/Attainment.
Somerset County |  | Unclassifiable/Attainment.
Talbot County |  | Unclassifiable/Attainment.
Wicomico County |  | Unclassifiable/Attainment.
Worcester County |  | Unclassifiable/Attainment.
AQCR 116 Southern Maryland Intrastate:
Calvert County |  | Unclassifiable/Attainment.
Charles County |  | Unclassifiable/Attainment.
St. Mary's County |  | Unclassifiable/Attainment.
ᵃ Includes Indian Country located in each county or area, except as otherwise specified.
¹ This date is 30 days after November 13, 2009, unless otherwise noted.

* * * * *

23. Section 81.322 is amended as follows:

a. By removing the tables titled “Massachusetts—PM2.5 (Annual NAAQS)” and “Massachusetts—PM2.5 [24-hour NAAQS]”.

b. By adding three tables titled “Massachusetts—1997 Annual PM2.5 NAAQS (Primary and Secondary)” and “Massachusetts—1997 24-hour PM2.5 NAAQS (Primary and Secondary)” and “Massachusetts—2006 24-hour PM2.5 NAAQS (Primary and Secondary)” before the table titled “Massachusetts—NO2 (1971 Annual Standard)”.

The additions read as follows:

§ 81.322 Massachusetts.

* * * * *

Massachusetts—1997 Annual PM2.5 NAAQS
[Primary and secondary]
Designated area | Designation ᵃ: Date ¹ | Designation ᵃ: Type | Classification: Date | Classification: Type
Statewide:
Barnstable County |  | Unclassifiable/Attainment.
Berkshire County |  | Unclassifiable/Attainment.
Bristol County |  | Unclassifiable/Attainment.
Dukes County |  | Unclassifiable/Attainment.
Essex County |  | Unclassifiable/Attainment.
Franklin County |  | Unclassifiable/Attainment.
Hampden County |  | Unclassifiable/Attainment.
Hampshire County |  | Unclassifiable/Attainment.
Middlesex County |  | Unclassifiable/Attainment.
Nantucket County |  | Unclassifiable/Attainment.
Norfolk County |  | Unclassifiable/Attainment.
Plymouth County |  | Unclassifiable/Attainment.
Suffolk County |  | Unclassifiable/Attainment.
Worcester County |  | Unclassifiable/Attainment.
ᵃ Includes Indian Country located in each county or area, except as otherwise specified.
¹ This date is 90 days after January 5, 2005, unless otherwise noted.

Massachusetts—1997 24-Hour PM2.5 NAAQS
[Primary and secondary]
Designated area | Designation ᵃ: Date ¹ | Designation ᵃ: Type | Classification: Date | Classification: Type
Statewide:
Barnstable County |  | Unclassifiable/Attainment.
Berkshire County |  | Unclassifiable/Attainment.
Bristol County |  | Unclassifiable/Attainment.
Dukes County |  | Unclassifiable/Attainment.
Essex County |  | Unclassifiable/Attainment.
Franklin County |  | Unclassifiable/Attainment.
Hampden County |  | Unclassifiable/Attainment.
Hampshire County |  | Unclassifiable/Attainment.
Middlesex County |  | Unclassifiable/Attainment.
Nantucket County |  | Unclassifiable/Attainment.
Norfolk County |  | Unclassifiable/Attainment.
Plymouth County |  | Unclassifiable/Attainment.
Suffolk County |  | Unclassifiable/Attainment.
Worcester County |  | Unclassifiable/Attainment.
ᵃ Includes Indian Country located in each county or area, except as otherwise specified.
¹ This date is 90 days after January 5, 2005, unless otherwise noted.

Massachusetts—2006 24-Hour PM2.5 NAAQS
[Primary and secondary]
Designated area | Designation ᵃ: Date ¹ | Designation ᵃ: Type | Classification: Date | Classification: Type
Statewide:
Barnstable County |  | Unclassifiable/Attainment.
Berkshire County |  | Unclassifiable/Attainment.
Bristol County |  | Unclassifiable/Attainment.
Dukes County |  | Unclassifiable/Attainment.
Essex County |  | Unclassifiable/Attainment.
Franklin County |  | Unclassifiable/Attainment.
Hampden County |  | Unclassifiable/Attainment.
Hampshire County |  | Unclassifiable/Attainment.
Middlesex County |  | Unclassifiable/Attainment.
Nantucket County |  | Unclassifiable/Attainment.
Norfolk County |  | Unclassifiable/Attainment.
Plymouth County |  | Unclassifiable/Attainment.
Suffolk County |  | Unclassifiable/Attainment.
Worcester County |  | Unclassifiable/Attainment.
ᵃ Includes Indian Country located in each county or area, except as otherwise specified.
¹ This date is 30 days after November 13, 2009, unless otherwise noted.

* * * * *

24. Section 81.323 is amended as follows:

a. By removing the tables titled “Michigan—PM2.5 (Annual NAAQS)” and “Michigan—PM2.5 [24-hour NAAQS]”.

b. By adding three tables titled “Michigan—1997 Annual PM2.5 NAAQS (Primary and Secondary)” and “Michigan—1997 24-hour PM2.5 NAAQS (Primary and Secondary)” and “Michigan—2006 24-hour PM2.5 NAAQS (Primary and Secondary)” before the table titled “Michigan—NO2 (1971 Annual Standard)”.

The additions read as follows:

§ 81.323 Michigan.

* * * * *

Michigan—1997 Annual PM2.5 NAAQS
[Primary and secondary]
Designated area | Designation ᵃ: Date ¹ | Designation ᵃ: Type | Classification: Date | Classification: Type
Detroit-Ann Arbor, MI: | 8/29/13 | Attainment..
Livingston County
Macomb County
Monroe County
Oakland County
St. Clair County
Washtenaw County
Wayne County
Rest of State:
Alcona County |  | Unclassifiable/Attainment.
Alger County |  | Unclassifiable/Attainment.
Allegan County |  | Unclassifiable/Attainment.
Alpena County |  | Unclassifiable/Attainment.
Antrim County |  | Unclassifiable/Attainment.
Arenac County |  | Unclassifiable/Attainment.
Baraga County |  | Unclassifiable/Attainment.
Barry County |  | Unclassifiable/Attainment.
Bay County |  | Unclassifiable/Attainment.
Benzie County |  | Unclassifiable/Attainment.
Berrien County |  | Unclassifiable/Attainment.
Branch County |  | Unclassifiable/Attainment.
Calhoun County |  | Unclassifiable/Attainment.
Cass County |  | Unclassifiable/Attainment.
Charlevoix County |  | Unclassifiable/Attainment.
Cheboygan County |  | Unclassifiable/Attainment.
Chippewa County |  | Unclassifiable/Attainment.
Clare County |  | Unclassifiable/Attainment.
Clinton County |  | Unclassifiable/Attainment.
Crawford County |  | Unclassifiable/Attainment.
Delta County |  | Unclassifiable/Attainment.
Dickinson County |  | Unclassifiable/Attainment.
Eaton County |  | Unclassifiable/Attainment.
Emmet County |  | Unclassifiable/Attainment.
Genesee County |  | Unclassifiable/Attainment.
Gladwin County |  | Unclassifiable/Attainment.
Gogebic County |  | Unclassifiable/Attainment.
Grand Traverse County |  | Unclassifiable/Attainment.
Gratiot County |  | Unclassifiable/Attainment.
Hillsdale County |  | Unclassifiable/Attainment.
Houghton County |  | Unclassifiable/Attainment.
Huron County |  | Unclassifiable/Attainment.
Ingham County |  | Unclassifiable/Attainment.
Ionia County |  | Unclassifiable/Attainment.
Iosco County |  | Unclassifiable/Attainment.
Iron County |  | Unclassifiable/Attainment.
Isabella County |  | Unclassifiable/Attainment.
Jackson County |  | Unclassifiable/Attainment.
Kalamazoo County |  | Unclassifiable/Attainment.
Kalkaska County |  | Unclassifiable/Attainment.
Kent County |  | Unclassifiable/Attainment.
Keweenaw County |  | Unclassifiable/Attainment.
Lake County |  | Unclassifiable/Attainment.
Lapeer County |  | Unclassifiable/Attainment.
Leelanau County |  | Unclassifiable/Attainment.
Lenawee County |  | Unclassifiable/Attainment.
Luce County |  | Unclassifiable/Attainment.
Mackinac County |  | Unclassifiable/Attainment.
Manistee County |  | Unclassifiable/Attainment.
Marquette County |  | Unclassifiable/Attainment.
Mason County |  | Unclassifiable/Attainment.
Mecosta County |  | Unclassifiable/Attainment.
Menominee County |  | Unclassifiable/Attainment.
Midland County |  | Unclassifiable/Attainment.
Missaukee County |  | Unclassifiable/Attainment.
Montcalm County |  | Unclassifiable/Attainment.
Montmorency County |  | Unclassifiable/Attainment.
Muskegon County |  | Unclassifiable/Attainment.
Newaygo County |  | Unclassifiable/Attainment.
Oceana County |  | Unclassifiable/Attainment.
Ogemaw County |  | Unclassifiable/Attainment.
Ontonagon County |  | Unclassifiable/Attainment.
Osceola County |  | Unclassifiable/Attainment.
Oscoda County |  | Unclassifiable/Attainment.
Otsego County |  | Unclassifiable/Attainment.
Ottawa County |  | Unclassifiable/Attainment.
Presque Isle County |  | Unclassifiable/Attainment.
Roscommon County |  | Unclassifiable/Attainment.
Saginaw County |  | Unclassifiable/Attainment.
St. Joseph County |  | Unclassifiable/Attainment.
Sanilac County |  | Unclassifiable/Attainment.
Schoolcraft County |  | Unclassifiable/Attainment.
Shiawassee County |  | Unclassifiable/Attainment.
Tuscola County |  | Unclassifiable/Attainment.
Van Buren County |  | Unclassifiable/Attainment.
Wexford County |  | Unclassifiable/Attainment.
ᵃ Includes Indian Country located in each county or area, except as otherwise specified.
¹ This date is 90 days after January 5, 2005, unless otherwise noted.

Michigan—1997 24-Hour PM2.5 NAAQS
[Primary and secondary]
Designated area | Designation ᵃ: Date ¹ | Designation ᵃ: Type | Classification: Date | Classification: Type
Detroit-Ann Arbor, MI:
Livingston County |  | Unclassifiable/Attainment.
Macomb County |  | Unclassifiable/Attainment.
Monroe County |  | Unclassifiable/Attainment.
Oakland County |  | Unclassifiable/Attainment.
St. Clair County |  | Unclassifiable/Attainment.
Washtenaw County |  | Unclassifiable/Attainment.
Wayne County |  | Unclassifiable/Attainment.
Rest of State:
Alcona County |  | Unclassifiable/Attainment.
Alger County |  | Unclassifiable/Attainment.
Allegan County |  | Unclassifiable/Attainment.
Alpena County |  | Unclassifiable/Attainment.
Antrim County |  | Unclassifiable/Attainment.
Arenac County |  | Unclassifiable/Attainment.
Baraga County |  | Unclassifiable/Attainment.
Barry County |  | Unclassifiable/Attainment.
Bay County |  | Unclassifiable/Attainment.
Benzie County |  | Unclassifiable/Attainment.
Berrien County |  | Unclassifiable/Attainment.
Branch County |  | Unclassifiable/Attainment.
Calhoun County |  | Unclassifiable/Attainment.
Cass County |  | Unclassifiable/Attainment.
Charlevoix County |  | Unclassifiable/Attainment.
Cheboygan County |  | Unclassifiable/Attainment.
Chippewa County |  | Unclassifiable/Attainment.
Clare County |  | Unclassifiable/Attainment.
Clinton County |  | Unclassifiable/Attainment.
Crawford County |  | Unclassifiable/Attainment.
Delta County |  | Unclassifiable/Attainment.
Dickinson County |  | Unclassifiable/Attainment.
Eaton County |  | Unclassifiable/Attainment.
Emmet County |  | Unclassifiable/Attainment.
Genesee County |  | Unclassifiable/Attainment.
Gladwin County |  | Unclassifiable/Attainment.
Gogebic County |  | Unclassifiable/Attainment.
Grand Traverse County |  | Unclassifiable/Attainment.
Gratiot County |  | Unclassifiable/Attainment.
Hillsdale County |  | Unclassifiable/Attainment.
Houghton County |  | Unclassifiable/Attainment.
Huron County |  | Unclassifiable/Attainment.
Ingham County |  | Unclassifiable/Attainment.
Ionia County |  | Unclassifiable/Attainment.
Iosco County |  | Unclassifiable/Attainment.
Iron County |  | Unclassifiable/Attainment.
Isabella County |  | Unclassifiable/Attainment.
Jackson County |  | Unclassifiable/Attainment.
Kalamazoo County |  | Unclassifiable/Attainment.
Kalkaska County |  | Unclassifiable/Attainment.
Kent County |  | Unclassifiable/Attainment.
Keweenaw County |  | Unclassifiable/Attainment.
Lake County |  | Unclassifiable/Attainment.
Lapeer County |  | Unclassifiable/Attainment.
Leelanau County |  | Unclassifiable/Attainment.
Lenawee County |  | Unclassifiable/Attainment.
Luce County |  | Unclassifiable/Attainment.
Mackinac County |  | Unclassifiable/Attainment.
Manistee County |  | Unclassifiable/Attainment.
Marquette County |  | Unclassifiable/Attainment.
Mason County |  | Unclassifiable/Attainment.
Mecosta County |  | Unclassifiable/Attainment.
Menominee County |  | Unclassifiable/Attainment.
Midland County |  | Unclassifiable/Attainment.
Missaukee County |  | Unclassifiable/Attainment.
Montcalm County |  | Unclassifiable/Attainment.
Montmorency County |  | Unclassifiable/Attainment.
Muskegon County |  | Unclassifiable/Attainment.
Newaygo County |  | Unclassifiable/Attainment.
Oceana County |  | Unclassifiable/Attainment.
Ogemaw County |  | Unclassifiable/Attainment.
Ontonagon County |  | Unclassifiable/Attainment.
Osceola County |  | Unclassifiable/Attainment.
Oscoda County |  | Unclassifiable/Attainment.
Otsego County |  | Unclassifiable/Attainment.
Ottawa County |  | Unclassifiable/Attainment.
Presque Isle County |  | Unclassifiable/Attainment.
Roscommon County |  | Unclassifiable/Attainment.
Saginaw County |  | Unclassifiable/Attainment.
St. Joseph County |  | Unclassifiable/Attainment.
Sanilac County |  | Unclassifiable/Attainment.
Schoolcraft County |  | Unclassifiable/Attainment.
Shiawassee County |  | Unclassifiable/Attainment.
Tuscola County |  | Unclassifiable/Attainment.
Van Buren County |  | Unclassifiable/Attainment.
Wexford County |  | Unclassifiable/Attainment.
ᵃ Includes Indian Country located in each county or area, except as otherwise specified.
¹ This date is 90 days after January 5, 2005, unless otherwise noted.

Michigan—2006 24-Hour PM2.5 NAAQS
[Primary and secondary]
Designated area | Designation ᵃ: Date ¹ | Designation ᵃ: Type | Classification: Date | Classification: Type
Detroit-Ann Arbor, MI: | 8/29/13 | Attainment.
Livingston County
Macomb County
Monroe County
Oakland County
St. Clair County
Washtenaw County
Wayne County
Rest of State:
Alcona County |  | Unclassifiable/Attainment.
Alger County |  | Unclassifiable/Attainment.
Allegan County |  | Unclassifiable/Attainment.
Alpena County |  | Unclassifiable/Attainment.
Antrim County |  | Unclassifiable/Attainment.
Arenac County |  | Unclassifiable/Attainment.
Baraga County |  | Unclassifiable/Attainment.
Barry County |  | Unclassifiable/Attainment.
Bay County |  | Unclassifiable/Attainment.
Benzie County |  | Unclassifiable/Attainment.
Berrien County |  | Unclassifiable/Attainment.
Branch County |  | Unclassifiable/Attainment.
Calhoun County |  | Unclassifiable/Attainment.
Cass County |  | Unclassifiable/Attainment.
Charlevoix County |  | Unclassifiable/Attainment.
Cheboygan County |  | Unclassifiable/Attainment.
Chippewa County |  | Unclassifiable/Attainment.
Clare County |  | Unclassifiable/Attainment.
Clinton County |  | Unclassifiable/Attainment.
Crawford County |  | Unclassifiable/Attainment.
Delta County |  | Unclassifiable/Attainment.
Dickinson County |  | Unclassifiable/Attainment.
Eaton County |  | Unclassifiable/Attainment.
Emmet County |  | Unclassifiable/Attainment.
Genesee County |  | Unclassifiable/Attainment.
Gladwin County |  | Unclassifiable/Attainment.
Gogebic County |  | Unclassifiable/Attainment.
Grand Traverse County |  | Unclassifiable/Attainment.
Gratiot County |  | Unclassifiable/Attainment.
Hillsdale County |  | Unclassifiable/Attainment.
Houghton County |  | Unclassifiable/Attainment.
Huron County |  | Unclassifiable/Attainment.
Ingham County |  | Unclassifiable/Attainment.
Ionia County |  | Unclassifiable/Attainment.
Iosco County |  | Unclassifiable/Attainment.
Iron County |  | Unclassifiable/Attainment.
Isabella County |  | Unclassifiable/Attainment.
Jackson County |  | Unclassifiable/Attainment.
Kalamazoo County |  | Unclassifiable/Attainment.
Kalkaska County |  | Unclassifiable/Attainment.
Kent County |  | Unclassifiable/Attainment.
Keweenaw County |  | Unclassifiable/Attainment.
Lake County |  | Unclassifiable/Attainment.
Lapeer County |  | Unclassifiable/Attainment.
Leelanau County |  | Unclassifiable/Attainment.
Lenawee County |  | Unclassifiable/Attainment.
Luce County |  | Unclassifiable/Attainment.
Mackinac County |  | Unclassifiable/Attainment.
Manistee County |  | Unclassifiable/Attainment.
Marquette County |  | Unclassifiable/Attainment.
Mason County |  | Unclassifiable/Attainment.
Mecosta County |  | Unclassifiable/Attainment.
Menominee County |  | Unclassifiable/Attainment.
Midland County |  | Unclassifiable/Attainment.
Missaukee County |  | Unclassifiable/Attainment.
Montcalm County |  | Unclassifiable/Attainment.
Montmorency County |  | Unclassifiable/Attainment.
Muskegon County |  | Unclassifiable/Attainment.
Newaygo County |  | Unclassifiable/Attainment.
Oceana County |  | Unclassifiable/Attainment.
Ogemaw County |  | Unclassifiable/Attainment.
Ontonagon County |  | Unclassifiable/Attainment.
Osceola County |  | Unclassifiable/Attainment.
Oscoda County |  | Unclassifiable/Attainment.
Otsego County |  | Unclassifiable/Attainment.
Ottawa County |  | Unclassifiable/Attainment.
Presque Isle County |  | Unclassifiable/Attainment.
Roscommon County |  | Unclassifiable/Attainment.
Saginaw County |  | Unclassifiable/Attainment.
St. Joseph County |  | Unclassifiable/Attainment.
Sanilac County |  | Unclassifiable/Attainment.
Schoolcraft County |  | Unclassifiable/Attainment.
Shiawassee County |  | Unclassifiable/Attainment.
Tuscola County |  | Unclassifiable/Attainment.
Van Buren County |  | Unclassifiable/Attainment.
Wexford County |  | Unclassifiable/Attainment.
ᵃ Includes Indian Country located in each county or area, except as otherwise specified.
¹ This date is 30 days after November 13, 2009, unless otherwise noted.

* * * * *

25. Section 81.324 is amended as follows:

a. By removing the tables titled “Minnesota—PM2.5 (Annual NAAQS)” and “Minnesota—PM2.5 [24-hour NAAQS]”.

b. By adding three tables titled “Minnesota—1997 Annual PM2.5 NAAQS (Primary and Secondary)” and “Minnesota—1997 24-hour PM2.5 NAAQS (Primary and Secondary)” and “Minnesota—2006 24-hour PM2.5 NAAQS (Primary and Secondary)” before the table titled “Minnesota—NO2 (1971 Annual Standard)”.

The additions read as follows:

§ 81.324 Minnesota.

* * * * *

Minnesota—1997 Annual PM2.5 NAAQS
[Primary and secondary]
Designated area | Designation ᵃ: Date ¹ | Designation ᵃ: Type | Classification: Date | Classification: Type
Statewide:
Aitkin County |  | Unclassifiable/Attainment.
Anoka County |  | Unclassifiable/Attainment.
Becker County |  | Unclassifiable/Attainment.
Beltrami County |  | Unclassifiable/Attainment.
Benton County |  | Unclassifiable/Attainment.
Big Stone County |  | Unclassifiable/Attainment.
Blue Earth County |  | Unclassifiable/Attainment.
Brown County |  | Unclassifiable/Attainment.
Carlton County |  | Unclassifiable/Attainment.
Carver County |  | Unclassifiable/Attainment.
Cass County |  | Unclassifiable/Attainment.
Chippewa County |  | Unclassifiable/Attainment.
Chisago County |  | Unclassifiable/Attainment.
Clay County |  | Unclassifiable/Attainment.
Clearwater County |  | Unclassifiable/Attainment.
Cook County |  | Unclassifiable/Attainment.
Cottonwood County |  | Unclassifiable/Attainment.
Crow Wing County |  | Unclassifiable/Attainment.
Dakota County |  | Unclassifiable/Attainment.
Dodge County |  | Unclassifiable/Attainment.
Douglas County |  | Unclassifiable/Attainment.
Faribault County |  | Unclassifiable/Attainment.
Fillmore County |  | Unclassifiable/Attainment.
Freeborn County |  | Unclassifiable/Attainment.
Goodhue County |  | Unclassifiable/Attainment.
Grant County |  | Unclassifiable/Attainment.
Hennepin County |  | Unclassifiable/Attainment.
Houston County |  | Unclassifiable/Attainment.
Hubbard County |  | Unclassifiable/Attainment.
Isanti County |  | Unclassifiable/Attainment.
Itasca County |  | Unclassifiable/Attainment.
Jackson County |  | Unclassifiable/Attainment.
Kanabec County |  | Unclassifiable/Attainment.
Kandiyohi County |  | Unclassifiable/Attainment.
Kittson County |  | Unclassifiable/Attainment.
Koochiching County |  | Unclassifiable/Attainment.
Lac qui Parle County |  | Unclassifiable/Attainment.
Lake County |  | Unclassifiable/Attainment.
Lake of the Woods County |  | Unclassifiable/Attainment.
Le Sueur County |  | Unclassifiable/Attainment.
Lincoln County |  | Unclassifiable/Attainment.
Lyon County |  | Unclassifiable/Attainment.
McLeod County |  | Unclassifiable/Attainment.
Mahnomen County |  | Unclassifiable/Attainment.
Marshall County |  | Unclassifiable/Attainment.
Martin County |  | Unclassifiable/Attainment.
Meeker County |  | Unclassifiable/Attainment.
Mille Lacs County |  | Unclassifiable/Attainment.
Morrison County |  | Unclassifiable/Attainment.
Mower County |  | Unclassifiable/Attainment.
Murray County |  | Unclassifiable/Attainment.
Nicollet County |  | Unclassifiable/Attainment.
Nobles County |  | Unclassifiable/Attainment.
Norman County |  | Unclassifiable/Attainment.
Olmsted County |  | Unclassifiable/Attainment.
Otter Tail County |  | Unclassifiable/Attainment.
Pennington County |  | Unclassifiable/Attainment.
Pine County |  | Unclassifiable/Attainment.
Pipestone County |  | Unclassifiable/Attainment.
Polk County |  | Unclassifiable/Attainment.
Pope County |  | Unclassifiable/Attainment.
Ramsey County |  | Unclassifiable/Attainment.
Red Lake County |  | Unclassifiable/Attainment.
Redwood County |  | Unclassifiable/Attainment.
Renville County |  | Unclassifiable/Attainment.
Rice County |  | Unclassifiable/Attainment.
Rock County |  | Unclassifiable/Attainment.
Roseau County |  | Unclassifiable/Attainment.
St. Louis County |  | Unclassifiable/Attainment.
Scott County |  | Unclassifiable/Attainment.
Sherburne County |  | Unclassifiable/Attainment.
Sibley County |  | Unclassifiable/Attainment.
Stearns County |  | Unclassifiable/Attainment.
Steele County |  | Unclassifiable/Attainment.
Stevens County |  | Unclassifiable/Attainment.
Swift County |  | Unclassifiable/Attainment.
Todd County |  | Unclassifiable/Attainment.
Traverse County |  | Unclassifiable/Attainment.
Wabasha County |  | Unclassifiable/Attainment.
Wadena County |  | Unclassifiable/Attainment.
Waseca County |  | Unclassifiable/Attainment.
Washington County |  | Unclassifiable/Attainment.
Watonwan County |  | Unclassifiable/Attainment.
Wilkin County |  | Unclassifiable/Attainment.
Winona County |  | Unclassifiable/Attainment.
Wright County |  | Unclassifiable/Attainment.
Yellow Medicine County |  | Unclassifiable/Attainment.
ᵃ Includes Indian Country located in each county or area, except as otherwise specified.
¹ This date is 90 days after January 5, 2005, unless otherwise noted.

Minnesota—1997 24-Hour PM2.5 NAAQS
[Primary and secondary]
Designated area | Designation ᵃ: Date ¹ | Designation ᵃ: Type | Classification: Date | Classification: Type
Statewide:
Aitkin County |  | Unclassifiable/Attainment.
Anoka County |  | Unclassifiable/Attainment.
Becker County |  | Unclassifiable/Attainment.
Beltrami County |  | Unclassifiable/Attainment.
Benton County |  | Unclassifiable/Attainment.
Big Stone County |  | Unclassifiable/Attainment.
Blue Earth County |  | Unclassifiable/Attainment.
Brown County |  | Unclassifiable/Attainment.
Carlton County |  | Unclassifiable/Attainment.
Carver County |  | Unclassifiable/Attainment.
Cass County |  | Unclassifiable/Attainment.
Chippewa County |  | Unclassifiable/Attainment.
Chisago County |  | Unclassifiable/Attainment.
Clay County |  | Unclassifiable/Attainment.
Clearwater County |  | Unclassifiable/Attainment.
Cook County |  | Unclassifiable/Attainment.
Cottonwood County |  | Unclassifiable/Attainment.
Crow Wing County |  | Unclassifiable/Attainment.
Dakota County |  | Unclassifiable/Attainment.
Dodge County |  | Unclassifiable/Attainment.
Douglas County |  | Unclassifiable/Attainment.
Faribault County |  | Unclassifiable/Attainment.
Fillmore County |  | Unclassifiable/Attainment.
Freeborn County |  | Unclassifiable/Attainment.
Goodhue County |  | Unclassifiable/Attainment.
Grant County |  | Unclassifiable/Attainment.
Hennepin County |  | Unclassifiable/Attainment.
Houston County |  | Unclassifiable/Attainment.
Hubbard County |  | Unclassifiable/Attainment.
Isanti County |  | Unclassifiable/Attainment.
Itasca County |  | Unclassifiable/Attainment.
Jackson County |  | Unclassifiable/Attainment.
Kanabec County |  | Unclassifiable/Attainment.
Kandiyohi County |  | Unclassifiable/Attainment.
Kittson County |  | Unclassifiable/Attainment.
Koochiching County |  | Unclassifiable/Attainment.
Lac qui Parle County |  | Unclassifiable/Attainment.
Lake County |  | Unclassifiable/Attainment.
Lake of the Woods County |  | Unclassifiable/Attainment.
Le Sueur County |  | Unclassifiable/Attainment.
Lincoln County |  | Unclassifiable/Attainment.
Lyon County |  | Unclassifiable/Attainment.
McLeod County |  | Unclassifiable/Attainment.
Mahnomen County |  | Unclassifiable/Attainment.
Marshall County |  | Unclassifiable/Attainment.
Martin County |  | Unclassifiable/Attainment.
Meeker County |  | Unclassifiable/Attainment.
Mille Lacs County |  | Unclassifiable/Attainment.
Morrison County |  | Unclassifiable/Attainment.
Mower County |  | Unclassifiable/Attainment.
Murray County |  | Unclassifiable/Attainment.
Nicollet County |  | Unclassifiable/Attainment.
Nobles County |  | Unclassifiable/Attainment.
Norman County |  | Unclassifiable/Attainment.
Olmsted County |  | Unclassifiable/Attainment.
Otter Tail County |  | Unclassifiable/Attainment.
Pennington County |  | Unclassifiable/Attainment.
Pine County |  | Unclassifiable/Attainment.
Pipestone County |  | Unclassifiable/Attainment.
Polk County |  | Unclassifiable/Attainment.
Pope County |  | Unclassifiable/Attainment.
Ramsey County |  | Unclassifiable/Attainment.
Red Lake County |  | Unclassifiable/Attainment.
Redwood County |  | Unclassifiable/Attainment.
Renville County |  | Unclassifiable/Attainment.
Rice County |  | Unclassifiable/Attainment.
Rock County |  | Unclassifiable/Attainment.
Roseau County |  | Unclassifiable/Attainment.
St. Louis County |  | Unclassifiable/Attainment.
Scott County |  | Unclassifiable/Attainment.
Sherburne County |  | Unclassifiable/Attainment.
Sibley County |  | Unclassifiable/Attainment.
Stearns County |  | Unclassifiable/Attainment.
Steele County |  | Unclassifiable/Attainment.
Stevens County |  | Unclassifiable/Attainment.
Swift County |  | Unclassifiable/Attainment.
Todd County |  | Unclassifiable/Attainment.
Traverse County |  | Unclassifiable/Attainment.
Wabasha County |  | Unclassifiable/Attainment.
Wadena County |  | Unclassifiable/Attainment.
Waseca County |  | Unclassifiable/Attainment.
Washington County |  | Unclassifiable/Attainment.
Watonwan County |  | Unclassifiable/Attainment.
Wilkin County |  | Unclassifiable/Attainment.
Winona County |  | Unclassifiable/Attainment.
Wright County |  | Unclassifiable/Attainment.
Yellow Medicine County |  | Unclassifiable/Attainment.
ᵃ Includes Indian Country located in each county or area, except as otherwise specified.
¹ This date is 90 days after January 5, 2005, unless otherwise noted.

Minnesota—2006 24-Hour PM2.5 NAAQS
[Primary and secondary]
Designated area | Designation ᵃ: Date ¹ | Designation ᵃ: Type | Classification: Date | Classification: Type
Statewide:
Aitkin County |  | Unclassifiable/Attainment.
Anoka County |  | Unclassifiable/Attainment.
Becker County |  | Unclassifiable/Attainment.
Beltrami County |  | Unclassifiable/Attainment.
Benton County |  | Unclassifiable/Attainment.
Big Stone County |  | Unclassifiable/Attainment.
Blue Earth County |  | Unclassifiable/Attainment.
Brown County |  | Unclassifiable/Attainment.
Carlton County |  | Unclassifiable/Attainment.
Carver County |  | Unclassifiable/Attainment.
Cass County |  | Unclassifiable/Attainment.
Chippewa County |  | Unclassifiable/Attainment.
Chisago County |  | Unclassifiable/Attainment.
Clay County |  | Unclassifiable/Attainment.
Clearwater County |  | Unclassifiable/Attainment.
Cook County |  | Unclassifiable/Attainment.
Cottonwood County |  | Unclassifiable/Attainment.
Crow Wing County |  | Unclassifiable/Attainment.
Dakota County |  | Unclassifiable/Attainment.
Dodge County |  | Unclassifiable/Attainment.
Douglas County |  | Unclassifiable/Attainment.
Faribault County |  | Unclassifiable/Attainment.
Fillmore County |  | Unclassifiable/Attainment.
Freeborn County |  | Unclassifiable/Attainment.
Goodhue County |  | Unclassifiable/Attainment.
Grant County |  | Unclassifiable/Attainment.
Hennepin County |  | Unclassifiable/Attainment.
Houston County |  | Unclassifiable/Attainment.
Hubbard County |  | Unclassifiable/Attainment.
Isanti County |  | Unclassifiable/Attainment.
Itasca County |  | Unclassifiable/Attainment.
Jackson County |  | Unclassifiable/Attainment.
Kanabec County |  | Unclassifiable/Attainment.
Kandiyohi County |  | Unclassifiable/Attainment.
Kittson County |  | Unclassifiable/Attainment.
Koochiching County |  | Unclassifiable/Attainment.
Lac qui Parle County |  | Unclassifiable/Attainment.
Lake County |  | Unclassifiable/Attainment.
Lake of the Woods County |  | Unclassifiable/Attainment.
Le Sueur County |  | Unclassifiable/Attainment.
Lincoln County |  | Unclassifiable/Attainment.
Lyon County |  | Unclassifiable/Attainment.
McLeod County |  | Unclassifiable/Attainment.
Mahnomen County |  | Unclassifiable/Attainment.
Marshall County |  | Unclassifiable/Attainment.
Martin County |  | Unclassifiable/Attainment.
Meeker County |  | Unclassifiable/Attainment.
Mille Lacs County |  | Unclassifiable/Attainment.
Morrison County |  | Unclassifiable/Attainment.
Mower County |  | Unclassifiable/Attainment.
Murray County |  | Unclassifiable/Attainment.
Nicollet County |  | Unclassifiable/Attainment.
Nobles County |  | Unclassifiable/Attainment.
Norman County |  | Unclassifiable/Attainment.
Olmsted County |  | Unclassifiable/Attainment.
Otter Tail County |  | Unclassifiable/Attainment.
Pennington County |  | Unclassifiable/Attainment.
Pine County |  | Unclassifiable/Attainment.
Pipestone County |  | Unclassifiable/Attainment.
Polk County |  | Unclassifiable/Attainment.
Pope County |  | Unclassifiable/Attainment.
Ramsey County |  | Unclassifiable/Attainment.
Red Lake County |  | Unclassifiable/Attainment.
Redwood County |  | Unclassifiable/Attainment.
Renville County |  | Unclassifiable/Attainment.
Rice County |  | Unclassifiable/Attainment.
Rock County |  | Unclassifiable/Attainment.
Roseau County |  | Unclassifiable/Attainment.
St. Louis County |  | Unclassifiable/Attainment.
Scott County |  | Unclassifiable/Attainment.
Sherburne County |  | Unclassifiable/Attainment.
Sibley County |  | Unclassifiable/Attainment.
Stearns County |  | Unclassifiable/Attainment.
Steele County |  | Unclassifiable/Attainment.
Stevens County |  | Unclassifiable/Attainment.
Swift County |  | Unclassifiable/Attainment.
Todd County |  | Unclassifiable/Attainment.
Traverse County |  | Unclassifiable/Attainment.
Wabasha County |  | Unclassifiable/Attainment.
Wadena County |  | Unclassifiable/Attainment.
Waseca County |  | Unclassifiable/Attainment.
Washington County |  | Unclassifiable/Attainment.
Watonwan County |  | Unclassifiable/Attainment.
Wilkin County |  | Unclassifiable/Attainment.
Winona County |  | Unclassifiable/Attainment.
Wright County |  | Unclassifiable/Attainment.
Yellow Medicine County |  | Unclassifiable/Attainment.
ᵃ Includes Indian Country located in each county or area, except as otherwise specified.
¹ This date is 30 days after November 13, 2009, unless otherwise noted.

* * * * *

26. Section 81.325 is amended as follows:

a. By removing the tables titled “Mississippi—PM2.5 (Annual NAAQS)” and “Mississippi—PM2.5 [24-hour NAAQS]”.

b. By adding three tables titled “Mississippi—1997 Annual PM2.5 NAAQS (Primary and Secondary)” and “Mississippi—1997 24-hour PM2.5 NAAQS (Primary and Secondary)” and “Mississippi—2006 24-hour PM2.5 NAAQS (Primary and Secondary)” before the table titled “Mississippi—NO2 (1971 Annual Standard)”.

The additions read as follows:

§ 81.325 Mississippi.

* * * * *

Mississippi—1997 Annual PM2.5 NAAQS
[Primary and secondary]
Designated area | Designation ᵃ: Date ¹ | Designation ᵃ: Type | Classification: Date | Classification: Type
Statewide:
Adams County |  | Unclassifiable/Attainment.
Alcorn County |  | Unclassifiable/Attainment.
Amite County |  | Unclassifiable/Attainment.
Attala County |  | Unclassifiable/Attainment.
Benton County |  | Unclassifiable/Attainment.
Bolivar County |  | Unclassifiable/Attainment.
Calhoun County |  | Unclassifiable/Attainment.
Carroll County |  | Unclassifiable/Attainment.
Chickasaw County |  | Unclassifiable/Attainment.
Choctaw County |  | Unclassifiable/Attainment.
Claiborne County |  | Unclassifiable/Attainment.
Clarke County |  | Unclassifiable/Attainment.
Clay County |  | Unclassifiable/Attainment.
Coahoma County |  | Unclassifiable/Attainment.
Copiah County |  | Unclassifiable/Attainment.
Covington County |  | Unclassifiable/Attainment.
DeSoto County |  | Unclassifiable/Attainment.
Forrest County |  | Unclassifiable/Attainment.
Franklin County |  | Unclassifiable/Attainment.
George County |  | Unclassifiable/Attainment.
Greene County |  | Unclassifiable/Attainment.
Grenada County |  | Unclassifiable/Attainment.
Hancock County |  | Unclassifiable/Attainment.
Harrison County |  | Unclassifiable/Attainment.
Hinds County |  | Unclassifiable/Attainment.
Holmes County |  | Unclassifiable/Attainment.
Humphreys County |  | Unclassifiable/Attainment.
Issaquena County |  | Unclassifiable/Attainment.
Itawamba County |  | Unclassifiable/Attainment.
Jackson County |  | Unclassifiable/Attainment.
Jasper County |  | Unclassifiable/Attainment.
Jefferson County |  | Unclassifiable/Attainment.
Jefferson Davis County |  | Unclassifiable/Attainment.
Jones County |  | Unclassifiable/Attainment.
Kemper County |  | Unclassifiable/Attainment.
Lafayette County |  | Unclassifiable/Attainment.
Lamar County |  | Unclassifiable/Attainment.
Lauderdale County |  | Unclassifiable/Attainment.
Lawrence County |  | Unclassifiable/Attainment.
Leake County |  | Unclassifiable/Attainment.
Lee County |  | Unclassifiable/Attainment.
Leflore County |  | Unclassifiable/Attainment.
Lincoln County |  | Unclassifiable/Attainment.
Lowndes County |  | Unclassifiable/Attainment.
Madison County |  | Unclassifiable/Attainment.
Marion County |  | Unclassifiable/Attainment.
Marshall County |  | Unclassifiable/Attainment.
Monroe County |  | Unclassifiable/Attainment.
Montgomery County |  | Unclassifiable/Attainment.
Neshoba County |  | Unclassifiable/Attainment.
Newton County |  | Unclassifiable/Attainment.
Noxubee County |  | Unclassifiable/Attainment.
Oktibbeha County |  | Unclassifiable/Attainment.
Panola County |  | Unclassifiable/Attainment.
Pearl River County |  | Unclassifiable/Attainment.
Perry County |  | Unclassifiable/Attainment.
Pike County |  | Unclassifiable/Attainment.
Pontotoc County |  | Unclassifiable/Attainment.
Prentiss County |  | Unclassifiable/Attainment.
Quitman County |  | Unclassifiable/Attainment.
Rankin County |  | Unclassifiable/Attainment.
Scott County |  | Unclassifiable/Attainment.
Sharkey County |  | Unclassifiable/Attainment.
Simpson County |  | Unclassifiable/Attainment.
Smith County |  | Unclassifiable/Attainment.
Stone County |  | Unclassifiable/Attainment.
Sunflower County |  | Unclassifiable/Attainment.
Tallahatchie County |  | Unclassifiable/Attainment.
Tate County |  | Unclassifiable/Attainment.
Tippah County |  | Unclassifiable/Attainment.
Tishomingo County |  | Unclassifiable/Attainment.
Tunica County |  | Unclassifiable/Attainment.
Union County |  | Unclassifiable/Attainment.
Walthall County |  | Unclassifiable/Attainment.
Warren County |  | Unclassifiable/Attainment.
Washington County |  | Unclassifiable/Attainment.
Wayne County |  | Unclassifiable/Attainment.
Webster County |  | Unclassifiable/Attainment.
Wilkinson County |  | Unclassifiable/Attainment.
Winston County |  | Unclassifiable/Attainment.
Yalobusha County |  | Unclassifiable/Attainment.
Yazoo County |  | Unclassifiable/Attainment.
ᵃ Includes Indian Country located in each county or area, except as otherwise specified.
¹ This date is 90 days after January 5, 2005, unless otherwise noted.

Mississippi—1997 24-Hour PM2.5 NAAQS
[Primary and secondary]
Designated area | Designation ᵃ: Date¹ | Designation ᵃ: Type | Classification: Date | Classification: Type
Statewide:
Adams County |  | Unclassifiable/Attainment.
Alcorn County |  | Unclassifiable/Attainment.
Amite County |  | Unclassifiable/Attainment.
Attala County |  | Unclassifiable/Attainment.
Benton County |  | Unclassifiable/Attainment.
Bolivar County |  | Unclassifiable/Attainment.
Calhoun County |  | Unclassifiable/Attainment.
Carroll County |  | Unclassifiable/Attainment.
Chickasaw County |  | Unclassifiable/Attainment.
Choctaw County |  | Unclassifiable/Attainment.
Claiborne County |  | Unclassifiable/Attainment.
Clarke County |  | Unclassifiable/Attainment.
Clay County |  | Unclassifiable/Attainment.
Coahoma County |  | Unclassifiable/Attainment.
Copiah County |  | Unclassifiable/Attainment.
Covington County |  | Unclassifiable/Attainment.
DeSoto County |  | Unclassifiable/Attainment.
Forrest County |  | Unclassifiable/Attainment.
Franklin County |  | Unclassifiable/Attainment.
George County |  | Unclassifiable/Attainment.
Greene County |  | Unclassifiable/Attainment.
Grenada County |  | Unclassifiable/Attainment.
Hancock County |  | Unclassifiable/Attainment.
Harrison County |  | Unclassifiable/Attainment.
Hinds County |  | Unclassifiable/Attainment.
Holmes County |  | Unclassifiable/Attainment.
Humphreys County |  | Unclassifiable/Attainment.
Issaquena County |  | Unclassifiable/Attainment.
Itawamba County |  | Unclassifiable/Attainment.
Jackson County |  | Unclassifiable/Attainment.
Jasper County |  | Unclassifiable/Attainment.
Jefferson County |  | Unclassifiable/Attainment.
Jefferson Davis County |  | Unclassifiable/Attainment.
Jones County |  | Unclassifiable/Attainment.
Kemper County |  | Unclassifiable/Attainment.
Lafayette County |  | Unclassifiable/Attainment.
Lamar County |  | Unclassifiable/Attainment.
Lauderdale County |  | Unclassifiable/Attainment.
Lawrence County |  | Unclassifiable/Attainment.
Leake County |  | Unclassifiable/Attainment.
Lee County |  | Unclassifiable/Attainment.
Leflore County |  | Unclassifiable/Attainment.
Lincoln County |  | Unclassifiable/Attainment.
Lowndes County |  | Unclassifiable/Attainment.
Madison County |  | Unclassifiable/Attainment.
Marion County |  | Unclassifiable/Attainment.
Marshall County |  | Unclassifiable/Attainment.
Monroe County |  | Unclassifiable/Attainment.
Montgomery County |  | Unclassifiable/Attainment.
Neshoba County |  | Unclassifiable/Attainment.
Newton County |  | Unclassifiable/Attainment.
Noxubee County |  | Unclassifiable/Attainment.
Oktibbeha County |  | Unclassifiable/Attainment.
Panola County |  | Unclassifiable/Attainment.
Pearl River County |  | Unclassifiable/Attainment.
Perry County |  | Unclassifiable/Attainment.
Pike County |  | Unclassifiable/Attainment.
Pontotoc County |  | Unclassifiable/Attainment.
Prentiss County |  | Unclassifiable/Attainment.
Quitman County |  | Unclassifiable/Attainment.
Rankin County |  | Unclassifiable/Attainment.
Scott County |  | Unclassifiable/Attainment.
Sharkey County |  | Unclassifiable/Attainment.
Simpson County |  | Unclassifiable/Attainment.
Smith County |  | Unclassifiable/Attainment.
Stone County |  | Unclassifiable/Attainment.
Sunflower County |  | Unclassifiable/Attainment.
Tallahatchie County |  | Unclassifiable/Attainment.
Tate County |  | Unclassifiable/Attainment.
Tippah County |  | Unclassifiable/Attainment.
Tishomingo County |  | Unclassifiable/Attainment.
Tunica County |  | Unclassifiable/Attainment.
Union County |  | Unclassifiable/Attainment.
Walthall County |  | Unclassifiable/Attainment.
Warren County |  | Unclassifiable/Attainment.
Washington County |  | Unclassifiable/Attainment.
Wayne County |  | Unclassifiable/Attainment.
Webster County |  | Unclassifiable/Attainment.
Wilkinson County |  | Unclassifiable/Attainment.
Winston County |  | Unclassifiable/Attainment.
Yalobusha County |  | Unclassifiable/Attainment.
Yazoo County |  | Unclassifiable/Attainment.
ᵃ Includes Indian Country located in each county or area, except as otherwise specified.
¹ This date is 90 days after January 5, 2005, unless otherwise noted.

Mississippi—2006 24-Hour PM2.5 NAAQS
[Primary and secondary]
Designated area | Designation ᵃ: Date ¹ | Designation ᵃ: Type | Classification: Date | Classification: Type
Statewide:
Adams County |  | Unclassifiable/Attainment.
Alcorn County |  | Unclassifiable/Attainment.
Amite County |  | Unclassifiable/Attainment.
Attala County |  | Unclassifiable/Attainment.
Benton County |  | Unclassifiable/Attainment.
Bolivar County |  | Unclassifiable/Attainment.
Calhoun County |  | Unclassifiable/Attainment.
Carroll County |  | Unclassifiable/Attainment.
Chickasaw County |  | Unclassifiable/Attainment.
Choctaw County |  | Unclassifiable/Attainment.
Claiborne County |  | Unclassifiable/Attainment.
Clarke County |  | Unclassifiable/Attainment.
Clay County |  | Unclassifiable/Attainment.
Coahoma County |  | Unclassifiable/Attainment.
Copiah County |  | Unclassifiable/Attainment.
Covington County |  | Unclassifiable/Attainment.
DeSoto County |  | Unclassifiable/Attainment.
Forrest County |  | Unclassifiable/Attainment.
Franklin County |  | Unclassifiable/Attainment.
George County |  | Unclassifiable/Attainment.
Greene County |  | Unclassifiable/Attainment.
Grenada County |  | Unclassifiable/Attainment.
Hancock County |  | Unclassifiable/Attainment.
Harrison County |  | Unclassifiable/Attainment.
Hinds County |  | Unclassifiable/Attainment.
Holmes County |  | Unclassifiable/Attainment.
Humphreys County |  | Unclassifiable/Attainment.
Issaquena County |  | Unclassifiable/Attainment.
Itawamba County |  | Unclassifiable/Attainment.
Jackson County |  | Unclassifiable/Attainment.
Jasper County |  | Unclassifiable/Attainment.
Jefferson County |  | Unclassifiable/Attainment.
Jefferson Davis County |  | Unclassifiable/Attainment.
Jones County |  | Unclassifiable/Attainment.
Kemper County |  | Unclassifiable/Attainment.
Lafayette County |  | Unclassifiable/Attainment.
Lamar County |  | Unclassifiable/Attainment.
Lauderdale County |  | Unclassifiable/Attainment.
Lawrence County |  | Unclassifiable/Attainment.
Leake County |  | Unclassifiable/Attainment.
Lee County |  | Unclassifiable/Attainment.
Leflore County |  | Unclassifiable/Attainment.
Lincoln County |  | Unclassifiable/Attainment.
Lowndes County |  | Unclassifiable/Attainment.
Madison County |  | Unclassifiable/Attainment.
Marion County |  | Unclassifiable/Attainment.
Marshall County |  | Unclassifiable/Attainment.
Monroe County |  | Unclassifiable/Attainment.
Montgomery County |  | Unclassifiable/Attainment.
Neshoba County |  | Unclassifiable/Attainment.
Newton County |  | Unclassifiable/Attainment.
Noxubee County |  | Unclassifiable/Attainment.
Oktibbeha County |  | Unclassifiable/Attainment.
Panola County |  | Unclassifiable/Attainment.
Pearl River County |  | Unclassifiable/Attainment.
Perry County |  | Unclassifiable/Attainment.
Pike County |  | Unclassifiable/Attainment.
Pontotoc County |  | Unclassifiable/Attainment.
Prentiss County |  | Unclassifiable/Attainment.
Quitman County |  | Unclassifiable/Attainment.
Rankin County |  | Unclassifiable/Attainment.
Scott County |  | Unclassifiable/Attainment.
Sharkey County |  | Unclassifiable/Attainment.
Simpson County |  | Unclassifiable/Attainment.
Smith County |  | Unclassifiable/Attainment.
Stone County |  | Unclassifiable/Attainment.
Sunflower County |  | Unclassifiable/Attainment.
Tallahatchie County |  | Unclassifiable/Attainment.
Tate County |  | Unclassifiable/Attainment.
Tippah County |  | Unclassifiable/Attainment.
Tishomingo County |  | Unclassifiable/Attainment.
Tunica County |  | Unclassifiable/Attainment.
Union County |  | Unclassifiable/Attainment.
Walthall County |  | Unclassifiable/Attainment.
Warren County |  | Unclassifiable/Attainment.
Washington County |  | Unclassifiable/Attainment.
Wayne County |  | Unclassifiable/Attainment.
Webster County |  | Unclassifiable/Attainment.
Wilkinson County |  | Unclassifiable/Attainment.
Winston County |  | Unclassifiable/Attainment.
Yalobusha County |  | Unclassifiable/Attainment.
Yazoo County |  | Unclassifiable/Attainment.
ᵃ Includes Indian Country located in each county or area, except as otherwise specified.
¹ This date is 30 days after November 13, 2009, unless otherwise noted.

* * * * *

27. Section 81.326 is amended as follows:

a. By removing the tables titled “Missouri—PM2.5 (Annual NAAQS)” and “Missouri—PM2.5 [24-hour NAAQS]”.

b. By adding three tables titled “Missouri—1997 Annual PM2.5 NAAQS (Primary and Secondary)” and “Missouri—1997 24-hour PM2.5 NAAQS (Primary and Secondary)” and “Missouri—2006 24-hour PM2.5 NAAQS (Primary and Secondary)” before the table titled “Missouri—NO2 (1971 Annual Standard)”.

The additions read as follows:

§ 81.326 Missouri.

* * * * *

Missouri—1997 Annual PM2.5 NAAQS
[Primary and secondary]
Designated area | Designation ᵃ: Date ¹ | Designation ᵃ: Type | Classification: Date ² | Classification: Type
St. Louis, MO-IL:
Franklin County |  | Nonattainment |  | Moderate.
Jefferson County |  | Nonattainment |  | Moderate.
St. Charles County |  | Nonattainment |  | Moderate.
St. Louis County |  | Nonattainment |  | Moderate.
St. Louis City |  | Nonattainment |  | Moderate.
Rest of State:
Adair County |  | Unclassifiable/Attainment.
Andrew County |  | Unclassifiable/Attainment.
Atchison County |  | Unclassifiable/Attainment.
Audrain County |  | Unclassifiable/Attainment.
Barry County |  | Unclassifiable/Attainment.
Barton County |  | Unclassifiable/Attainment.
Bates County |  | Unclassifiable/Attainment.
Benton County |  | Unclassifiable/Attainment.
Bollinger County |  | Unclassifiable/Attainment.
Boone County |  | Unclassifiable/Attainment.
Buchanan County |  | Unclassifiable/Attainment.
Butler County |  | Unclassifiable/Attainment.
Caldwell County |  | Unclassifiable/Attainment.
Callaway County |  | Unclassifiable/Attainment.
Camden County |  | Unclassifiable/Attainment.
Cape Girardeau County |  | Unclassifiable/Attainment.
Carroll County |  | Unclassifiable/Attainment.
Carter County |  | Unclassifiable/Attainment.
Cass County |  | Unclassifiable/Attainment.
Cedar County |  | Unclassifiable/Attainment.
Chariton County |  | Unclassifiable/Attainment.
Christian County |  | Unclassifiable/Attainment.
Clark County |  | Unclassifiable/Attainment.
Clay County |  | Unclassifiable/Attainment.
Clinton County |  | Unclassifiable/Attainment.
Cole County |  | Unclassifiable/Attainment.
Cooper County |  | Unclassifiable/Attainment.
Crawford County |  | Unclassifiable/Attainment.
Dade County |  | Unclassifiable/Attainment.
Dallas County |  | Unclassifiable/Attainment.
Daviess County |  | Unclassifiable/Attainment.
DeKalb County |  | Unclassifiable/Attainment.
Dent County |  | Unclassifiable/Attainment.
Douglas County |  | Unclassifiable/Attainment.
Dunklin County |  | Unclassifiable/Attainment.
Gasconade County |  | Unclassifiable/Attainment.
Gentry County |  | Unclassifiable/Attainment.
Greene County |  | Unclassifiable/Attainment.
Grundy County |  | Unclassifiable/Attainment.
Harrison County |  | Unclassifiable/Attainment.
Henry County |  | Unclassifiable/Attainment.
Hickory County |  | Unclassifiable/Attainment.
Holt County |  | Unclassifiable/Attainment.
Howard County |  | Unclassifiable/Attainment.
Howell County |  | Unclassifiable/Attainment.
Iron County |  | Unclassifiable/Attainment.
Jackson County |  | Unclassifiable/Attainment.
Jasper County |  | Unclassifiable/Attainment.
Johnson County |  | Unclassifiable/Attainment.
Knox County |  | Unclassifiable/Attainment.
Laclede County |  | Unclassifiable/Attainment.
Lafayette County |  | Unclassifiable/Attainment.
Lawrence County |  | Unclassifiable/Attainment.
Lewis County |  | Unclassifiable/Attainment.
Lincoln County |  | Unclassifiable/Attainment.
Linn County |  | Unclassifiable/Attainment.
Livingston County |  | Unclassifiable/Attainment.
McDonald County |  | Unclassifiable/Attainment.
Macon County |  | Unclassifiable/Attainment.
Madison County |  | Unclassifiable/Attainment.
Maries County |  | Unclassifiable/Attainment.
Marion County |  | Unclassifiable/Attainment.
Mercer County |  | Unclassifiable/Attainment.
Miller County |  | Unclassifiable/Attainment.
Mississippi County |  | Unclassifiable/Attainment.
Moniteau County |  | Unclassifiable/Attainment.
Monroe County |  | Unclassifiable/Attainment.
Montgomery County |  | Unclassifiable/Attainment.
Morgan County |  | Unclassifiable/Attainment.
New Madrid County |  | Unclassifiable/Attainment.
Newton County |  | Unclassifiable/Attainment.
Oregon County |  | Unclassifiable/Attainment.
Osage County |  | Unclassifiable/Attainment.
Ozark County |  | Unclassifiable/Attainment.
Pemiscot County |  | Unclassifiable/Attainment.
Perry County |  | Unclassifiable/Attainment.
Pettis County |  | Unclassifiable/Attainment.
Phelps County |  | Unclassifiable/Attainment.
Pike County |  | Unclassifiable/Attainment.
Platte County |  | Unclassifiable/Attainment.
Polk County |  | Unclassifiable/Attainment.
Pulaski County |  | Unclassifiable/Attainment.
Putnam County |  | Unclassifiable/Attainment.
Ralls County |  | Unclassifiable/Attainment.
Randolph County |  | Unclassifiable/Attainment.
Ray County |  | Unclassifiable/Attainment.
Reynolds County |  | Unclassifiable/Attainment.
Ripley County |  | Unclassifiable/Attainment.
St. Clair County |  | Unclassifiable/Attainment.
St. Genevieve County |  | Unclassifiable/Attainment.
St. Francois County |  | Unclassifiable/Attainment.
Saline County |  | Unclassifiable/Attainment.
Schuyler County |  | Unclassifiable/Attainment.
Scotland County |  | Unclassifiable/Attainment.
Scott County |  | Unclassifiable/Attainment.
Shannon County |  | Unclassifiable/Attainment.
Shelby County |  | Unclassifiable/Attainment.
Stoddard County |  | Unclassifiable/Attainment.
Stone County |  | Unclassifiable/Attainment.
Sullivan County |  | Unclassifiable/Attainment.
Taney County |  | Unclassifiable/Attainment.
Texas County |  | Unclassifiable/Attainment.
Vernon County |  | Unclassifiable/Attainment.
Warren County |  | Unclassifiable/Attainment.
Washington County |  | Unclassifiable/Attainment.
Wayne County |  | Unclassifiable/Attainment.
Webster County |  | Unclassifiable/Attainment.
Worth County |  | Unclassifiable/Attainment.
Wright County |  | Unclassifiable/Attainment.
ᵃ Includes Indian Country located in each county or area, except as otherwise specified.
¹ This date is 90 days after January 5, 2005, unless otherwise noted.
² This date is July 2, 2014, unless otherwise noted.

Missouri—1997 24-Hour PM2.5 NAAQS
[Primary and secondary]
Designated area | Designation ᵃ: Date ¹ | Designation ᵃ: Type | Classification: Date | Classification: Type
Statewide:
Adair County |  | Unclassifiable/Attainment.
Andrew County |  | Unclassifiable/Attainment.
Atchison County |  | Unclassifiable/Attainment.
Audrain County |  | Unclassifiable/Attainment.
Barry County |  | Unclassifiable/Attainment.
Barton County |  | Unclassifiable/Attainment.
Bates County |  | Unclassifiable/Attainment.
Benton County |  | Unclassifiable/Attainment.
Bollinger County |  | Unclassifiable/Attainment.
Boone County |  | Unclassifiable/Attainment.
Buchanan County |  | Unclassifiable/Attainment.
Butler County |  | Unclassifiable/Attainment.
Caldwell County |  | Unclassifiable/Attainment.
Callaway County |  | Unclassifiable/Attainment.
Camden County |  | Unclassifiable/Attainment.
Cape Girardeau County |  | Unclassifiable/Attainment.
Carroll County |  | Unclassifiable/Attainment.
Carter County |  | Unclassifiable/Attainment.
Cass County |  | Unclassifiable/Attainment.
Cedar County |  | Unclassifiable/Attainment.
Chariton County |  | Unclassifiable/Attainment.
Christian County |  | Unclassifiable/Attainment.
Clark County |  | Unclassifiable/Attainment.
Clay County |  | Unclassifiable/Attainment.
Clinton County |  | Unclassifiable/Attainment.
Cole County |  | Unclassifiable/Attainment.
Cooper County |  | Unclassifiable/Attainment.
Crawford County |  | Unclassifiable/Attainment.
Dade County |  | Unclassifiable/Attainment.
Dallas County |  | Unclassifiable/Attainment.
Daviess County |  | Unclassifiable/Attainment.
DeKalb County |  | Unclassifiable/Attainment.
Dent County |  | Unclassifiable/Attainment.
Douglas County |  | Unclassifiable/Attainment.
Dunklin County |  | Unclassifiable/Attainment.
Franklin County |  | Unclassifiable/Attainment.
Gasconade County |  | Unclassifiable/Attainment.
Gentry County |  | Unclassifiable/Attainment.
Greene County |  | Unclassifiable/Attainment.
Grundy County |  | Unclassifiable/Attainment.
Harrison County |  | Unclassifiable/Attainment.
Henry County |  | Unclassifiable/Attainment.
Hickory County |  | Unclassifiable/Attainment.
Holt County |  | Unclassifiable/Attainment.
Howard County |  | Unclassifiable/Attainment.
Howell County |  | Unclassifiable/Attainment.
Iron County |  | Unclassifiable/Attainment.
Jackson County |  | Unclassifiable/Attainment.
Jasper County |  | Unclassifiable/Attainment.
Jefferson County |  | Unclassifiable/Attainment.
Johnson County |  | Unclassifiable/Attainment.
Knox County |  | Unclassifiable/Attainment.
Laclede County |  | Unclassifiable/Attainment.
Lafayette County |  | Unclassifiable/Attainment.
Lawrence County |  | Unclassifiable/Attainment.
Lewis County |  | Unclassifiable/Attainment.
Lincoln County |  | Unclassifiable/Attainment.
Linn County |  | Unclassifiable/Attainment.
Livingston County |  | Unclassifiable/Attainment.
McDonald County |  | Unclassifiable/Attainment.
Macon County |  | Unclassifiable/Attainment.
Madison County |  | Unclassifiable/Attainment.
Maries County |  | Unclassifiable/Attainment.
Marion County |  | Unclassifiable/Attainment.
Mercer County |  | Unclassifiable/Attainment.
Miller County |  | Unclassifiable/Attainment.
Mississippi County |  | Unclassifiable/Attainment.
Moniteau County |  | Unclassifiable/Attainment.
Monroe County |  | Unclassifiable/Attainment.
Montgomery County |  | Unclassifiable/Attainment.
Morgan County |  | Unclassifiable/Attainment.
New Madrid County |  | Unclassifiable/Attainment.
Newton County |  | Unclassifiable/Attainment.
Nodaway County |  | Unclassifiable/Attainment.
Oregon County |  | Unclassifiable/Attainment.
Osage County |  | Unclassifiable/Attainment.
Ozark County |  | Unclassifiable/Attainment.
Pemiscot County |  | Unclassifiable/Attainment.
Perry County |  | Unclassifiable/Attainment.
Pettis County |  | Unclassifiable/Attainment.
Phelps County |  | Unclassifiable/Attainment.
Pike County |  | Unclassifiable/Attainment.
Platte County |  | Unclassifiable/Attainment.
Polk County |  | Unclassifiable/Attainment.
Pulaski County |  | Unclassifiable/Attainment.
Putnam County |  | Unclassifiable/Attainment.
Ralls County |  | Unclassifiable/Attainment.
Randolph County |  | Unclassifiable/Attainment.
Ray County |  | Unclassifiable/Attainment.
Reynolds County |  | Unclassifiable/Attainment.
Ripley County |  | Unclassifiable/Attainment.
St Charles County |  | Unclassifiable/Attainment.
St Clair County |  | Unclassifiable/Attainment.
St Genevieve County |  | Unclassifiable/Attainment.
St Francois County |  | Unclassifiable/Attainment.
St Louis City |  | Unclassifiable/Attainment.
St Louis County |  | Unclassifiable/Attainment.
Saline County |  | Unclassifiable/Attainment.
Schuyler County |  | Unclassifiable/Attainment.
Scotland County |  | Unclassifiable/Attainment.
Scott County |  | Unclassifiable/Attainment.
Shannon County |  | Unclassifiable/Attainment.
Shelby County |  | Unclassifiable/Attainment.
Stoddard County |  | Unclassifiable/Attainment.
Stone County |  | Unclassifiable/Attainment.
Sullivan County |  | Unclassifiable/Attainment.
Taney County |  | Unclassifiable/Attainment.
Texas County |  | Unclassifiable/Attainment.
Vernon County |  | Unclassifiable/Attainment.
Warren County |  | Unclassifiable/Attainment.
Washington County |  | Unclassifiable/Attainment.
Wayne County |  | Unclassifiable/Attainment.
Webster County |  | Unclassifiable/Attainment.
Worth County |  | Unclassifiable/Attainment.
Wright County |  | Unclassifiable/Attainment.
ᵃ Includes Indian Country located in each county or area, except as otherwise specified.
¹ This date is 90 days after January 5, 2005, unless otherwise noted.

Missouri—2006 24-Hour PM2.5 NAAQS
[Primary and secondary]
Designated area | Designation ᵃ: Date¹ | Designation ᵃ: Type | Classification: Date | Classification: Type
Statewide:
Adair County |  | Unclassifiable/Attainment.
Andrew County |  | Unclassifiable/Attainment.
Atchison County |  | Unclassifiable/Attainment.
Audrain County |  | Unclassifiable/Attainment.
Barry County |  | Unclassifiable/Attainment.
Barton County |  | Unclassifiable/Attainment.
Bates County |  | Unclassifiable/Attainment.
Benton County |  | Unclassifiable/Attainment.
Bollinger County |  | Unclassifiable/Attainment.
Boone County |  | Unclassifiable/Attainment.
Buchanan County |  | Unclassifiable/Attainment.
Butler County |  | Unclassifiable/Attainment.
Caldwell County |  | Unclassifiable/Attainment.
Callaway County |  | Unclassifiable/Attainment.
Camden County |  | Unclassifiable/Attainment.
Cape Girardeau County |  | Unclassifiable/Attainment.
Carroll County |  | Unclassifiable/Attainment.
Carter County |  | Unclassifiable/Attainment.
Cass County |  | Unclassifiable/Attainment.
Cedar County |  | Unclassifiable/Attainment.
Chariton County |  | Unclassifiable/Attainment.
Christian County |  | Unclassifiable/Attainment.
Clark County |  | Unclassifiable/Attainment.
Clay County |  | Unclassifiable/Attainment.
Clinton County |  | Unclassifiable/Attainment.
Cole County |  | Unclassifiable/Attainment.
Cooper County |  | Unclassifiable/Attainment.
Crawford County |  | Unclassifiable/Attainment.
Dade County |  | Unclassifiable/Attainment.
Dallas County |  | Unclassifiable/Attainment.
Daviess County |  | Unclassifiable/Attainment.
DeKalb County |  | Unclassifiable/Attainment.
Dent County |  | Unclassifiable/Attainment.
Douglas County |  | Unclassifiable/Attainment.
Dunklin County |  | Unclassifiable/Attainment.
Franklin County |  | Unclassifiable/Attainment.
Gasconade County |  | Unclassifiable/Attainment.
Gentry County |  | Unclassifiable/Attainment.
Greene County |  | Unclassifiable/Attainment.
Grundy County |  | Unclassifiable/Attainment.
Harrison County |  | Unclassifiable/Attainment.
Henry County |  | Unclassifiable/Attainment.
Hickory County |  | Unclassifiable/Attainment.
Holt County |  | Unclassifiable/Attainment.
Howard County |  | Unclassifiable/Attainment.
Howell County |  | Unclassifiable/Attainment.
Iron County |  | Unclassifiable/Attainment.
Jackson County |  | Unclassifiable/Attainment.
Jasper County |  | Unclassifiable/Attainment.
Jefferson County |  | Unclassifiable/Attainment.
Johnson County |  | Unclassifiable/Attainment.
Knox County |  | Unclassifiable/Attainment.
Laclede County |  | Unclassifiable/Attainment.
Lafayette County |  | Unclassifiable/Attainment.
Lawrence County |  | Unclassifiable/Attainment.
Lewis County |  | Unclassifiable/Attainment.
Lincoln County |  | Unclassifiable/Attainment.
Linn County |  | Unclassifiable/Attainment.
Livingston County |  | Unclassifiable/Attainment.
McDonald County |  | Unclassifiable/Attainment.
Macon County |  | Unclassifiable/Attainment.
Madison County |  | Unclassifiable/Attainment.
Maries County |  | Unclassifiable/Attainment.
Marion County |  | Unclassifiable/Attainment.
Mercer County |  | Unclassifiable/Attainment.
Miller County |  | Unclassifiable/Attainment.
Mississippi County |  | Unclassifiable/Attainment.
Moniteau County |  | Unclassifiable/Attainment.
Monroe County |  | Unclassifiable/Attainment.
Montgomery County |  | Unclassifiable/Attainment.
Morgan County |  | Unclassifiable/Attainment.
New Madrid County |  | Unclassifiable/Attainment.
Newton County |  | Unclassifiable/Attainment.
Nodaway County |  | Unclassifiable/Attainment.
Oregon County |  | Unclassifiable/Attainment.
Osage County |  | Unclassifiable/Attainment.
Ozark County |  | Unclassifiable/Attainment.
Pemiscot County |  | Unclassifiable/Attainment.
Perry County |  | Unclassifiable/Attainment.
Pettis County |  | Unclassifiable/Attainment.
Phelps County |  | Unclassifiable/Attainment.
Pike County |  | Unclassifiable/Attainment.
Platte County |  | Unclassifiable/Attainment.
Polk County |  | Unclassifiable/Attainment.
Pulaski County |  | Unclassifiable/Attainment.
Putnam County |  | Unclassifiable/Attainment.
Ralls County |  | Unclassifiable/Attainment.
Randolph County |  | Unclassifiable/Attainment.
Ray County |  | Unclassifiable/Attainment.
Reynolds County |  | Unclassifiable/Attainment.
Ripley County |  | Unclassifiable/Attainment.
St Charles County |  | Unclassifiable/Attainment.
St Clair County |  | Unclassifiable/Attainment.
St Genevieve County |  | Unclassifiable/Attainment.
St Francois County |  | Unclassifiable/Attainment.
St Louis City |  | Unclassifiable/Attainment.
St Louis County |  | Unclassifiable/Attainment.
Saline County |  | Unclassifiable/Attainment.
Schuyler County |  | Unclassifiable/Attainment.
Scotland County |  | Unclassifiable/Attainment.
Scott County |  | Unclassifiable/Attainment.
Shannon County |  | Unclassifiable/Attainment.
Shelby County |  | Unclassifiable/Attainment.
Stoddard County |  | Unclassifiable/Attainment.
Stone County |  | Unclassifiable/Attainment.
Sullivan County |  | Unclassifiable/Attainment.
Taney County |  | Unclassifiable/Attainment.
Texas County |  | Unclassifiable/Attainment.
Vernon County |  | Unclassifiable/Attainment.
Warren County |  | Unclassifiable/Attainment.
Washington County |  | Unclassifiable/Attainment.
Wayne County |  | Unclassifiable/Attainment.
Webster County |  | Unclassifiable/Attainment.
Worth County |  | Unclassifiable/Attainment.
Wright County |  | Unclassifiable/Attainment.
ᵃ Includes Indian Country located in each county or area, except as otherwise specified.
¹ This date is 30 days after November 13, 2009, unless otherwise noted.

* * * * *

28. Section 81.327 is amended as follows:

a. By removing the tables titled “Montana—PM2.5 (Annual NAAQS)” and “Montana—PM2.5 [24-hour NAAQS]”.

b. By adding three tables titled “Montana—1997 Annual PM2.5 NAAQS (Primary and Secondary)” and “Montana—1997 24-hour PM2.5 NAAQS (Primary and Secondary)” and “Montana—2006 24-hour PM2.5 NAAQS (Primary and Secondary)” before the table titled “Montana—NO2 (1971 Annual Standard)”.

The additions read as follows:

§ 81.327 Montana.

* * * * *

Montana—1997 Annual PM2.5 NAAQS
[Primary and secondary]
Designated area | Designation ᵃ: Date ¹ | Designation ᵃ: Type | Classification: Date ² | Classification: Type
Libby, MT:
Lincoln County (part) |  | Nonattainment |  | Moderate.
The area bounded by lines from Universal Transverse Mercador Zone 11 (North American Datum 1983) coordinates beginning at 600,000mE, 5,370,000mN east to 620,000mE, 5370,000mN south to 620,000mE, 5340,000mN west to 600,000mE, 5,340,000mN north to 600,000mE, 5,370,000mN.
Rest of State:
Beaverhead County |  | Unclassifiable/Attainment.
Big Horn County |  | Unclassifiable/Attainment.
Blaine County |  | Unclassifiable/Attainment.
Broadwater County |  | Unclassifiable/Attainment.
Carbon County |  | Unclassifiable/Attainment.
Carter County |  | Unclassifiable/Attainment.
Cascade County |  | Unclassifiable/Attainment.
Chouteau County |  | Unclassifiable/Attainment.
Custer County |  | Unclassifiable/Attainment.
Daniels County |  | Unclassifiable/Attainment.
Dawson County |  | Unclassifiable/Attainment.
Deer Lodge County |  | Unclassifiable/Attainment.
Fallon County |  | Unclassifiable/Attainment.
Fergus County |  | Unclassifiable/Attainment.
Flathead County |  | Unclassifiable/Attainment.
Gallatin County |  | Unclassifiable/Attainment.
Garfield County |  | Unclassifiable/Attainment.
Glacier County |  | Unclassifiable/Attainment.
Golden Valley County |  | Unclassifiable/Attainment.
Granite County |  | Unclassifiable/Attainment.
Hill County |  | Unclassifiable/Attainment.
Jefferson County |  | Unclassifiable/Attainment.
Judith Basin County |  | Unclassifiable/Attainment.
Lake County |  | Unclassifiable/Attainment.
Lewis and Clark County |  | Unclassifiable/Attainment.
Liberty County |  | Unclassifiable/Attainment.
Lincoln County (remainder) |  | Unclassifiable/Attainment.
McCone County |  | Unclassifiable/Attainment.
Madison County |  | Unclassifiable/Attainment.
Meagher County |  | Unclassifiable/Attainment.
Mineral County |  | Unclassifiable/Attainment.
Missoula County |  | Unclassifiable/Attainment.
Musselshell County |  | Unclassifiable/Attainment.
Park County |  | Unclassifiable/Attainment.
Petroleum County |  | Unclassifiable/Attainment.
Phillips County |  | Unclassifiable/Attainment.
Pondera County |  | Unclassifiable/Attainment.
Powder River County |  | Unclassifiable/Attainment.
Powell County |  | Unclassifiable/Attainment.
Prairie County |  | Unclassifiable/Attainment.
Ravalli County |  | Unclassifiable/Attainment.
Richland County |  | Unclassifiable/Attainment.
Roosevelt County |  | Unclassifiable/Attainment.
Rosebud County |  | Unclassifiable/Attainment.
Sanders County |  | Unclassifiable/Attainment.
Sheridan County |  | Unclassifiable/Attainment.
Silver Bow County |  | Unclassifiable/Attainment.
Stillwater County |  | Unclassifiable/Attainment.
Sweet Grass County |  | Unclassifiable/Attainment.
Teton County |  | Unclassifiable/Attainment.
Toole County |  | Unclassifiable/Attainment.
Treasure County |  | Unclassifiable/Attainment.
Valley County |  | Unclassifiable/Attainment.
Wheatland County |  | Unclassifiable/Attainment.
Wibaux County |  | Unclassifiable/Attainment.
Yellowstone County |  | Unclassifiable/Attainment.
ᵃ Includes Indian Country located in each county or area, except as otherwise specified.
¹ This date is 90 days after January 5, 2005, unless otherwise noted.
² This date is July 2, 2014, unless otherwise noted.

Montana—1997 24-Hour PM2.5 NAAQS
[Primary and secondary]
Designated area | Designation ᵃ: Date ¹ | Designation ᵃ: Type | Classification: Date | Classification: Type
Statewide:
Beaverhead County |  | Unclassifiable/Attainment. |  |
Big Horn County |  | Unclassifiable/Attainment. |  |
Blaine County |  | Unclassifiable/Attainment. |  |
Broadwater County |  | Unclassifiable/Attainment. |  |
Carbon County |  | Unclassifiable/Attainment. |  |
Carter County |  | Unclassifiable/Attainment. |  |
Cascade County |  | Unclassifiable/Attainment. |  |
Chouteau County |  | Unclassifiable/Attainment. |  |
Custer County |  | Unclassifiable/Attainment. |  |
Daniels County |  | Unclassifiable/Attainment. |  |
Dawson County |  | Unclassifiable/Attainment. |  |
Deer Lodge County |  | Unclassifiable/Attainment. |  |
Fallon County |  | Unclassifiable/Attainment. |  |
Fergus County |  | Unclassifiable/Attainment. |  |
Flathead County |  | Unclassifiable/Attainment. |  |
Gallatin County |  | Unclassifiable/Attainment. |  |
Garfield County |  | Unclassifiable/Attainment. |  |
Glacier County |  | Unclassifiable/Attainment. |  |
Golden Valley County |  | Unclassifiable/Attainment. |  |
Granite County |  | Unclassifiable/Attainment. |  |
Hill County |  | Unclassifiable/Attainment. |  |
Jefferson County |  | Unclassifiable/Attainment. |  |
Judith Basin County |  | Unclassifiable/Attainment. |  |
Lake County |  | Unclassifiable/Attainment. |  |
Lewis and Clark County |  | Unclassifiable/Attainment. |  |
Liberty County |  | Unclassifiable/Attainment. |  |
Lincoln County |  | Unclassifiable/Attainment. |  |
McCone County |  | Unclassifiable/Attainment. |  |
Madison County |  | Unclassifiable/Attainment. |  |
Meagher County |  | Unclassifiable/Attainment. |  |
Mineral County |  | Unclassifiable/Attainment. |  |
Missoula County |  | Unclassifiable/Attainment. |  |
Musselshell County |  | Unclassifiable/Attainment. |  |
Park County |  | Unclassifiable/Attainment. |  |
Petroleum County |  | Unclassifiable/Attainment. |  |
Phillips County |  | Unclassifiable/Attainment. |  |
Pondera County |  | Unclassifiable/Attainment. |  |
Powder River County |  | Unclassifiable/Attainment. |  |
Powell County |  | Unclassifiable/Attainment. |  |
Prairie County |  | Unclassifiable/Attainment. |  |
Ravalli County |  | Unclassifiable/Attainment. |  |
Richland County |  | Unclassifiable/Attainment. |  |
Roosevelt County |  | Unclassifiable/Attainment. |  |
Rosebud County |  | Unclassifiable/Attainment. |  |
Sanders County |  | Unclassifiable/Attainment. |  |
Sheridan County |  | Unclassifiable/Attainment. |  |
Silver Bow County |  | Unclassifiable/Attainment. |  |
Stillwater County |  | Unclassifiable/Attainment. |  |
Sweet Grass County |  | Unclassifiable/Attainment. |  |
Teton County |  | Unclassifiable/Attainment. |  |
Toole County |  | Unclassifiable/Attainment. |  |
Treasure County |  | Unclassifiable/Attainment. |  |
Valley County |  | Unclassifiable/Attainment. |  |
Wheatland County |  | Unclassifiable/Attainment. |  |
Wibaux County |  | Unclassifiable/Attainment. |  |
Yellowstone County |  | Unclassifiable/Attainment. |  |
ᵃ Includes Indian Country located in each county or area, except as otherwise specified.
¹ This date is 90 days after January 5, 2005, unless otherwise noted.

Montana—2006 24-Hour PM2.5 NAAQS
[Primary and secondary]
Designated area | Designation ᵃ: Date ¹ | Designation ᵃ: Type | Classification: Date | Classification: Type
Statewide:
Beaverhead County |  | Unclassifiable/Attainment.
Big Horn County |  | Unclassifiable/Attainment.
Blaine County |  | Unclassifiable/Attainment.
Broadwater County |  | Unclassifiable/Attainment.
Carbon County |  | Unclassifiable/Attainment.
Carter County |  | Unclassifiable/Attainment.
Cascade County |  | Unclassifiable/Attainment.
Chouteau County |  | Unclassifiable/Attainment.
Custer County |  | Unclassifiable/Attainment.
Daniels County |  | Unclassifiable/Attainment.
Dawson County |  | Unclassifiable/Attainment.
Deer Lodge County |  | Unclassifiable/Attainment.
Fallon County |  | Unclassifiable/Attainment.
Fergus County |  | Unclassifiable/Attainment.
Flathead County |  | Unclassifiable/Attainment.
Gallatin County |  | Unclassifiable/Attainment.
Garfield County |  | Unclassifiable/Attainment.
Glacier County |  | Unclassifiable/Attainment.
Golden Valley County |  | Unclassifiable/Attainment.
Granite County |  | Unclassifiable/Attainment.
Hill County |  | Unclassifiable/Attainment.
Jefferson County |  | Unclassifiable/Attainment.
Judith Basin County |  | Unclassifiable/Attainment.
Lake County |  | Unclassifiable/Attainment.
Lewis and Clark County |  | Unclassifiable/Attainment.
Liberty County |  | Unclassifiable/Attainment.
Lincoln County |  | Unclassifiable/Attainment.
McCone County |  | Unclassifiable/Attainment.
Madison County |  | Unclassifiable/Attainment.
Meagher County |  | Unclassifiable/Attainment.
Mineral County |  | Unclassifiable/Attainment.
Missoula County |  | Unclassifiable/Attainment.
Musselshell County |  | Unclassifiable/Attainment.
Park County |  | Unclassifiable/Attainment.
Petroleum County |  | Unclassifiable/Attainment.
Phillips County |  | Unclassifiable/Attainment.
Pondera County |  | Unclassifiable/Attainment.
Powder River County |  | Unclassifiable/Attainment.
Powell County |  | Unclassifiable/Attainment.
Prairie County |  | Unclassifiable/Attainment.
Ravalli County |  | Unclassifiable/Attainment.
Richland County |  | Unclassifiable/Attainment.
Roosevelt County |  | Unclassifiable/Attainment.
Rosebud County |  | Unclassifiable/Attainment.
Sanders County |  | Unclassifiable/Attainment.
Sheridan County |  | Unclassifiable/Attainment.
Silver Bow County |  | Unclassifiable/Attainment.
Stillwater County |  | Unclassifiable/Attainment.
Sweet Grass County |  | Unclassifiable/Attainment.
Teton County |  | Unclassifiable/Attainment.
Toole County |  | Unclassifiable/Attainment.
Treasure County |  | Unclassifiable/Attainment.
Valley County |  | Unclassifiable/Attainment.
Wheatland County |  | Unclassifiable/Attainment.
Wibaux County |  | Unclassifiable/Attainment.
Yellowstone County |  | Unclassifiable/Attainment.
ᵃ Includes Indian Country located in each county or area, except as otherwise specified.
¹ This date is 30 days after November 13, 2009, unless otherwise noted.

* * * * *

29. Section 81.328 is amended as follows:

a. By removing the tables titled “Nebraska—PM2.5 (Annual NAAQS)” and “Nebraska—PM2.5 [24-hour NAAQS]”.

b. By adding three tables titled “Nebraska—1997 Annual PM2.5 NAAQS (Primary and Secondary)” and “Nebraska—1997 24-hour PM2.5 NAAQS (Primary and Secondary)” and “Nebraska—2006 24-hour PM2.5 NAAQS (Primary and Secondary)” before the table titled “Nebraska—NO2 (1971 Annual Standard)”.

The additions read as follows:

§ 81.328 Nebraska.

* * * * *

Nebraska—1997 Annual PM2.5 NAAQS
[Primary and secondary]
Designated area | Designation ᵃ: Date ¹ | Designation ᵃ: Type | Classification: Date | Classification: Type
Statewide:
Adams County |  | Unclassifiable/Attainment.
Antelope County |  | Unclassifiable/Attainment.
Arthur County |  | Unclassifiable/Attainment.
Banner County |  | Unclassifiable/Attainment.
Blaine County |  | Unclassifiable/Attainment.
Boone County |  | Unclassifiable/Attainment.
Box Butte County |  | Unclassifiable/Attainment.
Boyd County |  | Unclassifiable/Attainment.
Brown County |  | Unclassifiable/Attainment.
Buffalo County |  | Unclassifiable/Attainment.
Burt County |  | Unclassifiable/Attainment.
Butler County |  | Unclassifiable/Attainment.
Cass County |  | Unclassifiable/Attainment.
Cedar County |  | Unclassifiable/Attainment.
Chase County |  | Unclassifiable/Attainment.
Cherry County |  | Unclassifiable/Attainment.
Cheyenne County |  | Unclassifiable/Attainment.
Clay County |  | Unclassifiable/Attainment.
Colfax County |  | Unclassifiable/Attainment.
Cuming County |  | Unclassifiable/Attainment.
Custer County |  | Unclassifiable/Attainment.
Dakota County |  | Unclassifiable/Attainment.
Dawes County |  | Unclassifiable/Attainment.
Dawson County |  | Unclassifiable/Attainment.
Deuel County |  | Unclassifiable/Attainment.
Dixon County |  | Unclassifiable/Attainment.
Dodge County |  | Unclassifiable/Attainment.
Douglas County |  | Unclassifiable/Attainment.
Dundy County |  | Unclassifiable/Attainment.
Fillmore County |  | Unclassifiable/Attainment.
Franklin County |  | Unclassifiable/Attainment.
Frontier County |  | Unclassifiable/Attainment.
Furnas County |  | Unclassifiable/Attainment.
Gage County |  | Unclassifiable/Attainment.
Garden County |  | Unclassifiable/Attainment.
Garfield County |  | Unclassifiable/Attainment.
Gosper County |  | Unclassifiable/Attainment.
Grant County |  | Unclassifiable/Attainment.
Greeley County |  | Unclassifiable/Attainment.
Hall County |  | Unclassifiable/Attainment.
Hamilton County |  | Unclassifiable/Attainment.
Harlan County |  | Unclassifiable/Attainment.
Hayes County |  | Unclassifiable/Attainment.
Hitchcock County |  | Unclassifiable/Attainment.
Holt County |  | Unclassifiable/Attainment.
Hooker County |  | Unclassifiable/Attainment.
Howard County |  | Unclassifiable/Attainment.
Jefferson County |  | Unclassifiable/Attainment.
Johnson County |  | Unclassifiable/Attainment.
Kearney County |  | Unclassifiable/Attainment.
Keith County |  | Unclassifiable/Attainment.
Keya Paha County |  | Unclassifiable/Attainment.
Kimball County |  | Unclassifiable/Attainment.
Knox County |  | Unclassifiable/Attainment.
Lancaster County |  | Unclassifiable/Attainment.
Lincoln County |  | Unclassifiable/Attainment.
Logan County |  | Unclassifiable/Attainment.
Loup County |  | Unclassifiable/Attainment.
McPherson County |  | Unclassifiable/Attainment.
Madison County |  | Unclassifiable/Attainment.
Merrick County |  | Unclassifiable/Attainment.
Morrill County |  | Unclassifiable/Attainment.
Nance County |  | Unclassifiable/Attainment.
Nemaha County |  | Unclassifiable/Attainment.
Nuckolls County |  | Unclassifiable/Attainment.
Otoe County |  | Unclassifiable/Attainment.
Pawnee County |  | Unclassifiable/Attainment.
Perkins County |  | Unclassifiable/Attainment.
Phelps County |  | Unclassifiable/Attainment.
Pierce County |  | Unclassifiable/Attainment.
Platte County |  | Unclassifiable/Attainment.
Polk County |  | Unclassifiable/Attainment.
Red Willow County |  | Unclassifiable/Attainment.
Richardson County |  | Unclassifiable/Attainment.
Rock County |  | Unclassifiable/Attainment.
Saline County |  | Unclassifiable/Attainment.
Sarpy County |  | Unclassifiable/Attainment.
Saunders County |  | Unclassifiable/Attainment.
Scotts Bluff County |  | Unclassifiable/Attainment.
Seward County |  | Unclassifiable/Attainment.
Sheridan County |  | Unclassifiable/Attainment.
Sherman County |  | Unclassifiable/Attainment.
Sioux County |  | Unclassifiable/Attainment.
Stanton County |  | Unclassifiable/Attainment.
Thayer County |  | Unclassifiable/Attainment.
Thomas County |  | Unclassifiable/Attainment.
Thurston County |  | Unclassifiable/Attainment.
Valley County |  | Unclassifiable/Attainment.
Washington County |  | Unclassifiable/Attainment.
Wayne County |  | Unclassifiable/Attainment.
Webster County |  | Unclassifiable/Attainment.
Wheeler County |  | Unclassifiable/Attainment.
York County |  | Unclassifiable/Attainment.
ᵃ Includes Indian Country located in each county or area, except as otherwise specified.
¹ This date is 90 days after January 5, 2005, unless otherwise noted.

Nebraska—1997 24-Hour PM2.5 NAAQS
[Primary and secondary]
Designated area | Designation ᵃ: Date ¹ | Designation ᵃ: Type | Classification: Date | Classification: Type
Statewide:
Adams County |  | Unclassifiable/Attainment.
Antelope County |  | Unclassifiable/Attainment.
Arthur County |  | Unclassifiable/Attainment.
Banner County |  | Unclassifiable/Attainment.
Blaine County |  | Unclassifiable/Attainment.
Boone County |  | Unclassifiable/Attainment.
Box Butte County |  | Unclassifiable/Attainment.
Boyd County |  | Unclassifiable/Attainment.
Brown County |  | Unclassifiable/Attainment.
Buffalo County |  | Unclassifiable/Attainment.
Burt County |  | Unclassifiable/Attainment.
Butler County |  | Unclassifiable/Attainment.
Cass County |  | Unclassifiable/Attainment.
Cedar County |  | Unclassifiable/Attainment.
Chase County |  | Unclassifiable/Attainment.
Cherry County |  | Unclassifiable/Attainment.
Cheyenne County |  | Unclassifiable/Attainment.
Clay County |  | Unclassifiable/Attainment.
Colfax County |  | Unclassifiable/Attainment.
Cuming County |  | Unclassifiable/Attainment.
Custer County |  | Unclassifiable/Attainment.
Dakota County |  | Unclassifiable/Attainment.
Dawes County |  | Unclassifiable/Attainment.
Dawson County |  | Unclassifiable/Attainment.
Deuel County |  | Unclassifiable/Attainment.
Dixon County |  | Unclassifiable/Attainment.
Dodge County |  | Unclassifiable/Attainment.
Douglas County |  | Unclassifiable/Attainment.
Dundy County |  | Unclassifiable/Attainment.
Fillmore County |  | Unclassifiable/Attainment.
Franklin County |  | Unclassifiable/Attainment.
Frontier County |  | Unclassifiable/Attainment.
Furnas County |  | Unclassifiable/Attainment.
Gage County |  | Unclassifiable/Attainment.
Garden County |  | Unclassifiable/Attainment.
Garfield County |  | Unclassifiable/Attainment.
Gosper County |  | Unclassifiable/Attainment.
Grant County |  | Unclassifiable/Attainment.
Greeley County |  | Unclassifiable/Attainment.
Hall County |  | Unclassifiable/Attainment.
Hamilton County |  | Unclassifiable/Attainment.
Harlan County |  | Unclassifiable/Attainment.
Hayes County |  | Unclassifiable/Attainment.
Hitchcock County |  | Unclassifiable/Attainment.
Holt County |  | Unclassifiable/Attainment.
Hooker County |  | Unclassifiable/Attainment.
Howard County |  | Unclassifiable/Attainment.
Jefferson County |  | Unclassifiable/Attainment.
Johnson County |  | Unclassifiable/Attainment.
Kearney County |  | Unclassifiable/Attainment.
Keith County |  | Unclassifiable/Attainment.
Keya Paha County |  | Unclassifiable/Attainment.
Kimball County |  | Unclassifiable/Attainment.
Knox County |  | Unclassifiable/Attainment.
Lancaster County |  | Unclassifiable/Attainment.
Lincoln County |  | Unclassifiable/Attainment.
Logan County |  | Unclassifiable/Attainment.
Loup County |  | Unclassifiable/Attainment.
McPherson County |  | Unclassifiable/Attainment.
Madison County |  | Unclassifiable/Attainment.
Merrick County |  | Unclassifiable/Attainment.
Morrill County |  | Unclassifiable/Attainment.
Nance County |  | Unclassifiable/Attainment.
Nemaha County |  | Unclassifiable/Attainment.
Nuckolls County |  | Unclassifiable/Attainment.
Otoe County |  | Unclassifiable/Attainment.
Pawnee County |  | Unclassifiable/Attainment.
Perkins County |  | Unclassifiable/Attainment.
Phelps County |  | Unclassifiable/Attainment.
Pierce County |  | Unclassifiable/Attainment.
Platte County |  | Unclassifiable/Attainment.
Polk County |  | Unclassifiable/Attainment.
Red Willow County |  | Unclassifiable/Attainment.
Richardson County |  | Unclassifiable/Attainment.
Rock County |  | Unclassifiable/Attainment.
Saline County |  | Unclassifiable/Attainment.
Sarpy County |  | Unclassifiable/Attainment.
Saunders County |  | Unclassifiable/Attainment.
Scotts Bluff County |  | Unclassifiable/Attainment.
Seward County |  | Unclassifiable/Attainment.
Sheridan County |  | Unclassifiable/Attainment.
Sherman County |  | Unclassifiable/Attainment.
Sioux County |  | Unclassifiable/Attainment.
Stanton County |  | Unclassifiable/Attainment.
Thayer County |  | Unclassifiable/Attainment.
Thomas County |  | Unclassifiable/Attainment.
Thurston County |  | Unclassifiable/Attainment.
Valley County |  | Unclassifiable/Attainment.
Washington County |  | Unclassifiable/Attainment.
Wayne County |  | Unclassifiable/Attainment.
Webster County |  | Unclassifiable/Attainment.
Wheeler County |  | Unclassifiable/Attainment.
York County |  | Unclassifiable/Attainment.
ᵃ Includes Indian Country located in each county or area, except as otherwise specified.
¹ This date is 90 days after January 5, 2005, unless otherwise noted.

Nebraska—2006 24-Hour PM2.5 NAAQS
[Primary and secondary]
Designated area | Designation ᵃ: Date ¹ | Designation ᵃ: Type | Classification: Date | Classification: Type
Statewide:
Adams County |  | Unclassifiable/Attainment.
Antelope County |  | Unclassifiable/Attainment.
Arthur County |  | Unclassifiable/Attainment.
Banner County |  | Unclassifiable/Attainment.
Blaine County |  | Unclassifiable/Attainment.
Boone County |  | Unclassifiable/Attainment.
Box Butte County |  | Unclassifiable/Attainment.
Boyd County |  | Unclassifiable/Attainment.
Brown County |  | Unclassifiable/Attainment.
Buffalo County |  | Unclassifiable/Attainment.
Burt County |  | Unclassifiable/Attainment.
Butler County |  | Unclassifiable/Attainment.
Cass County |  | Unclassifiable/Attainment.
Cedar County |  | Unclassifiable/Attainment.
Chase County |  | Unclassifiable/Attainment.
Cherry County |  | Unclassifiable/Attainment.
Cheyenne County |  | Unclassifiable/Attainment.
Clay County |  | Unclassifiable/Attainment.
Colfax County |  | Unclassifiable/Attainment.
Cuming County |  | Unclassifiable/Attainment.
Custer County |  | Unclassifiable/Attainment.
Dakota County |  | Unclassifiable/Attainment.
Dawes County |  | Unclassifiable/Attainment.
Dawson County |  | Unclassifiable/Attainment.
Deuel County |  | Unclassifiable/Attainment.
Dixon County |  | Unclassifiable/Attainment.
Dodge County |  | Unclassifiable/Attainment.
Douglas County |  | Unclassifiable/Attainment.
Dundy County |  | Unclassifiable/Attainment.
Fillmore County |  | Unclassifiable/Attainment.
Franklin County |  | Unclassifiable/Attainment.
Frontier County |  | Unclassifiable/Attainment.
Furnas County |  | Unclassifiable/Attainment.
Gage County |  | Unclassifiable/Attainment.
Garden County |  | Unclassifiable/Attainment.
Garfield County |  | Unclassifiable/Attainment.
Gosper County |  | Unclassifiable/Attainment.
Grant County |  | Unclassifiable/Attainment.
Greeley County |  | Unclassifiable/Attainment.
Hall County |  | Unclassifiable/Attainment.
Hamilton County |  | Unclassifiable/Attainment.
Harlan County |  | Unclassifiable/Attainment.
Hayes County |  | Unclassifiable/Attainment.
Hitchcock County |  | Unclassifiable/Attainment.
Holt County |  | Unclassifiable/Attainment.
Hooker County |  | Unclassifiable/Attainment.
Howard County |  | Unclassifiable/Attainment.
Jefferson County |  | Unclassifiable/Attainment.
Johnson County |  | Unclassifiable/Attainment.
Kearney County |  | Unclassifiable/Attainment.
Keith County |  | Unclassifiable/Attainment.
Keya Paha County |  | Unclassifiable/Attainment.
Kimball County |  | Unclassifiable/Attainment.
Knox County |  | Unclassifiable/Attainment.
Lancaster County |  | Unclassifiable/Attainment.
Lincoln County |  | Unclassifiable/Attainment.
Logan County |  | Unclassifiable/Attainment.
Loup County |  | Unclassifiable/Attainment.
McPherson County |  | Unclassifiable/Attainment.
Madison County |  | Unclassifiable/Attainment.
Merrick County |  | Unclassifiable/Attainment.
Morrill County |  | Unclassifiable/Attainment.
Nance County |  | Unclassifiable/Attainment.
Nemaha County |  | Unclassifiable/Attainment.
Nuckolls County |  | Unclassifiable/Attainment.
Otoe County |  | Unclassifiable/Attainment.
Pawnee County |  | Unclassifiable/Attainment.
Perkins County |  | Unclassifiable/Attainment.
Phelps County |  | Unclassifiable/Attainment.
Pierce County |  | Unclassifiable/Attainment.
Platte County |  | Unclassifiable/Attainment.
Polk County |  | Unclassifiable/Attainment.
Red Willow County |  | Unclassifiable/Attainment.
Richardson County |  | Unclassifiable/Attainment.
Rock County |  | Unclassifiable/Attainment.
Saline County |  | Unclassifiable/Attainment.
Sarpy County |  | Unclassifiable/Attainment.
Saunders County |  | Unclassifiable/Attainment.
Scotts Bluff County |  | Unclassifiable/Attainment.
Seward County |  | Unclassifiable/Attainment.
Sheridan County |  | Unclassifiable/Attainment.
Sherman County |  | Unclassifiable/Attainment.
Sioux County |  | Unclassifiable/Attainment.
Stanton County |  | Unclassifiable/Attainment.
Thayer County |  | Unclassifiable/Attainment.
Thomas County |  | Unclassifiable/Attainment.
Thurston County |  | Unclassifiable/Attainment.
Valley County |  | Unclassifiable/Attainment.
Washington County |  | Unclassifiable/Attainment.
Wayne County |  | Unclassifiable/Attainment.
Webster County |  | Unclassifiable/Attainment.
Wheeler County |  | Unclassifiable/Attainment.
York County |  | Unclassifiable/Attainment.
ᵃ Includes Indian Country located in each county or area, except as otherwise specified.
¹ This date is 30 days after November 13, 2009, unless otherwise noted.

* * * * *

30. Section 81.329 is amended as follows:

a. By removing the tables titled “Nevada—PM2.5 (Annual NAAQS)” and “Nevada—PM2.5 [24-hour NAAQS]”.

b. By adding three tables titled “Nevada—1997 Annual PM2.5 NAAQS (Primary and Secondary)” and “Nevada—1997 24-hour PM2.5 NAAQS (Primary and Secondary)” and “Nevada—2006 24-hour PM2.5 NAAQS (Primary and Secondary)” before the table titled “Nevada—NO2 (1971 Annual Standard)”.

The additions read as follows:

§ 81.329 Nevada.

* * * * *

Nevada—1997 Annual PM2.5 NAAQS
[Primary and secondary]
Designated area | Designation ᵃ: Date ¹ | Designation ᵃ: Type | Classification: Date | Classification: Type
Statewide ² |  | Unclassifiable/Attainment.
ᵃ Includes Indian Country located in each county or area, except as otherwise specified.
¹ This date is 90 days after January 5, 2005, unless otherwise noted.
² Statewide refers to hydrographic areas as shown on the State of Nevada Division of Water Resources' map titled “Water Resources and Inter-basin Flows” (September 1971), as revised to include a division of Carson Desert (area 101) into two areas, a smaller area 101 and area 101A, and a division of Boulder Flat (area 61) into an Upper Unit 61 and a Lower Unit 61. See also 67 FR 12474 (March 19, 2002).

Nevada—1997 24-Hour PM2.5 NAAQS
[Primary and secondary]
Designated area | Designation ᵃ: Date ¹ | Designation ᵃ: Type | Classification: Date | Classification: Type
Statewide ² |  | Unclassifiable/Attainment.
ᵃ Includes Indian Country located in each county or area, except as otherwise specified.
¹ This date is 90 days after January 5, 2005, unless otherwise noted.
² Statewide refers to hydrographic areas as shown on the State of Nevada Division of Water Resources' map titled “Water Resources and Inter-basin Flows” (September 1971), as revised to include a division of Carson Desert (area 101) into two areas, a smaller area 101 and area 101A, and a division of Boulder Flat (area 61) into an Upper Unit 61 and a Lower Unit 61. See also 67 FR 12474 (March 19, 2002).

Nevada—2006 24-Hour PM2.5 NAAQS
[Primary and secondary]
Designated area | Designation ᵃ: Date¹ | Designation ᵃ: Type | Classification: Date | Classification: Type
Statewide ² |  | Unclassifiable/Attainment.
ᵃ Includes Indian Country located in each county or area, except as otherwise specified.
¹ This date is 30 days after November 13, 2009, unless otherwise noted.
² Statewide refers to hydrographic areas as shown on the State of Nevada Division of Water Resources' map titled “Water Resources and Inter-basin Flows” (September 1971), as revised to include a division of Carson Desert (area 101) into two areas, a smaller area 101 and area 101A, and a division of Boulder Flat (area 61) into an Upper Unit 61 and a Lower Unit 61. See also 67 FR 12474 (March 19, 2002).

* * * * *

31. Section 81.330 is amended as follows:

a. By removing the tables titled “New Hampshire—PM2.5 (Annual NAAQS)” and “New Hampshire—PM2.5 [24-hour NAAQS]”.

b. By adding three tables titled “New Hampshire—1997 Annual PM2.5 NAAQS (Primary and Secondary)” and “New Hampshire—1997 24-hour PM2.5 NAAQS (Primary and Secondary)” and “New Hampshire—2006 24-hour PM2.5 NAAQS (Primary and Secondary)” before the table titled “New Hampshire—NO2 (1971 Annual Standard)”.

The additions read as follows:

§ 81.330 New Hampshire.

* * * * *

New Hampshire—1997 Annual PM2.5 NAAQS
[Primary and secondary]
Designated area | Designation ᵃ: Date ¹ | Designation ᵃ: Type | Classification: Date | Classification: Type
Statewide:
Belknap County |  | Unclassifiable/Attainment.
Carroll County |  | Unclassifiable/Attainment.
Cheshire County |  | Unclassifiable/Attainment.
Coos County |  | Unclassifiable/Attainment.
Grafton County |  | Unclassifiable/Attainment.
Hillsborough County |  | Unclassifiable/Attainment.
Merrimack County |  | Unclassifiable/Attainment.
Rockingham County |  | Unclassifiable/Attainment.
Strafford County |  | Unclassifiable/Attainment.
Sullivan County |  | Unclassifiable/Attainment.
ᵃ Includes Indian Country located in each county or area, except as otherwise specified.
¹ This date is 90 days after January 5, 2005, unless otherwise noted.

New Hampshire—1997 24-Hour PM2.5 NAAQS
[Primary and secondary]
Designated area | Designation ᵃ: Date ¹ | Designation ᵃ: Type | Classification: Date | Classification: Type
Statewide:
Belknap County |  | Unclassifiable/Attainment.
Carroll County |  | Unclassifiable/Attainment.
Cheshire County |  | Unclassifiable/Attainment.
Coos County |  | Unclassifiable/Attainment.
Grafton County |  | Unclassifiable/Attainment.
Hillsborough County |  | Unclassifiable/Attainment.
Merrimack County |  | Unclassifiable/Attainment.
Rockingham County |  | Unclassifiable/Attainment.
Strafford County |  | Unclassifiable/Attainment.
Sullivan County |  | Unclassifiable/Attainment.
ᵃ Includes Indian Country located in each county or area, except as otherwise specified.
¹ This date is 90 days after January 5, 2005, unless otherwise noted.

New Hampshire—2006 24-Hour PM2.5 NAAQS
[Primary and secondary]
Designated area | Designation ᵃ: Date ¹ | Designation ᵃ: Type | Classification: Date | Classification: Type
Statewide:
Belknap County |  | Unclassifiable/Attainment.
Carroll County |  | Unclassifiable/Attainment.
Cheshire County |  | Unclassifiable/Attainment.
Coos County |  | Unclassifiable/Attainment.
Grafton County |  | Unclassifiable/Attainment.
Hillsborough County |  | Unclassifiable/Attainment.
Merrimack County |  | Unclassifiable/Attainment.
Rockingham County |  | Unclassifiable/Attainment.
Strafford County |  | Unclassifiable/Attainment.
Sullivan County |  | Unclassifiable/Attainment.
ᵃ Includes Indian Country located in each county or area, except as otherwise specified.
¹ This date is 30 days after November 13, 2009, unless otherwise noted.

* * * * *

32. Section 81.331 is amended as follows:

a. By removing the tables titled “New Jersey—PM2.5 (Annual NAAQS)” and “New Jersey—PM2.5 [24-hour NAAQS]”.

b. By adding three tables titled “New Jersey—1997 Annual PM2.5 NAAQS (Primary and Secondary)” and “New Jersey—1997 24-hour PM2.5 NAAQS (Primary and Secondary)” and “New Jersey—2006 24-hour PM2.5 NAAQS (Primary and Secondary)” before the table titled “New Jersey—NO2 (1971 Annual Standard)”.

The additions read as follows:

§ 81.331 New Jersey.

* * * * *

New Jersey—1997 Annual PM2.5 NAAQS
[Primary and secondary]
Designated area | Designation ᵃ: Date ¹ | Designation ᵃ: Type | Classification: Date | Classification: Type
New York-N. New Jersey-Long Island, NY-NJ-CT:
Bergen County | 9/4/13 | Attainment.
Essex County | 9/4/13 | Attainment.
Hudson County | 9/4/13 | Attainment.
Mercer County | 9/4/13 | Attainment.
Middlesex County | 9/4/13 | Attainment.
Monmouth County | 9/4/13 | Attainment.
Morris County | 9/4/13 | Attainment.
Passaic County | 9/4/13 | Attainment.
Somerset County | 9/4/13 | Attainment.
Union County | 9/4/13 | Attainment.
Philadelphia-Wilmington, PA-NJ-DE:
Burlington County | 9/4/13 | Attainment.
Camden County | 9/4/13 | Attainment.
Gloucester County | 9/4/13 | Attainment.
New York-N. New Jersey-Long Island, NY-NJ-CT:
Hunterdon County |  | Unclassifiable/Attainment.
Sussex County |  | Unclassifiable/Attainment.
Warren County |  | Unclassifiable/Attainment.
Atlantic City, NJ:
Atlantic County |  | Unclassifiable/Attainment.
Cape May County |  | Unclassifiable/Attainment.
Cumberland County |  | Unclassifiable/Attainment.
Ocean County |  | Unclassifiable/Attainment.
Salem County |  | Unclassifiable/Attainment.
ᵃ Includes Indian Country located in each county or area, except as otherwise specified.
¹ This date is 90 days after January 5, 2005, unless otherwise noted.

New Jersey—1997 24-Hour PM2.5 NAAQS
[Primary and secondary]
Designated area | Designation ᵃ: Date ¹ | Designation ᵃ: Type | Classification: Date | Classification: Type
New York-N. New Jersey-Long Island, NY-NJ-CT:
Bergen County |  | Unclassifiable/Attainment.
Essex County |  | Unclassifiable/Attainment.
Hudson County |  | Unclassifiable/Attainment.
Hunterdon County |  | Unclassifiable/Attainment.
Mercer County |  | Unclassifiable/Attainment.
Middlesex County |  | Unclassifiable/Attainment.
Monmouth County |  | Unclassifiable/Attainment.
Morris County |  | Unclassifiable/Attainment.
Passaic County |  | Unclassifiable/Attainment.
Somerset County |  | Unclassifiable/Attainment.
Sussex County |  | Unclassifiable/Attainment.
Union County |  | Unclassifiable/Attainment.
Warren County |  | Unclassifiable/Attainment.
Philadelphia-Wilmington, PA-NJ-DE:
Burlington County |  | Unclassifiable/Attainment.
Camden County |  | Unclassifiable/Attainment.
Gloucester County |  | Unclassifiable/Attainment.
Rest of State:
Atlantic City, NJ:
Atlantic County |  | Unclassifiable/Attainment.
Cape May County |  | Unclassifiable/Attainment.
Cumberland County |  | Unclassifiable/Attainment.
Ocean County |  | Unclassifiable/Attainment.
Salem County |  | Unclassifiable/Attainment.
ᵃ Includes Indian Country located in each county or area, except as otherwise specified.
¹ This date is 90 days after January 5, 2005, unless otherwise noted.

New Jersey—2006 24-Hour PM2.5 NAAQS
[Primary and secondary]
Designated area | Designation ᵃ: Date ¹ | Designation ᵃ: Type | Classification: Date | Classification: Type
New York-N. New Jersey-Long Island, NY-NJ-CT:
Bergen County | 9/4/13 | Attainment.
Essex County | 9/4/13 | Attainment.
Hudson County | 9/4/13 | Attainment.
Mercer County | 9/4/13 | Attainment.
Middlesex County | 9/4/13 | Attainment.
Monmouth County | 9/4/13 | Attainment.
Morris County | 9/4/13 | Attainment.
Passaic County | 9/4/13 | Attainment.
Somerset County | 9/4/13 | Attainment.
Union County | 9/4/13 | Attainment.
Philadelphia-Wilmington, PA-NJ-DE:
Burlington County | 9/4/13 | Attainment.
Camden County | 9/4/13 | Attainment.
Gloucester County | 9/4/13 | Attainment.
Rest of State:
New York-N. New Jersey-Long Island, NY-NJ-CT:
Hunterdon County |  | Unclassifiable/Attainment.
Sussex County |  | Unclassifiable/Attainment.
Warren County |  | Unclassifiable/Attainment.
Atlantic City, NJ:
Atlantic County |  | Unclassifiable/Attainment.
Cape May County |  | Unclassifiable/Attainment.
Cumberland County |  | Unclassifiable/Attainment.
Ocean County |  | Unclassifiable/Attainment.
Salem County |  | Unclassifiable/Attainment.
ᵃ Includes Indian Country located in each county or area, except as otherwise specified.
¹ This date is 30 days after November 13, 2009, unless otherwise noted.

* * * * *

33. Section 81.332 is amended as follows:

a. By removing the tables titled “New Mexico—PM2.5 (Annual NAAQS)” and “New Mexico—PM2.5 [24-hour NAAQS]”.

b. By adding three tables titled “New Mexico—1997 Annual PM2.5 NAAQS (Primary and Secondary)” and “New Mexico—1997 24-hour PM2.5 NAAQS (Primary and Secondary)” and “New Mexico—2006 24-hour PM2.5 NAAQS (Primary and Secondary)” before the table titled “New Mexico—NO2 (1971 Annual Standard)”.

The additions read as follows:

§ 81.332 New Mexico.

* * * * *

New Mexico—1997 Annual PM2.5 NAAQS
[Primary and secondary]
Designated area | Designation ᵃ: Date ¹ | Designation ᵃ: Type | Classification: Date ¹ | Classification: Type
AQCR 012 New Mexico-Southern Border Intrastate:
Grant County |  | Unclassifiable/Attainment.
Hidalgo County |  | Unclassifiable/Attainment.
Luna County |  | Unclassifiable/Attainment.
AQCR 014 Four Corners Interstate (see 40 CFR 81.121):
McKinley County (part) |  | Unclassifiable/Attainment.
Río Arriba County (part) |  | Unclassifiable/Attainment.
Sandoval County (part) |  | Unclassifiable/Attainment.
San Juan County |  | Unclassifiable/Attainment.
Valencia County (part) |  | Unclassifiable/Attainment.
AQCR 152 Albuquerque-Mid Rio Grande Intrastate:
Bernalillo County |  | Unclassifiable/Attainment.
Sandoval County (part) see 40 CFR 81.83 |  | Unclassifiable/Attainment.
Valencia County (part) see 40 CFR 81.83 |  | Unclassifiable/Attainment.
AQCR 153 El Paso-Las Cruces-Alamogordo:
Doña Ana County (part) |  | Unclassifiable/Attainment.
(Sunland Park Area) The area bounded by the New Mexico-Texas State line on the east, New Mexico-Mexico international line on the south, the range 3E-Range 2E line on the west, and the N3200 latitude line on the north.
Doña Ana County (remainder) |  | Unclassifiable/Attainment.
Lincoln County |  | Unclassifiable/Attainment.
Otero County |  | Unclassifiable/Attainment.
Sierra County |  | Unclassifiable/Attainment.
AQCR 154 Northeastern Plains Intrastate:
Colfax County |  | Unclassifiable/Attainment.
Guadalupe County |  | Unclassifiable/Attainment.
Harding County |  | Unclassifiable/Attainment.
Mora County |  | Unclassifiable/Attainment.
San Miguel County |  | Unclassifiable/Attainment.
Torrance County |  | Unclassifiable/Attainment.
Union County |  | Unclassifiable/Attainment.
AQCR 155 Pecos-Permian Basin Intrastate:
Chaves County |  | Unclassifiable/Attainment.
Curry County |  | Unclassifiable/Attainment.
De Baca County |  | Unclassifiable/Attainment.
Eddy County |  | Unclassifiable/Attainment.
Lea County |  | Unclassifiable/Attainment.
Quay County |  | Unclassifiable/Attainment.
Roosevelt County |  | Unclassifiable/Attainment.
AQCR 156 SW Mountains-Augustine Plains:
Catron County |  | Unclassifiable/Attainment.
Cibola County |  | Unclassifiable/Attainment.
McKinley County (part) see 40 CFR 81.241 |  | Unclassifiable/Attainment.
Socorro County |  | Unclassifiable/Attainment.
Valencia County (part) see 40 CFR 81.241 |  | Unclassifiable/Attainment.
AQCR 157 Upper Rio Grande Valley Intrastate:
Los Alamos County |  | Unclassifiable/Attainment.
Río Arriba County (part) see 40 CFR 81.239 |  | Unclassifiable/Attainment.
Santa Fe County |  | Unclassifiable/Attainment.
Taos County |  | Unclassifiable/Attainment.
ᵃ Includes Indian Country located in each county or area, except as otherwise specified.
¹ This date is 90 days after January 5, 2005, unless otherwise noted.

New Mexico—1997 24-Hour PM2.5 NAAQS
[Primary and secondary]
Designated area | Designationᵃ: Date¹ | Designationᵃ: Type | Classification: Date¹ | Classification: Type
AQCR 222 New Mexico-Southern Border Intrastate:
Grant County |  | Unclassifiable/Attainment.
Hidalgo County |  | Unclassifiable/Attainment.
Luna County |  | Unclassifiable/Attainment.
AQCR 224 Four Corners Interstate (see 40 CFR 81.121):
McKinley County (part) |  | Unclassifiable/Attainment.
Río Arriba County (part) |  | Unclassifiable/Attainment.
Sandoval County (part) |  | Unclassifiable/Attainment.
San Juan County |  | Unclassifiable/Attainment.
Valencia County (part) |  | Unclassifiable/Attainment.
AQCR 152 Albuquerque-Mid Rio Grande Intrastate:
Bernalillo County |  | Unclassifiable/Attainment.
Sandoval County (part) see 40 CFR 81.83 |  | Unclassifiable/Attainment.
Valencia County (part) see 40 CFR 81.83 |  | Unclassifiable/Attainment.
AQCR 153 El Paso-Las Cruces-Alamogordo:
Doña Ana County (part) |  | Unclassifiable/Attainment.
(Sunland Park Area) The area bounded by the New Mexico-Texas State line on the east, New Mexico-Mexico international line on the south, the range 3E-Range 2E line on the west, and the N3200 latitude line on the north.
Doña Ana County (remainder) |  | Unclassifiable/Attainment.
Lincoln County |  | Unclassifiable/Attainment.
Otero County |  | Unclassifiable/Attainment.
Sierra County |  | Unclassifiable/Attainment.
AQCR 154 Northeastern Plains Intrastate:
Colfax County |  | Unclassifiable/Attainment.
Guadalupe County |  | Unclassifiable/Attainment.
Harding County |  | Unclassifiable/Attainment.
Mora County |  | Unclassifiable/Attainment.
San Miguel County |  | Unclassifiable/Attainment.
Torrance County |  | Unclassifiable/Attainment.
Union County |  | Unclassifiable/Attainment.
AQCR 155 Pecos-Permian Basin Intrastate:
Chaves County |  | Unclassifiable/Attainment.
Curry County |  | Unclassifiable/Attainment.
De Baca County |  | Unclassifiable/Attainment.
Eddy County |  | Unclassifiable/Attainment.
Lea County |  | Unclassifiable/Attainment.
Quay County |  | Unclassifiable/Attainment.
Roosevelt County |  | Unclassifiable/Attainment.
AQCR 156 SW Mountains-Augustine Plains:
Catron County |  | Unclassifiable/Attainment.
Cibola County |  | Unclassifiable/Attainment.
McKinley County (part) see 40 CFR 81.241 |  | Unclassifiable/Attainment.
Socorro County |  | Unclassifiable/Attainment.
Valencia County (part) see 40 CFR 81.241 |  | Unclassifiable/Attainment.
AQCR 157 Upper Rio Grande Valley Intrastate:
Los Alamos County |  | Unclassifiable/Attainment.
Río Arriba County (part) see 40 CFR 81.239 |  | Unclassifiable/Attainment.
Santa Fe County |  | Unclassifiable/Attainment.
Taos County |  | Unclassifiable/Attainment.
ᵃ Includes Indian Country located in each county or area, except as otherwise specified.
¹ This date is 90 days after January 5, 2005, unless otherwise noted.

New Mexico—2006 24-Hour PM2.5 NAAQS
[Primary and secondary]
Designated area | Designationᵃ: Date¹ | Designationᵃ: Type | Classification: Date¹ | Classification: Type
AQCR 222 New Mexico-Southern Border Intrastate:
Grant County |  | Unclassifiable/Attainment.
Hidalgo County |  | Unclassifiable/Attainment.
Luna County |  | Unclassifiable/Attainment.
AQCR 224 Four Corners Interstate (see 40 CFR 81.121):
McKinley County (part) |  | Unclassifiable/Attainment.
Río Arriba County (part) |  | Unclassifiable/Attainment.
Sandoval County (part) |  | Unclassifiable/Attainment.
San Juan County |  | Unclassifiable/Attainment.
Valencia County (part) |  | Unclassifiable/Attainment.
AQCR 152 Albuquerque-Mid Rio Grande Intrastate:
Bernalillo County |  | Unclassifiable/Attainment.
Sandoval County (part) see 40 CFR 81.83 |  | Unclassifiable/Attainment.
Valencia County (part) see 40 CFR 81.83 |  | Unclassifiable/Attainment.
AQCR 153 El Paso-Las Cruces-Alamogordo:
Doña Ana County (part) |  | Unclassifiable/Attainment.
(Sunland Park Area) The area bounded by the New Mexico-Texas State line on the east, New Mexico-Mexico international line on the south, the range 3E-Range 2E line on the west, and the N3200 latitude line on the north.
Doña Ana County (remainder) |  | Unclassifiable/Attainment.
Lincoln County |  | Unclassifiable/Attainment.
Otero County |  | Unclassifiable/Attainment.
Sierra County |  | Unclassifiable/Attainment.
AQCR 154 Northeastern Plains Intrastate:
Colfax County |  | Unclassifiable/Attainment.
Guadalupe County |  | Unclassifiable/Attainment.
Harding County |  | Unclassifiable/Attainment.
Mora County |  | Unclassifiable/Attainment.
San Miguel County |  | Unclassifiable/Attainment.
Torrance County |  | Unclassifiable/Attainment.
Union County |  | Unclassifiable/Attainment.
AQCR 155 Pecos-Permian Basin Intrastate:
Chaves County |  | Unclassifiable/Attainment.
Curry County |  | Unclassifiable/Attainment.
De Baca County |  | Unclassifiable/Attainment.
Eddy County |  | Unclassifiable/Attainment.
Lea County |  | Unclassifiable/Attainment.
Quay County |  | Unclassifiable/Attainment.
Roosevelt County |  | Unclassifiable/Attainment.
AQCR 156 SW Mountains-Augustine Plains:
Catron County |  | Unclassifiable/Attainment.
Cibola County |  | Unclassifiable/Attainment.
McKinley County (part) see 40 CFR 81.241 |  | Unclassifiable/Attainment.
Socorro County |  | Unclassifiable/Attainment.
Valencia County (part) see 40 CFR 81.241 |  | Unclassifiable/Attainment.
AQCR 157 Upper Rio Grande Valley Intrastate:
Los Alamos County |  | Unclassifiable/Attainment.
Río Arriba County (part) see 40 CFR 81.239 |  | Unclassifiable/Attainment.
Santa Fe County |  | Unclassifiable/Attainment.
Taos County |  | Unclassifiable/Attainment.
ᵃ Includes Indian Country located in each county or area, except as otherwise specified.
¹ This date is 30 days after November 13, 2009, unless otherwise noted.

* * * * *

34. Section 81.333 is amended as follows:

a. By removing the tables titled “New York—PM2.5 (Annual NAAQS)” and “New York—PM2.5 [24-hour NAAQS]”.

b. By adding three tables titled “New York—1997 Annual PM2.5 NAAQS (Primary and Secondary)” and “New York—1997 24-hour PM2.5 NAAQS (Primary and Secondary)” and “New York—2006 24-hour PM2.5 NAAQS (Primary and Secondary)” before the table titled “New York—NO2 (1971 Annual Standard)”.

The additions read as follows:

§ 81.333 New York.

* * * * *

New York—1997 Annual PM2.5 NAAQS
[Primary and secondary]
Designated area | Designation ᵃ: Date ¹ | Designation ᵃ: Type | Classification: Date¹ | Classification: Type
New York-N. New Jersey-Long Island, NY-NJ-CT:
Bronx County |  | Nonattainment |  | Moderate.
Kings County |  | Nonattainment |  | Moderate.
Nassau County |  | Nonattainment |  | Moderate.
New York County |  | Nonattainment |  | Moderate.
Orange County |  | Nonattainment |  | Moderate.
Queens County |  | Nonattainment |  | Moderate.
Richmond County |  | Nonattainment |  | Moderate.
Rockland County |  | Nonattainment |  | Moderate.
Suffolk County |  | Nonattainment |  | Moderate.
Westchester County |  | Nonattainment |  | Moderate.
AQCR 158 Central New York Intrastate (remainder of):
Cortland County |  | Unclassifiable/Attainment.
Herkimer County |  | Unclassifiable/Attainment.
Lewis County |  | Unclassifiable/Attainment.
Oneida County |  | Unclassifiable/Attainment.
AQCR 159 Champlain Valley Interstate (remainder of):
Clinton County |  | Unclassifiable/Attainment.
Franklin County |  | Unclassifiable/Attainment.
Hamilton County |  | Unclassifiable/Attainment.
St. Lawrence County |  | Unclassifiable/Attainment.
Warren County |  | Unclassifiable/Attainment.
Washington County |  | Unclassifiable/Attainment.
AQCR 160 Finger Lake Intrastate:
Seneca County |  | Unclassifiable/Attainment.
Wyoming County |  | Unclassifiable/Attainment.
Yates County |  | Unclassifiable/Attainment.
AQCR 161 Hudson Valley Intrastate (remainder of):
Columbia County |  | Unclassifiable/Attainment.
Fulton County |  | Unclassifiable/Attainment.
Ulster County |  | Unclassifiable/Attainment.
AQCR 163 Southern Tier East Intrastate:
Broome County |  | Unclassifiable/Attainment.
Chenango County |  | Unclassifiable/Attainment.
Delaware County |  | Unclassifiable/Attainment.
Otsego County |  | Unclassifiable/Attainment.
Sullivan County |  | Unclassifiable/Attainment.
Tioga County |  | Unclassifiable/Attainment.
AQCR 164 Southern Tier West Intrastate:
Allegany County |  | Unclassifiable/Attainment.
Cattaraugus County |  | Unclassifiable/Attainment.
Chemung County |  | Unclassifiable/Attainment.
Schuyler County |  | Unclassifiable/Attainment.
Steuben County |  | Unclassifiable/Attainment.
Tompkins County |  | Unclassifiable/Attainment.
Albany-Schenectady-Troy, NY:
Albany County |  | Unclassifiable/Attainment.
Greene County |  | Unclassifiable/Attainment.
Montgomery County |  | Unclassifiable/Attainment.
Rensselaer County |  | Unclassifiable/Attainment.
Saratoga County |  | Unclassifiable/Attainment.
Schenectady County |  | Unclassifiable/Attainment.
Schoharie County |  | Unclassifiable/Attainment.
Buffalo-Niagara Falls, NY:
Erie County |  | Unclassifiable/Attainment.
Niagara County |  | Unclassifiable/Attainment.
Essex County, NY:
Essex County |  | Unclassifiable/Attainment.
Jamestown, NY:
Chautauqua County |  | Unclassifiable/Attainment.
Jefferson County, NY:
Jefferson County |  | Unclassifiable/Attainment.
Poughkeepsie, NY:
Dutchess County |  | Unclassifiable/Attainment.
Putnam County |  | Unclassifiable/Attainment.
Rochester, NY:
Genesee County |  | Unclassifiable/Attainment.
Livingston County
Monroe County |  | Unclassifiable/Attainment.
Ontario County |  | Unclassifiable/Attainment.
Orleans County |  | Unclassifiable/Attainment.
Wayne County |  | Unclassifiable/Attainment.
Syracuse, NY:
Cayuga County |  | Unclassifiable/Attainment.
Madison County |  | Unclassifiable/Attainment.
Onondaga County |  | Unclassifiable/Attainment.
Oswego County |  | Unclassifiable/Attainment.
ᵃ Includes Indian Country located in each county or area, except as otherwise specified.
¹ This date is 90 days after January 5, 2005, unless otherwise noted.
² This date is July 2, 2014, unless otherwise noted.

New York—1997 24-Hour PM2.5 NAAQS
[Primary and secondary]
Designated area | Designation ᵃ: Date ¹ | Designation ᵃ: Type | Classification: Date ¹ | Classification: Type
New York-N. New Jersey-Long Island, NY-NJ-CT:
Bronx County |  | Unclassifiable/Attainment.
Kings County |  | Unclassifiable/Attainment.
Nassau County |  | Unclassifiable/Attainment.
New York County |  | Unclassifiable/Attainment.
Orange County |  | Unclassifiable/Attainment.
Queens County |  | Unclassifiable/Attainment.
Richmond County |  | Unclassifiable/Attainment.
Rockland County |  | Unclassifiable/Attainment.
Suffolk County |  | Unclassifiable/Attainment.
Westchester County |  | Unclassifiable/Attainment.
Rest of State:
AQCR 158 Central New York Intrastate (remainder of):
Cortland County |  | Unclassifiable/Attainment.
Herkimer County |  | Unclassifiable/Attainment.
Lewis County |  | Unclassifiable/Attainment.
Oneida County |  | Unclassifiable/Attainment.
AQCR 159 Champlain Valley Interstate (remainder of):
Clinton County |  | Unclassifiable/Attainment.
Franklin County |  | Unclassifiable/Attainment.
Hamilton County |  | Unclassifiable/Attainment.
St. Lawrence County |  | Unclassifiable/Attainment.
Warren County |  | Unclassifiable/Attainment.
Washington County |  | Unclassifiable/Attainment.
AQCR 160 Finger Lake Intrastate:
Seneca County |  | Unclassifiable/Attainment.
Wyoming County |  | Unclassifiable/Attainment.
Yates County |  | Unclassifiable/Attainment.
AQCR 161 Hudson Valley Intrastate (remainder of):
Columbia County |  | Unclassifiable/Attainment.
Fulton County |  | Unclassifiable/Attainment.
Ulster County |  | Unclassifiable/Attainment.
AQCR 163 Southern Tier East Intrastate:
Broome County |  | Unclassifiable/Attainment.
Chenango County |  | Unclassifiable/Attainment.
Delaware County |  | Unclassifiable/Attainment.
Otsego County |  | Unclassifiable/Attainment.
Sullivan County |  | Unclassifiable/Attainment.
Tioga County |  | Unclassifiable/Attainment.
AQCR 164 Southern Tier West Intrastate:
Allegany County |  | Unclassifiable/Attainment.
Cattaraugus County |  | Unclassifiable/Attainment.
Chemung County |  | Unclassifiable/Attainment.
Schuyler County |  | Unclassifiable/Attainment.
Steuben County |  | Unclassifiable/Attainment.
Tompkins County |  | Unclassifiable/Attainment.
Albany-Schenectady-Troy, NY:
Albany County |  | Unclassifiable/Attainment.
Greene County |  | Unclassifiable/Attainment.
Montgomery County |  | Unclassifiable/Attainment.
Rensselaer County |  | Unclassifiable/Attainment.
Saratoga County |  | Unclassifiable/Attainment.
Schenectady County |  | Unclassifiable/Attainment.
Schoharie County |  | Unclassifiable/Attainment.
Buffalo-Niagara Falls, NY:
Erie County |  | Unclassifiable/Attainment.
Niagara County |  | Unclassifiable/Attainment.
Essex County, NY:
Essex County |  | Unclassifiable/Attainment.
Jamestown, NY:
Chautauqua County |  | Unclassifiable/Attainment.
Jefferson County, NY:
Jefferson County |  | Unclassifiable/Attainment.
Poughkeepsie, NY:
Dutchess County |  | Unclassifiable/Attainment.
Putnam County |  | Unclassifiable/Attainment.
Rochester, NY:
Genesee County |  | Unclassifiable/Attainment.
Livingston County |  | Unclassifiable/Attainment.
Monroe County |  | Unclassifiable/Attainment.
Ontario County |  | Unclassifiable/Attainment.
Orleans County |  | Unclassifiable/Attainment.
Wayne County |  | Unclassifiable/Attainment.
Syracuse, NY:
Cayuga County |  | Unclassifiable/Attainment.
Madison County |  | Unclassifiable/Attainment.
Onondaga County |  | Unclassifiable/Attainment.
Oswego County |  | Unclassifiable/Attainment.
ᵃ Includes Indian Country located in each county or area, except as otherwise specified.
¹ This date is 90 days after January 5, 2005, unless otherwise noted.

New York—2006 24-Hour PM2.5 NAAQS
[Primary and secondary]
Designated area | Designation ᵃ: Date ¹ | Designation ᵃ: Type | Classification: Date ² | Classification: Type
New York-N. New Jersey-Long Island, NY-NJ-CT:
Bronx County |  | NonAttainment |  | Moderate.
Kings County |  | NonAttainment |  | Moderate.
Nassau County |  | NonAttainment |  | Moderate.
New York County |  | NonAttainment |  | Moderate.
Orange County |  | NonAttainment |  | Moderate.
Queens County |  | NonAttainment |  | Moderate.
Richmond County |  | NonAttainment |  | Moderate.
Rockland County |  | NonAttainment |  | Moderate.
Suffolk County |  | NonAttainment |  | Moderate.
Westchester County |  | NonAttainment |  | Moderate.
Rest of State:
AQCR 158 Central New York Intrastate (remainder of):
Cortland County |  | Unclassifiable/Attainment..
Herkimer County |  | Unclassifiable/Attainment..
Lewis County |  | Unclassifiable/Attainment..
Oneida County |  | Unclassifiable/Attainment..
AQCR 159 Champlain Valley Interstate (remainder of):
Clinton County |  | Unclassifiable/Attainment..
Franklin County |  | Unclassifiable/Attainment..
Hamilton County |  | Unclassifiable/Attainment..
St. Lawrence County |  | Unclassifiable/Attainment..
Warren County |  | Unclassifiable/Attainment..
Washington County |  | Unclassifiable/Attainment..
AQCR 160 Finger Lake Intrastate:
Seneca County |  | Unclassifiable/Attainment..
Wyoming County |  | Unclassifiable/Attainment..
Yates County |  | Unclassifiable/Attainment..
AQCR 161 Hudson Valley Intrastate (remainder of):
Columbia County |  | Unclassifiable/Attainment..
Fulton County |  | Unclassifiable/Attainment..
Ulster County |  | Unclassifiable/Attainment..
AQCR 163 Southern Tier East Intrastate:
Broome County |  | Unclassifiable/Attainment..
Chenango County |  | Unclassifiable/Attainment..
Delaware County |  | Unclassifiable/Attainment..
Otsego County |  | Unclassifiable/Attainment..
Sullivan County |  | Unclassifiable/Attainment..
Tioga County |  | Unclassifiable/Attainment..
AQCR 164 Southern Tier West Intrastate:
Allegany County |  | Unclassifiable/Attainment..
Cattaraugus County |  | Unclassifiable/Attainment..
Chemung County |  | Unclassifiable/Attainment..
Schuyler County |  | Unclassifiable/Attainment..
Steuben County |  | Unclassifiable/Attainment..
Tompkins County |  | Unclassifiable/Attainment..
Albany-Schenectady-Troy, NY:
Albany County |  | Unclassifiable/Attainment..
Greene County |  | Unclassifiable/Attainment..
Montgomery County |  | Unclassifiable/Attainment..
Rensselaer County |  | Unclassifiable/Attainment..
Saratoga County |  | Unclassifiable/Attainment..
Schenectady County |  | Unclassifiable/Attainment..
Schoharie County |  | Unclassifiable/Attainment..
Buffalo-Niagara Falls, NY:
Erie County |  | Unclassifiable/Attainment..
Niagara County |  | Unclassifiable/Attainment..
Essex County, NY:
Essex County |  | Unclassifiable/Attainment..
Jamestown, NY:
Chautauqua County |  | Unclassifiable/Attainment..
Jefferson County, NY:
Jefferson County |  | Unclassifiable/Attainment..
Poughkeepsie, NY:
Dutchess County |  | Unclassifiable/Attainment..
Putnam County |  | Unclassifiable/Attainment..
Rochester, NY:
Genesee County |  | Unclassifiable/Attainment..
Livingston County |  | Unclassifiable/Attainment..
Monroe County |  | Unclassifiable/Attainment..
Ontario County |  | Unclassifiable/Attainment..
Orleans County |  | Unclassifiable/Attainment..
Wayne County |  | Unclassifiable/Attainment..
Syracuse, NY:
Cayuga County |  | Unclassifiable/Attainment..
Madison County |  | Unclassifiable/Attainment..
Onondaga County |  | Unclassifiable/Attainment..
Oswego County |  | Unclassifiable/Attainment..
ᵃ Includes Indian Country located in each county or area, except as otherwise specified.
¹ This date is 30 days after November 13, 2009, unless otherwise noted.
² This date is July 2, 2014, unless otherwise noted.

* * * * *

35. Section 81.334 is amended as follows:

a. By removing the tables titled “North Carolina—PM2.5 (Annual NAAQS)” and “North Carolina—PM2.5 [24-hour NAAQS]”.

b. By adding three tables titled “North Carolina—1997 Annual PM2.5 NAAQS (Primary and Secondary)” and “North Carolina—1997 24-hour PM2.5 NAAQS (Primary and Secondary)” and “North Carolina—2006 24-hour PM2.5 NAAQS (Primary and Secondary)” before the table titled “North Carolina—NO2 (1971 Annual Standard)”.

The additions read as follows:

§ 81.334 North Carolina.

* * * * *

North Carolina—1997 Annual PM2.5NAAQS
[Primary and secondary]
Designated area | Designation ᵃ: Date ¹ | Designation ᵃ: Type | Classification: Date ² | Classification: Type
Greensboro-Winston Salem-High Point, NC:
Davidson County | 12/19/11 | Attainment.
Guilford County | 12/19/11 | Attainment.
Hickory-Morganton-Lenoir, NC:
Catawba County | 12/19/11 | Attainment.
Rest of State:
Alamance County |  | Unclassifiable/Attainment.
Alexander County |  | Unclassifiable/Attainment.
Alleghany County |  | Unclassifiable/Attainment.
Anson County |  | Unclassifiable/Attainment.
Ashe County |  | Unclassifiable/Attainment.
Avery County |  | Unclassifiable/Attainment.
Beaufort County |  | Unclassifiable/Attainment.
Bertie County |  | Unclassifiable/Attainment.
Bladen County |  | Unclassifiable/Attainment.
Brunswick County |  | Unclassifiable/Attainment.
Buncombe County |  | Unclassifiable/Attainment.
Burke County |  | Unclassifiable/Attainment.
Cabarrus County |  | Unclassifiable/Attainment.
Caldwell County |  | Unclassifiable/Attainment.
Camden County |  | Unclassifiable/Attainment.
Carteret County |  | Unclassifiable/Attainment.
Caswell County |  | Unclassifiable/Attainment.
Catawba County |  | Unclassifiable/Attainment.
Chatham County |  | Unclassifiable/Attainment.
Cherokee County |  | Unclassifiable/Attainment.
Chowan County |  | Unclassifiable/Attainment.
Clay County |  | Unclassifiable/Attainment.
Cleveland County |  | Unclassifiable/Attainment.
Columbus County |  | Unclassifiable/Attainment.
Craven County |  | Unclassifiable/Attainment.
Cumberland County |  | Unclassifiable/Attainment.
Currituck County |  | Unclassifiable/Attainment.
Dare County |  | Unclassifiable/Attainment.
Davidson County |  | Unclassifiable/Attainment.
Davie County |  | Unclassifiable/Attainment.
Duplin County |  | Unclassifiable/Attainment.
Durham County |  | Unclassifiable/Attainment.
Edgecombe County |  | Unclassifiable/Attainment.
Forsyth County |  | Unclassifiable/Attainment.
Franklin County |  | Unclassifiable/Attainment.
Gaston County |  | Unclassifiable/Attainment.
Gates County |  | Unclassifiable/Attainment.
Graham County |  | Unclassifiable/Attainment.
Granville County |  | Unclassifiable/Attainment.
Greene County |  | Unclassifiable/Attainment.
Guilford County |  | Unclassifiable/Attainment.
Halifax County |  | Unclassifiable/Attainment.
Harnett County |  | Unclassifiable/Attainment.
Haywood County |  | Unclassifiable/Attainment.
Henderson County |  | Unclassifiable/Attainment.
Hertford County |  | Unclassifiable/Attainment.
Hoke County |  | Unclassifiable/Attainment.
Hyde County |  | Unclassifiable/Attainment.
Iredell County |  | Unclassifiable/Attainment.
Jackson County |  | Unclassifiable/Attainment.
Johnston County |  | Unclassifiable/Attainment.
Jones County |  | Unclassifiable/Attainment.
Lee County |  | Unclassifiable/Attainment.
Lenoir County |  | Unclassifiable/Attainment.
Lincoln County |  | Unclassifiable/Attainment.
McDowell County |  | Unclassifiable/Attainment.
Macon County |  | Unclassifiable/Attainment.
Madison County |  | Unclassifiable/Attainment.
Martin County |  | Unclassifiable/Attainment.
Mecklenburg County |  | Unclassifiable/Attainment.
Mitchell County |  | Unclassifiable/Attainment.
Montgomery County |  | Unclassifiable/Attainment.
Moore County |  | Unclassifiable/Attainment.
Nash County |  | Unclassifiable/Attainment.
New Hanover County |  | Unclassifiable/Attainment.
Northampton County |  | Unclassifiable/Attainment.
Onslow County |  | Unclassifiable/Attainment.
Orange County |  | Unclassifiable/Attainment.
Pamlico County |  | Unclassifiable/Attainment.
Pasquotank County |  | Unclassifiable/Attainment.
Pender County |  | Unclassifiable/Attainment.
Perquimans County |  | Unclassifiable/Attainment.
Person County |  | Unclassifiable/Attainment.
Pitt County |  | Unclassifiable/Attainment.
Polk County |  | Unclassifiable/Attainment.
Randolph County |  | Unclassifiable/Attainment.
Richmond County |  | Unclassifiable/Attainment.
Robeson County |  | Unclassifiable/Attainment.
Rockingham County |  | Unclassifiable/Attainment.
Rowan County |  | Unclassifiable/Attainment.
Rutherford County |  | Unclassifiable/Attainment.
Sampson County |  | Unclassifiable/Attainment.
Scotland County |  | Unclassifiable/Attainment.
Stanly County |  | Unclassifiable/Attainment.
Stokes County |  | Unclassifiable/Attainment.
Surry County |  | Unclassifiable/Attainment.
Swain County |  | Unclassifiable/Attainment.
Transylvania County |  | Unclassifiable/Attainment.
Tyrrell County |  | Unclassifiable/Attainment.
Union County |  | Unclassifiable/Attainment.
Vance County |  | Unclassifiable/Attainment.
Wake County |  | Unclassifiable/Attainment.
Warren County |  | Unclassifiable/Attainment.
Washington County |  | Unclassifiable/Attainment.
Watauga County |  | Unclassifiable/Attainment.
Wayne County |  | Unclassifiable/Attainment.
Wilkes County |  | Unclassifiable/Attainment.
Wilson County |  | Unclassifiable/Attainment.
Yadkin County |  | Unclassifiable/Attainment.
Yancey County |  | Unclassifiable/Attainment.
ᵃ Includes Indian Country located in each county or area, except as otherwise specified.
¹ This date is 30 days after November 13, 2009, unless otherwise noted.

North Carolina—1997 24-Hour PM2.5 NAAQS
[Primary and secondary]
Designated area | Designation ᵃ: Date ¹ | Designation ᵃ: Type | Classification: Date | Classification: Type
Statewide:
Alamance County |  | Unclassifiable/Attainment.
Alexander County |  | Unclassifiable/Attainment.
Alleghany County |  | Unclassifiable/Attainment.
Anson County |  | Unclassifiable/Attainment.
Ashe County |  | Unclassifiable/Attainment.
Avery County |  | Unclassifiable/Attainment.
Beaufort County |  | Unclassifiable/Attainment.
Bertie County |  | Unclassifiable/Attainment.
Bladen County |  | Unclassifiable/Attainment.
Brunswick County |  | Unclassifiable/Attainment.
Buncombe County |  | Unclassifiable/Attainment.
Burke County |  | Unclassifiable/Attainment.
Cabarrus County |  | Unclassifiable/Attainment.
Caldwell County |  | Unclassifiable/Attainment.
Camden County |  | Unclassifiable/Attainment.
Carteret County |  | Unclassifiable/Attainment.
Caswell County |  | Unclassifiable/Attainment.
Chatham County |  | Unclassifiable/Attainment.
Cherokee County |  | Unclassifiable/Attainment.
Chowan County |  | Unclassifiable/Attainment.
Clay County |  | Unclassifiable/Attainment.
Cleveland County |  | Unclassifiable/Attainment.
Columbus County |  | Unclassifiable/Attainment.
Craven County |  | Unclassifiable/Attainment.
Cumberland County |  | Unclassifiable/Attainment.
Currituck County |  | Unclassifiable/Attainment.
Dare County |  | Unclassifiable/Attainment.
Davidson County |  | Unclassifiable/Attainment.
Davie County |  | Unclassifiable/Attainment.
Duplin County |  | Unclassifiable/Attainment.
Durham County |  | Unclassifiable/Attainment.
Edgecombe County |  | Unclassifiable/Attainment.
Forsyth County |  | Unclassifiable/Attainment.
Franklin County |  | Unclassifiable/Attainment.
Gaston County |  | Unclassifiable/Attainment.
Gates County |  | Unclassifiable/Attainment.
Graham County |  | Unclassifiable/Attainment.
Granville County |  | Unclassifiable/Attainment.
Greene County |  | Unclassifiable/Attainment.
Guilford County |  | Unclassifiable/Attainment.
Halifax County |  | Unclassifiable/Attainment.
Harnett County |  | Unclassifiable/Attainment.
Haywood County |  | Unclassifiable/Attainment.
Henderson County |  | Unclassifiable/Attainment.
Hertford County |  | Unclassifiable/Attainment.
Hoke County |  | Unclassifiable/Attainment.
Hyde County |  | Unclassifiable/Attainment.
Iredell County |  | Unclassifiable/Attainment.
Jackson County |  | Unclassifiable/Attainment.
Johnston County |  | Unclassifiable/Attainment.
Jones County |  | Unclassifiable/Attainment.
Lee County |  | Unclassifiable/Attainment.
Lenoir County |  | Unclassifiable/Attainment.
Lincoln County |  | Unclassifiable/Attainment.
McDowell County |  | Unclassifiable/Attainment.
Macon County |  | Unclassifiable/Attainment.
Madison County |  | Unclassifiable/Attainment.
Martin County |  | Unclassifiable/Attainment.
Mecklenburg County |  | Unclassifiable/Attainment.
Mitchell County |  | Unclassifiable/Attainment.
Montgomery County |  | Unclassifiable/Attainment.
Moore County |  | Unclassifiable/Attainment.
Nash County |  | Unclassifiable/Attainment.
New Hanover County |  | Unclassifiable/Attainment.
Northampton County |  | Unclassifiable/Attainment.
Onslow County |  | Unclassifiable/Attainment.
Orange County |  | Unclassifiable/Attainment.
Pamlico County |  | Unclassifiable/Attainment.
Pasquotank County |  | Unclassifiable/Attainment.
Pender County |  | Unclassifiable/Attainment.
Perquimans County |  | Unclassifiable/Attainment.
Person County |  | Unclassifiable/Attainment.
Pitt County |  | Unclassifiable/Attainment.
Polk County |  | Unclassifiable/Attainment.
Randolph County |  | Unclassifiable/Attainment.
Richmond County |  | Unclassifiable/Attainment.
Robeson County |  | Unclassifiable/Attainment.
Rockingham County |  | Unclassifiable/Attainment.
Rowan County |  | Unclassifiable/Attainment.
Rutherford County |  | Unclassifiable/Attainment.
Sampson County |  | Unclassifiable/Attainment.
Scotland County |  | Unclassifiable/Attainment.
Stanly County |  | Unclassifiable/Attainment.
Stokes County |  | Unclassifiable/Attainment.
Surry County |  | Unclassifiable/Attainment.
Swain County |  | Unclassifiable/Attainment.
Transylvania County |  | Unclassifiable/Attainment.
Tyrrell County |  | Unclassifiable/Attainment.
Union County |  | Unclassifiable/Attainment.
Vance County |  | Unclassifiable/Attainment.
Wake County |  | Unclassifiable/Attainment.
Warren County |  | Unclassifiable/Attainment.
Washington County |  | Unclassifiable/Attainment.
Watauga County |  | Unclassifiable/Attainment.
Wayne County |  | Unclassifiable/Attainment.
Wilkes County |  | Unclassifiable/Attainment.
Wilson County |  | Unclassifiable/Attainment.
Yadkin County |  | Unclassifiable/Attainment.
Yancey County |  | Unclassifiable/Attainment.
ᵃ Includes Indian Country located in each county or area, except as otherwise specified.
¹ This date is 90 days after January 5, 2005, unless otherwise noted.

North Carolina—2006 24-Hour PM2.5 NAAQS
[Primary and secondary]
Designated area | Designation ᵃ: Date ¹ | Designation ᵃ: Type | Classification: Date | Classification: Type
Statewide:
Alamance County |  | Unclassifiable/Attainment.
Alexander County |  | Unclassifiable/Attainment.
Alleghany County |  | Unclassifiable/Attainment.
Anson County |  | Unclassifiable/Attainment.
Ashe County |  | Unclassifiable/Attainment.
Avery County |  | Unclassifiable/Attainment.
Beaufort County |  | Unclassifiable/Attainment.
Bertie County |  | Unclassifiable/Attainment.
Bladen County |  | Unclassifiable/Attainment.
Brunswick County |  | Unclassifiable/Attainment.
Buncombe County |  | Unclassifiable/Attainment.
Burke County |  | Unclassifiable/Attainment.
Cabarrus County |  | Unclassifiable/Attainment.
Caldwell County |  | Unclassifiable/Attainment.
Camden County |  | Unclassifiable/Attainment.
Carteret County |  | Unclassifiable/Attainment.
Caswell County |  | Unclassifiable/Attainment.
Catawba County |  | Unclassifiable/Attainment.
Chatham County |  | Unclassifiable/Attainment.
Cherokee County |  | Unclassifiable/Attainment.
Chowan County |  | Unclassifiable/Attainment.
Clay County |  | Unclassifiable/Attainment.
Cleveland County |  | Unclassifiable/Attainment.
Columbus County |  | Unclassifiable/Attainment.
Craven County |  | Unclassifiable/Attainment.
Cumberland County |  | Unclassifiable/Attainment.
Currituck County |  | Unclassifiable/Attainment.
Dare County |  | Unclassifiable/Attainment.
Davidson County |  | Unclassifiable/Attainment.
Davie County |  | Unclassifiable/Attainment.
Duplin County |  | Unclassifiable/Attainment.
Durham County |  | Unclassifiable/Attainment.
Edgecombe County |  | Unclassifiable/Attainment.
Forsyth County |  | Unclassifiable/Attainment.
Franklin County |  | Unclassifiable/Attainment.
Gaston County |  | Unclassifiable/Attainment.
Gates County |  | Unclassifiable/Attainment.
Graham County |  | Unclassifiable/Attainment.
Granville County |  | Unclassifiable/Attainment.
Greene County |  | Unclassifiable/Attainment.
Guilford County |  | Unclassifiable/Attainment.
Halifax County |  | Unclassifiable/Attainment.
Harnett County |  | Unclassifiable/Attainment.
Haywood County |  | Unclassifiable/Attainment.
Henderson County |  | Unclassifiable/Attainment.
Hertford County |  | Unclassifiable/Attainment.
Hoke County |  | Unclassifiable/Attainment.
Hyde County |  | Unclassifiable/Attainment.
Iredell County |  | Unclassifiable/Attainment.
Jackson County |  | Unclassifiable/Attainment.
Johnston County |  | Unclassifiable/Attainment.
Jones County |  | Unclassifiable/Attainment.
Lee County |  | Unclassifiable/Attainment.
Lenoir County |  | Unclassifiable/Attainment.
Lincoln County |  | Unclassifiable/Attainment.
McDowell County |  | Unclassifiable/Attainment.
Macon County |  | Unclassifiable/Attainment.
Madison County |  | Unclassifiable/Attainment.
Martin County |  | Unclassifiable/Attainment.
Mecklenburg County |  | Unclassifiable/Attainment.
Mitchell County |  | Unclassifiable/Attainment.
Montgomery County |  | Unclassifiable/Attainment.
Moore County |  | Unclassifiable/Attainment.
Nash County |  | Unclassifiable/Attainment.
New Hanover County |  | Unclassifiable/Attainment.
Northampton County |  | Unclassifiable/Attainment.
Onslow County |  | Unclassifiable/Attainment.
Orange County |  | Unclassifiable/Attainment.
Pamlico County |  | Unclassifiable/Attainment.
Pasquotank County |  | Unclassifiable/Attainment.
Pender County |  | Unclassifiable/Attainment.
Perquimans County |  | Unclassifiable/Attainment.
Person County |  | Unclassifiable/Attainment.
Pitt County |  | Unclassifiable/Attainment.
Polk County |  | Unclassifiable/Attainment.
Randolph County |  | Unclassifiable/Attainment.
Richmond County |  | Unclassifiable/Attainment.
Robeson County |  | Unclassifiable/Attainment.
Rockingham County |  | Unclassifiable/Attainment.
Rowan County |  | Unclassifiable/Attainment.
Rutherford County |  | Unclassifiable/Attainment.
Sampson County |  | Unclassifiable/Attainment.
Scotland County |  | Unclassifiable/Attainment.
Stanly County |  | Unclassifiable/Attainment.
Stokes County |  | Unclassifiable/Attainment.
Surry County |  | Unclassifiable/Attainment.
Swain County |  | Unclassifiable/Attainment.
Transylvania County |  | Unclassifiable/Attainment.
Tyrrell County |  | Unclassifiable/Attainment.
Union County |  | Unclassifiable/Attainment.
Vance County |  | Unclassifiable/Attainment.
Wake County |  | Unclassifiable/Attainment.
Warren County |  | Unclassifiable/Attainment.
Washington County |  | Unclassifiable/Attainment.
Watauga County |  | Unclassifiable/Attainment.
Wayne County |  | Unclassifiable/Attainment.
Wilkes County |  | Unclassifiable/Attainment.
Wilson County |  | Unclassifiable/Attainment.
Yadkin County |  | Unclassifiable/Attainment.
Yancey County |  | Unclassifiable/Attainment.
ᵃ Includes Indian Country located in each county or area, except as otherwise specified.
¹ This date is 30 days after November 13, 2009, unless otherwise noted.

* * * * *

36. Section 81.335 is amended as follows:

a. By removing the tables titled “North Dakota—PM2.5 (Annual NAAQS)” and “North Dakota—PM2.5 [24-hour NAAQS]”.

b. By adding three tables titled “North Dakota—1997 Annual PM2.5 NAAQS (Primary and Secondary)” and “North Dakota—1997 24-hour PM2.5 NAAQS (Primary and Secondary)” and “North Dakota—2006 24-hour PM2.5 NAAQS (Primary and Secondary)” before the table titled “North Dakota—NO2 (1971 Annual Standard)”.

The additions read as follows:

§ 81.335 North Dakota.

* * * * *

North Dakota—1997 Annual PM2.5 NAAQS
[Primary and secondary]
Designated area | Designation ᵃ: Date ¹ | Designation ᵃ: Type | Classification: Date | Classification: Type
AQCR 130 Metropolitan Fargo-Moorhead Interstate:
Cass County |  | Unclassifiable/Attainment.
Rest of State, AQCR 172:
Adams County |  | Unclassifiable/Attainment.
Barnes County |  | Unclassifiable/Attainment.
Benson County |  | Unclassifiable/Attainment.
Billings County |  | Unclassifiable/Attainment.
Bottineau County |  | Unclassifiable/Attainment.
Bowman County |  | Unclassifiable/Attainment.
Burke County |  | Unclassifiable/Attainment.
Burleigh County |  | Unclassifiable/Attainment.
Cavalier County |  | Unclassifiable/Attainment.
Dickey County |  | Unclassifiable/Attainment.
Divide County |  | Unclassifiable/Attainment.
Dunn County |  | Unclassifiable/Attainment.
Eddy County |  | Unclassifiable/Attainment.
Emmons County |  | Unclassifiable/Attainment.
Foster County |  | Unclassifiable/Attainment.
Golden Valley County |  | Unclassifiable/Attainment.
Grand Forks County |  | Unclassifiable/Attainment.
Grant County |  | Unclassifiable/Attainment.
Griggs County |  | Unclassifiable/Attainment.
Hettinger County |  | Unclassifiable/Attainment.
Kidder County |  | Unclassifiable/Attainment.
LaMoure County |  | Unclassifiable/Attainment.
Logan County |  | Unclassifiable/Attainment.
McHenry County |  | Unclassifiable/Attainment.
McIntosh County |  | Unclassifiable/Attainment.
McKenzie County |  | Unclassifiable/Attainment.
McLean County |  | Unclassifiable/Attainment.
Mercer County |  | Unclassifiable/Attainment.
Morton County |  | Unclassifiable/Attainment.
Mountrail County |  | Unclassifiable/Attainment.
Nelson County |  | Unclassifiable/Attainment.
Oliver County |  | Unclassifiable/Attainment.
Pembina County |  | Unclassifiable/Attainment.
Pierce County |  | Unclassifiable/Attainment.
Ramsey County |  | Unclassifiable/Attainment.
Ransom County |  | Unclassifiable/Attainment.
Renville County |  | Unclassifiable/Attainment.
Richland County |  | Unclassifiable/Attainment.
Rolette County |  | Unclassifiable/Attainment.
Sargent County |  | Unclassifiable/Attainment.
Sheridan County |  | Unclassifiable/Attainment.
Sioux County |  | Unclassifiable/Attainment.
Slope County |  | Unclassifiable/Attainment.
Stark County |  | Unclassifiable/Attainment.
Steele County |  | Unclassifiable/Attainment.
Stutsman County |  | Unclassifiable/Attainment.
Towner County |  | Unclassifiable/Attainment.
Traill County |  | Unclassifiable/Attainment.
Walsh County |  | Unclassifiable/Attainment.
Ward County |  | Unclassifiable/Attainment.
Wells County |  | Unclassifiable/Attainment.
Williams County |  | Unclassifiable/Attainment.
ᵃ Includes Indian Country located in each county or area, except as otherwise specified.
¹ This date is 90 days after January 5, 2005, unless otherwise noted.

North Dakota—1997 24-Hour PM2.5 NAAQS
[Primary and secondary]
Designated area | Designation ᵃ: Date ¹ | Designation ᵃ: Type | Classification: Date | Classification: Type
AQCR 130 Metropolitan Fargo-Moorhead Interstate:
Cass County |  | Unclassifiable/Attainment.
Rest of State, AQCR 172:
Adams County |  | Unclassifiable/Attainment.
Barnes County |  | Unclassifiable/Attainment.
Benson County |  | Unclassifiable/Attainment.
Billings County |  | Unclassifiable/Attainment.
Bottineau County |  | Unclassifiable/Attainment.
Bowman County |  | Unclassifiable/Attainment.
Burke County |  | Unclassifiable/Attainment.
Burleigh County |  | Unclassifiable/Attainment.
Cavalier County |  | Unclassifiable/Attainment.
Dickey County |  | Unclassifiable/Attainment.
Divide County |  | Unclassifiable/Attainment.
Dunn County |  | Unclassifiable/Attainment.
Eddy County |  | Unclassifiable/Attainment.
Emmons County |  | Unclassifiable/Attainment.
Foster County |  | Unclassifiable/Attainment.
Golden Valley County |  | Unclassifiable/Attainment.
Grand Forks County |  | Unclassifiable/Attainment.
Grant County |  | Unclassifiable/Attainment.
Griggs County |  | Unclassifiable/Attainment.
Hettinger County |  | Unclassifiable/Attainment.
Kidder County |  | Unclassifiable/Attainment.
LaMoure County |  | Unclassifiable/Attainment.
Logan County |  | Unclassifiable/Attainment.
McHenry County |  | Unclassifiable/Attainment.
McIntosh County |  | Unclassifiable/Attainment.
McKenzie County |  | Unclassifiable/Attainment.
McLean County |  | Unclassifiable/Attainment.
Mercer County |  | Unclassifiable/Attainment.
Morton County |  | Unclassifiable/Attainment.
Mountrail County |  | Unclassifiable/Attainment.
Nelson County |  | Unclassifiable/Attainment.
Oliver County |  | Unclassifiable/Attainment.
Pembina County |  | Unclassifiable/Attainment.
Pierce County |  | Unclassifiable/Attainment.
Ramsey County |  | Unclassifiable/Attainment.
Ransom County |  | Unclassifiable/Attainment.
Renville County |  | Unclassifiable/Attainment.
Richland County |  | Unclassifiable/Attainment.
Rolette County |  | Unclassifiable/Attainment.
Sargent County |  | Unclassifiable/Attainment.
Sheridan County |  | Unclassifiable/Attainment.
Sioux County |  | Unclassifiable/Attainment.
Slope County |  | Unclassifiable/Attainment.
Stark County |  | Unclassifiable/Attainment.
Steele County |  | Unclassifiable/Attainment.
Stutsman County |  | Unclassifiable/Attainment.
Towner County |  | Unclassifiable/Attainment.
Traill County |  | Unclassifiable/Attainment.
Walsh County |  | Unclassifiable/Attainment.
Ward County |  | Unclassifiable/Attainment.
Wells County |  | Unclassifiable/Attainment.
Williams County |  | Unclassifiable/Attainment.
ᵃ Includes Indian Country located in each county or area, except as otherwise specified.
¹ This date is 90 days after January 5, 2005, unless otherwise noted.

North Dakota—2006 24-Hour PM2.5 NAAQS
(Primary and secondary)
Designated area | Designation ᵃ: Date ¹ | Designation ᵃ: Type | Classification: Date | Classification: Type
AQCR 130 Metropolitan Fargo-Moorhead Interstate:
Cass County |  | Unclassifiable/Attainment.
Rest of State, AQCR 172:
Adams County |  | Unclassifiable/Attainment.
Barnes County |  | Unclassifiable/Attainment.
Benson County |  | Unclassifiable/Attainment.
Billings County |  | Unclassifiable/Attainment.
Bottineau County |  | Unclassifiable/Attainment.
Bowman County |  | Unclassifiable/Attainment.
Burke County |  | Unclassifiable/Attainment.
Burleigh County |  | Unclassifiable/Attainment.
Cavalier County |  | Unclassifiable/Attainment.
Dickey County |  | Unclassifiable/Attainment.
Divide County |  | Unclassifiable/Attainment.
Dunn County |  | Unclassifiable/Attainment.
Eddy County |  | Unclassifiable/Attainment.
Emmons County |  | Unclassifiable/Attainment.
Foster County |  | Unclassifiable/Attainment.
Golden Valley County |  | Unclassifiable/Attainment.
Grand Forks County |  | Unclassifiable/Attainment.
Grant County |  | Unclassifiable/Attainment.
Griggs County |  | Unclassifiable/Attainment.
Hettinger County |  | Unclassifiable/Attainment.
Kidder County |  | Unclassifiable/Attainment.
LaMoure County |  | Unclassifiable/Attainment.
Logan County |  | Unclassifiable/Attainment.
McHenry County |  | Unclassifiable/Attainment.
McIntosh County |  | Unclassifiable/Attainment.
McKenzie County |  | Unclassifiable/Attainment.
McLean County |  | Unclassifiable/Attainment.
Mercer County |  | Unclassifiable/Attainment.
Morton County |  | Unclassifiable/Attainment.
Mountrail County |  | Unclassifiable/Attainment.
Nelson County |  | Unclassifiable/Attainment.
Oliver County |  | Unclassifiable/Attainment.
Pembina County |  | Unclassifiable/Attainment.
Pierce County |  | Unclassifiable/Attainment.
Ramsey County |  | Unclassifiable/Attainment.
Ransom County |  | Unclassifiable/Attainment.
Renville County |  | Unclassifiable/Attainment.
Richland County |  | Unclassifiable/Attainment.
Rolette County |  | Unclassifiable/Attainment.
Sargent County |  | Unclassifiable/Attainment.
Sheridan County |  | Unclassifiable/Attainment.
Sioux County |  | Unclassifiable/Attainment.
Slope County |  | Unclassifiable/Attainment.
Stark County |  | Unclassifiable/Attainment.
Steele County |  | Unclassifiable/Attainment.
Stutsman County |  | Unclassifiable/Attainment.
Towner County |  | Unclassifiable/Attainment.
Traill County |  | Unclassifiable/Attainment.
Walsh County |  | Unclassifiable/Attainment.
Ward County |  | Unclassifiable/Attainment.
Wells County |  | Unclassifiable/Attainment.
Williams County |  | Unclassifiable/Attainment.
ᵃ Includes Indian Country located in each county or area, except as otherwise specified.
¹ This date is 30 days after November 13, 2009, unless otherwise noted.

* * * * *

37. Section 81.336 is amended as follows:

a. By removing the tables titled “Ohio—PM2.5 (Annual NAAQS)” and “Ohio—PM2.5 [24-hour NAAQS]”.

b. By adding three tables titled “Ohio—1997 Annual PM2.5 NAAQS (Primary and Secondary)” and “Ohio—1997 24-hour PM2.5 NAAQS (Primary and Secondary)” and “Ohio—2006 24-hour PM2.5 NAAQS (Primary and Secondary)” before the table titled “Ohio—NO2 (1971 Annual Standard)”.

The additions read as follows:

§ 81.336 Ohio.

* * * * *

Ohio—1997 Annual PM2.5 NAAQS
[Primary and secondary]
Designated area | Designation ᵃ: Type | Designation ᵃ: Date ¹ | Classification: Date | Classification: Type
Canton-Massillon, OH:
Stark County | 10/22/13 | Attainment
Cincinnati-Hamilton, Ohio | 12/23/11 | Attainment
Butler County
Clermont County
Hamilton County
Warren County
Cleveland-Akron-Lorain, OH | 9/18/13 | Attainment
Ashtabula County (part)
Ashtabula Township
Cuyahoga County
Lake County
Lorain County
Medina County
Portage County
Summit County
Columbus, OH | 11/7/13 | Attainment
Coshocton County (part)
Franklin Township
Delaware County
Fairfield County
Franklin County
Licking County
Dayton-Springfield, OH | 9/26/13 | Attainment
Clark County
Greene County
Montgomery County
Huntington-Ashland, OH | 12/31/12 | Attainment
Adams County (part)
Monroe Township
Sprigg Township
Gallia County (part)
Addison Township
Cheshire Township
Lawrence County
Scioto County
Parkersburg-Marietta, WV-OH:
Washington County | 8/29/13 | Attainment
Steubenville-Weirton, OH-WV:
Jefferson County | 9/18/13 | Attainment
Toledo, OH:
Lucas County |  | Unclassifiable/Attainment
Wood County |  | Unclassifiable/Attainment
Wheeling, WV-OH:
Belmont County | 8/29/13 | Attainment
Youngstown-Warren-Sharon, OH-PA:
Columbiana County |  | Unclassifiable/Attainment
Mahoning County |  | Unclassifiable/Attainment
Trumbull County |  | Unclassifiable/Attainment
Rest of State:
Adams County (remainder) |  | Unclassifiable/Attainment
Allen County |  | Unclassifiable/Attainment
Ashland County |  | Unclassifiable/Attainment
Ashtabula County (remainder) |  | Unclassifiable/Attainment
Athens County |  | Unclassifiable/Attainment
Auglaize County |  | Unclassifiable/Attainment
Brown County |  | Unclassifiable/Attainment
Carroll County |  | Unclassifiable/Attainment
Champaign County |  | Unclassifiable/Attainment
Clinton County |  | Unclassifiable/Attainment
Coshocton County (remainder) |  | Unclassifiable/Attainment
Crawford County |  | Unclassifiable/Attainment
Darke County |  | Unclassifiable/Attainment
Defiance County |  | Unclassifiable/Attainment
Erie County |  | Unclassifiable/Attainment
Fayette County |  | Unclassifiable/Attainment
Fulton County |  | Unclassifiable/Attainment
Gallia County (remainder) |  | Unclassifiable/Attainment
Geauga County |  | Unclassifiable/Attainment
Guernsey County |  | Unclassifiable/Attainment
Hancock County |  | Unclassifiable/Attainment
Hardin County |  | Unclassifiable/Attainment
Harrison County |  | Unclassifiable/Attainment
Henry County |  | Unclassifiable/Attainment
Highland County |  | Unclassifiable/Attainment
Hocking County |  | Unclassifiable/Attainment
Holmes County |  | Unclassifiable/Attainment
Huron County |  | Unclassifiable/Attainment
Jackson County |  | Unclassifiable/Attainment
Knox County |  | Unclassifiable/Attainment
Logan County |  | Unclassifiable/Attainment
Madison County |  | Unclassifiable/Attainment
Marion County |  | Unclassifiable/Attainment
Meigs County |  | Unclassifiable/Attainment
Mercer County |  | Unclassifiable/Attainment
Miami County |  | Unclassifiable/Attainment
Monroe County |  | Unclassifiable/Attainment
Morgan County |  | Unclassifiable/Attainment
Morrow County |  | Unclassifiable/Attainment
Muskingum County |  | Unclassifiable/Attainment
Noble County |  | Unclassifiable/Attainment
Ottawa County |  | Unclassifiable/Attainment
Paulding County |  | Unclassifiable/Attainment
Perry County |  | Unclassifiable/Attainment
Pickaway County |  | Unclassifiable/Attainment
Pike County |  | Unclassifiable/Attainment
Preble County |  | Unclassifiable/Attainment
Putnam County |  | Unclassifiable/Attainment
Richland County |  | Unclassifiable/Attainment
Ross County |  | Unclassifiable/Attainment
Sandusky County |  | Unclassifiable/Attainment
Seneca County |  | Unclassifiable/Attainment
Shelby County |  | Unclassifiable/Attainment
Tuscarawas County |  | Unclassifiable/Attainment
Union County |  | Unclassifiable/Attainment
Van Wert County |  | Unclassifiable/Attainment
Vinton County |  | Unclassifiable/Attainment
Wayne County |  | Unclassifiable/Attainment
Williams County |  | Unclassifiable/Attainment
Wyandot County |  | Unclassifiable/Attainment
ᵃ Includes Indian Country located in each county or area, except as otherwise specified.
¹ This date is 90 days after January 5, 2005, unless otherwise noted.

Ohio—1997 24-Hour PM2.5 NAAQS
[Primary and secondary]
Designated area | Designation ᵃ: Type | Designation ᵃ: Date ¹ | Classification: Date | Classification: Type
Canton-Massillon, OH:
Stark County |  | Unclassifiable/Attainment
Cleveland-Akron-Lorain, OH: |  | Unclassifiable/Attainment
Cuyahoga County
Lake County
Lorain County
Medina County
Portage County
Summit County
Steubenville-Weirton, OH-WV:
Jefferson County |  | Unclassifiable/Attainment
Rest of State:
Adams County |  | Unclassifiable/Attainment
Allen County |  | Unclassifiable/Attainment
Ashland County |  | Unclassifiable/Attainment
Ashtabula County |  | Unclassifiable/Attainment
Athens County |  | Unclassifiable/Attainment
Auglaize County |  | Unclassifiable/Attainment
Belmont County |  | Unclassifiable/Attainment
Brown County |  | Unclassifiable/Attainment
Butler County |  | Unclassifiable/Attainment
Carroll County |  | Unclassifiable/Attainment
Champaign County |  | Unclassifiable/Attainment
Clark County |  | Unclassifiable/Attainment
Clermont County |  | Unclassifiable/Attainment
Clinton County |  | Unclassifiable/Attainment
Columbiana County |  | Unclassifiable/Attainment
Coshocton County |  | Unclassifiable/Attainment
Crawford County |  | Unclassifiable/Attainment
Darke County |  | Unclassifiable/Attainment
Defiance County |  | Unclassifiable/Attainment
Delaware County |  | Unclassifiable/Attainment
Erie County |  | Unclassifiable/Attainment
Fairfield County |  | Unclassifiable/Attainment
Fayette County |  | Unclassifiable/Attainment
Franklin County |  | Unclassifiable/Attainment
Fulton County |  | Unclassifiable/Attainment
Gallia County |  | Unclassifiable/Attainment
Geauga County |  | Unclassifiable/Attainment
Greene County |  | Unclassifiable/Attainment
Guernsey County |  | Unclassifiable/Attainment
Hamilton County |  | Unclassifiable/Attainment
Hancock County |  | Unclassifiable/Attainment
Hardin County |  | Unclassifiable/Attainment
Harrison County |  | Unclassifiable/Attainment
Henry County |  | Unclassifiable/Attainment
Highland County |  | Unclassifiable/Attainment
Hocking County |  | Unclassifiable/Attainment
Holmes County |  | Unclassifiable/Attainment
Huron County |  | Unclassifiable/Attainment
Jackson County |  | Unclassifiable/Attainment
Knox County |  | Unclassifiable/Attainment
Lawrence County |  | Unclassifiable/Attainment
Licking County |  | Unclassifiable/Attainment
Logan County |  | Unclassifiable/Attainment
Lucas County |  | Unclassifiable/Attainment
Madison County |  | Unclassifiable/Attainment
Mahoning County |  | Unclassifiable/Attainment
Marion County |  | Unclassifiable/Attainment
Meigs County |  | Unclassifiable/Attainment
Mercer County |  | Unclassifiable/Attainment
Miami County |  | Unclassifiable/Attainment
Monroe County |  | Unclassifiable/Attainment
Montgomery County |  | Unclassifiable/Attainment
Morgan County |  | Unclassifiable/Attainment
Morrow County |  | Unclassifiable/Attainment
Muskingum County |  | Unclassifiable/Attainment
Noble County |  | Unclassifiable/Attainment
Ottawa County |  | Unclassifiable/Attainment
Paulding County |  | Unclassifiable/Attainment
Perry County |  | Unclassifiable/Attainment
Pickaway County |  | Unclassifiable/Attainment
Pike County |  | Unclassifiable/Attainment
Preble County |  | Unclassifiable/Attainment
Putnam County |  | Unclassifiable/Attainment
Richland County |  | Unclassifiable/Attainment
Ross County |  | Unclassifiable/Attainment
Sandusky County |  | Unclassifiable/Attainment
Scioto County |  | Unclassifiable/Attainment
Seneca County |  | Unclassifiable/Attainment
Shelby County |  | Unclassifiable/Attainment
Trumbull County |  | Unclassifiable/Attainment
Tuscarawas County |  | Unclassifiable/Attainment
Union County |  | Unclassifiable/Attainment
Van Wert County |  | Unclassifiable/Attainment
Vinton County |  | Unclassifiable/Attainment
Warren County |  | Unclassifiable/Attainment
Washington County |  | Unclassifiable/Attainment
Wayne County |  | Unclassifiable/Attainment
Williams County |  | Unclassifiable/Attainment
Wood County |  | Unclassifiable/Attainment
Wyandot County |  | Unclassifiable/Attainment
ᵃ Includes Indian Country located in each county or area, except as otherwise specified.
¹ This date is 90 days after January 5, 2005, unless otherwise noted.

Ohio—2006 24-Hour PM2.5 NAAQS
[Primary and secondary]
Designated area | Designation ᵃ: Date ¹ | Designation ᵃ: Type | Classification: Date | Classification: Type
Canton-Massillon, OH:
Stark County | 10/22/13 | Attainment.
Cleveland-Akron-Lorain, OH | 9/18/13 | Attainment.
Cuyahoga County
Lake County
Lorain County
Medina County
Portage County
Summit County
Steubenville-Weirton, OH-WV:
Jefferson County | 9/18/13 | Attainment.
Rest of State:
Adams County |  | Unclassifiable/Attainment
Allen County |  | Unclassifiable/Attainment
Ashland County |  | Unclassifiable/Attainment
Ashtabula County |  | Unclassifiable/Attainment
Athens County |  | Unclassifiable/Attainment
Auglaize County |  | Unclassifiable/Attainment
Belmont County |  | Unclassifiable/Attainment
Brown County |  | Unclassifiable/Attainment
Butler County |  | Unclassifiable/Attainment
Carroll County |  | Unclassifiable/Attainment
Champaign County |  | Unclassifiable/Attainment
Clark County |  | Unclassifiable/Attainment
Clermont County |  | Unclassifiable/Attainment
Clinton County |  | Unclassifiable/Attainment
Columbiana County |  | Unclassifiable/Attainment
Coshocton County |  | Unclassifiable/Attainment
Crawford County |  | Unclassifiable/Attainment
Darke County |  | Unclassifiable/Attainment
Defiance County |  | Unclassifiable/Attainment
Delaware County |  | Unclassifiable/Attainment
Erie County |  | Unclassifiable/Attainment
Fairfield County |  | Unclassifiable/Attainment
Fayette County |  | Unclassifiable/Attainment
Franklin County |  | Unclassifiable/Attainment
Fulton County |  | Unclassifiable/Attainment
Gallia County |  | Unclassifiable/Attainment
Geauga County |  | Unclassifiable/Attainment
Greene County |  | Unclassifiable/Attainment
Guernsey County |  | Unclassifiable/Attainment
Hamilton County |  | Unclassifiable/Attainment
Hancock County |  | Unclassifiable/Attainment
Hardin County |  | Unclassifiable/Attainment
Harrison County |  | Unclassifiable/Attainment
Henry County |  | Unclassifiable/Attainment
Highland County |  | Unclassifiable/Attainment
Hocking County |  | Unclassifiable/Attainment
Holmes County |  | Unclassifiable/Attainment
Huron County |  | Unclassifiable/Attainment
Jackson County |  | Unclassifiable/Attainment
Knox County |  | Unclassifiable/Attainment
Lawrence County |  | Unclassifiable/Attainment
Licking County |  | Unclassifiable/Attainment
Logan County |  | Unclassifiable/Attainment
Lucas County |  | Unclassifiable/Attainment
Madison County |  | Unclassifiable/Attainment
Mahoning County |  | Unclassifiable/Attainment
Marion County |  | Unclassifiable/Attainment
Meigs County |  | Unclassifiable/Attainment
Mercer County |  | Unclassifiable/Attainment
Miami County |  | Unclassifiable/Attainment
Monroe County |  | Unclassifiable/Attainment
Montgomery County |  | Unclassifiable/Attainment
Morgan County |  | Unclassifiable/Attainment
Morrow County |  | Unclassifiable/Attainment
Muskingum County |  | Unclassifiable/Attainment
Noble County |  | Unclassifiable/Attainment
Ottawa County |  | Unclassifiable/Attainment
Paulding County |  | Unclassifiable/Attainment
Perry County |  | Unclassifiable/Attainment
Pickaway County |  | Unclassifiable/Attainment
Pike County |  | Unclassifiable/Attainment
Preble County |  | Unclassifiable/Attainment
Putnam County |  | Unclassifiable/Attainment
Richland County |  | Unclassifiable/Attainment
Ross County |  | Unclassifiable/Attainment
Sandusky County |  | Unclassifiable/Attainment
Scioto County |  | Unclassifiable/Attainment
Seneca County |  | Unclassifiable/Attainment
Shelby County |  | Unclassifiable/Attainment
Trumbull County |  | Unclassifiable/Attainment
Tuscarawas County |  | Unclassifiable/Attainment
Union County |  | Unclassifiable/Attainment
Van Wert County |  | Unclassifiable/Attainment
Vinton County |  | Unclassifiable/Attainment
Warren County |  | Unclassifiable/Attainment
Washington County |  | Unclassifiable/Attainment
Wayne County |  | Unclassifiable/Attainment
Williams County |  | Unclassifiable/Attainment
Wood County |  | Unclassifiable/Attainment
Wyandot County |  | Unclassifiable/Attainment
ᵃ Includes Indian Country located in each county or area, except as otherwise specified.
¹ This date is 30 days after November 13, 2009, unless otherwise noted.

* * * * *

38. Section 81.337 is amended as follows:

a. By removing the tables titled “Oklahoma—PM2.5 (Annual NAAQS)” and “Oklahoma—PM2.5 [24-hour NAAQS]”.

b. By adding three tables titled “Oklahoma—1997 Annual PM2.5 NAAQS (Primary and Secondary)” and “Oklahoma—1997 24-hour PM2.5 NAAQS (Primary and Secondary)” and “Oklahoma—2006 24-hour PM2.5 NAAQS (Primary and Secondary)” before the table titled “Oklahoma—NO2 (1971 Annual Standard)”.

The additions read as follows:

§ 81.337 Oklahoma.

* * * * *

Oklahoma—1997 Annual PM2.5 NAAQS
[Primary and secondary]
Designated area | Designation ᵃ: Date ¹ | Designation ᵃ: Type | Classification: Date | Classification: Type
AQCR 017 Metropolitan Fort Smith Interstate:
Adair County |  | Unclassifiable/Attainment
Cherokee County |  | Unclassifiable/Attainment
Le Flore County |  | Unclassifiable/Attainment
Sequoyah County |  | Unclassifiable/Attainment
AQCR 022 Shreveport-Texarkana-Tyler Intrastate:
McCurtain County |  | Unclassifiable/Attainment
AQCR 184 Central Oklahoma Intrastate (part):
Cleveland County |  | Unclassifiable/Attainment
Oklahoma County |  | Unclassifiable/Attainment
AQCR 184 Central Oklahoma Intrastate (remainder of):
Canadian County |  | Unclassifiable/Attainment
Grady County |  | Unclassifiable/Attainment
Kingfisher County |  | Unclassifiable/Attainment
Lincoln County |  | Unclassifiable/Attainment
Logan County |  | Unclassifiable/Attainment
McClain County |  | Unclassifiable/Attainment
Pottawatomie County |  | Unclassifiable/Attainment
AQCR 185 North Central Oklahoma Intrastate:
Garfield County |  | Unclassifiable/Attainment
Grant County |  | Unclassifiable/Attainment
Kay County |  | Unclassifiable/Attainment
Noble County |  | Unclassifiable/Attainment
Payne County |  | Unclassifiable/Attainment
AQCR 186 Northeastern Oklahoma Intrastate:
Craig County |  | Unclassifiable/Attainment
Creek County |  | Unclassifiable/Attainment
Delaware County |  | Unclassifiable/Attainment
Mayes County |  | Unclassifiable/Attainment
Muskogee County |  | Unclassifiable/Attainment
Nowata County |  | Unclassifiable/Attainment
Okmulgee County |  | Unclassifiable/Attainment
Osage County |  | Unclassifiable/Attainment
Ottawa County |  | Unclassifiable/Attainment
Pawnee County |  | Unclassifiable/Attainment
Rogers County |  | Unclassifiable/Attainment
Tulsa County |  | Unclassifiable/Attainment
Wagoner County |  | Unclassifiable/Attainment
Washington County |  | Unclassifiable/Attainment
AQCR 187 Northwestern Oklahoma Intrastate:
Alfalfa County |  | Unclassifiable/Attainment
Beaver County |  | Unclassifiable/Attainment
Blaine County |  | Unclassifiable/Attainment
Cimarron County |  | Unclassifiable/Attainment
Custer County |  | Unclassifiable/Attainment
Dewey County |  | Unclassifiable/Attainment
Ellis County |  | Unclassifiable/Attainment
Harper County |  | Unclassifiable/Attainment
Major County |  | Unclassifiable/Attainment
Roger Mills County |  | Unclassifiable/Attainment
Texas County |  | Unclassifiable/Attainment
Woods County |  | Unclassifiable/Attainment
Woodward County |  | Unclassifiable/Attainment
AQCR 188 Southeastern Oklahoma Intrastate:
Atoka County |  | Unclassifiable/Attainment
Bryan County |  | Unclassifiable/Attainment
Carter County |  | Unclassifiable/Attainment
Choctaw County |  | Unclassifiable/Attainment
Coal County |  | Unclassifiable/Attainment
Garvin County |  | Unclassifiable/Attainment
Haskell County |  | Unclassifiable/Attainment
Hughes County |  | Unclassifiable/Attainment
Johnston County |  | Unclassifiable/Attainment
Latimer County |  | Unclassifiable/Attainment
Love County |  | Unclassifiable/Attainment
McIntosh County |  | Unclassifiable/Attainment
Marshall County |  | Unclassifiable/Attainment
Murray County |  | Unclassifiable/Attainment
Okfuskee County |  | Unclassifiable/Attainment
Pittsburg County |  | Unclassifiable/Attainment
Pontotoc County |  | Unclassifiable/Attainment
Pushmataha County |  | Unclassifiable/Attainment
Seminole County |  | Unclassifiable/Attainment
AQCR 189 Southwestern Oklahoma Intrastate:
Beckham County |  | Unclassifiable/Attainment
Caddo County |  | Unclassifiable/Attainment
Comanche County |  | Unclassifiable/Attainment
Cotton County |  | Unclassifiable/Attainment
Greer County |  | Unclassifiable/Attainment
Harmon County |  | Unclassifiable/Attainment
Jackson County |  | Unclassifiable/Attainment
Jefferson County |  | Unclassifiable/Attainment
Kiowa County |  | Unclassifiable/Attainment
Stephens County |  | Unclassifiable/Attainment
Tillman County |  | Unclassifiable/Attainment
Washita County |  | Unclassifiable/Attainment
ᵃ Includes Indian Country located in each county or area, except as otherwise specified.
¹ This date is 90 days after January 5, 2005, unless otherwise noted.

Oklahoma—1997 24-Hour PM2.5 NAAQS
[Primary and secondary]
Designated area | Designation ᵃ: Date ¹ | Designation ᵃ: Type | Classification: Date | Classification: Type
AQCR 017 Metropolitan Fort Smith Interstate:
Adair County |  | Unclassifiable/Attainment.
Cherokee County |  | Unclassifiable/Attainment.
Le Flore County |  | Unclassifiable/Attainment.
Sequoyah County |  | Unclassifiable/Attainment.
AQCR 022 Shreveport-Texarkana-Tyler Intrastate:
McCurtain County |  | Unclassifiable/Attainment.
AQCR 184 Central Oklahoma Intrastate:
Canadian County |  | Unclassifiable/Attainment.
Cleveland County |  | Unclassifiable/Attainment.
Grady County |  | Unclassifiable/Attainment.
Kingfisher County |  | Unclassifiable/Attainment.
Lincoln County |  | Unclassifiable/Attainment.
Logan County |  | Unclassifiable/Attainment.
McClain County |  | Unclassifiable/Attainment.
Oklahoma County |  | Unclassifiable/Attainment.
Pottawatomie County |  | Unclassifiable/Attainment.
AQCR 185 North Central Oklahoma Intrastate:
Garfield County |  | Unclassifiable/Attainment.
Grant County |  | Unclassifiable/Attainment.
Kay County |  | Unclassifiable/Attainment.
Noble County |  | Unclassifiable/Attainment.
Payne County |  | Unclassifiable/Attainment.
AQCR 186 Northeastern Oklahoma Intrastate:
Craig County |  | Unclassifiable/Attainment.
Creek County |  | Unclassifiable/Attainment.
Delaware County |  | Unclassifiable/Attainment.
Mayes County |  | Unclassifiable/Attainment.
Muskogee County |  | Unclassifiable/Attainment.
Nowata County |  | Unclassifiable/Attainment.
Okmulgee County |  | Unclassifiable/Attainment.
Osage County |  | Unclassifiable/Attainment.
Ottawa County |  | Unclassifiable/Attainment.
Pawnee County |  | Unclassifiable/Attainment.
Rogers County |  | Unclassifiable/Attainment.
Tulsa County |  | Unclassifiable/Attainment.
Wagoner County |  | Unclassifiable/Attainment.
Washington County |  | Unclassifiable/Attainment.
AQCR 187 Northwestern Oklahoma Intrastate:
Alfalfa County |  | Unclassifiable/Attainment.
Beaver County |  | Unclassifiable/Attainment.
Blaine County |  | Unclassifiable/Attainment.
Cimarron County |  | Unclassifiable/Attainment.
Custer County |  | Unclassifiable/Attainment.
Dewey County |  | Unclassifiable/Attainment.
Ellis County |  | Unclassifiable/Attainment.
Harper County |  | Unclassifiable/Attainment.
Major County |  | Unclassifiable/Attainment.
Roger Mills County |  | Unclassifiable/Attainment.
Texas County |  | Unclassifiable/Attainment.
Woods County |  | Unclassifiable/Attainment.
Woodward County |  | Unclassifiable/Attainment.
AQCR 188 Southeastern Oklahoma Intrastate:
Atoka County |  | Unclassifiable/Attainment.
Bryan County |  | Unclassifiable/Attainment.
Carter County |  | Unclassifiable/Attainment.
Choctaw County |  | Unclassifiable/Attainment.
Coal County |  | Unclassifiable/Attainment.
Garvin County |  | Unclassifiable/Attainment.
Haskell County |  | Unclassifiable/Attainment.
Hughes County |  | Unclassifiable/Attainment.
Johnston County |  | Unclassifiable/Attainment.
Latimer County |  | Unclassifiable/Attainment.
Love County |  | Unclassifiable/Attainment.
McIntosh County |  | Unclassifiable/Attainment.
Marshall County |  | Unclassifiable/Attainment.
Murray County |  | Unclassifiable/Attainment.
Okfuskee County |  | Unclassifiable/Attainment.
Pittsburg County |  | Unclassifiable/Attainment.
Pontotoc County |  | Unclassifiable/Attainment.
Pushmataha County |  | Unclassifiable/Attainment.
Seminole County |  | Unclassifiable/Attainment.
AQCR 189 Southwestern Oklahoma Intrastate:
Beckham County |  | Unclassifiable/Attainment.
Caddo County |  | Unclassifiable/Attainment.
Comanche County |  | Unclassifiable/Attainment.
Cotton County |  | Unclassifiable/Attainment.
Greer County |  | Unclassifiable/Attainment.
Harmon County |  | Unclassifiable/Attainment.
Jackson County |  | Unclassifiable/Attainment.
Jefferson County |  | Unclassifiable/Attainment.
Kiowa County |  | Unclassifiable/Attainment.
Stephens County |  | Unclassifiable/Attainment.
Tillman County |  | Unclassifiable/Attainment.
Washita County |  | Unclassifiable/Attainment.
ᵃ Includes Indian Country located in each county or area, except as otherwise specified.
¹ This date is 90 days after January 5, 2005, unless otherwise noted.

Oklahoma—2006 24-Hour PM2.5 NAAQS
[Primary and secondary]
Designated area | Designation ᵃ: Date ¹ | Designation ᵃ: Type | Classification: Date | Classification: Type
AQCR 017 Metropolitan Fort Smith Interstate:
Adair County |  | Unclassifiable/Attainment.
Cherokee County |  | Unclassifiable/Attainment.
Le Flore County |  | Unclassifiable/Attainment.
Sequoyah County |  | Unclassifiable/Attainment.
AQCR 022 Shreveport-Texarkana-Tyler Intrastate:
McCurtain County |  | Unclassifiable/Attainment.
AQCR 184 Central Oklahoma Intrastate:
Canadian County |  | Unclassifiable/Attainment.
Cleveland County |  | Unclassifiable/Attainment.
Grady County |  | Unclassifiable/Attainment.
Kingfisher County |  | Unclassifiable/Attainment.
Lincoln County |  | Unclassifiable/Attainment.
Logan County |  | Unclassifiable/Attainment.
McClain County |  | Unclassifiable/Attainment.
Oklahoma County |  | Unclassifiable/Attainment.
Pottawatomie County |  | Unclassifiable/Attainment.
AQCR 185 North Central Oklahoma Intrastate:
Garfield County |  | Unclassifiable/Attainment.
Grant County |  | Unclassifiable/Attainment.
Kay County |  | Unclassifiable/Attainment.
Noble County |  | Unclassifiable/Attainment.
Payne County |  | Unclassifiable/Attainment.
AQCR 186 Northeastern Oklahoma Intrastate:
Craig County |  | Unclassifiable/Attainment.
Creek County |  | Unclassifiable/Attainment.
Delaware County |  | Unclassifiable/Attainment.
Mayes County |  | Unclassifiable/Attainment.
Muskogee County |  | Unclassifiable/Attainment.
Nowata County |  | Unclassifiable/Attainment.
Okmulgee County |  | Unclassifiable/Attainment.
Osage County |  | Unclassifiable/Attainment.
Ottawa County |  | Unclassifiable/Attainment.
Pawnee County |  | Unclassifiable/Attainment.
Rogers County |  | Unclassifiable/Attainment.
Tulsa County |  | Unclassifiable/Attainment.
Wagoner County |  | Unclassifiable/Attainment.
Washington County |  | Unclassifiable/Attainment.
AQCR 187 Northwestern Oklahoma Intrastate:
Alfalfa County |  | Unclassifiable/Attainment.
Beaver County |  | Unclassifiable/Attainment.
Blaine County |  | Unclassifiable/Attainment.
Cimarron County |  | Unclassifiable/Attainment.
Custer County |  | Unclassifiable/Attainment.
Dewey County |  | Unclassifiable/Attainment.
Ellis County |  | Unclassifiable/Attainment.
Harper County |  | Unclassifiable/Attainment.
Major County |  | Unclassifiable/Attainment.
Roger Mills County |  | Unclassifiable/Attainment.
Texas County |  | Unclassifiable/Attainment.
Woods County |  | Unclassifiable/Attainment.
Woodward County |  | Unclassifiable/Attainment.
AQCR 188 Southeastern Oklahoma Intrastate:
Atoka County |  | Unclassifiable/Attainment.
Bryan County |  | Unclassifiable/Attainment.
Carter County |  | Unclassifiable/Attainment.
Choctaw County |  | Unclassifiable/Attainment.
Coal County |  | Unclassifiable/Attainment.
Garvin County |  | Unclassifiable/Attainment.
Haskell County |  | Unclassifiable/Attainment.
Hughes County |  | Unclassifiable/Attainment.
Johnston County |  | Unclassifiable/Attainment.
Latimer County |  | Unclassifiable/Attainment.
Love County |  | Unclassifiable/Attainment.
McIntosh County |  | Unclassifiable/Attainment.
Marshall County |  | Unclassifiable/Attainment.
Murray County |  | Unclassifiable/Attainment.
Okfuskee County |  | Unclassifiable/Attainment.
Pittsburg County |  | Unclassifiable/Attainment.
Pontotoc County |  | Unclassifiable/Attainment.
Pushmataha County |  | Unclassifiable/Attainment.
Seminole County |  | Unclassifiable/Attainment.
AQCR 189 Southwestern Oklahoma Intrastate:
Beckham County |  | Unclassifiable/Attainment.
Caddo County |  | Unclassifiable/Attainment.
Comanche County |  | Unclassifiable/Attainment.
Cotton County |  | Unclassifiable/Attainment.
Greer County |  | Unclassifiable/Attainment.
Harmon County |  | Unclassifiable/Attainment.
Jackson County |  | Unclassifiable/Attainment.
Jefferson County |  | Unclassifiable/Attainment.
Kiowa County |  | Unclassifiable/Attainment.
Stephens County |  | Unclassifiable/Attainment.
Tillman County |  | Unclassifiable/Attainment.
Washita County |  | Unclassifiable/Attainment.
ᵃ Includes Indian Country located in each county or area, except as otherwise specified.
¹ This date is 30 days after November 13, 2009, unless otherwise noted.

* * * * *

39. Section 81.338 is amended as follows:

a. By removing the tables titled “Oregon—PM2.5 (Annual NAAQS)” and “Oregon—PM2.5 [24-hour NAAQS]”.

b. By adding three tables titled “Oregon—1997 Annual PM2.5 NAAQS (Primary and Secondary)” and “Oregon—1997 24-hour PM2.5 NAAQS (Primary and Secondary)” and “Oregon—2006 24-hour PM2.5 NAAQS (Primary and Secondary)” before the table titled “Oregon—NO2 (1971 Annual Standard)”.

The additions read as follows:

§ 81.338 Oregon.

* * * * *

Oregon—1997 Annual PM2.5 NAAQS
[Primary and secondary]
Designated area | Designation ᵃ: Date ¹ | Designation ᵃ: Type | Classification: Date | Classification: Type
Portland-Vancouver AQMA: (Air Quality Maintenance Area):
Clackamas County (part) |  | Unclassifiable/Attainment.
Multnomah County (part) |  | Unclassifiable/Attainment.
Washington County (part) |  | Unclassifiable/Attainment.
Salem Area: (Salem Area Transportation Study):
Marion County (part) |  | Unclassifiable/Attainment.
Polk County |  | Unclassifiable/Attainment.
AQCR 190 Central Oregon Intrastate (remainder of):
Crook County |  | Unclassifiable/Attainment.
Deschutes County |  | Unclassifiable/Attainment.
Hood River County |  | Unclassifiable/Attainment.
Jefferson County |  | Unclassifiable/Attainment.
Klamath County |  | Unclassifiable/Attainment.
Lake County |  | Unclassifiable/Attainment.
Sherman County |  | Unclassifiable/Attainment.
Wasco County |  | Unclassifiable/Attainment.
AQCR 191 Eastern Oregon Intrastate:
Baker County |  | Unclassifiable/Attainment.
Gilliam County |  | Unclassifiable/Attainment.
Grant County |  | Unclassifiable/Attainment.
Harney County |  | Unclassifiable/Attainment.
Malheur County |  | Unclassifiable/Attainment.
Morrow County |  | Unclassifiable/Attainment.
Umatilla County |  | Unclassifiable/Attainment.
Union County |  | Unclassifiable/Attainment.
Wallowa County |  | Unclassifiable/Attainment.
Wheeler County |  | Unclassifiable/Attainment.
AQCR 192 Northwest Oregon Intrastate:
Clatsop County |  | Unclassifiable/Attainment.
Lincoln County |  | Unclassifiable/Attainment.
Tillamook County |  | Unclassifiable/Attainment.
AQCR 193 Portland Interstate (part):
Lane County (part) |  | Unclassifiable/Attainment.
Eugene Springfield Air Quality Maintenance Area
AQCR 193 Portland Interstate (remainder of):
Benton County |  | Unclassifiable/Attainment.
Clackamas County (remainder) |  | Unclassifiable/Attainment.
Columbia County |  | Unclassifiable/Attainment.
Lane County (remainder) |  | Unclassifiable/Attainment.
Linn County |  | Unclassifiable/Attainment.
Marion County (part) |  | Unclassifiable/Attainment.
The area outside the Salem Area Transportation Study
Multnomah County (remainder) |  | Unclassifiable/Attainment.
Polk County (part) |  | Unclassifiable/Attainment.
The area outside the Salem Area Transportation Study
Washington County (remainder) |  | Unclassifiable/Attainment.
Yamhill County |  | Unclassifiable/Attainment.
AQCR 194 Southwest Oregon Intrastate (part):
Jackson County (part) |  | Unclassifiable/Attainment.
Medford-Ashland Air Quality Maintenance Area
AQCR 194 Southwest Oregon Intrastate (remainder of):
Coos County |  | Unclassifiable/Attainment.
Curry County |  | Unclassifiable/Attainment.
Douglas County |  | Unclassifiable/Attainment.
Jackson County (remainder) |  | Unclassifiable/Attainment.
Josephine County |  | Unclassifiable/Attainment.
ᵃ Includes Indian Country located in each county or area, except as otherwise specified.
¹ This date is 90 days after January 5, 2005, unless otherwise noted.

Oregon—1997 24-Hour PM2.5 NAAQS
[Primary and secondary]
Designated area | Designation ᵃ: Date ¹ | Designation ᵃ: Type | Classification: Date | Classification: Type
Klamath Falls, OR:
Klamath County (part) |  | Unclassifiable/Attainment.
Townships and ranges defined by T37S R9E Sections 31-32. T38S R8E Sections 1-5, 8-16, 22-26, 35-36. T38S R9E Sections 5-8, 14-15, 17-36. T39S R8E Sections 1-2, 11-13, 24. T39S R9E Sections 1-27. T39S R10E Sections 3-10, 15-20, 29-30.
Oakridge, OR:
Lane County (part) |  | Unclassifiable/Attainment.
Boundary is defined as a line from Township 21 South, Range 2 East, Section 11 (northwest corner) east to Township 21 South, Range 3 East, Section 11 (northeast corner), south to Township 21 South, Range 3 East, Section 23 (southeast corner), west to Township 21 South, Range 2 East, Section 23 (southwest corner) connecting back to Township 21 South, Range 2 East, Section 11 (northwest corner).
Rest of State:
Portland-Vancouver AQMA: (Air Quality Maintenance Area)
Clackamas County (part) |  | Unclassifiable/Attainment.
Multnomah County (part) |  | Unclassifiable/Attainment.
Washington County (part) |  | Unclassifiable/Attainment.
Salem Area: (Salem Area Transportation Study):
Marion County (part) |  | Unclassifiable/Attainment.
Polk County |  | Unclassifiable/Attainment.
AQCR 190 Central Oregon Intrastate:
Crook County |  | Unclassifiable/Attainment.
Deschutes County |  | Unclassifiable/Attainment.
Hood River County |  | Unclassifiable/Attainment.
Jefferson County |  | Unclassifiable/Attainment.
Klamath County (remainder) |  | Unclassifiable/Attainment.
Lake County |  | Unclassifiable/Attainment.
Sherman County |  | Unclassifiable/Attainment.
Wasco County |  | Unclassifiable/Attainment.
AQCR 191 Eastern Oregon Intrastate:
Baker County |  | Unclassifiable/Attainment.
Gilliam County |  | Unclassifiable/Attainment.
Grant County |  | Unclassifiable/Attainment.
Harney County |  | Unclassifiable/Attainment.
Malheur County |  | Unclassifiable/Attainment.
Morrow County |  | Unclassifiable/Attainment.
Umatilla County |  | Unclassifiable/Attainment.
Union County |  | Unclassifiable/Attainment.
Wallowa County |  | Unclassifiable/Attainment.
Wheeler County |  | Unclassifiable/Attainment.
AQCR 192 Northwest Oregon Intrastate:
Clatsop County |  | Unclassifiable/Attainment.
Lincoln County |  | Unclassifiable/Attainment.
Tillamook County |  | Unclassifiable/Attainment.
AQCR 193 Portland Interstate (part):
Lane County (part) |  | Unclassifiable/Attainment.
Eugene Springfield Air Quality Maintenance AQCR 193 Portland Interstate:
Benton County |  | Unclassifiable/Attainment.
Clackamas County (remainder) |  | Unclassifiable/Attainment.
Columbia County |  | Unclassifiable/Attainment.
Lane County (remainder) |  | Unclassifiable/Attainment.
Linn County |  | Unclassifiable/Attainment.
Marion County (part) |  | Unclassifiable/Attainment.
The area outside the Salem Area Transportation Study:
Multnomah County (remainder) |  | Unclassifiable/Attainment.
Polk County (part) |  | Unclassifiable/Attainment.
The area outside the Salem Area Transportation Study:
Washington County (remainder) |  | Unclassifiable/Attainment.
Yamhill County |  | Unclassifiable/Attainment.
AQCR 194 Southwest Oregon Intrastate (part):
Jackson County (part) |  | Unclassifiable/Attainment.
Medford-Ashland Air Quality Maintenance Area AQCR 194 Southwest Oregon Intrastate: (remainder of):
Coos County |  | Unclassifiable/Attainment.
Curry County |  | Unclassifiable/Attainment.
Douglas County |  | Unclassifiable/Attainment.
Jackson County (remainder) |  | Unclassifiable/Attainment.
Josephine County |  | Unclassifiable/Attainment.
ᵃ Includes Indian Country located in each county or area, except as otherwise specified.
¹ This date is 90 days after January 5, 2005, unless otherwise noted.

Oregon—2006 24-Hour PM2.5 NAAQS
[Primary and secondary]
Designated area | Designation ᵃ: Date ¹ | Designation ᵃ: Type | Classification: Date ² | Classification: Type
Klamath Falls, OR:
Klamath County (part) |  | Nonattainment |  | Moderate.
Townships and ranges defined by T37S R9E Sections 31-32. T38S R8E Sections 1-5, 8-16, 22-26, 35-36. T38S R9E Sections 5-8, 14-15, 17-36. T39S R8E Sections 1-2, 11-13, 24. T39S R9E Sections 1-27. T39S R10E Sections 3-10, 15-20, 29-30.
Oakridge, OR:
Lane County (part) |  | Nonattainment |  | Moderate.
Boundary is defined as a line from Township 21 South, Range 2 East, Section 11 (northwest corner) east to Township 21 South, Range 3 East, Section 11 (northeast corner), south to Township 21 South, Range 3 East, Section 23 (southeast corner), west to Township 21 South, Range 2 East, Section 23 (southwest corner) connecting back to Township 21 South, Range 2 East, Section 11 (northwest corner).
Rest of State:
Portland-Vancouver AQMA: (Air Quality Maintenance Area)
Clackamas County (part) |  | Unclassifiable/Attainment.
Multnomah County (part) |  | Unclassifiable/Attainment.
Washington County (part) |  | Unclassifiable/Attainment.
Salem Area: (Salem Area Transportation Study):
Marion County (part) |  | Unclassifiable/Attainment.
Polk County |  | Unclassifiable/Attainment.
AQCR 190 Central Oregon Intrastate:
Crook County |  | Unclassifiable/Attainment.
Deschutes County |  | Unclassifiable/Attainment.
Hood River County |  | Unclassifiable/Attainment.
Jefferson County |  | Unclassifiable/Attainment.
Klamath County (remainder) |  | Unclassifiable/Attainment.
Lake County |  | Unclassifiable/Attainment.
Sherman County |  | Unclassifiable/Attainment.
Wasco County |  | Unclassifiable/Attainment.
AQCR 191 Eastern Oregon Intrastate:
Baker County |  | Unclassifiable/Attainment.
Gilliam County |  | Unclassifiable/Attainment.
Grant County |  | Unclassifiable/Attainment.
Harney County |  | Unclassifiable/Attainment.
Malheur County |  | Unclassifiable/Attainment.
Morrow County |  | Unclassifiable/Attainment.
Umatilla County |  | Unclassifiable/Attainment.
Union County |  | Unclassifiable/Attainment.
Wallowa County |  | Unclassifiable/Attainment.
Wheeler County |  | Unclassifiable/Attainment.
AQCR 192 Northwest Oregon Intrastate:
Clatsop County |  | Unclassifiable/Attainment.
Lincoln County |  | Unclassifiable/Attainment.
Tillamook County |  | Unclassifiable/Attainment.
AQCR 193 Portland Interstate (part):
Lane County (part) |  | Unclassifiable/Attainment.
Eugene Springfield Air Quality Maintenance AQCR 193 Portland Interstate: |
Benton County |  | Unclassifiable/Attainment.
Clackamas County (remainder) |  | Unclassifiable/Attainment.
Columbia County |  | Unclassifiable/Attainment.
Lane County (remainder) |  | Unclassifiable/Attainment.
Linn County |  | Unclassifiable/Attainment.
Marion County (part) |  | Unclassifiable/Attainment.
The area outside the Salem Area Transportation Study:
Multnomah County (remainder) |  | Unclassifiable/Attainment.
Polk County (part) |  | Unclassifiable/Attainment.
The area outside the Salem Area Transportation Study:
Washington County (remainder) |  | Unclassifiable/Attainment.
Yamhill County |  | Unclassifiable/Attainment.
AQCR 194 Southwest Oregon Intrastate (part):
Jackson County (part) |  | Unclassifiable/Attainment.
Medford-Ashland Air Quality Maintenance Area AQCR 194 Southwest Oregon Intrastate: (remainder of):
Coos County |  | Unclassifiable/Attainment.
Curry County |  | Unclassifiable/Attainment.
Douglas County |  | Unclassifiable/Attainment.
Jackson County (remainder) |  | Unclassifiable/Attainment.
Josephine County |  | Unclassifiable/Attainment.
ᵃ Includes Indian Country located in each county or area, except as otherwise specified.
¹ his date is 30 days after November 13, 2009, unless otherwise noted.
² This date is July 2, 2014, unless otherwise noted.

* * * * *

40. Section 81.339 is amended as follows:

a. By removing the tables titled “Pennsylvania—PM2.5 (Annual NAAQS)” and “Pennsylvania—PM2.5 [24-hour NAAQS]”.

b. By adding three tables titled “Pennsylvania—1997 Annual PM2.5 NAAQS (Primary and Secondary)” and “Pennsylvania—1997 24-hour PM2.5 NAAQS (Primary and Secondary)” and “Pennsylvania—2006 24-hour PM2.5 NAAQS (Primary and Secondary)” before the table titled “Pennsylvania—NO2 (1971 Annual Standard)”.

The additions read as follows:

§ 81.339 Pennsylvania.

* * * * *

Pennsylvania—1997 Annual PM2.5 NAAQS
[Primary and secondary]
Designated area | Designation ᵃ: Date ¹ | Designation ᵃ: Type | Classification: Date ² | Classification: Type
Harrisburg-Lebanon-Carlisle, PA:
Cumberland County |  | Nonattainment |  | Moderate.
Dauphin County |  | Nonattainment |  | Moderate.
Lebanon County |  | Nonattainment |  | Moderate.
Johnstown, PA:
Cambria County |  | Nonattainment |  | Moderate.
Indiana County (part) |  | Nonattainment |  | Moderate.
Townships of West Wheatfield, Center, East Wheatfield, and Armagh Borough and Homer City Borough
Lancaster, PA:
Lancaster County |  | Nonattainment |  | Moderate.
Liberty-Clairton, PA:
Allegheny County (part) |  | Nonattainment |  | Moderate.
Lincoln Borough, Clairton City, Glassport Borough, Liberty Borough, Port Vue Borough
Philadelphia-Wilmington, PA-NJ-DE:
Bucks County |  | Nonattainment |  | Moderate.
Chester County |  | Nonattainment |  | Moderate.
Delaware County |  | Nonattainment |  | Moderate.
Montgomery County |  | Nonattainment |  | Moderate.
Philadelphia County |  | Nonattainment |  | Moderate.
Pittsburgh-Beaver Valley, PA:
Allegheny County (remainder) |  | Nonattainment |  | Moderate.
Armstrong County (part) |  | Nonattainment |  | Moderate.
Elderton Borough and Plumcreek and Washington Townships
Beaver County |  | Nonattainment |  | Moderate.
Butler County |  | Nonattainment |  | Moderate.
Greene County (part) |  | Nonattainment |  | Moderate.
Monongahela Township
Lawrence County (part) |  | Nonattainment |  | Moderate.
Township of Taylor south of New Castle City
Washington County |  | Nonattainment |  | Moderate.
Westmoreland County |  | Nonattainment |  | Moderate.
Reading, PA:
Berks County |  | Nonattainment |  | Moderate.
York, PA:
York County |  | Nonattainment |  | Moderate.
Youngstown-Warren-Sharon, OH-PA:
Mercer County |  | Unclassifiable/Attainment.
AQCR 151 Northeast Pennsylvania-Upper Delaware Valley Interstate:
Bradford County |  | Unclassifiable/Attainment.
Carbon County |  | Unclassifiable/Attainment.
Lackawanna County |  | Unclassifiable/Attainment.
Lehigh County |  | Unclassifiable/Attainment.
Luzerne County |  | Unclassifiable/Attainment.
Monroe County |  | Unclassifiable/Attainment.
Northampton County |  | Unclassifiable/Attainment.
Pike County |  | Unclassifiable/Attainment.
Schuylkill County |  | Unclassifiable/Attainment.
Sullivan County |  | Unclassifiable/Attainment.
Susquehanna County |  | Unclassifiable/Attainment.
Tioga County |  | Unclassifiable/Attainment.
Wayne County |  | Unclassifiable/Attainment.
Wyoming County |  | Unclassifiable/Attainment.
AQCR 178 Northwest Pennsylvania-Youngstown Interstate:
Cameron County |  | Unclassifiable/Attainment.
Clarion County |  | Unclassifiable/Attainment.
Clearfield County |  | Unclassifiable/Attainment.
Crawford County |  | Unclassifiable/Attainment.
Elk County |  | Unclassifiable/Attainment.
Erie County |  | Unclassifiable/Attainment.
Forest County |  | Unclassifiable/Attainment.
Jefferson County |  | Unclassifiable/Attainment.
Lawrence County (remainder) |  | Unclassifiable/Attainment.
McKean County |  | Unclassifiable/Attainment.
Potter County |  | Unclassifiable/Attainment.
Venango County |  | Unclassifiable/Attainment.
Warren County |  | Unclassifiable/Attainment.
AQCR 195 Central Pennsylvania Intrastate:
Bedford County |  | Unclassifiable/Attainment.
Blair County |  | Unclassifiable/Attainment.
Centre County |  | Unclassifiable/Attainment.
Clinton County |  | Unclassifiable/Attainment.
Columbia County |  | Unclassifiable/Attainment.
Fulton County |  | Unclassifiable/Attainment.
Huntingdon County |  | Unclassifiable/Attainment.
Juniata County |  | Unclassifiable/Attainment.
Lycoming County |  | Unclassifiable/Attainment.
Mifflin County |  | Unclassifiable/Attainment.
Montour County |  | Unclassifiable/Attainment.
Northumberland County |  | Unclassifiable/Attainment.
Snyder County |  | Unclassifiable/Attainment.
Somerset County |  | Unclassifiable/Attainment.
Union County |  | Unclassifiable/Attainment.
AQCR 196 South Central Pennsylvania Intrastate:
Adams County |  | Unclassifiable/Attainment.
Franklin County |  | Unclassifiable/Attainment.
Perry County |  | Unclassifiable/Attainment.
AQCR 197 Southwest Pennsylvania Intrastate:
Armstrong County (remainder) |  | Unclassifiable/Attainment.
Fayette County |  | Unclassifiable/Attainment.
Greene County (remainder) |  | Unclassifiable/Attainment.
Indiana County (remainder) |  | Unclassifiable/Attainment.
ᵃ Includes Indian Country located in each county or area, except as otherwise specified.
¹ This date is 90 days after January 5, 2005, unless otherwise noted.
² This date is July 2, 2014, unless otherwise noted.

Pennsylvania—1997 24-Hour PM2.5 NAAQS
[Primary and secondary]
Designated area | Designation ᵃ: Date ¹ | Designation ᵃ: Type | Classification: Date | Classification: Type
Allentown, PA:
Lehigh County |  | Unclassifiable/Attainment.
Northampton County |  | Unclassifiable/Attainment.
Harrisburg-Lebanon-Carlisle-York, PA:
Cumberland County |  | Unclassifiable/Attainment.
Dauphin County |  | Unclassifiable/Attainment.
Lebanon County |  | Unclassifiable/Attainment.
York County |  | Unclassifiable/Attainment.
Johnstown, PA:
Cambria County |  | Unclassifiable/Attainment.
Indiana County (part) |  | Unclassifiable/Attainment.
Townships of West Wheatfield, Center, East Wheatfield, and Armagh Borough and Homer City Borough
Lancaster, PA:
Lancaster County |  | Unclassifiable/Attainment.
Liberty-Clairton, PA:
Allegheny County (part) |  | Unclassifiable/Attainment.
Lincoln Borough, Clairton City, Glassport Borough, Liberty Borough, Port Vue Borough.
Philadelphia-Wilmington, PA-NJ-DE:
Bucks County |  | Unclassifiable/Attainment.
Chester County |  | Unclassifiable/Attainment.
Delaware County |  | Unclassifiable/Attainment.
Montgomery County |  | Unclassifiable/Attainment.
Philadelphia County |  | Unclassifiable/Attainment.
Pittsburgh-Beaver Valley, PA:
Allegheny County (remainder) |  | Unclassifiable/Attainment.
Armstrong County (part) |  | Unclassifiable/Attainment.
Elderton Borough and Plumcreek and Washington Townships.
Beaver County |  | Unclassifiable/Attainment.
Butler County |  | Unclassifiable/Attainment.
Greene County (part) |  | Unclassifiable/Attainment.
Monongahela Township.
Lawrence County (part) |  | Unclassifiable/Attainment.
Township of Taylor south of New Castle City.
Washington County |  | Unclassifiable/Attainment.
Westmoreland County |  | Unclassifiable/Attainment.
Youngstown-Warren-Sharon, OH-PA:
Mercer County |  | Unclassifiable/Attainment.
Rest of State:
AQCR 151 Northeast Pennsylvania-Upper Delaware Valley Interstate:
Berks County |  | Unclassifiable/Attainment.
Bradford County |  | Unclassifiable/Attainment.
Carbon County |  | Unclassifiable/Attainment.
Lackawanna County |  | Unclassifiable/Attainment.
Luzerne County |  | Unclassifiable/Attainment.
Monroe County |  | Unclassifiable/Attainment.
Pike County |  | Unclassifiable/Attainment.
Schuylkill County |  | Unclassifiable/Attainment.
Sullivan County |  | Unclassifiable/Attainment.
Susquehanna County |  | Unclassifiable/Attainment.
Tioga County |  | Unclassifiable/Attainment.
Wayne County |  | Unclassifiable/Attainment.
Wyoming County |  | Unclassifiable/Attainment.
AQCR 178 Northwest Pennsylvania-Youngstown Interstate:
Cameron County |  | Unclassifiable/Attainment.
Clarion County |  | Unclassifiable/Attainment.
Clearfield County |  | Unclassifiable/Attainment.
Crawford County |  | Unclassifiable/Attainment.
Elk County |  | Unclassifiable/Attainment.
Erie County |  | Unclassifiable/Attainment.
Forest County |  | Unclassifiable/Attainment.
Jefferson County |  | Unclassifiable/Attainment.
Lawrence County (remainder) |  | Unclassifiable/Attainment.
McKean County |  | Unclassifiable/Attainment.
Potter County |  | Unclassifiable/Attainment.
Venango County |  | Unclassifiable/Attainment.
Warren County |  | Unclassifiable/Attainment.
AQCR 195 Central Pennsylvania Intrastate:
Bedford County |  | Unclassifiable/Attainment.
Blair County |  | Unclassifiable/Attainment.
Centre County |  | Unclassifiable/Attainment.
Clinton County |  | Unclassifiable/Attainment.
Columbia County |  | Unclassifiable/Attainment.
Fulton County |  | Unclassifiable/Attainment.
Huntingdon County |  | Unclassifiable/Attainment.
Juniata County |  | Unclassifiable/Attainment.
Lycoming County |  | Unclassifiable/Attainment.
Mifflin County |  | Unclassifiable/Attainment.
Montour County |  | Unclassifiable/Attainment.
Northumberland County |  | Unclassifiable/Attainment.
Snyder County |  | Unclassifiable/Attainment.
Somerset County |  | Unclassifiable/Attainment.
Union County |  | Unclassifiable/Attainment.
AQCR 196 South Central Pennsylvania Intrastate:
Adams County |  | Unclassifiable/Attainment.
Franklin County |  | Unclassifiable/Attainment.
Perry County |  | Unclassifiable/Attainment.
AQCR 197 Southwest Pennsylvania Intrastate:
Armstrong County (remainder) |  | Unclassifiable/Attainment.
Fayette County |  | Unclassifiable/Attainment.
Greene County (remainder) |  | Unclassifiable/Attainment.
Indiana County (remainder) |  | Unclassifiable/Attainment.
ᵃ Includes Indian Country located in each county or area, except as otherwise specified.
¹ This date is 90 days after January 5, 2005, unless otherwise noted.

Pennsylvania—2006 24-Hour PM2.5 NAAQS
[Primary and secondary]
Designated area | Designation ᵃ: Date ¹ | Designation ᵃ: Type | Classification: Date ² | Classification: Type
Allentown, PA:
Lehigh County |  | Nonattainment |  | Moderate.
Northampton County |  | Nonattainment |  | Moderate.
Harrisburg-Lebanon-Carlisle-York, PA:
Cumberland County |  | Nonattainment |  | Moderate.
Dauphin County |  | Nonattainment |  | Moderate.
Lebanon County |  | Nonattainment |  | Moderate.
York County |  | Nonattainment |  | Moderate.
Johnstown, PA:
Cambria County |  | Nonattainment |  | Moderate.
Indiana County (part) |  | Nonattainment |  | Moderate.
Townships of West Wheatfield, Center, East Wheatfield, and Armagh Borough and Homer City Borough.
Lancaster, PA:
Lancaster County |  | Nonattainment |  | Moderate.
Liberty-Clairton, PA:
Allegheny County (part) |  | Nonattainment |  | Moderate.
Lincoln Borough, Clairton City, Glassport Borough, Liberty Borough, Port Vue Borough.
Philadelphia-Wilmington, PA-NJ-DE:
Bucks County |  | Nonattainment |  | Moderate.
Chester County |  | Nonattainment |  | Moderate.
Delaware County |  | Nonattainment |  | Moderate.
Montgomery County |  | Nonattainment |  | Moderate.
Philadelphia County |  | Nonattainment |  | Moderate.
Pittsburgh-Beaver Valley, PA:
Allegheny County (remainder) |  | Nonattainment |  | Moderate.
Armstrong County (part) |  | Nonattainment |  | Moderate.
Elderton Borough and Plumcreek and Washington Townships.
Beaver County |  | Nonattainment |  | Moderate.
Butler County |  | Nonattainment |  | Moderate.
Greene County (part) |  | Nonattainment |  | Moderate.
Monongahela Township.
Lawrence County (part) |  | Nonattainment |  | Moderate.
Township of Taylor south of New Castle City.
Washington County |  | Nonattainment |  | Moderate.
Westmoreland County |  | Nonattainment |  | Moderate.
Youngstown-Warren-Sharon, OH-PA:
Mercer County |  |  | UnclassifiableAttainment.
Rest of State:
AQCR 151 Northeast Pennsylvania-Upper Delaware Valley Interstate:
Berks County |  |  | UnclassifiableAttainment.
Bradford County |  |  | UnclassifiableAttainment.
Carbon County |  |  | UnclassifiableAttainment.
Lackawanna County |  |  | UnclassifiableAttainment.
Luzerne County |  |  | UnclassifiableAttainment.
Monroe County |  |  | UnclassifiableAttainment.
Pike County |  |  | UnclassifiableAttainment.
Schuylkill County |  |  | UnclassifiableAttainment.
Sullivan County |  |  | UnclassifiableAttainment.
Susquehanna County |  |  | UnclassifiableAttainment.
Tioga County |  |  | UnclassifiableAttainment.
Wayne County |  |  | UnclassifiableAttainment.
Wyoming County |  |  | UnclassifiableAttainment.
AQCR 178 Northwest Pennsylvania-Youngstown Interstate:
Cameron County |  |  | UnclassifiableAttainment.
Clarion County |  |  | UnclassifiableAttainment.
Clearfield County |  |  | UnclassifiableAttainment.
Crawford County |  |  | UnclassifiableAttainment.
Elk County |  |  | UnclassifiableAttainment.
Erie County |  |  | UnclassifiableAttainment.
Forest County |  |  | UnclassifiableAttainment.
Jefferson County |  |  | UnclassifiableAttainment.
Lawrence County (remainder) |  |  | UnclassifiableAttainment.
McKean County |  |  | UnclassifiableAttainment.
Potter County |  |  | UnclassifiableAttainment.
Venango County |  |  | UnclassifiableAttainment.
Warren County |  |  | UnclassifiableAttainment.
AQCR 195 Central Pennsylvania Intrastate:
Bedford County |  |  | UnclassifiableAttainment.
Blair County |  |  | UnclassifiableAttainment.
Centre County |  |  | UnclassifiableAttainment.
Clinton County |  |  | UnclassifiableAttainment.
Columbia County |  |  | UnclassifiableAttainment.
Fulton County |  |  | UnclassifiableAttainment.
Huntingdon County |  |  | UnclassifiableAttainment.
Juniata County |  |  | UnclassifiableAttainment.
Lycoming County |  |  | UnclassifiableAttainment.
Mifflin County |  |  | UnclassifiableAttainment.
Montour County |  |  | UnclassifiableAttainment.
Northumberland County |  |  | UnclassifiableAttainment.
Snyder County |  |  | UnclassifiableAttainment.
Somerset County |  |  | UnclassifiableAttainment.
Union County |  |  | UnclassifiableAttainment.
AQCR 196 South Central Pennsylvania Intrastate:
Adams County |  |  | UnclassifiableAttainment.
Franklin County |  |  | UnclassifiableAttainment.
Perry County |  |  | UnclassifiableAttainment.
AQCR 197 Southwest Pennsylvania Intrastate:
Armstrong County (remainder) |  |  | UnclassifiableAttainment.
Fayette County |  |  | UnclassifiableAttainment.
Greene County (remainder) |  |  | UnclassifiableAttainment.
Indiana County (remainder) |  |  | UnclassifiableAttainment.
ᵃ Includes Indian Country located in each county or area, except as otherwise specified.
¹ This date is 30 days after November 13, 2009, unless otherwise noted.
² This date is July 2, 2014, unless otherwise noted.

* * * * *

41. Section 81.340 is amended as follows:

a. By removing the tables titled “Rhode Island—PM2.5 (Annual NAAQS)” and “Rhode Island—PM2.5 [24-hour NAAQS]”.

b. By adding three tables titled “Rhode Island—1997 Annual PM2.5 NAAQS (Primary and Secondary)” and “Rhode Island—1997 24-hour PM2.5 NAAQS (Primary and Secondary)” and “Rhode Island—2006 24-hour PM2.5 NAAQS (Primary and Secondary)” before the table titled “Rhode Island—NO2 (1971 Annual Standard)”.

The additions read as follows:

§ 81.340 Rhode Island.

* * * * *

Rhode Island—1997 Annual PM2.5 NAAQS
[Primary and secondary]
Designated area | Designation ᵃ: Date ¹ | Designation ᵃ: Type | Classification: Date | Classification: Type
Statewide:
Bristol County |  | Unclassifiable/Attainment.
Kent County |  | Unclassifiable/Attainment.
Newport County |  | Unclassifiable/Attainment.
Providence County |  | Unclassifiable/Attainment.
Washington County |  | Unclassifiable/Attainment.
ᵃ Includes Indian Country located in each county or area, except as otherwise specified.
¹ This date is 90 days after January 5, 2005, unless otherwise noted.

Rhode Island—1997 24-Hour PM2.5 NAAQS
[Primary and secondary]
Designated area | Designation ᵃ: Date ¹ | Designation ᵃ: Type | Classification: Date | Classification: Type
Statewide:
Bristol County |  | Unclassifiable/Attainment.
Kent County |  | Unclassifiable/Attainment.
Newport County |  | Unclassifiable/Attainment.
Providence County |  | Unclassifiable/Attainment.
Washington County |  | Unclassifiable/Attainment.
ᵃ Includes Indian Country located in each county or area, except as otherwise specified.
¹ This date is 90 days after January 5, 2005, unless otherwise noted.

Rhode Island—2006 24-Hour PM2.5 NAAQS
[Primary and secondary]
Designated area | Designation ᵃ: Date ¹ | Designation ᵃ: Type | Classification: Date | Classification: Type
Statewide:
Bristol County |  | Unclassifiable/Attainment.
Kent County |  | Unclassifiable/Attainment.
Newport County |  | Unclassifiable/Attainment.
Providence County |  | Unclassifiable/Attainment.
Washington County |  | Unclassifiable/Attainment.
ᵃ Includes Indian Country located in each county or area, except as otherwise specified.
¹ This date is 30 days after November 13, 2009, unless otherwise noted.

* * * * *

42. Section 81.341 is amended as follows:

a. By removing the tables titled “South Carolina—PM2.5 (Annual NAAQS)” and “South Carolina—PM2.5 [24-hour NAAQS]”.

b. By adding three tables titled “South Carolina—1997 Annual PM2.5 NAAQS (Primary and Secondary)” and “South Carolina—1997 24-hour PM2.5 NAAQS (Primary and Secondary)” and “South Carolina—2006 24-hour PM2.5 NAAQS (Primary and Secondary)” before the table titled “South Carolina—NO2 (1971 Annual Standard)”.

The additions read as follows:

§ 81.341 South Carolina.

* * * * *

South Carolina—1997 Annual PM2.5 NAAQS
[Primary and secondary]
Designated area | Designation ᵃ: Date ¹ | Designation ᵃ: Type | Classification: Date | Classification: Type
Greenville-Spartanburg, SC:
Anderson County |  | Unclassifiable
Greenville County |  | Unclassifiable
Spartanburg County |  | Unclassifiable
Rest of State:
Abbeville County |  | Unclassifiable/Attainment.
Aiken County |  | Unclassifiable/Attainment.
Allendale County |  | Unclassifiable/Attainment.
Bamberg County |  | Unclassifiable/Attainment.
Barnwell County |  | Unclassifiable/Attainment.
Beaufort County |  | Unclassifiable/Attainment.
Berkeley County |  | Unclassifiable/Attainment.
Calhoun County |  | Unclassifiable/Attainment.
Charleston County |  | Unclassifiable/Attainment.
Cherokee County |  | Unclassifiable/Attainment.
Chester County |  | Unclassifiable/Attainment.
Chesterfield County |  | Unclassifiable/Attainment.
Clarendon County |  | Unclassifiable/Attainment.
Colleton County |  | Unclassifiable/Attainment.
Darlington County |  | Unclassifiable/Attainment.
Dillon County |  | Unclassifiable/Attainment.
Dorchester County |  | Unclassifiable/Attainment.
Edgefield County |  | Unclassifiable/Attainment.
Fairfield County |  | Unclassifiable/Attainment.
Florence County
Georgetown County |  | Unclassifiable/Attainment.
Greenwood County |  | Unclassifiable/Attainment.
Hampton County |  | Unclassifiable/Attainment.
Horry County |  | Unclassifiable/Attainment.
Jasper County |  | Unclassifiable/Attainment.
Kershaw County |  | Unclassifiable/Attainment.
Lancaster County |  | Unclassifiable/Attainment.
Laurens County |  | Unclassifiable/Attainment.
Lee County |  | Unclassifiable/Attainment.
Lexington County |  | Unclassifiable/Attainment.
McCormick County |  | Unclassifiable/Attainment.
Marion County |  | Unclassifiable/Attainment.
Marlboro County |  | Unclassifiable/Attainment.
Newberry County |  | Unclassifiable/Attainment.
Oconee County |  | Unclassifiable/Attainment.
Orangeburg County |  | Unclassifiable/Attainment.
Pickens County |  | Unclassifiable/Attainment.
Richland County |  | Unclassifiable/Attainment.
Saluda County |  | Unclassifiable/Attainment.
Sumter County |  | Unclassifiable/Attainment.
Union County |  | Unclassifiable/Attainment.
Williamsburg County |  | Unclassifiable/Attainment.
York County |  | Unclassifiable/Attainment.
ᵃ Includes Indian Country located in each county or area, except as otherwise specified.
¹ This date is 90 days after January 5, 2005, unless otherwise noted.

South Carolina—1997 24-Hour PM2.5 NAAQS
[Primary and secondary]
Designated area | Designation ᵃ: Date ¹ | Designation ᵃ: Type | Classification: Date | Classification: Type
Statewide:
Abbeville County |  | Unclassifiable/Attainment.
Aiken County |  | Unclassifiable/Attainment.
Allendale County |  | Unclassifiable/Attainment.
Anderson County |  | Unclassifiable/Attainment.
Bamberg County |  | Unclassifiable/Attainment.
Barnwell County |  | Unclassifiable/Attainment.
Beaufort County |  | Unclassifiable/Attainment.
Berkeley County |  | Unclassifiable/Attainment.
Calhoun County |  | Unclassifiable/Attainment.
Charleston County |  | Unclassifiable/Attainment.
Cherokee County |  | Unclassifiable/Attainment.
Chester County |  | Unclassifiable/Attainment.
Chesterfield County |  | Unclassifiable/Attainment.
Clarendon County |  | Unclassifiable/Attainment.
Colleton County |  | Unclassifiable/Attainment.
Darlington County |  | Unclassifiable/Attainment.
Dillon County |  | Unclassifiable/Attainment.
Dorchester County |  | Unclassifiable/Attainment.
Edgefield County |  | Unclassifiable/Attainment.
Fairfield County |  | Unclassifiable/Attainment.
Florence County |  | Unclassifiable/Attainment.
Georgetown County |  | Unclassifiable/Attainment.
Greenwood County |  | Unclassifiable/Attainment.
Greenville County |  | Unclassifiable/Attainment.
Hampton County |  | Unclassifiable/Attainment.
Horry County |  | Unclassifiable/Attainment.
Jasper County |  | Unclassifiable/Attainment.
Kershaw County |  | Unclassifiable/Attainment.
Lancaster County |  | Unclassifiable/Attainment.
Laurens County |  | Unclassifiable/Attainment.
Lee County |  | Unclassifiable/Attainment.
Lexington County |  | Unclassifiable/Attainment.
McCormick County |  | Unclassifiable/Attainment.
Marion County |  | Unclassifiable/Attainment.
Marlboro County |  | Unclassifiable/Attainment.
Newberry County |  | Unclassifiable/Attainment.
Oconee County |  | Unclassifiable/Attainment.
Orangeburg County |  | Unclassifiable/Attainment.
Pickens County |  | Unclassifiable/Attainment.
Richland County |  | Unclassifiable/Attainment.
Saluda County |  | Unclassifiable/Attainment.
Spartanburg County |  | Unclassifiable/Attainment.
Sumter County |  | Unclassifiable/Attainment.
Union County |  | Unclassifiable/Attainment.
Williamsburg County |  | Unclassifiable/Attainment.
York County |  | Unclassifiable/Attainment.
ᵃ Includes Indian Country located in each county or area, except as otherwise specified.
¹ This date is 90 days after January 5, 2005, unless otherwise noted.

South Carolina—2006 24-Hour PM2.5 NAAQS
[Primary and secondary]
Designated area | Designation ᵃ: Date ¹ | Designation ᵃ: Type | Classification: Date | Classification: Type
Statewide:
Abbeville County |  | Unclassifiable/Attainment.
Aiken County |  | Unclassifiable/Attainment.
Allendale County |  | Unclassifiable/Attainment.
Anderson County |  | Unclassifiable/Attainment.
Bamberg County |  | Unclassifiable/Attainment.
Barnwell County |  | Unclassifiable/Attainment.
Beaufort County |  | Unclassifiable/Attainment.
Berkeley County |  | Unclassifiable/Attainment.
Calhoun County |  | Unclassifiable/Attainment.
Charleston County |  | Unclassifiable/Attainment.
Cherokee County |  | Unclassifiable/Attainment.
Chester County |  | Unclassifiable/Attainment.
Chesterfield County |  | Unclassifiable/Attainment.
Clarendon County |  | Unclassifiable/Attainment.
Colleton County |  | Unclassifiable/Attainment.
Darlington County |  | Unclassifiable/Attainment.
Dillon County |  | Unclassifiable/Attainment.
Dorchester County |  | Unclassifiable/Attainment.
Edgefield County |  | Unclassifiable/Attainment.
Fairfield County |  | Unclassifiable/Attainment.
Florence County |  | Unclassifiable/Attainment.
Georgetown County |  | Unclassifiable/Attainment.
Greenwood County |  | Unclassifiable/Attainment.
Greenville County |  | Unclassifiable/Attainment.
Hampton County |  | Unclassifiable/Attainment.
Horry County |  | Unclassifiable/Attainment.
Jasper County |  | Unclassifiable/Attainment.
Kershaw County |  | Unclassifiable/Attainment.
Lancaster County |  | Unclassifiable/Attainment.
Laurens County |  | Unclassifiable/Attainment.
Lee County |  | Unclassifiable/Attainment.
Lexington County |  | Unclassifiable/Attainment.
McCormick County |  | Unclassifiable/Attainment.
Marion County |  | Unclassifiable/Attainment.
Marlboro County |  | Unclassifiable/Attainment.
Newberry County |  | Unclassifiable/Attainment.
Oconee County |  | Unclassifiable/Attainment.
Orangeburg County |  | Unclassifiable/Attainment.
Pickens County |  | Unclassifiable/Attainment.
Richland County |  | Unclassifiable/Attainment.
Saluda County |  | Unclassifiable/Attainment.
Spartanburg County |  | Unclassifiable/Attainment.
Sumter County |  | Unclassifiable/Attainment.
Union County |  | Unclassifiable/Attainment.
Williamsburg County |  | Unclassifiable/Attainment.
York County |  | Unclassifiable/Attainment.
ᵃ Includes Indian Country located in each county or area, except as otherwise specified.
¹ This date is 30 days after November 13, 2009, unless otherwise noted.

* * * * *

43. Section 81.342 is amended as follows:

a. By removing the tables titled “South Dakota—PM2.5 (Annual NAAQS)” and “South Dakota—PM2.5 [24-hour NAAQS]”.

b. By adding three tables titled “South Dakota—1997 Annual PM2.5 NAAQS (Primary and Secondary)” and “South Dakota—1997 24-hour PM2.5 NAAQS (Primary and Secondary)” and “South Dakota—2006 24-hour PM2.5 NAAQS (Primary and Secondary)” before the table titled “South Dakota—NO2 (1971 Annual Standard)”.

The additions read as follows:

§ 81.342 South Dakota.

* * * * *

South Dakota—1997 Annual PM2.5 NAAQS
[Primary and secondary]
Designated area | Designation ᵃ: Date ¹ | Designation ᵃ: Type | Classification: Date | Classification: Type
Statewide:
Aurora County |  | Unclassifiable/Attainment.
Beadle County |  | Unclassifiable/Attainment.
Bennett County |  | Unclassifiable/Attainment.
Bon Homme County |  | Unclassifiable/Attainment.
Brookings County |  | Unclassifiable/Attainment.
Brown County |  | Unclassifiable/Attainment.
Brule County |  | Unclassifiable/Attainment.
Buffalo County |  | Unclassifiable/Attainment.
Butte County |  | Unclassifiable/Attainment.
Campbell County |  | Unclassifiable/Attainment.
Charles Mix County |  | Unclassifiable/Attainment.
Clark County |  | Unclassifiable/Attainment.
Clay County |  | Unclassifiable/Attainment.
Codington County |  | Unclassifiable/Attainment.
Corson County |  | Unclassifiable/Attainment.
Custer County |  | Unclassifiable/Attainment.
Davison County |  | Unclassifiable/Attainment.
Day County |  | Unclassifiable/Attainment.
Deuel County |  | Unclassifiable/Attainment.
Dewey County |  | Unclassifiable/Attainment.
Douglas County |  | Unclassifiable/Attainment.
Edmunds County |  | Unclassifiable/Attainment.
Fall River County |  | Unclassifiable/Attainment.
Faulk County |  | Unclassifiable/Attainment.
Grant County |  | Unclassifiable/Attainment.
Gregory County |  | Unclassifiable/Attainment.
Haakon County |  | Unclassifiable/Attainment.
Hamlin County |  | Unclassifiable/Attainment.
Hand County |  | Unclassifiable/Attainment.
Hanson County |  | Unclassifiable/Attainment.
Harding County |  | Unclassifiable/Attainment.
Hughes County |  | Unclassifiable/Attainment.
Hutchinson County |  | Unclassifiable/Attainment.
Hyde County |  | Unclassifiable/Attainment.
Jackson County |  | Unclassifiable/Attainment.
Jerauld County |  | Unclassifiable/Attainment.
Jones County |  | Unclassifiable/Attainment.
Kingsbury County |  | Unclassifiable/Attainment.
Lake County |  | Unclassifiable/Attainment.
Lawrence County |  | Unclassifiable/Attainment.
Lincoln County |  | Unclassifiable/Attainment.
Lyman County |  | Unclassifiable/Attainment.
McCook County |  | Unclassifiable/Attainment.
McPherson County |  | Unclassifiable/Attainment.
Marshall County |  | Unclassifiable/Attainment.
Meade County |  | Unclassifiable/Attainment.
Mellette County |  | Unclassifiable/Attainment.
Miner County |  | Unclassifiable/Attainment.
Minnehaha County |  | Unclassifiable/Attainment.
Moody County |  | Unclassifiable/Attainment.
Pennington County |  | Unclassifiable/Attainment.
Perkins County |  | Unclassifiable/Attainment.
Potter County |  | Unclassifiable/Attainment.
Roberts County |  | Unclassifiable/Attainment.
Sanborn County |  | Unclassifiable/Attainment.
Shannon County |  | Unclassifiable/Attainment.
Spink County |  | Unclassifiable/Attainment.
Stanley County |  | Unclassifiable/Attainment.
Sully Count |  | Unclassifiable/Attainment.
Todd County |  | Unclassifiable/Attainment.
Tripp County |  | Unclassifiable/Attainment.
Turner County |  | Unclassifiable/Attainment.
Union County |  | Unclassifiable/Attainment.
Walworth County |  | Unclassifiable/Attainment.
Yankton County |  | Unclassifiable/Attainment.
Ziebach County |  | Unclassifiable/Attainment.
ᵃ Includes Indian Country located in each county or area, except as otherwise specified.
¹ This date is 90 days after January 5, 2005, unless otherwise noted.

South Dakota—1997 24-Hour PM2.5 NAAQS
[Primary and secondary]
Designated area | Designation ᵃ: Date ¹ | Designation ᵃ: Type | Classification: Date | Classification: Type
Statewide:
Aurora County |  | Unclassifiable/Attainment.
Beadle County |  | Unclassifiable/Attainment.
Bennett County |  | Unclassifiable/Attainment.
Bon Homme County |  | Unclassifiable/Attainment.
Brookings County |  | Unclassifiable/Attainment.
Brown County |  | Unclassifiable/Attainment.
Brule County |  | Unclassifiable/Attainment.
Buffalo County |  | Unclassifiable/Attainment.
Butte County |  | Unclassifiable/Attainment.
Campbell County |  | Unclassifiable/Attainment.
Charles Mix County |  | Unclassifiable/Attainment.
Clark County |  | Unclassifiable/Attainment.
Clay County |  | Unclassifiable/Attainment.
Codington County |  | Unclassifiable/Attainment.
Croson County |  | Unclassifiable/Attainment.
Custer County |  | Unclassifiable/Attainment.
Davison County |  | Unclassifiable/Attainment.
Day County |  | Unclassifiable/Attainment.
Deuel County |  | Unclassifiable/Attainment.
Dewey County |  | Unclassifiable/Attainment.
Douglas County |  | Unclassifiable/Attainment.
Edmunds County |  | Unclassifiable/Attainment.
Fall River County |  | Unclassifiable/Attainment.
Faulk County |  | Unclassifiable/Attainment.
Grant County |  | Unclassifiable/Attainment.
Gregory County |  | Unclassifiable/Attainment.
Haakon County |  | Unclassifiable/Attainment.
Hamlin County |  | Unclassifiable/Attainment.
Hand County |  | Unclassifiable/Attainment.
Hanson County |  | Unclassifiable/Attainment.
Harding County |  | Unclassifiable/Attainment.
Hughes County |  | Unclassifiable/Attainment.
Hutchinson County |  | Unclassifiable/Attainment.
Hyde County |  | Unclassifiable/Attainment.
Jackson County |  | Unclassifiable/Attainment.
Jerauld County |  | Unclassifiable/Attainment.
Jones County |  | Unclassifiable/Attainment.
Kingsbury County |  | Unclassifiable/Attainment.
Lake County |  | Unclassifiable/Attainment.
Lawrence County |  | Unclassifiable/Attainment.
Lincoln County |  | Unclassifiable/Attainment.
Lyman County |  | Unclassifiable/Attainment.
McCook County |  | Unclassifiable/Attainment.
McPherson County |  | Unclassifiable/Attainment.
Marshall County |  | Unclassifiable/Attainment.
Meade County |  | Unclassifiable/Attainment.
Mellette County |  | Unclassifiable/Attainment.
Miner County |  | Unclassifiable/Attainment.
Minnehaha County |  | Unclassifiable/Attainment.
Moody County |  | Unclassifiable/Attainment.
Pennington County |  | Unclassifiable/Attainment.
Perkins County |  | Unclassifiable/Attainment.
Potter County |  | Unclassifiable/Attainment.
Roberts County |  | Unclassifiable/Attainment.
Sanborn County |  | Unclassifiable/Attainment.
Shannon County |  | Unclassifiable/Attainment.
Spink County |  | Unclassifiable/Attainment.
Stanley County |  | Unclassifiable/Attainment.
Sully County |  | Unclassifiable/Attainment.
Todd County |  | Unclassifiable/Attainment.
Tripp County |  | Unclassifiable/Attainment.
Turner County |  | Unclassifiable/Attainment.
Union County |  | Unclassifiable/Attainment.
Walworth County |  | Unclassifiable/Attainment.
Yankton County |  | Unclassifiable/Attainment.
Ziebach County |  | Unclassifiable/Attainment. |  |
ᵃ Includes Indian Country located in each county or area, except as otherwise specified.
¹ This date is 90 days after January 5, 2005, unless otherwise noted.

South Dakota—2006 24-Hour PM2.5 NAAQS
[Primary and secondary]
Designated area | Designation ᵃ: Date ¹ | Designation ᵃ: Type | Classification: Date | Classification: Type
Statewide: |  |
Aurora County |  | Unclassifiable/Attainment.
Beadle County |  | Unclassifiable/Attainment.
Bennett County |  | Unclassifiable/Attainment.
Bon Homme County |  | Unclassifiable/Attainment.
Brookings County |  | Unclassifiable/Attainment.
Brown County |  | Unclassifiable/Attainment.
Brule County |  | Unclassifiable/Attainment.
Buffalo County |  | Unclassifiable/Attainment.
Butte County |  | Unclassifiable/Attainment.
Campbell County |  | Unclassifiable/Attainment.
Charles Mix County |  | Unclassifiable/Attainment.
Clark County |  | Unclassifiable/Attainment.
Clay County |  | Unclassifiable/Attainment.
Codington County |  | Unclassifiable/Attainment.
Croson County |  | Unclassifiable/Attainment.
Custer County |  | Unclassifiable/Attainment.
Davison County |  | Unclassifiable/Attainment.
Day County |  | Unclassifiable/Attainment.
Deuel County |  | Unclassifiable/Attainment.
Dewey County |  | Unclassifiable/Attainment.
Douglas County |  | Unclassifiable/Attainment.
Edmunds County |  | Unclassifiable/Attainment.
Fall River County |  | Unclassifiable/Attainment.
Faulk County |  | Unclassifiable/Attainment.
Grant County |  | Unclassifiable/Attainment.
Gregory County |  | Unclassifiable/Attainment.
Haakon County |  | Unclassifiable/Attainment.
Hamlin County |  | Unclassifiable/Attainment.
Hand County |  | Unclassifiable/Attainment.
Hanson County |  | Unclassifiable/Attainment.
Harding County |  | Unclassifiable/Attainment.
Hughes County |  | Unclassifiable/Attainment.
Hutchinson County |  | Unclassifiable/Attainment.
Hyde County |  | Unclassifiable/Attainment.
Jackson County |  | Unclassifiable/Attainment.
Jerauld County |  | Unclassifiable/Attainment.
Jones County |  | Unclassifiable/Attainment.
Kingsbury County |  | Unclassifiable/Attainment.
Lake County |  | Unclassifiable/Attainment.
Lawrence County |  | Unclassifiable/Attainment.
Lincoln County |  | Unclassifiable/Attainment.
Lyman County |  | Unclassifiable/Attainment.
McCook County |  | Unclassifiable/Attainment.
McPherson County |  | Unclassifiable/Attainment.
Marshall County |  | Unclassifiable/Attainment.
Meade County |  | Unclassifiable/Attainment.
Mellette County |  | Unclassifiable/Attainment.
Miner County |  | Unclassifiable/Attainment.
Minnehaha County |  | Unclassifiable/Attainment.
Moody County |  | Unclassifiable/Attainment.
Pennington County |  | Unclassifiable/Attainment.
Perkins County |  | Unclassifiable/Attainment.
Potter County |  | Unclassifiable/Attainment.
Roberts County |  | Unclassifiable/Attainment.
Sanborn County |  | Unclassifiable/Attainment.
Shannon County |  | Unclassifiable/Attainment.
Spink County |  | Unclassifiable/Attainment.
Stanley County |  | Unclassifiable/Attainment.
Sully County |  | Unclassifiable/Attainment.
Todd County |  | Unclassifiable/Attainment.
Tripp County |  | Unclassifiable/Attainment.
Turner County |  | Unclassifiable/Attainment.
Union County |  | Unclassifiable/Attainment.
Walworth County |  | Unclassifiable/Attainment.
Yankton County |  | Unclassifiable/Attainment.
Ziebach County |  | Unclassifiable/Attainment.
ᵃ Includes Indian Country located in each county or area, except as otherwise specified.
¹ This date is 30 days after November 13, 2009, unless otherwise noted.

* * * * *

44. Section 81.343 is amended as follows:

a. By removing the tables titled “Tennessee—PM2.5 (Annual NAAQS)” and “Tennessee—PM2.5 [24-hour NAAQS]”.

b. By adding three tables titled “Tennessee—1997 Annual PM2.5 NAAQS (Primary and Secondary)” and “Tennessee—1997 24-hour PM2.5 NAAQS (Primary and Secondary)” and “Tennessee—2006 24-hour PM2.5 NAAQS (Primary and Secondary)” before the table titled “Tennessee—NO2 (1971 Annual Standard)”.

The additions read as follows:

§ 81.343 Tennessee.

* * * * *

Tennessee—1997 Annual PM2.5 NAAQS
[Primary and secondary]
Designated area | Designation ᵃ: Date ¹ | Designation ᵃ: Type | Classification: Date ² | Classification: Type
Chattanooga, TN-GA:
Hamilton County |  | Nonattainment |  | Moderate.
Knoxville, TN:
Anderson County |  | Nonattainment |  | Moderate.
Blount County |  | Nonattainment |  | Moderate.
Knox County |  | Nonattainment |  | Moderate.
Loudon County |  | Nonattainment |  | Moderate.
Roane County (part) |  | Nonattainment |  | Moderate.
The area described by U.S. Census 2000 block group identifier 47-145-0307-2.
Rest of State:
Bedford County |  | Unclassifiable/Attainment.
Benton County |  | Unclassifiable/Attainment.
Bledsoe County |  | Unclassifiable/Attainment.
Bradley County |  | Unclassifiable/Attainment.
Campbell County |  | Unclassifiable/Attainment.
Cannon County |  | Unclassifiable/Attainment.
Carroll County |  | Unclassifiable/Attainment.
Carter County |  | Unclassifiable/Attainment.
Cheatham County |  | Unclassifiable/Attainment.
Chester County |  | Unclassifiable/Attainment.
Claiborne County |  | Unclassifiable/Attainment.
Clay County |  | Unclassifiable/Attainment.
Cocke County |  | Unclassifiable/Attainment.
Coffee County |  | Unclassifiable/Attainment.
Crockett County |  | Unclassifiable/Attainment.
Cumberland County |  | Unclassifiable/Attainment.
Davidson County |  | Unclassifiable/Attainment.
Decatur County |  | Unclassifiable/Attainment.
DeKalb County |  | Unclassifiable/Attainment.
Dickson County |  | Unclassifiable/Attainment.
Dyer County |  | Unclassifiable/Attainment.
Fayette County |  | Unclassifiable/Attainment.
Fentress County |  | Unclassifiable/Attainment.
Franklin County |  | Unclassifiable/Attainment.
Gibson County |  | Unclassifiable/Attainment.
Giles County |  | Unclassifiable/Attainment.
Grainger County |  | Unclassifiable/Attainment.
Greene County |  | Unclassifiable/Attainment.
Grundy County |  | Unclassifiable/Attainment.
Hamblen County |  | Unclassifiable/Attainment.
Hancock County |  | Unclassifiable/Attainment.
Hardeman County |  | Unclassifiable/Attainment.
Hardin County |  | Unclassifiable/Attainment.
Hawkins County |  | Unclassifiable/Attainment.
Haywood County |  | Unclassifiable/Attainment.
Henderson County |  | Unclassifiable/Attainment.
Henry County |  | Unclassifiable/Attainment.
Hickman County |  | Unclassifiable/Attainment.
Houston County |  | Unclassifiable/Attainment.
Humphreys County |  | Unclassifiable/Attainment.
Jackson County |  | Unclassifiable/Attainment.
Jefferson County |  | Unclassifiable/Attainment.
Johnson County |  | Unclassifiable/Attainment.
Lake County |  | Unclassifiable/Attainment.
Lauderdale County |  | Unclassifiable/Attainment.
Lawrence County |  | Unclassifiable/Attainment.
Lewis County |  | Unclassifiable/Attainment.
Lincoln County |  | Unclassifiable/Attainment.
McMinn County |  | Unclassifiable/Attainment.
McNairy County |  | Unclassifiable/Attainment.
Macon County |  | Unclassifiable/Attainment.
Madison County |  | Unclassifiable/Attainment.
Marion County |  | Unclassifiable/Attainment.
Marshall County |  | Unclassifiable/Attainment.
Maury County |  | Unclassifiable/Attainment.
Meigs County |  | Unclassifiable/Attainment.
Monroe County |  | Unclassifiable/Attainment.
Montgomery County |  | Unclassifiable/Attainment.
Moore County |  | Unclassifiable/Attainment.
Morgan County |  | Unclassifiable/Attainment.
Obion County |  | Unclassifiable/Attainment.
Overton County |  | Unclassifiable/Attainment.
Perry County |  | Unclassifiable/Attainment.
Pickett County |  | Unclassifiable/Attainment.
Polk County |  | Unclassifiable/Attainment.
Putnam County |  | Unclassifiable/Attainment.
Rhea County |  | Unclassifiable/Attainment.
Roane County (remainder) |  | Unclassifiable/Attainment.
Robertson County |  | Unclassifiable/Attainment.
Rutherford County |  | Unclassifiable/Attainment.
Scott County |  | Unclassifiable/Attainment.
Sequatchie County |  | Unclassifiable/Attainment.
Sevier County |  | Unclassifiable/Attainment.
Shelby County |  | Unclassifiable/Attainment.
Smith County |  | Unclassifiable/Attainment.
Stewart County |  | Unclassifiable/Attainment.
Sullivan County |  | Unclassifiable/Attainment.
Sumner County |  | Unclassifiable/Attainment.
Tipton County |  | Unclassifiable/Attainment.
Trousdale County |  | Unclassifiable/Attainment.
Unicoi County |  | Unclassifiable/Attainment.
Union County |  | Unclassifiable/Attainment.
Van Buren County |  | Unclassifiable/Attainment.
Warren County |  | Unclassifiable/Attainment.
Washington County |  | Unclassifiable/Attainment.
Wayne County |  | Unclassifiable/Attainment.
Weakley County |  | Unclassifiable/Attainment.
White County |  | Unclassifiable/Attainment.
Williamson County |  | Unclassifiable/Attainment.
Wilson County |  | Unclassifiable/Attainment.
ᵃ Includes Indian Country located in each county or area, except as otherwise specified.
¹ This date is 90 days after January 5, 2005, unless otherwise noted.
² This date is July 2, 2014, unless otherwise noted.

Tennessee—1997 24-Hour PM2.5 NAAQS
[Primary and secondary]
Designated area | Designation ᵃ: Date ¹ | Designation ᵃ: Type | Classification: Date | Classification: Type
Statewide:
Anderson County |  | Unclassifiable/Attainment.
Bedford County |  | Unclassifiable/Attainment.
Benton County |  | Unclassifiable/Attainment.
Bledsoe County |  | Unclassifiable/Attainment.
Blount County |  | Unclassifiable/Attainment.
Bradley County |  | Unclassifiable/Attainment.
Campbell County |  | Unclassifiable/Attainment.
Cannon County |  | Unclassifiable/Attainment.
Carroll County |  | Unclassifiable/Attainment.
Carter County |  | Unclassifiable/Attainment.
Cheatham County |  | Unclassifiable/Attainment.
Chester County |  | Unclassifiable/Attainment.
Claiborne County |  | Unclassifiable/Attainment.
Clay County |  | Unclassifiable/Attainment.
Cocke County |  | Unclassifiable/Attainment.
Coffee County |  | Unclassifiable/Attainment.
Crockett County |  | Unclassifiable/Attainment.
Cumberland County |  | Unclassifiable/Attainment.
Davidson County |  | Unclassifiable/Attainment.
Decatur County |  | Unclassifiable/Attainment.
DeKalb County |  | Unclassifiable/Attainment.
Dickson County |  | Unclassifiable/Attainment.
Dyer County |  | Unclassifiable/Attainment.
Fayette County |  | Unclassifiable/Attainment.
Fentress County |  | Unclassifiable/Attainment.
Franklin County |  | Unclassifiable/Attainment.
Gibson County |  | Unclassifiable/Attainment.
Giles County |  | Unclassifiable/Attainment.
Grainger County |  | Unclassifiable/Attainment.
Greene County |  | Unclassifiable/Attainment.
Grundy County |  | Unclassifiable/Attainment.
Hamblen County |  | Unclassifiable/Attainment.
Hamilton County |  | Unclassifiable/Attainment.
Hancock County |  | Unclassifiable/Attainment.
Hardeman County |  | Unclassifiable/Attainment.
Hardin County |  | Unclassifiable/Attainment.
Hawkins County |  | Unclassifiable/Attainment.
Haywood County |  | Unclassifiable/Attainment.
Henderson County |  | Unclassifiable/Attainment.
Henry County |  | Unclassifiable/Attainment.
Hickman County |  | Unclassifiable/Attainment.
Houston County |  | Unclassifiable/Attainment.
Humphreys County |  | Unclassifiable/Attainment.
Jackson County |  | Unclassifiable/Attainment.
Jefferson County |  | Unclassifiable/Attainment.
Johnson County |  | Unclassifiable/Attainment.
Knox County |  | Unclassifiable/Attainment.
Lake County |  | Unclassifiable/Attainment.
Lauderdale County |  | Unclassifiable/Attainment.
Lawrence County |  | Unclassifiable/Attainment.
Lewis County |  | Unclassifiable/Attainment.
Lincoln County |  | Unclassifiable/Attainment.
Loudon County |  | Unclassifiable/Attainment.
McMinn County |  | Unclassifiable/Attainment.
McNairy County |  | Unclassifiable/Attainment.
Macon County |  | Unclassifiable/Attainment.
Madison County |  | Unclassifiable/Attainment.
Marion County |  | Unclassifiable/Attainment.
Marshall County |  | Unclassifiable/Attainment.
Maury County |  | Unclassifiable/Attainment.
Meigs County |  | Unclassifiable/Attainment.
Monroe County |  | Unclassifiable/Attainment.
Montgomery County |  | Unclassifiable/Attainment.
Moore County |  | Unclassifiable/Attainment.
Morgan County |  | Unclassifiable/Attainment.
Obion County |  | Unclassifiable/Attainment.
Overton County |  | Unclassifiable/Attainment.
Perry County |  | Unclassifiable/Attainment.
Pickett County |  | Unclassifiable/Attainment.
Polk County |  | Unclassifiable/Attainment.
Putnam County |  | Unclassifiable/Attainment.
Rhea County |  | Unclassifiable/Attainment.
Roane County |  | Unclassifiable/Attainment.
The area described by U.S. Census 2000 block group identifier 47-145-0307-2.
Robertson County |  | Unclassifiable/Attainment.
Rutherford County |  | Unclassifiable/Attainment.
Scott County |  | Unclassifiable/Attainment.
Sequatchie County |  | Unclassifiable/Attainment.
Sevier County |  | Unclassifiable/Attainment.
Shelby County |  | Unclassifiable/Attainment.
Smith County |  | Unclassifiable/Attainment.
Stewart County |  | Unclassifiable/Attainment.
Sullivan County |  | Unclassifiable/Attainment.
Sumner County |  | Unclassifiable/Attainment.
Tipton County |  | Unclassifiable/Attainment.
Trousdale County |  | Unclassifiable/Attainment.
Unicoi County |  | Unclassifiable/Attainment.
Union County |  | Unclassifiable/Attainment.
Van Buren County |  | Unclassifiable/Attainment.
Warren County |  | Unclassifiable/Attainment.
Washington County |  | Unclassifiable/Attainment.
Wayne County |  | Unclassifiable/Attainment.
Weakley County |  | Unclassifiable/Attainment.
White County |  | Unclassifiable/Attainment.
Williamson County |  | Unclassifiable/Attainment.
Wilson County |  | Unclassifiable/Attainment.
ᵃ Includes Indian Country located in each county or area, except as otherwise specified.
¹ This date is 90 days after January 5, 2005, unless otherwise noted.

Tennessee—2006 24-Hour PM2.5 NAAQS
(Primary and secondary)
Designated area | Designation ᵃ: Date ¹ | Designation ᵃ: Type | Classification: Date ² | Classification: Type
Knoxville-Sevierville-La Follette, TN:
Anderson County |  | Nonattainment |  | Moderate.
Blount County |  | Nonattainment |  | Moderate.
Knox County |  | Nonattainment |  | Moderate.
Loudon County |  | Nonattainment |  | Moderate.
Roane County (part) |  | Nonattainment |  | Moderate.
The area described by U.S. Census 2000 block group identifier 47-145-0307-2.
Rest of State:
Bedford County |  | Unclassifiable/Attainment.
Benton County |  | Unclassifiable/Attainment.
Bledsoe County |  | Unclassifiable/Attainment.
Bradley County |  | Unclassifiable/Attainment.
Campbell County |  | Unclassifiable/Attainment.
Cannon County |  | Unclassifiable/Attainment.
Carroll County |  | Unclassifiable/Attainment.
Carter County |  | Unclassifiable/Attainment.
Cheatham County |  | Unclassifiable/Attainment.
Chester County |  | Unclassifiable/Attainment.
Claiborne County |  | Unclassifiable/Attainment.
Clay County |  | Unclassifiable/Attainment.
Cocke County |  | Unclassifiable/Attainment.
Coffee County |  | Unclassifiable/Attainment.
Crockett County |  | Unclassifiable/Attainment.
Cumberland County |  | Unclassifiable/Attainment.
Davidson County |  | Unclassifiable/Attainment.
Decatur County |  | Unclassifiable/Attainment.
DeKalb County |  | Unclassifiable/Attainment.
Dickson County |  | Unclassifiable/Attainment.
Dyer County |  | Unclassifiable/Attainment.
Fayette County |  | Unclassifiable/Attainment.
Fentress County |  | Unclassifiable/Attainment.
Franklin County |  | Unclassifiable/Attainment.
Gibson County |  | Unclassifiable/Attainment.
Giles County |  | Unclassifiable/Attainment.
Grainger County |  | Unclassifiable/Attainment.
Greene County |  | Unclassifiable/Attainment.
Grundy County |  | Unclassifiable/Attainment.
Hamblen County |  | Unclassifiable/Attainment.
Hamilton County |  | Unclassifiable/Attainment.
Hancock County |  | Unclassifiable/Attainment.
Hardeman County |  | Unclassifiable/Attainment.
Hardin County |  | Unclassifiable/Attainment.
Hawkins County |  | Unclassifiable/Attainment.
Haywood County |  | Unclassifiable/Attainment.
Henderson County |  | Unclassifiable/Attainment.
Henry County |  | Unclassifiable/Attainment.
Hickman County |  | Unclassifiable/Attainment.
Houston County |  | Unclassifiable/Attainment.
Humphreys County |  | Unclassifiable/Attainment.
Jackson County |  | Unclassifiable/Attainment.
Jefferson County |  | Unclassifiable/Attainment.
Johnson County |  | Unclassifiable/Attainment.
Lake County |  | Unclassifiable/Attainment.
Lauderdale County |  | Unclassifiable/Attainment.
Lawrence County |  | Unclassifiable/Attainment.
Lewis County |  | Unclassifiable/Attainment.
Lincoln County |  | Unclassifiable/Attainment.
McMinn County |  | Unclassifiable/Attainment.
McNairy County |  | Unclassifiable/Attainment.
Macon County |  | Unclassifiable/Attainment.
Madison County |  | Unclassifiable/Attainment.
Marion County |  | Unclassifiable/Attainment.
Marshall County |  | Unclassifiable/Attainment.
Maury County |  | Unclassifiable/Attainment.
Meigs County |  | Unclassifiable/Attainment.
Monroe County |  | Unclassifiable/Attainment.
Montgomery County |  | Unclassifiable/Attainment.
Moore County |  | Unclassifiable/Attainment.
Morgan County |  | Unclassifiable/Attainment.
Obion County |  | Unclassifiable/Attainment.
Overton County |  | Unclassifiable/Attainment.
Perry County |  | Unclassifiable/Attainment.
Pickett County |  | Unclassifiable/Attainment.
Polk County |  | Unclassifiable/Attainment.
Putnam County |  | Unclassifiable/Attainment.
Rhea County |  | Unclassifiable/Attainment.
Roane County (remainder) |  | Unclassifiable/Attainment.
Robertson County |  | Unclassifiable/Attainment.
Rutherford County |  | Unclassifiable/Attainment.
Scott County. |  | Unclassifiable/Attainment.
Sequatchie County |  | Unclassifiable/Attainment.
Sevier County |  | Unclassifiable/Attainment.
Shelby County |  | Unclassifiable/Attainment.
Smith County |  | Unclassifiable/Attainment.
Stewart County |  | Unclassifiable/Attainment.
Sullivan County |  | Unclassifiable/Attainment.
Sumner County |  | Unclassifiable/Attainment.
Tipton County |  | Unclassifiable/Attainment.
Trousdale County |  | Unclassifiable/Attainment.
Unicoi County |  | Unclassifiable/Attainment.
Union County |  | Unclassifiable/Attainment.
Van Buren County |  | Unclassifiable/Attainment.
Warren County |  | Unclassifiable/Attainment.
Washington County |  | Unclassifiable/Attainment.
Wayne County |  | Unclassifiable/Attainment.
Weakley County |  | Unclassifiable/Attainment.
White County |  | Unclassifiable/Attainment.
Williamson County |  | Unclassifiable/Attainment.
Wilson County |  | Unclassifiable/Attainment.
ᵃ Includes Indian Country located in each county or area, except as otherwise specified.
¹ This date is 30 days after November 13, 2009, unless otherwise noted.
² This date is July 2, 2014, unless otherwise noted.

* * * * *

45. Section 81.344 is amended as follows:

a. By removing the tables titled “Texas—PM2.5 (Annual NAAQS)” and “Texas—PM2.5 [24-hour NAAQS]”.

b. By adding three tables titled “Texas—1997 Annual PM2.5 NAAQS (Primary and Secondary)” and “Texas—1997 24-hour PM2.5 NAAQS (Primary and Secondary)” and “Texas—2006 24-hour PM2.5 NAAQS (Primary and Secondary)” before the table titled “Texas—NO2 (1971 Annual Standard)”.

The additions read as follows:

§ 81.344 Texas.

* * * * *

Texas—1997 Annual PM2.5 NAAQS
(Primary and secondary)
Designated area | Designation ᵃ: Date ¹ | Designation ᵃ: Type | Classification: Date | Classification: Type
AQCR 022 Shreveport-Texarkana-Tyler Interstate:
Anderson County |  | Unclassifiable/Attainment
Bowie County |  | Unclassifiable/Attainment
Camp County |  | Unclassifiable/Attainment
Cass County |  | Unclassifiable/Attainment
Cherokee County |  | Unclassifiable/Attainment
Delta County |  | Unclassifiable/Attainment
Franklin County |  | Unclassifiable/Attainment
Gregg County |  | Unclassifiable/Attainment
Harrison County |  | Unclassifiable/Attainment
Hopkins County |  | Unclassifiable/Attainment
Lamar County |  | Unclassifiable/Attainment
Marion County |  | Unclassifiable/Attainment
Morris County |  | Unclassifiable/Attainment
Panola County |  | Unclassifiable/Attainment
Rains County |  | Unclassifiable/Attainment
Red River County |  | Unclassifiable/Attainment
Rusk County |  | Unclassifiable/Attainment
Smith County |  | Unclassifiable/Attainment
Titus County |  | Unclassifiable/Attainment
Upshur County |  | Unclassifiable/Attainment
Van Zandt County |  | Unclassifiable/Attainment
Wood County |  | Unclassifiable/Attainment
AQCR 106 S Louisiana-SE Texas Interstate (remainder of):
Angelina County |  | Unclassifiable/Attainment
Houston County |  | Unclassifiable/Attainment
Jasper County |  | Unclassifiable/Attainment
Nacogdoches County |  | Unclassifiable/Attainment
Newton County |  | Unclassifiable/Attainment
Polk County |  | Unclassifiable/Attainment
Sabine County |  | Unclassifiable/Attainment
San Augustine County |  | Unclassifiable/Attainment
San Jacinto County |  | Unclassifiable/Attainment
Shelby County |  | Unclassifiable/Attainment
Trinity County |  | Unclassifiable/Attainment
Tyler County |  | Unclassifiable/Attainment
AQCR 153 El Paso-Las Cruces-Alamogordo Interstate:
Brewster County |  | Unclassifiable/Attainment
Culberson County |  | Unclassifiable/Attainment
El Paso County |  | Unclassifiable/Attainment
Hudspeth County |  | Unclassifiable/Attainment
Jeff Davis County |  | Unclassifiable/Attainment
Presidio County |  | Unclassifiable/Attainment
AQCR 210 Abilene-Wichita Falls Intrastate:
Archer County |  | Unclassifiable/Attainment
Baylor County |  | Unclassifiable/Attainment
Brown County |  | Unclassifiable/Attainment
Callahan County |  | Unclassifiable/Attainment
Clay County |  | Unclassifiable/Attainment
Coleman County |  | Unclassifiable/Attainment
Comanche County |  | Unclassifiable/Attainment
Cottle County |  | Unclassifiable/Attainment
Eastland County |  | Unclassifiable/Attainment
Fisher County |  | Unclassifiable/Attainment
Foard County |  | Unclassifiable/Attainment
Hardeman County |  | Unclassifiable/Attainment
Haskell County |  | Unclassifiable/Attainment
Jack County |  | Unclassifiable/Attainment
Jones County |  | Unclassifiable/Attainment
Kent County |  | Unclassifiable/Attainment
Knox County |  | Unclassifiable/Attainment
Mitchell County |  | Unclassifiable/Attainment
Montague County |  | Unclassifiable/Attainment
Nolan County |  | Unclassifiable/Attainment
Runnels County |  | Unclassifiable/Attainment
Scurry County |  | Unclassifiable/Attainment
Shackelford County |  | Unclassifiable/Attainment
Stephens County |  | Unclassifiable/Attainment
Stonewall County |  | Unclassifiable/Attainment
Taylor County |  | Unclassifiable/Attainment
Throckmorton County |  | Unclassifiable/Attainment
Wichita County |  | Unclassifiable/Attainment
Wilbarger County |  | Unclassifiable/Attainment
Young County |  | Unclassifiable/Attainment
AQCR 211 Amarillo-Lubbock Intrastate:
Armstrong County |  | Unclassifiable/Attainment
Bailey County |  | Unclassifiable/Attainment
Briscoe County |  | Unclassifiable/Attainment
Carson County |  | Unclassifiable/Attainment
Castro County |  | Unclassifiable/Attainment
Childress County |  | Unclassifiable/Attainment
Cochran County |  | Unclassifiable/Attainment
Collingsworth County |  | Unclassifiable/Attainment
Crosby County |  | Unclassifiable/Attainment
Dallam County |  | Unclassifiable/Attainment
Deaf Smith County |  | Unclassifiable/Attainment
Dickens County |  | Unclassifiable/Attainment
Donley County |  | Unclassifiable/Attainment
Floyd County |  | Unclassifiable/Attainment
Garza County |  | Unclassifiable/Attainment
Gray County |  | Unclassifiable/Attainment
Hale County |  | Unclassifiable/Attainment
Hall County |  | Unclassifiable/Attainment
Hansford County |  | Unclassifiable/Attainment
Hartley County |  | Unclassifiable/Attainment
Hemphill County |  | Unclassifiable/Attainment
Hockley County |  | Unclassifiable/Attainment
Hutchinson County |  | Unclassifiable/Attainment
King County |  | Unclassifiable/Attainment
Lamb County |  | Unclassifiable/Attainment
Lipscomb County |  | Unclassifiable/Attainment
Lubbock County |  | Unclassifiable/Attainment
Lynn County |  | Unclassifiable/Attainment
Moore County |  | Unclassifiable/Attainment
Motley County |  | Unclassifiable/Attainment
Ochiltree County |  | Unclassifiable/Attainment
Oldham County |  | Unclassifiable/Attainment
Parmer County |  | Unclassifiable/Attainment
Potter County |  | Unclassifiable/Attainment
Randall County |  | Unclassifiable/Attainment
Roberts County |  | Unclassifiable/Attainment
Sherman County |  | Unclassifiable/Attainment
Swisher County |  | Unclassifiable/Attainment
Terry County |  | Unclassifiable/Attainment
Wheeler County |  | Unclassifiable/Attainment
Yoakum County |  | Unclassifiable/Attainment
AQCR 212 Austin-Waco Intrastate:
Bastrop County |  | Unclassifiable/Attainment
Bell County |  | Unclassifiable/Attainment
Blanco County |  | Unclassifiable/Attainment
Bosque County |  | Unclassifiable/Attainment
Brazos County |  | Unclassifiable/Attainment
Burleson County |  | Unclassifiable/Attainment
Burnet County |  | Unclassifiable/Attainment
Caldwell County |  | Unclassifiable/Attainment
Coryell County |  | Unclassifiable/Attainment
Falls County |  | Unclassifiable/Attainment
Fayette County |  | Unclassifiable/Attainment
Freestone County |  | Unclassifiable/Attainment
Grimes County |  | Unclassifiable/Attainment
Hamilton County |  | Unclassifiable/Attainment
Hays County |  | Unclassifiable/Attainment
Hill County |  | Unclassifiable/Attainment
Lampasas County |  | Unclassifiable/Attainment
Lee County |  | Unclassifiable/Attainment
Leon County |  | Unclassifiable/Attainment
Limestone County |  | Unclassifiable/Attainment
Llano County |  | Unclassifiable/Attainment
McLennan County |  | Unclassifiable/Attainment
Madison County |  | Unclassifiable/Attainment
Milam County |  | Unclassifiable/Attainment
Mills County |  | Unclassifiable/Attainment
Robertson County |  | Unclassifiable/Attainment
San Saba County |  | Unclassifiable/Attainment
Travis County |  | Unclassifiable/Attainment
Washington County |  | Unclassifiable/Attainment
Williamson County |  | Unclassifiable/Attainment
AQCR 213 Brownsville-Laredo Intrastate:
Cameron County |  | Unclassifiable/Attainment
Hidalgo County |  | Unclassifiable/Attainment
Jim Hogg County |  | Unclassifiable/Attainment
Starr County |  | Unclassifiable/Attainment
Webb County |  | Unclassifiable/Attainment
Willacy County |  | Unclassifiable/Attainment
Zapata County |  | Unclassifiable/Attainment
AQCR 214 Corpus Christi-Victoria Intrastate (part):
Nueces County |  | Unclassifiable/Attainment
AQCR 214 Corpus Christi-Victoria Intrastate (remainder of):
Aransas County |  | Unclassifiable/Attainment
Bee County |  | Unclassifiable/Attainment
Brooks County |  | Unclassifiable/Attainment
Calhoun County |  | Unclassifiable/Attainment
DeWitt County |  | Unclassifiable/Attainment
Duval County |  | Unclassifiable/Attainment
Goliad County |  | Unclassifiable/Attainment
Gonzales County |  | Unclassifiable/Attainment
Jackson County |  | Unclassifiable/Attainment
Jim Wells County |  | Unclassifiable/Attainment
Kenedy County |  | Unclassifiable/Attainment
Kleberg County |  | Unclassifiable/Attainment
Lavaca County |  | Unclassifiable/Attainment
Live Oak County |  | Unclassifiable/Attainment
McMullen County |  | Unclassifiable/Attainment
Refugio County |  | Unclassifiable/Attainment
San Patricio County |  | Unclassifiable/Attainment
AQCR 215 Metro Dallas-Fort Worth Intrastate (remainder of):
Cooke County |  | Unclassifiable/Attainment
Erath County |  | Unclassifiable/Attainment
Fannin County |  | Unclassifiable/Attainment
Grayson County |  | Unclassifiable/Attainment
Henderson County |  | Unclassifiable/Attainment
Hood County |  | Unclassifiable/Attainment
Hunt County |  | Unclassifiable/Attainment
Navarro County |  | Unclassifiable/Attainment
Palo Pinto County |  | Unclassifiable/Attainment
Somervell County |  | Unclassifiable/Attainment
Wise County |  | Unclassifiable/Attainment
AQCR 216 Metro Houston-Galveston Intrastate (remainder of):
Austin County |  | Unclassifiable/Attainment
Colorado County |  | Unclassifiable/Attainment
Matagorda County |  | Unclassifiable/Attainment
Walker County |  | Unclassifiable/Attainment
Wharton County |  | Unclassifiable/Attainment
AQCR 217 Metro San Antonio Intrastate (remainder of):
Atascosa County |  | Unclassifiable/Attainment
Bandera County |  | Unclassifiable/Attainment
Dimmit County |  | Unclassifiable/Attainment
Edwards County |  | Unclassifiable/Attainment
Frio County |  | Unclassifiable/Attainment
Gillespie County |  | Unclassifiable/Attainment
Karnes County |  | Unclassifiable/Attainment
Kendall County |  | Unclassifiable/Attainment
Kerr County |  | Unclassifiable/Attainment
Kinney County |  | Unclassifiable/Attainment
La Salle County |  | Unclassifiable/Attainment
Maverick County |  | Unclassifiable/Attainment
Medina County |  | Unclassifiable/Attainment
Real County |  | Unclassifiable/Attainment
Uvalde County |  | Unclassifiable/Attainment
Val Verde County |  | Unclassifiable/Attainment
Wilson County |  | Unclassifiable/Attainment
Zavala County |  | Unclassifiable/Attainment
AQCR 218 Midland-Odessa-San Angelo Intrastate (part):
Ector County |  | Unclassifiable/Attainment
AQCR 218 Midland-Odessa-San Angelo Intrastate (remainder of):
Andrews County |  | Unclassifiable/Attainment
Borden County |  | Unclassifiable/Attainment
Coke County |  | Unclassifiable/Attainment
Concho County |  | Unclassifiable/Attainment
Crane County |  | Unclassifiable/Attainment
Crockett County |  | Unclassifiable/Attainment
Dawson County |  | Unclassifiable/Attainment
Gaines County |  | Unclassifiable/Attainment
Glasscock County |  | Unclassifiable/Attainment
Howard County |  | Unclassifiable/Attainment
Irion County |  | Unclassifiable/Attainment
Kimble County |  | Unclassifiable/Attainment
Loving County |  | Unclassifiable/Attainment
McCulloch County |  | Unclassifiable/Attainment
Martin County |  | Unclassifiable/Attainment
Mason County |  | Unclassifiable/Attainment
Menard County |  | Unclassifiable/Attainment
Midland County |  | Unclassifiable/Attainment
Pecos County |  | Unclassifiable/Attainment
Reagan County |  | Unclassifiable/Attainment
Reeves County |  | Unclassifiable/Attainment
Schleicher County |  | Unclassifiable/Attainment
Sterling County |  | Unclassifiable/Attainment
Sutton County |  | Unclassifiable/Attainment
Terrell County |  | Unclassifiable/Attainment
Tom Green County |  | Unclassifiable/Attainment
Upton County |  | Unclassifiable/Attainment
Ward County |  | Unclassifiable/Attainment
Winkler County |  | Unclassifiable/Attainment
Beaumont/Port Arthur, TX:
Hardin County |  | Unclassifiable/Attainment
Jefferson County |  | Unclassifiable/Attainment
Orange County |  | Unclassifiable/Attainment
Dallas-Fort Worth, TX:
Collin County |  | Unclassifiable/Attainment
Dallas County |  | Unclassifiable/Attainment
Denton County |  | Unclassifiable/Attainment
Ellis County |  | Unclassifiable/Attainment
Johnson County |  | Unclassifiable/Attainment
Kaufman County |  | Unclassifiable/Attainment
Parker County |  | Unclassifiable/Attainment
Rockwall County |  | Unclassifiable/Attainment
Tarrant County |  | Unclassifiable/Attainment
Houston-Galveston-Brazoria, TX:
Brazoria County |  | Unclassifiable/Attainment
Chambers County |  | Unclassifiable/Attainment
Fort Bend County |  | Unclassifiable/Attainment
Galveston County |  | Unclassifiable/Attainment
Harris County |  | Unclassifiable/Attainment
Liberty County |  | Unclassifiable/Attainment
Montgomery County |  | Unclassifiable/Attainment
Waller County |  | Unclassifiable/Attainment
San Antonio, TX:
Bexar County |  | Unclassifiable/Attainment
Comal County |  | Unclassifiable/Attainment
Guadalupe County |  | Unclassifiable/Attainment
Victoria Area:
Victoria County |  | Unclassifiable/Attainment
ᵃ Includes Indian Country located in each county or area, except as otherwise specified.
¹ This date is 90 days after January 5, 2005, unless otherwise noted.

Texas—1997 Annual 24-Hour PM2.5 NAAQS
[Primary and secondary]
Designated area | Designation ᵃ: Date ¹ | Designation ᵃ: Type | Classification: Date | Classification: Type
AQCR 022 Shreveport-Texarkana-Tyler Interstate:
Anderson County |  | Unclassifiable/Attainment
Bowie County |  | Unclassifiable/Attainment
Camp County |  | Unclassifiable/Attainment
Cass County |  | Unclassifiable/Attainment
Cherokee County |  | Unclassifiable/Attainment
Delta County |  | Unclassifiable/Attainment
Franklin County |  | Unclassifiable/Attainment
Gregg County |  | Unclassifiable/Attainment
Harrison County |  | Unclassifiable/Attainment
Hopkins County |  | Unclassifiable/Attainment
Lamar County |  | Unclassifiable/Attainment
Marion County |  | Unclassifiable/Attainment
Morris County |  | Unclassifiable/Attainment
Panola County |  | Unclassifiable/Attainment
Rains County |  | Unclassifiable/Attainment
Red River County |  | Unclassifiable/Attainment
Rusk County |  | Unclassifiable/Attainment
Smith County |  | Unclassifiable/Attainment
Titus County |  | Unclassifiable/Attainment
Upshur County |  | Unclassifiable/Attainment
Van Zandt County |  | Unclassifiable/Attainment
Wood County |  | Unclassifiable/Attainment
AQCR 106 S Louisiana-SE Texas Interstate (remainder of):
Angelina County |  | Unclassifiable/Attainment
Houston County |  | Unclassifiable/Attainment
Jasper County |  | Unclassifiable/Attainment
Nacogdoches County |  | Unclassifiable/Attainment
Newton County |  | Unclassifiable/Attainment
Polk County |  | Unclassifiable/Attainment
Sabine County |  | Unclassifiable/Attainment
San Augustine County |  | Unclassifiable/Attainment
San Jacinto County |  | Unclassifiable/Attainment
Shelby County |  | Unclassifiable/Attainment
Trinity County |  | Unclassifiable/Attainment
Tyler County |  | Unclassifiable/Attainment
AQCR 153 El Paso-Las Cruces-Alamogordo Interstate:
Brewster County |  | Unclassifiable/Attainment
Culberson County |  | Unclassifiable/Attainment
El Paso County |  | Unclassifiable/Attainment
Hudspeth County |  | Unclassifiable/Attainment
Jeff Davis County |  | Unclassifiable/Attainment
Presidio County |  | Unclassifiable/Attainment
AQCR 210 Abilene-Wichita Falls Intrastate:
Archer County |  | Unclassifiable/Attainment
Baylor County |  | Unclassifiable/Attainment
Brown County |  | Unclassifiable/Attainment
Callahan County |  | Unclassifiable/Attainment
Clay County |  | Unclassifiable/Attainment
Coleman County |  | Unclassifiable/Attainment
Comanche County |  | Unclassifiable/Attainment
Cottle County |  | Unclassifiable/Attainment
Eastland County |  | Unclassifiable/Attainment
Fisher County |  | Unclassifiable/Attainment
Foard County |  | Unclassifiable/Attainment
Hardeman County |  | Unclassifiable/Attainment
Haskell County |  | Unclassifiable/Attainment
Jack County |  | Unclassifiable/Attainment
Jones County |  | Unclassifiable/Attainment
Kent County |  | Unclassifiable/Attainment
Knox County |  | Unclassifiable/Attainment
Mitchell County |  | Unclassifiable/Attainment
Montague County |  | Unclassifiable/Attainment
Nolan County |  | Unclassifiable/Attainment
Runnels County |  | Unclassifiable/Attainment
Scurry County |  | Unclassifiable/Attainment
Shackelford County |  | Unclassifiable/Attainment
Stephens County |  | Unclassifiable/Attainment
Stonewall County |  | Unclassifiable/Attainment
Taylor County |  | Unclassifiable/Attainment
Throckmorton County |  | Unclassifiable/Attainment
Wichita County |  | Unclassifiable/Attainment
Wilbarger County |  | Unclassifiable/Attainment
Young County |  | Unclassifiable/Attainment
AQCR 211 Amarillo-Lubbock Intrastate:
Armstrong County |  | Unclassifiable/Attainment
Bailey County |  | Unclassifiable/Attainment
Briscoe County |  | Unclassifiable/Attainment
Carson County |  | Unclassifiable/Attainment
Castro County |  | Unclassifiable/Attainment
Childress County |  | Unclassifiable/Attainment
Cochran County |  | Unclassifiable/Attainment
Collingsworth County |  | Unclassifiable/Attainment
Crosby County |  | Unclassifiable/Attainment
Dallam County |  | Unclassifiable/Attainment
Deaf Smith County |  | Unclassifiable/Attainment
Dickens County |  | Unclassifiable/Attainment
Donley County |  | Unclassifiable/Attainment
Floyd County |  | Unclassifiable/Attainment
Garza County |  | Unclassifiable/Attainment
Gray County |  | Unclassifiable/Attainment
Hale County |  | Unclassifiable/Attainment
Hall County |  | Unclassifiable/Attainment
Hansford County |  | Unclassifiable/Attainment
Hartley County |  | Unclassifiable/Attainment
Hemphill County |  | Unclassifiable/Attainment
Hockley County |  | Unclassifiable/Attainment
Hutchinson County |  | Unclassifiable/Attainment
King County |  | Unclassifiable/Attainment
Lamb County |  | Unclassifiable/Attainment
Lipscomb County |  | Unclassifiable/Attainment
Lubbock County |  | Unclassifiable/Attainment
Lynn County |  | Unclassifiable/Attainment
Moore County |  | Unclassifiable/Attainment
Motley County |  | Unclassifiable/Attainment
Ochiltree County |  | Unclassifiable/Attainment
Oldham County |  | Unclassifiable/Attainment
Parmer County |  | Unclassifiable/Attainment
Potter County |  | Unclassifiable/Attainment
Randall County |  | Unclassifiable/Attainment
Roberts County |  | Unclassifiable/Attainment
Sherman County |  | Unclassifiable/Attainment
Swisher County |  | Unclassifiable/Attainment
Terry County |  | Unclassifiable/Attainment
Wheeler County |  | Unclassifiable/Attainment
Yoakum County |  | Unclassifiable/Attainment
AQCR 212 Austin-Waco Intrastate:
Bastrop County |  | Unclassifiable/Attainment
Bell County |  | Unclassifiable/Attainment
Blanco County |  | Unclassifiable/Attainment
Bosque County |  | Unclassifiable/Attainment
Brazoe County |  | Unclassifiable/Attainment
Burleson County |  | Unclassifiable/Attainment
Burnet County |  | Unclassifiable/Attainment
Caldwell County |  | Unclassifiable/Attainment
Coryell County |  | Unclassifiable/Attainment
Falls County |  | Unclassifiable/Attainment
Fayette County |  | Unclassifiable/Attainment
Freestone County |  | Unclassifiable/Attainment
Grimes County |  | Unclassifiable/Attainment
Hamilton County |  | Unclassifiable/Attainment
Hays County |  | Unclassifiable/Attainment
Hill County |  | Unclassifiable/Attainment
Lampasas County |  | Unclassifiable/Attainment
Lee County |  | Unclassifiable/Attainment
Leon County |  | Unclassifiable/Attainment
Limestone County |  | Unclassifiable/Attainment
Llano County |  | Unclassifiable/Attainment
McLennan County |  | Unclassifiable/Attainment
Madison County |  | Unclassifiable/Attainment
Milam County |  | Unclassifiable/Attainment
Mills County |  | Unclassifiable/Attainment
Robertson County |  | Unclassifiable/Attainment
San Saba County |  | Unclassifiable/Attainment
Travis County |  | Unclassifiable/Attainment
Washington County |  | Unclassifiable/Attainment
Williamson County |  | Unclassifiable/Attainment
AQCR 213 Brownsville-Laredo Intrastate:
Cameron County |  | Unclassifiable/Attainment
Hidalgo County |  | Unclassifiable/Attainment
Jim Hogg County |  | Unclassifiable/Attainment
Starr County |  | Unclassifiable/Attainment
Webb County |  | Unclassifiable/Attainment
Willacy County |  | Unclassifiable/Attainment
Zapata County |  | Unclassifiable/Attainment
AQCR 214 Corpus Christi-Victoria Intrastate (part):
Nueces County |  | Unclassifiable/Attainment
AQCR 214 Corpus Christi-Victoria Intrastate (remainder of):
Aransas County |  | Unclassifiable/Attainment
Bee County |  | Unclassifiable/Attainment
Brooks County |  | Unclassifiable/Attainment
Calhoun County |  | Unclassifiable/Attainment
DeWitt County |  | Unclassifiable/Attainment
Duval County |  | Unclassifiable/Attainment
Goliad County |  | Unclassifiable/Attainment
Gonzales County |  | Unclassifiable/Attainment
Jackson County |  | Unclassifiable/Attainment
Jim Wells County |  | Unclassifiable/Attainment
Kenedy County |  | Unclassifiable/Attainment
Kleberg County |  | Unclassifiable/Attainment
Lavaca County |  | Unclassifiable/Attainment
Live Oak County |  | Unclassifiable/Attainment
McMullen County |  | Unclassifiable/Attainment
Refugio County |  | Unclassifiable/Attainment
San Patricio County |  | Unclassifiable/Attainment
AQCR 215 Metro Dallas-Fort Worth Intrastate (remainder of):
Cooke County |  | Unclassifiable/Attainment
Erath County |  | Unclassifiable/Attainment
Fannin County |  | Unclassifiable/Attainment
Grayson County |  | Unclassifiable/Attainment
Henderson County |  | Unclassifiable/Attainment
Hood County |  | Unclassifiable/Attainment
Hunt County |  | Unclassifiable/Attainment
Navarro County |  | Unclassifiable/Attainment
Palo Pinto County |  | Unclassifiable/Attainment
Somervell County |  | Unclassifiable/Attainment
Wise County |  | Unclassifiable/Attainment
AQCR 216 Metro Houston-Galveston Intrastate (remainder of):
Austin County |  | Unclassifiable/Attainment
Colorado County |  | Unclassifiable/Attainment
Matagorda County |  | Unclassifiable/Attainment
Walker County |  | Unclassifiable/Attainment
Wharton County |  | Unclassifiable/Attainment
AQCR 217 Metro San Antonio Intrastate (remainder of):
Atascosa County |  | Unclassifiable/Attainment
Bandera County |  | Unclassifiable/Attainment
Dimmit County |  | Unclassifiable/Attainment
Edwards County |  | Unclassifiable/Attainment
Frio County |  | Unclassifiable/Attainment
Gillespie County |  | Unclassifiable/Attainment
Karnes County |  | Unclassifiable/Attainment
Kendall County |  | Unclassifiable/Attainment
Kerr County |  | Unclassifiable/Attainment
Kinney County |  | Unclassifiable/Attainment
La Salle County |  | Unclassifiable/Attainment
Maverick County |  | Unclassifiable/Attainment
Medina County |  | Unclassifiable/Attainment
Real County |  | Unclassifiable/Attainment
Uvalde County |  | Unclassifiable/Attainment
Val Verde County |  | Unclassifiable/Attainment
Wilson County |  | Unclassifiable/Attainment
Zavala County |  | Unclassifiable/Attainment
AQCR 218 Midland-Odessa-San Angelo Intrastate (part):
Ector County |  | Unclassifiable/Attainment
AQCR 218 Midland-Odessa-San Angelo Intrastate (remainder of):
Andrews County |  | Unclassifiable/Attainment
Borden County |  | Unclassifiable/Attainment
Coke County |  | Unclassifiable/Attainment
Concho County |  | Unclassifiable/Attainment
Crane County |  | Unclassifiable/Attainment
Crockett County |  | Unclassifiable/Attainment
Dawson County |  | Unclassifiable/Attainment
Gaines County |  | Unclassifiable/Attainment
Glasscock County |  | Unclassifiable/Attainment
Howard County |  | Unclassifiable/Attainment
Irion County |  | Unclassifiable/Attainment
Kimble County |  | Unclassifiable/Attainment
Loving County |  | Unclassifiable/Attainment
McCulloch County |  | Unclassifiable/Attainment
Martin County |  | Unclassifiable/Attainment
Mason County |  | Unclassifiable/Attainment
Menard County |  | Unclassifiable/Attainment
Midland County |  | Unclassifiable/Attainment
Pecos County |  | Unclassifiable/Attainment
Reagan County |  | Unclassifiable/Attainment
Reeves County |  | Unclassifiable/Attainment
Schleicher County |  | Unclassifiable/Attainment
Sterling County |  | Unclassifiable/Attainment
Sutton County |  | Unclassifiable/Attainment
Terrell County |  | Unclassifiable/Attainment
Tom Green County |  | Unclassifiable/Attainment
Upton County |  | Unclassifiable/Attainment
Ward County |  | Unclassifiable/Attainment
Winkler County |  | Unclassifiable/Attainment
Beaumont/Port Arthur, TX:
Hardin County |  | Unclassifiable/Attainment
Jefferson County |  | Unclassifiable/Attainment
Orange County |  | Unclassifiable/Attainment
Dallas-Fort Worth, TX:
Collin County |  | Unclassifiable/Attainment
Dallas County |  | Unclassifiable/Attainment
Denton County |  | Unclassifiable/Attainment
Ellis County |  | Unclassifiable/Attainment
Johnson County |  | Unclassifiable/Attainment
Kaufman County |  | Unclassifiable/Attainment
Parker County |  | Unclassifiable/Attainment
Rockwell County |  | Unclassifiable/Attainment
Tarrant County |  | Unclassifiable/Attainment
Houston-Galveston-Brazoria, TX:
Brazoria County |  | Unclassifiable/Attainment
Chambers County |  | Unclassifiable/Attainment
Fort Bend County |  | Unclassifiable/Attainment
Galveston County |  | Unclassifiable/Attainment
Harris County |  | Unclassifiable/Attainment
Liberty County |  | Unclassifiable/Attainment
Montgomery County |  | Unclassifiable/Attainment
Waller County |  | Unclassifiable/Attainment
San Antonio, TX:
Bexar County |  | Unclassifiable/Attainment
Comal County |  | Unclassifiable/Attainment
Guadalupe County |  | Unclassifiable/Attainment
Victoria Area:
Victoria County |  | Unclassifiable/Attainment
ᵃ Includes Indian Country located in each county or area, except as otherwise specified.
¹ This date is 90 days after January 5, 2005, unless otherwise noted.

Texas—2006 24-Hour PM2.5 NAAQS
[Primary and secondary]
Designated area | Designation ᵃ: Date ¹ | Designation ᵃ: Type | Classification: Date | Classification: Type
AQCR 022 Shreveport-Texarkana-Tyler Interstate:
Anderson County |  | Unclassifiable/Attainment.
Bowie County |  | Unclassifiable/Attainment.
Camp County |  | Unclassifiable/Attainment.
Cass County |  | Unclassifiable/Attainment.
Cherokee County |  | Unclassifiable/Attainment.
Delta County |  | Unclassifiable/Attainment.
Franklin County |  | Unclassifiable/Attainment.
Gregg County |  | Unclassifiable/Attainment.
Harrison County |  | Unclassifiable/Attainment.
Hopkins County |  | Unclassifiable/Attainment.
Lamar County |  | Unclassifiable/Attainment.
Marion County |  | Unclassifiable/Attainment.
Morris County |  | Unclassifiable/Attainment.
Panola County |  | Unclassifiable/Attainment.
Rains County |  | Unclassifiable/Attainment.
Red River County |  | Unclassifiable/Attainment.
Rusk County |  | Unclassifiable/Attainment.
Smith County |  | Unclassifiable/Attainment.
Titus County |  | Unclassifiable/Attainment.
Upshur County |  | Unclassifiable/Attainment.
Van Zandt County |  | Unclassifiable/Attainment.
Wood County |  | Unclassifiable/Attainment.
AQCR 106 S Louisiana-SE Texas Interstate (remainder of):
Angelina County |  | Unclassifiable/Attainment.
Houston County |  | Unclassifiable/Attainment.
Jasper County |  | Unclassifiable/Attainment.
Nacogdoches County |  | Unclassifiable/Attainment.
Newton County |  | Unclassifiable/Attainment.
Polk County |  | Unclassifiable/Attainment.
Sabine County |  | Unclassifiable/Attainment.
San Augustine County |  | Unclassifiable/Attainment.
San Jacinto County |  | Unclassifiable/Attainment.
Shelby County |  | Unclassifiable/Attainment.
Trinity County |  | Unclassifiable/Attainment.
Tyler County |  | Unclassifiable/Attainment.
AQCR 153 El Paso-Las Cruces-Alamogordo Interstate:
Brewster County |  | Unclassifiable/Attainment.
Culberson County |  | Unclassifiable/Attainment.
El Paso County |  | Unclassifiable/Attainment.
Hudspeth County |  | Unclassifiable/Attainment.
Jeff Davis County |  | Unclassifiable/Attainment.
Presidio County |  | Unclassifiable/Attainment.
AQCR 210 Abilene-Wichita Falls Intrastate:
Archer County |  | Unclassifiable/Attainment.
Baylor County |  | Unclassifiable/Attainment.
Brown County |  | Unclassifiable/Attainment.
Callahan County |  | Unclassifiable/Attainment.
Clay County |  | Unclassifiable/Attainment.
Coleman County |  | Unclassifiable/Attainment.
Comanche County |  | Unclassifiable/Attainment.
Cottle County |  | Unclassifiable/Attainment.
Eastland County |  | Unclassifiable/Attainment.
Fisher County |  | Unclassifiable/Attainment.
Foard County |  | Unclassifiable/Attainment.
Hardeman County |  | Unclassifiable/Attainment.
Haskell County |  | Unclassifiable/Attainment.
Jack County |  | Unclassifiable/Attainment.
Jones County |  | Unclassifiable/Attainment.
Kent County |  | Unclassifiable/Attainment.
Knox County |  | Unclassifiable/Attainment.
Mitchell County |  | Unclassifiable/Attainment.
Montague County |  | Unclassifiable/Attainment.
Nolan County |  | Unclassifiable/Attainment.
Runnels County |  | Unclassifiable/Attainment.
Scurry County |  | Unclassifiable/Attainment.
Shackelford County |  | Unclassifiable/Attainment.
Stephens County |  | Unclassifiable/Attainment.
Stonewall County |  | Unclassifiable/Attainment.
Taylor County |  | Unclassifiable/Attainment.
Throckmorton County |  | Unclassifiable/Attainment.
Wichita County |  | Unclassifiable/Attainment.
Wilbarger County |  | Unclassifiable/Attainment.
Young County |  | Unclassifiable/Attainment.
AQCR 211 Amarillo-Lubbock Intrastate:
Armstrong County |  | Unclassifiable/Attainment.
Bailey County |  | Unclassifiable/Attainment.
Briscoe County |  | Unclassifiable/Attainment.
Carson County |  | Unclassifiable/Attainment.
Castro County |  | Unclassifiable/Attainment.
Childress County |  | Unclassifiable/Attainment.
Cochran County |  | Unclassifiable/Attainment.
Collingsworth County |  | Unclassifiable/Attainment.
Crosby County |  | Unclassifiable/Attainment.
Dallam County |  | Unclassifiable/Attainment.
Deaf Smith County |  | Unclassifiable/Attainment.
Dickens County |  | Unclassifiable/Attainment.
Donley County |  | Unclassifiable/Attainment.
Floyd County |  | Unclassifiable/Attainment.
Garza County |  | Unclassifiable/Attainment.
Gray County |  | Unclassifiable/Attainment.
Hale County |  | Unclassifiable/Attainment.
Hall County |  | Unclassifiable/Attainment.
Hansford County |  | Unclassifiable/Attainment.
Hartley County |  | Unclassifiable/Attainment.
Hemphill County |  | Unclassifiable/Attainment.
Hockley County |  | Unclassifiable/Attainment.
Hutchinson County |  | Unclassifiable/Attainment.
King County |  | Unclassifiable/Attainment.
Lamb County |  | Unclassifiable/Attainment.
Lipscomb County |  | Unclassifiable/Attainment.
Lubbock County |  | Unclassifiable/Attainment.
Lynn County |  | Unclassifiable/Attainment.
Moore County |  | Unclassifiable/Attainment.
Motley County |  | Unclassifiable/Attainment.
Ochiltree County |  | Unclassifiable/Attainment.
Oldham County |  | Unclassifiable/Attainment.
Parmer County |  | Unclassifiable/Attainment.
Potter County |  | Unclassifiable/Attainment.
Randall County |  | Unclassifiable/Attainment.
Roberts County |  | Unclassifiable/Attainment.
Sherman County |  | Unclassifiable/Attainment.
Swisher County |  | Unclassifiable/Attainment.
Terry County |  | Unclassifiable/Attainment.
Wheeler County |  | Unclassifiable/Attainment.
Yoakum County |  | Unclassifiable/Attainment.
AQCR 212 Austin-Waco Intrastate:
Bastrop County |  | Unclassifiable/Attainment.
Bell County |  | Unclassifiable/Attainment.
Blanco County |  | Unclassifiable/Attainment.
Bosque County |  | Unclassifiable/Attainment.
Brazoe County |  | Unclassifiable/Attainment.
Burleson County |  | Unclassifiable/Attainment.
Burnet County |  | Unclassifiable/Attainment.
Caldwell County |  | Unclassifiable/Attainment.
Coryell County |  | Unclassifiable/Attainment.
Falls County |  | Unclassifiable/Attainment.
Fayette County |  | Unclassifiable/Attainment.
Freestone County |  | Unclassifiable/Attainment.
Grimes County |  | Unclassifiable/Attainment.
Hamilton County |  | Unclassifiable/Attainment.
Hays County |  | Unclassifiable/Attainment.
Hill County |  | Unclassifiable/Attainment.
Lampasas County |  | Unclassifiable/Attainment.
Lee County |  | Unclassifiable/Attainment.
Leon County |  | Unclassifiable/Attainment.
Limestone County |  | Unclassifiable/Attainment.
Llano County |  | Unclassifiable/Attainment.
McLennan County |  | Unclassifiable/Attainment.
Madison County |  | Unclassifiable/Attainment.
Milam County |  | Unclassifiable/Attainment.
Mills County |  | Unclassifiable/Attainment.
Robertson County |  | Unclassifiable/Attainment.
San Saba County |  | Unclassifiable/Attainment.
Travis County |  | Unclassifiable/Attainment.
Washington County |  | Unclassifiable/Attainment.
Williamson County |  | Unclassifiable/Attainment.
AQCR 213 Brownsville-Laredo Intrastate:
Cameron County |  | Unclassifiable/Attainment.
Hidalgo County |  | Unclassifiable/Attainment.
Jim Hogg County |  | Unclassifiable/Attainment.
Starr County |  | Unclassifiable/Attainment.
Webb County |  | Unclassifiable/Attainment.
Willacy County |  | Unclassifiable/Attainment.
Zapata County |  | Unclassifiable/Attainment.
AQCR 214 Corpus Christi-Victoria Intrastate (part):
Nueces County |  | Unclassifiable/Attainment.
AQCR 214 Corpus Christi-Victoria Intrastate (remainder of):
Aransas County |  | Unclassifiable/Attainment.
Bee County |  | Unclassifiable/Attainment.
Brooks County |  | Unclassifiable/Attainment.
Calhoun County |  | Unclassifiable/Attainment.
DeWitt County |  | Unclassifiable/Attainment.
Duval County |  | Unclassifiable/Attainment.
Goliad County |  | Unclassifiable/Attainment.
Gonzales County |  | Unclassifiable/Attainment.
Jackson County |  | Unclassifiable/Attainment.
Jim Wells County |  | Unclassifiable/Attainment.
Kenedy County |  | Unclassifiable/Attainment.
Kleberg County |  | Unclassifiable/Attainment.
Lavaca County |  | Unclassifiable/Attainment.
Live Oak County |  | Unclassifiable/Attainment.
McMullen County |  | Unclassifiable/Attainment.
Refugio County |  | Unclassifiable/Attainment.
San Patricio County |  | Unclassifiable/Attainment.
AQCR 215 Metro Dallas-Fort Worth Intrastate (remainder of):
Cooke County |  | Unclassifiable/Attainment.
Erath County |  | Unclassifiable/Attainment.
Fannin County |  | Unclassifiable/Attainment.
Grayson County |  | Unclassifiable/Attainment.
Henderson County |  | Unclassifiable/Attainment.
Hood County |  | Unclassifiable/Attainment.
Hunt County |  | Unclassifiable/Attainment.
Navarro County |  | Unclassifiable/Attainment.
Palo Pinto County |  | Unclassifiable/Attainment.
Somervell County |  | Unclassifiable/Attainment.
Wise County |  | Unclassifiable/Attainment.
AQCR 216 Metro Houston-Galveston Intrastate (remainder of):
Austin County |  | Unclassifiable/Attainment.
Colorado County |  | Unclassifiable/Attainment.
Matagorda County |  | Unclassifiable/Attainment.
Walker County |  | Unclassifiable/Attainment.
Wharton County |  | Unclassifiable/Attainment.
AQCR 217 Metro San Antonio Intrastate (remainder of):
Atascosa County |  | Unclassifiable/Attainment.
Bandera County |  | Unclassifiable/Attainment.
Dimmit County |  | Unclassifiable/Attainment.
Edwards County |  | Unclassifiable/Attainment.
Frio County |  | Unclassifiable/Attainment.
Gillespie County |  | Unclassifiable/Attainment.
Karnes County |  | Unclassifiable/Attainment.
Kendall County |  | Unclassifiable/Attainment.
Kerr County |  | Unclassifiable/Attainment.
Kinney County |  | Unclassifiable/Attainment.
La Salle County |  | Unclassifiable/Attainment.
Maverick County |  | Unclassifiable/Attainment.
Medina County |  | Unclassifiable/Attainment.
Real County |  | Unclassifiable/Attainment.
Uvalde County |  | Unclassifiable/Attainment.
Val Verde County |  | Unclassifiable/Attainment.
Wilson County |  | Unclassifiable/Attainment.
Zavala County |  | Unclassifiable/Attainment.
AQCR 218 Midland-Odessa-San Angelo Intrastate (part):
Ector County |  | Unclassifiable/Attainment.
AQCR 218 Midland-Odessa-San Angelo Intrastate (remainder of):
Andrews County |  | Unclassifiable/Attainment.
Borden County |  | Unclassifiable/Attainment.
Coke County |  | Unclassifiable/Attainment.
Concho County |  | Unclassifiable/Attainment.
Crane County |  | Unclassifiable/Attainment.
Crockett County |  | Unclassifiable/Attainment.
Dawson County |  | Unclassifiable/Attainment.
Gaines County |  | Unclassifiable/Attainment.
Glasscock County |  | Unclassifiable/Attainment.
Howard County |  | Unclassifiable/Attainment.
Irion County |  | Unclassifiable/Attainment.
Kimble County |  | Unclassifiable/Attainment.
Loving County |  | Unclassifiable/Attainment.
McCulloch County |  | Unclassifiable/Attainment.
Martin County |  | Unclassifiable/Attainment.
Mason County |  | Unclassifiable/Attainment.
Menard County |  | Unclassifiable/Attainment.
Midland County |  | Unclassifiable/Attainment.
Pecos County |  | Unclassifiable/Attainment.
Reagan County |  | Unclassifiable/Attainment.
Reeves County |  | Unclassifiable/Attainment.
Schleicher County |  | Unclassifiable/Attainment.
Sterling County |  | Unclassifiable/Attainment.
Sutton County |  | Unclassifiable/Attainment.
Terrell County |  | Unclassifiable/Attainment.
Tom Green County |  | Unclassifiable/Attainment.
Upton County |  | Unclassifiable/Attainment.
Ward County |  | Unclassifiable/Attainment.
Winkler County |  | Unclassifiable/Attainment.
Beaumont/Port Arthur, TX:
Hardin County |  | Unclassifiable/Attainment.
Jefferson County |  | Unclassifiable/Attainment.
Orange County |  | Unclassifiable/Attainment.
Dallas-Fort Worth, TX:
Collin County |  | Unclassifiable/Attainment.
Dallas County |  | Unclassifiable/Attainment.
Denton County |  | Unclassifiable/Attainment.
Ellis County |  | Unclassifiable/Attainment.
Johnson County |  | Unclassifiable/Attainment.
Kaufman County |  | Unclassifiable/Attainment.
Parker County |  | Unclassifiable/Attainment.
Rockwell County |  | Unclassifiable/Attainment.
Tarrant County |  | Unclassifiable/Attainment.
Houston-Galveston-Brazoria, TX:
Brazoria County |  | Unclassifiable/Attainment.
Chambers County |  | Unclassifiable/Attainment.
Fort Bend County |  | Unclassifiable/Attainment.
Galveston County |  | Unclassifiable/Attainment.
Harris County |  | Unclassifiable/Attainment.
Liberty County |  | Unclassifiable/Attainment.
Montgomery County |  | Unclassifiable/Attainment.
Waller County |  | Unclassifiable/Attainment.
San Antonio, TX:
Bexar County |  | Unclassifiable/Attainment.
Comal County |  | Unclassifiable/Attainment.
Guadalupe County |  | Unclassifiable/Attainment.
Victoria Area:
Victoria County |  | Unclassifiable/Attainment.
ᵃ Includes Indian Country located in each county or area, except as otherwise specified.
¹ This date is 30 days after November 13, 2009, unless otherwise noted.

* * * * *

46. Section 81.345 is amended as follows:

a. By removing the tables titled “Utah—PM2.5 (Annual NAAQS)” and “Utah—PM2.5 [24-hour NAAQS]”.

b. By adding three tables titled “Utah—1997 Annual PM2.5 NAAQS (Primary and Secondary)” and “Utah—1997 24-hour PM2.5 NAAQS (Primary and Secondary)” and “Utah—2006 24-hour PM2.5 NAAQS (Primary and Secondary)” before the table titled “Utah—NO2 (1971 Annual Standard)”.

The additions read as follows:

§ 81.345 Utah.

* * * * *

Utah—1997 Annual PM2.5
NAAQS [Primary and secondary]
Designated area | Designation ᵃ: Date ¹ | Designation ᵃ: Type | Classification: Date | Classification: Type
Box Elder County, UT (part): |  |  |  |
Box Elder County (except Brigham City) |  | Unclassifiable/Attainment |  |
Brigham City, UT: |  |  |  |
Box Elder County (part) |  | Unclassifiable/Attainment |  |
The area surrounding Brigham City, as described by the following Townships or the portions of the following Townships in Box Elder County: T9N 2W, T9N R1W, T8N 2W |  |  |  |
Cache County, UT (part): |  |  |  |
Cache County (except Lower Cache Valley) |  | Unclassifiable/Attainment |  |
Davis County, UT (part): |  |  |  |
Davis County (except Wasatch Front) |  | Unclassifiable/Attainment |  |
Grantsville, UT: |  |  |  |
Tooele County (part) |  | Unclassifiable/Attainment |  |
The area surrounding Grantsville, as described by the following Townships or the portions of the following Townships in Tooele County: T2S R6W, T2S R5W, T2S R4W, T3S R6W, T3S R5W, T3S R4W, T4S R6W, T4S R5W, T4S R4W |  |  |  |
Lower Cache Valley, UT: |  |  |  |
Cache County (part) |  | Unclassifiable/Attainment |  |
The Cache Valley, below 6500 ft. msl. This area is described by the following list of Townships or the portions of the following Townships in Cache County: T15N R1E, T15N R2W, T15N R1W, T14N R2W, T14N R1W, T14N R1E, T13N R2W, T13N R1W, T13N R1E, T12N R2W, T12N R1W, T12N R1E, T11N R1W, T11N R1E, T10N R1W, T10N R1E, T9N R1E |  |  |  |
Salt Lake County, UT (part): |  |  |  |
Salt Lake County (except Wasatch Front) |  | Unclassifiable/Attainment |  |
Tooele County, UT (part): |  |  |  |
Tooele County (remainder) |  | Unclassifiable/Attainment |  |
Utah County, UT (part): |  |  |  |
Utah County (except Wasatch Front) |  | Unclassifiable/Attainment |  |
Wasatch Front, UT: |  |  |  |
Davis County (part) |  | Unclassifiable/Attainment |  |
The portion of the Wasatch Front residing in Davis County, as described by the following Townships or the portions of the following Townships in Davis County: T5N R3W, T5N R2W, T5N R1W, T4N R2W, T4N R1W, T3N R1W, T3N R1E, T2N R1W, T2N R1E, T1N R1W, T1N R1E. |  |  |  |
Salt Lake County (part) |  | Unclassifiable/Attainment |  |
The portion of the Wasatch Front residing in Salt Lake County, as described by the following Townships or the portions of the following Townships in Salt Lake County: T1N R2W, T1N R1W, T1N R1E, T1S R3W, T1S R2W, T1S R1W, T1S R1E, T2S R3W, T2S R2W, T2S R1W, T2S R1E, T3S R3W, T3S R2W, T3S R1W, T3S R1E, T4S R3W, T4S R2W, T4S R1W, T4S R1E. |  |  |  |
Utah County (part) |  | Unclassifiable/Attainment |  |
The portion of the Wasatch Front residing in Utah County, as described by the following Townships or the portions of the following Townships in Utah County: T4S R2W, T4S R1W, T4S R1E, T4S R2E, T5S R2W, T5S R1W, T5S R1E, T5S R2E, T6S R3W, T6S R2W, T6S R1W, T6S R2E, T6S R3E, T6S R1E, T7S R3W, T7S R2W, T7S R1W, T7S R1E, T7S R2E, T7S R3E, T8S R3W, T8S R2W, T8S R1W, T8S R3E, T8S R2E, T8S R1E, T9S R3W, T9S R2W, T9S R1E, T9S R3E, T9S R2E, T9S R1W, T10S 2W, T10S R2E, T10S R1E, T10S R1W, T1S R2W, T11S R1W, T12S R2W. |  |  |  |
Weber County (part) |  | Unclassifiable/Attainment |  |
The portion of the Wasatch Front residing in Weber County, as described by the following Townships or the portions of the following Townships in Weber County: T7N R2W, T7N R1W, T7N R3W, T6N R3W, T6N R2W, T6N R1W, T5N R3W, T5N R2W, T5N R1W |  |  |  |
Weber County, UT (part): |  |  |  |
Weber County (except Wasatch Front) |  | Unclassifiable/Attainment |  |
Rest of State: |  |  |  |
Beaver County |  | Unclassifiable/Attainment |  |
Carbon County |  | Unclassifiable/Attainment |  |
Daggett County |  | Unclassifiable/Attainment |  |
Duchesne County |  | Unclassifiable/Attainment |  |
Emery County |  | Unclassifiable/Attainment |  |
Garfield County |  | Unclassifiable/Attainment |  |
Grand County |  | Unclassifiable/Attainment |  |
Iron County |  | Unclassifiable/Attainment |  |
Juab County |  | Unclassifiable/Attainment |  |
Kane County |  | Unclassifiable/Attainment |  |
Millard County |  | Unclassifiable/Attainment |  |
Morgan County |  | Unclassifiable/Attainment |  |
Piute County |  | Unclassifiable/Attainment |  |
Rich County |  | Unclassifiable/Attainment |  |
San Juan County |  | Unclassifiable/Attainment |  |
Sanpete County |  | Unclassifiable/Attainment |  |
Sevier County |  | Unclassifiable/Attainment |  |
Summit County |  | Unclassifiable/Attainment |  |
Uintah County |  | Unclassifiable/Attainment |  |
Wasatch County |  | Unclassifiable/Attainment |  |
Washington County |  | Unclassifiable/Attainment |  |
Wayne County |  | Unclassifiable/Attainment |  |
ᵃIncludes Indian Country located in each county or area, except as otherwise specified.
¹This date is 90 days after January 5, 2005, unless otherwise noted.

Utah—1997 24-Hour PM2.5 NAAQS
[Primary and secondary]
Designated area | Designation ᵃ: Date ¹ | Designation ᵃ: Type | Classification: Date | Classification: Type
Logan, UT-ID:
Cache County (part) |  | Unclassifiable/Attainment.
All portions of Cache County west of and including any portion of the following townships located within Utah: Township 15 North Range 1 East; Township 14 North Range 1 East; Township 13 North Range 1 East; Township 12 North Range 1 East; Township 11 North Range 1 East; Township 10 North Range 1 East; Township 9 North Range 1 East.
Provo, UT:
Utah County (part) |  | Unclassifiable/Attainment.
The area of Utah County that lies west of the Wasatch Mountain Range (and this includes the Cities of Provo and Orem) with an eastern boundary for Utah County to be defined as the following Townships: Township 3 South Range 1 East; Township 4 South Range 2 East; Township 5 South Range 3 East; Township 6 South Range 3 East; Township 7 South Range 3 East; Township 8 South Range 3 East; Township 9 South Range 3 East; Township 10 South Range 2 East.
Salt Lake City, UT:
Box Elder County (part) |  | Unclassifiable/Attainment.
The following Townships or portions thereof as noted (including Brigham City): Township 7 North Range 2 West; Township 8 North Range 2 West; Township 9 North Range 2 West; Township 10 North Range 2 West; Township 11 North Range 2 West; Township 12 North Range 2 West; Township 13 North Range 2 West; Township 9 North Range 3 West; Township 10 North Range 3 West; Township 11 North Range 3 West; Township 12 North Range 3 West; Township 13 North Range 3 West; Township 13 North Range 4 West; Township 12 North Range 4 West; Township 11 North Range 4 West; Township 10 North Range 4 West; Township 9 North Range 4 West; Township 13 North Range 5 West; Township 12 North Range 5 West; Township 11 North Range 5 West; Township 10 North Range 5 West; Township 9 North Range 5 West; Township 13 North Range 6 West; Township 12 North Range 6 West; Township 11 North Range 6 West; Township 10 North Range 6 West; Township 9 North Range 6 West; Township 7 North Range 1 West (portion located in Box Elder County); Township 8 North Range 1 West (portion located in Box Elder County); Township 9 North Range 1 West (portion located in Box Elder County).
Davis County |  | Unclassifiable/Attainment.
Salt Lake County |  | Unclassifiable/Attainment.
Tooele County (part) |  | Unclassifiable/Attainment.
The following Townships or portions thereof as noted (including Tooele City: Township 1 South Range 3 West; Township 2 South Range 3 West; Township 3 South Range 3 West; Township 3 South Range 4 West; Township 2 South Range 4 West; Township 2 South Range 5 West; Township 3 South Range 5 West; Township 3 South Range 6 West; Township 2 South Range 6 West; Township 1 South Range 6 West; Township 1 South Range 5 West; Township 1 South Range 4 West; Township 1 South Range 7 West; Township 2 South Range 7 West; Township 3 South Range 7 West; all Sections within Township 4 South Range 7 West except for Sections 29, 30, 31 and 32; Township 4 South Range 6 West; Township 4 South Range 5 West; Township 4 South Range 4 West; Township 4 South Range 3 West.
Weber County (part) |  | Unclassifiable/Attainment.
The area of Weber County that lies west of the Wasatch Mountain Range with an eastern boundary for Weber County to be defined as the following Townships (or portion thereof) extending to the western boundary of Weber County: Township 5 North Range 1 West; Township 6 North Range 1 West; all Sections within Township 7 North Range 1 West located within Weber County except for Sections 1, 2, 3, 4, 11, 12, 13 and 24; Township 7 North Range 2 West (portion located in Weber County).
Rest of State:
Beaver County |  | Unclassifiable/Attainment.
Box Elder County (remainder) |  | Unclassifiable/Attainment.
Cache County (remainder) |  | Unclassifiable/Attainment.
Carbon County |  | Unclassifiable/Attainment.
Daggett County |  | Unclassifiable/Attainment.
Duchesne County |  | Unclassifiable/Attainment.
Emery County |  | Unclassifiable/Attainment.
Garfield County |  | Unclassifiable/Attainment.
Grand County |  | Unclassifiable/Attainment.
Iron County |  | Unclassifiable/Attainment.
Juab County |  | Unclassifiable/Attainment.
Kane County |  | Unclassifiable/Attainment.
Millard County |  | Unclassifiable/Attainment.
Morgan County |  | Unclassifiable/Attainment.
Piute County |  | Unclassifiable/Attainment.
Rich County |  | Unclassifiable/Attainment.
San Juan County |  | Unclassifiable/Attainment.
Sanpete County |  | Unclassifiable/Attainment.
Sevier County |  | Unclassifiable/Attainment.
Summit County |  | Unclassifiable/Attainment.
Tooele County (remainder) |  | Unclassifiable/Attainment.
Uintah County |  | Unclassifiable/Attainment.
Utah County (remainder) |  | Unclassifiable/Attainment.
Wasatch County |  | Unclassifiable/Attainment.
Washington County |  | Unclassifiable/Attainment.
Wayne County |  | Unclassifiable/Attainment.
Weber County (remainder) |  | Unclassifiable/Attainment.
ᵃIncludes Indian Country located in each county or area, except as otherwise specified.
¹This date is 90 days after January 5, 2005, unless otherwise noted.

Utah—2006 24-Hour PM2.5 NAAQS
[Primary and secondary]
Designated area | Designation ᵃ: Date ¹ | Designation ᵃ: Type | Classification: Date ² | Classification: Type
Logan, UT-ID:
Cache County (part) |  | NonAttainment |  | Moderate.
All portions of Cache County west of and including any portion of the following townships located within Utah: Township 15 North Range 1 East; Township 14 North Range 1 East; Township 13 North Range 1 East; Township 12 North Range 1 East; Township 11 North Range 1 East; Township 10 North Range 1 East; Township 9 North Range 1 East.
Provo, UT:
Utah County (part) |  | NonAttainment |  | Moderate.
The area of Utah County that lies west of the Wasatch Mountain Range (and this includes the Cities of Provo and Orem) with an eastern boundary for Utah County to be defined as the following Townships: Township 3 South Range 1 East; Township 4 South Range 2 East; Township 5 South Range 3 East; Township 6 South Range 3 East; Township 7 South Range 3 East; Township 8 South Range 3 East; Township 9 South Range 3 East; Township 10 South Range 2 East.
Salt Lake City, UT:
Box Elder County (part) |  | NonAttainment |  | Moderate.
The following Townships or portions thereof as noted (including Brigham City): Township 7 North Range 2 West; Township 8 North Range 2 West; Township 9 North Range 2 West; Township 10 North Range 2 West; Township 11 North Range 2 West; Township 12 North Range 2 West; Township 13 North Range 2 West; Township 9 North Range 3 West; Township 10 North Range 3 West; Township 11 North Range 3 West; Township 12 North Range 3 West; Township 13 North Range 3 West; Township 13 North Range 4 West; Township 12 North Range 4 West; Township 11 North Range 4 West; Township 10 North Range 4 West; Township 9 North Range 4 West; Township 13 North Range 5 West; Township 12 North Range 5 West; Township 11 North Range 5 West; Township 10 North Range 5 West; Township 9 North Range 5 West; Township 13 North Range 6 West; Township 12 North Range 6 West; Township 11 North Range 6 West; Township 10 North Range 6 West; Township 9 North Range 6 West; Township 7 North Range 1 West (portion located in Box Elder County); Township 8 North Range 1 West (portion located in Box Elder County); Township 9 North Range 1 West (portion located in Box Elder County).
Davis County |  | NonAttainment |  | Moderate.
Salt Lake County |  | NonAttainment |  | Moderate.
Tooele County (part) |  | NonAttainment |  | Moderate.
The following Townships or portions thereof as noted (including Tooele City: Township 1 South Range 3 West; Township 2 South Range 3 West; Township 3 South Range 3 West; Township 3 South Range 4 West; Township 2 South Range 4 West; Township 2 South Range 5 West; Township 3 South Range 5 West; Township 3 South Range 6 West; Township 2 South Range 6 West; Township 1 South Range 6 West; Township 1 South Range 5 West; Township 1 South Range 4 West; Township 1 South Range 7 West; Township 2 South Range 7 West; Township 3 South Range 7 West; all Sections within Township 4 South Range 7 West except for Sections 29, 30, 31 and 32; Township 4 South Range 6 West; Township 4 South Range 5 West; Township 4 South Range 4 West; Township 4 South Range 3 West.
Weber County (part) |  | NonAttainment |  | Moderate.
The area of Weber County that lies west of the Wasatch Mountain Range with an eastern boundary for Weber County to be defined as the following Townships (or portion thereof) extending to the western boundary of Weber County: Township 5 North Range 1 West; Township 6 North Range 1 West; all Sections within Township 7 North Range 1 West located within Weber County except for Sections 1, 2, 3, 4, 11, 12, 13 and 24; Township 7 North Range 2 West (portion located in Weber County).
Rest of State:
Beaver County |  | Unclassifiable/Attainment
Box Elder County (remainder) |  | Unclassifiable/Attainment
Cache County (remainder) |  | Unclassifiable/Attainment
Carbon County |  | Unclassifiable/Attainment
Daggett County |  | Unclassifiable/Attainment
Duchesne County |  | Unclassifiable/Attainment
Emery County |  | Unclassifiable/Attainment
Garfield County |  | Unclassifiable/Attainment
Grand County |  | Unclassifiable/Attainment
Iron County |  | Unclassifiable/Attainment
Juab County |  | Unclassifiable/Attainment
Kane County |  | Unclassifiable/Attainment
Millard County |  | Unclassifiable/Attainment
Morgan County |  | Unclassifiable/Attainment
Piute County |  | Unclassifiable/Attainment
Rich County |  | Unclassifiable/Attainment
San Juan County |  | Unclassifiable/Attainment
Sanpete County |  | Unclassifiable/Attainment
Sevier County |  | Unclassifiable/Attainment
Summit County |  | Unclassifiable/Attainment
Tooele County (remainder) |  | Unclassifiable/Attainment
Uintah County |  | Unclassifiable/Attainment
Utah County (remainder) |  | Unclassifiable/Attainment
Wasatch County |  | Unclassifiable/Attainment
Washington County |  | Unclassifiable/Attainment
Wayne County |  | Unclassifiable/Attainment
Weber County (remainder) |  | Unclassifiable/Attainment
ᵃ Includes Indian Country located in each county or area, except as otherwise specified.
¹ This date is 30 days after November 13, 2009, unless otherwise noted.
² This date is July 2, 2034, unless otherwise noted.

* * * * *

47. Section 81.346 is amended as follows:

a. By removing the tables titled “Vermont—PM2.5 (Annual NAAQS)” and “Vermont—PM2.5 [24-hour NAAQS]”.

b. By adding three tables titled “Vermont—1997 Annual PM2.5 NAAQS (Primary and Secondary)” and “Vermont—1997 24-hour PM2.5 NAAQS (Primary and Secondary)” and “Vermont—2006 24-hour PM2.5 NAAQS (Primary and Secondary)” before the table titled “Vermont—NO2 (1971 Annual Standard)”.

The additions read as follows:

§ 81.346 Vermont.

* * * * *

Vermont—1997 Annual PM2.5 NAAQS
[Primary and secondary]
Designated area | Designation ᵃ: Date ¹ | Designation ᵃ: Type | Classification: Date | Classification: Type
Statewide:
Addison County |  | Unclassifiable/Attainment.
Bennington County |  | Unclassifiable/Attainment.
Caledonia County |  | Unclassifiable/Attainment.
Chittenden County |  | Unclassifiable/Attainment.
Essex County |  | Unclassifiable/Attainment.
Franklin County |  | Unclassifiable/Attainment.
Grand Isle County |  | Unclassifiable/Attainment.
Lamoille County |  | Unclassifiable/Attainment.
Orange County |  | Unclassifiable/Attainment.
Orleans County |  | Unclassifiable/Attainment.
Rutland County |  | Unclassifiable/Attainment.
Washington County |  | Unclassifiable/Attainment.
Windham County |  | Unclassifiable/Attainment.
Windsor County |  | Unclassifiable/Attainment.
ᵃ Includes Indian Country located in each county or area, except as otherwise specified.
¹ This date is 90 days after January 5, 2005, unless otherwise noted.

Vermont—1997 24-Hour PM2.5 NAAQS
[Primary and secondary]
Designated area | Designation ᵃ: Date ¹ | Designation ᵃ: Type | Classification: Date | Classification: Type
Statewide:
Addison County |  | Unclassifiable Attainment
Bennington County |  | Unclassifiable Attainment
Caledonia County |  | Unclassifiable Attainment
Chittenden County |  | Unclassifiable Attainment
Essex County |  | Unclassifiable Attainment
Franklin County |  | Unclassifiable Attainment
Grand Isle County |  | Unclassifiable Attainment
Lamoille County |  | Unclassifiable Attainment
Orange County |  | Unclassifiable Attainment
Orleans County |  | Unclassifiable Attainment
Rutland County |  | Unclassifiable Attainment
Washington County |  | Unclassifiable Attainment
Windham County |  | Unclassifiable Attainment
Windsor County |  | Unclassifiable Attainment
ᵃ Includes Indian Country located in each county or area, except as otherwise specified.
¹ This date is 90 days after January 5, 2005, unless otherwise noted.

Vermont—2006 24-Hour PM2.5 NAAQS
[Primary and secondary]
Designated area | Designation ᵃ: Date ¹ | Designation ᵃ: Type | Classification: Date | Classification: Type
Statewide:
Addison County |  | Unclassifiable Attainment
Bennington County |  | Unclassifiable Attainment
Caledonia County |  | Unclassifiable Attainment
Chittenden County |  | Unclassifiable Attainment
Essex County |  | Unclassifiable Attainment
Franklin County |  | Unclassifiable Attainment
Grand Isle County |  | Unclassifiable Attainment
Lamoille County |  | Unclassifiable Attainment
Orange County |  | Unclassifiable Attainment
Orleans County |  | Unclassifiable Attainment
Rutland County |  | Unclassifiable Attainment
Washington County |  | Unclassifiable Attainment
Windham County |  | Unclassifiable Attainment
Windsor County |  | Unclassifiable Attainment
ᵃ Includes Indian Country located in each county or area, except as otherwise specified.
¹ This date is 30 days after November 13, 2009, unless otherwise noted.

* * * * *

48. Section 81.347 is amended as follows:

a. By removing the tables titled “Virginia—PM2.5 (Annual NAAQS)” and “Virginia—PM2.5 [24-hour NAAQS]”.

b. By adding three tables titled “Virginia—1997 Annual PM2.5 NAAQS (Primary and Secondary)” and “Virginia—1997 24-hour PM2.5 NAAQS (Primary and Secondary)” and “Virginia—2006 24-hour PM2.5 NAAQS (Primary and Secondary)” before the table titled “Virginia—NO2 (1971 Annual Standard)”.

The additions read as follows:

§ 81.347 Virginia.

* * * * *

Virginia—1997 Annual PM2.5 NAAQS
(Primary and secondary)
Designated area | Designation ᵃ: Date ¹ | Designation ᵃ: Type | Classification: Date ² | Classification: Type
Washington, DC-MD-VA:
Arlington County |  | Nonattainment. |  | Moderate.
Fairfax County |  | Nonattainment. |  | Moderate.
Loudoun County |  | Nonattainment. |  | Moderate.
Prince William County |  | Nonattainment. |  | Moderate.
Alexandria City |  | Nonattainment. |  | Moderate.
Fairfax City |  | Nonattainment. |  | Moderate.
Falls Church City |  | Nonattainment. |  | Moderate.
Manassas City |  | Nonattainment. |  | Moderate.
Manassas Park City |  | Nonattainment. |  | Moderate.
AQCR 207 Eastern Tennessee-SW Virginia Interstate (remainder of):
Bland County |  | Unclassifiable/Attainment.
Buchanan County |  | Unclassifiable/Attainment.
Carroll County |  | Unclassifiable/Attainment.
Dickenson County |  | Unclassifiable/Attainment.
Grayson County |  | Unclassifiable/Attainment.
Lee County |  | Unclassifiable/Attainment.
Russell County |  | Unclassifiable/Attainment.
Scott County |  | Unclassifiable/Attainment.
Smyth County |  | Unclassifiable/Attainment.
Tazewell County |  | Unclassifiable/Attainment.
Washington County |  | Unclassifiable/Attainment.
Wise County |  | Unclassifiable/Attainment.
Wythe County |  | Unclassifiable/Attainment.
Bristol City |  | Unclassifiable/Attainment.
Galax City |  | Unclassifiable/Attainment.
Norton City |  | Unclassifiable/Attainment.
AQCR 222 Central Virginia Intrastate:
Amelia County |  | Unclassifiable/Attainment.
Amherst County |  | Unclassifiable/Attainment.
Appomattox County |  | Unclassifiable/Attainment.
Bedford County |  | Unclassifiable/Attainment.
Brunswick County |  | Unclassifiable/Attainment.
Buckingham County |  | Unclassifiable/Attainment.
Campbell County |  | Unclassifiable/Attainment.
Charlotte County |  | Unclassifiable/Attainment.
Cumberland County |  | Unclassifiable/Attainment.
Franklin County |  | Unclassifiable/Attainment.
Halifax County |  | Unclassifiable/Attainment.
Henry County |  | Unclassifiable/Attainment.
Lunenburg County |  | Unclassifiable/Attainment.
Mecklenburg County |  | Unclassifiable/Attainment.
Nottoway County |  | Unclassifiable/Attainment.
Patrick County |  | Unclassifiable/Attainment.
Pittsylvania County |  | Unclassifiable/Attainment.
Prince Edward County |  | Unclassifiable/Attainment.
Bedford City |  | Unclassifiable/Attainment.
Danville City |  | Unclassifiable/Attainment.
Lynchburg City |  | Unclassifiable/Attainment.
Martinsville City |  | Unclassifiable/Attainment.
AQCR 223 Hampton Roads Intrastate (remainder of):
Southampton County |  | Unclassifiable/Attainment.
Franklin City |  | Unclassifiable/Attainment.
AQCR 224 NE Virginia Intrastate (remainder of):
Accomack County |  | Unclassifiable/Attainment.
Albemarle County |  | Unclassifiable/Attainment.
Caroline County |  | Unclassifiable/Attainment.
Culpeper County |  | Unclassifiable/Attainment.
Essex County |  | Unclassifiable/Attainment.
Fauquier County |  | Unclassifiable/Attainment.
Fluvanna County |  | Unclassifiable/Attainment.
Greene County |  | Unclassifiable/Attainment.
King and Queen County |  | Unclassifiable/Attainment.
King George County |  | Unclassifiable/Attainment.
King William County |  | Unclassifiable/Attainment.
Lancaster County |  | Unclassifiable/Attainment.
Louisa County |  | Unclassifiable/Attainment.
Madison County |  | Unclassifiable/Attainment.
Mathews County |  | Unclassifiable/Attainment.
Middlesex County |  | Unclassifiable/Attainment.
Nelson County |  | Unclassifiable/Attainment.
Northampton County |  | Unclassifiable/Attainment.
Northumberland County |  | Unclassifiable/Attainment.
Orange County |  | Unclassifiable/Attainment.
Rappahannock County |  | Unclassifiable/Attainment.
Richmond County |  | Unclassifiable/Attainment.
Westmoreland County |  | Unclassifiable/Attainment.
Charlottesville City |  | Unclassifiable/Attainment.
AQCR 225 State Capital Intrastate (remainder of):
Dinwiddie County |  | Unclassifiable/Attainment.
Goochland County |  | Unclassifiable/Attainment.
Greensville County |  | Unclassifiable/Attainment.
New Kent County |  | Unclassifiable/Attainment.
Powhatan County |  | Unclassifiable/Attainment.
Surry County |  | Unclassifiable/Attainment.
Sussex County |  | Unclassifiable/Attainment.
Emporia City |  | Unclassifiable/Attainment.
Petersburg City |  | Unclassifiable/Attainment.
AQCR 226 Valley of Virginia Intrastate:
Alleghany County |  | Unclassifiable/Attainment.
Augusta County |  | Unclassifiable/Attainment.
Bath County |  | Unclassifiable/Attainment.
Clarke County |  | Unclassifiable/Attainment.
Craig County |  | Unclassifiable/Attainment.
Floyd County |  | Unclassifiable/Attainment.
Giles County |  | Unclassifiable/Attainment.
Highland County |  | Unclassifiable/Attainment.
Montgomery County |  | Unclassifiable/Attainment.
Page County |  | Unclassifiable/Attainment.
Pulaski County |  | Unclassifiable/Attainment.
Rockbridge County |  | Unclassifiable/Attainment.
Rockingham County |  | Unclassifiable/Attainment.
Shenandoah County |  | Unclassifiable/Attainment.
Warren County |  | Unclassifiable/Attainment.
Buena Vista City |  | Unclassifiable/Attainment.
Covington City |  | Unclassifiable/Attainment.
Harrisonburg City |  | Unclassifiable/Attainment.
Lexington City |  | Unclassifiable/Attainment.
Radford City |  | Unclassifiable/Attainment.
Staunton City |  | Unclassifiable/Attainment.
Waynesboro City |  | Unclassifiable/Attainment.
Frederick Co., VA:
Frederick County |  | Unclassifiable/Attainment.
Winchester City |  | Unclassifiable/Attainment.
Fredericksburg, VA:
Spotsylvania County |  | Unclassifiable/Attainment.
Stafford County |  | Unclassifiable/Attainment.
City of Fredericksburg |  | Unclassifiable/Attainment.
Norfolk-Virginia-Beach Newport News (Hampton Roads), VA:
Gloucester County |  | Unclassifiable/Attainment.
Isle of Wight County |  | Unclassifiable/Attainment.
James City County |  | Unclassifiable/Attainment.
York County |  | Unclassifiable/Attainment.
Chesapeake City |  | Unclassifiable/Attainment.
Hampton City |  | Unclassifiable/Attainment.
Newport News City |  | Unclassifiable/Attainment.
Norfolk City |  | Unclassifiable/Attainment.
Poquoson City |  | Unclassifiable/Attainment.
Portsmouth City |  | Unclassifiable/Attainment.
Suffolk City |  | Unclassifiable/Attainment.
Virginia Beach City |  | Unclassifiable/Attainment.
Williamsburg City |  | Unclassifiable/Attainment.
Richmond-Petersburg, VA:
Charles City County |  | Unclassifiable/Attainment.
Chesterfield County |  | Unclassifiable/Attainment.
Hanover County |  | Unclassifiable/Attainment.
Henrico County |  | Unclassifiable/Attainment.
Prince George County |  | Unclassifiable/Attainment.
Colonial Heights City |  | Unclassifiable/Attainment.
Hopewell City |  | Unclassifiable/Attainment.
Richmond City |  | Unclassifiable/Attainment.
Roanoke, VA:
Botetourt County |  | Unclassifiable/Attainment.
Roanoke County |  | Unclassifiable/Attainment.
Roanoke City |  | Unclassifiable/Attainment.
Salem City |  | Unclassifiable/Attainment.
ᵃ Includes Indian Country located in each county or area, except as otherwise specified.
¹ This date is 90 days after January 5, 2005, unless otherwise noted.
² This date is July 2, 2014, unless otherwise noted.

Virginia—1997 24-Hour PM2.5 NAAQS
[Primary and secondary]
Designated area | Designation ᵃ: Date ¹ | Designation ᵃ: Type | Classification: Date ² | Classification: Type
AQCR 047 National Capital Interstate (DC-MD-VA) (part):
Arlington County |  | Unclassifiable/Attainment.
Fairfax County |  | Unclassifiable/Attainment.
Loudoun County |  | Unclassifiable/Attainment.
Prince William County |  | Unclassifiable/Attainment.
Alexandria City |  | Unclassifiable/Attainment.
Fairfax City |  | Unclassifiable/Attainment.
Falls Church City |  | Unclassifiable/Attainment.
Manassas City |  | Unclassifiable/Attainment.
Manassas Park City |  | Unclassifiable/Attainment.
AQCR 207 Eastern Tennessee-SW Virginia Interstate (remainder of):
Bland County |  | Unclassifiable/Attainment.
Buchanan County |  | Unclassifiable/Attainment.
Carroll County |  | Unclassifiable/Attainment.
Dickenson County |  | Unclassifiable/Attainment.
Grayson County |  | Unclassifiable/Attainment.
Lee County |  | Unclassifiable/Attainment.
Russell County |  | Unclassifiable/Attainment.
Scott County |  | Unclassifiable/Attainment.
Smyth County |  | Unclassifiable/Attainment.
Tazewell County |  | Unclassifiable/Attainment.
Washington County |  | Unclassifiable/Attainment.
Wise County |  | Unclassifiable/Attainment.
Wythe County |  | Unclassifiable/Attainment.
Bristol City |  | Unclassifiable/Attainment.
Galax City |  | Unclassifiable/Attainment.
Norton City |  | Unclassifiable/Attainment.
AQCR 222 Central Virginia Intrastate:
Amelia County |  | Unclassifiable/Attainment.
Amherst County |  | Unclassifiable/Attainment.
Appomattox County |  | Unclassifiable/Attainment.
Bedford County |  | Unclassifiable/Attainment.
Brunswick County |  | Unclassifiable/Attainment.
Buckingham County |  | Unclassifiable/Attainment.
Campbell County |  | Unclassifiable/Attainment.
Charlotte County |  | Unclassifiable/Attainment.
Cumberland County |  | Unclassifiable/Attainment.
Franklin County |  | Unclassifiable/Attainment.
Halifax County |  | Unclassifiable/Attainment.
Henry County |  | Unclassifiable/Attainment.
Lunenburg County |  | Unclassifiable/Attainment.
Mecklenburg County |  | Unclassifiable/Attainment.
Nottoway County |  | Unclassifiable/Attainment.
Patrick County |  | Unclassifiable/Attainment.
Pittsylvania County |  | Unclassifiable/Attainment.
Prince Edward County |  | Unclassifiable/Attainment.
Bedford City |  | Unclassifiable/Attainment.
Danville City |  | Unclassifiable/Attainment.
Lynchburg City |  | Unclassifiable/Attainment.
Martinsville City |  | Unclassifiable/Attainment.
AQCR 223 Hampton Roads Intrastate (remainder of):
Southampton County |  | Unclassifiable/Attainment.
Franklin City |  | Unclassifiable/Attainment.
AQCR 224 NE Virginia Intrastate (remainder of):
Accomack County |  | Unclassifiable/Attainment.
Albemarle County |  | Unclassifiable/Attainment.
Caroline County |  | Unclassifiable/Attainment.
Culpeper County |  | Unclassifiable/Attainment.
Essex County |  | Unclassifiable/Attainment.
Fauquier County |  | Unclassifiable/Attainment.
Fluvanna County |  | Unclassifiable/Attainment.
Greene County |  | Unclassifiable/Attainment.
King and Queen County |  | Unclassifiable/Attainment.
King George County |  | Unclassifiable/Attainment.
King William County |  | Unclassifiable/Attainment.
Lancaster County |  | Unclassifiable/Attainment.
Louisa County |  | Unclassifiable/Attainment.
Madison County |  | Unclassifiable/Attainment.
Mathews County |  | Unclassifiable/Attainment.
Middlesex County |  | Unclassifiable/Attainment.
Nelson County |  | Unclassifiable/Attainment.
Northampton County |  | Unclassifiable/Attainment.
Northumberland County |  | Unclassifiable/Attainment.
Orange County |  | Unclassifiable/Attainment.
Rappahannock County |  | Unclassifiable/Attainment.
Richmond County |  | Unclassifiable/Attainment.
Westmoreland County |  | Unclassifiable/Attainment.
Charlottesville City |  | Unclassifiable/Attainment.
AQCR 225 State Capital Intrastate (remainder of):
Dinwiddie County |  | Unclassifiable/Attainment.
Goochland County |  | Unclassifiable/Attainment.
Greensville County |  | Unclassifiable/Attainment. | New Kent County |  | Unclassifiable/Attainment.
Powhatan County |  | Unclassifiable/Attainment.
Surry County |  | Unclassifiable/Attainment.
Sussex County |  | Unclassifiable/Attainment.
Emporia City |  | Unclassifiable/Attainment.
Petersburg City |  | Unclassifiable/Attainment.
AQCR 226 Valley of Virginia Intrastate:
Alleghany County |  | Unclassifiable/Attainment.
Augusta County |  | Unclassifiable/Attainment.
Bath County |  | Unclassifiable/Attainment.
Clarke County |  | Unclassifiable/Attainment.
Craig County |  | Unclassifiable/Attainment.
Floyd County |  | Unclassifiable/Attainment.
Giles County |  | Unclassifiable/Attainment.
Highland County |  | Unclassifiable/Attainment.
Montgomery County |  | Unclassifiable/Attainment.
Page County |  | Unclassifiable/Attainment.
Pulaski County |  | Unclassifiable/Attainment.
Rockbridge County |  | Unclassifiable/Attainment.
Rockingham County |  | Unclassifiable/Attainment.
Shenandoah County |  | Unclassifiable/Attainment.
Warren County |  | Unclassifiable/Attainment.
Buena Vista City |  | Unclassifiable/Attainment.
Covington City |  | Unclassifiable/Attainment.
Harrisonburg City |  | Unclassifiable/Attainment.
Lexington City |  | Unclassifiable/Attainment.
Radford City |  | Unclassifiable/Attainment.
Staunton City |  | Unclassifiable/Attainment.
Waynesboro City |  | Unclassifiable/Attainment.
Frederick Co., VA:
Frederick County |  | Unclassifiable/Attainment.
Winchester City |  | Unclassifiable/Attainment.
Fredericksburg, VA:
Spotsylvania County |  | Unclassifiable/Attainment.
Stafford County |  | Unclassifiable/Attainment.
City of Fredericksburg |  | Unclassifiable/Attainment.
Norfolk-Virginia Beach-Newport News (Hampton Roads), VA:
Gloucester County |  | Unclassifiable/Attainment.
Isle of Wight County |  | Unclassifiable/Attainment.
James City County |  | Unclassifiable/Attainment.
York County |  | Unclassifiable/Attainment.
Chesapeake City |  | Unclassifiable/Attainment.
Hampton City |  | Unclassifiable/Attainment.
Newport News City |  | Unclassifiable/Attainment.
Norfolk City |  | Unclassifiable/Attainment.
Poquoson City |  | Unclassifiable/Attainment.
Portsmouth City |  | Unclassifiable/Attainment.
Suffolk City |  | Unclassifiable/Attainment.
Virginia Beach City |  | Unclassifiable/Attainment.
Williamsburg City |  | Unclassifiable/Attainment.
Richmond-Petersburg, VA:
Charles City County |  | Unclassifiable/Attainment.
Chesterfield County |  | Unclassifiable/Attainment.
Hanover County |  | Unclassifiable/Attainment.
Henrico County |  | Unclassifiable/Attainment.
Prince George County |  | Unclassifiable/Attainment.
Colonial Heights City |  | Unclassifiable/Attainment.
Hopewell City |  | Unclassifiable/Attainment.
Richmond City |  | Unclassifiable/Attainment.
Roanoke, VA:
Botetourt County |  | Unclassifiable/Attainment.
Roanoke County |  | Unclassifiable/Attainment.
Roanoke City |  | Unclassifiable/Attainment.
Salem City |  | Unclassifiable/Attainment.
ᵃ Includes Indian Country located in each county or area, except as otherwise specified.
¹ This date is 90 days after January 5, 2005, unless otherwise noted.

Virginia—2006 24-Hour PM2.5 NAAQS
[Primary and secondary]
Designated area | Designationᵃ: Date¹ | Designationᵃ: Type | Classification: Date | Classification: Type
AQCR 047 National Capital Interstate (DC-MD-VA) (part):
Arlington County |  | Unclassifiable/Attainment.
Fairfax County |  | Unclassifiable/Attainment.
Loudoun County |  | Unclassifiable/Attainment.
Prince William County |  | Unclassifiable/Attainment.
Alexandria City |  | Unclassifiable/Attainment.
Fairfax City |  | Unclassifiable/Attainment.
Falls Church City |  | Unclassifiable/Attainment.
Manassas City |  | Unclassifiable/Attainment.
Manassas Park City |  | Unclassifiable/Attainment.
AQCR 207 Eastern Tennessee-SW Virginia Interstate (remainder of):
Bland County |  | Unclassifiable/Attainment.
Buchanan County |  | Unclassifiable/Attainment.
Carroll County |  | Unclassifiable/Attainment.
Dickenson County |  | Unclassifiable/Attainment.
Grayson County |  | Unclassifiable/Attainment.
Lee County |  | Unclassifiable/Attainment.
Russell County |  | Unclassifiable/Attainment.
Scott County |  | Unclassifiable/Attainment.
Smyth County |  | Unclassifiable/Attainment.
Tazewell County |  | Unclassifiable/Attainment.
Washington County |  | Unclassifiable/Attainment.
Wise County |  | Unclassifiable/Attainment.
Wythe County |  | Unclassifiable/Attainment.
Bristol City |  | Unclassifiable/Attainment.
Galax City |  | Unclassifiable/Attainment.
Norton City |  | Unclassifiable/Attainment.
AQCR 222 Central Virginia Intrastate:
Amelia County |  | Unclassifiable/Attainment.
Amherst County |  | Unclassifiable/Attainment.
Appomattox County |  | Unclassifiable/Attainment.
Bedford County |  | Unclassifiable/Attainment.
Brunswick County |  | Unclassifiable/Attainment.
Buckingham County |  | Unclassifiable/Attainment.
Campbell County |  | Unclassifiable/Attainment.
Charlotte County |  | Unclassifiable/Attainment.
Cumberland County |  | Unclassifiable/Attainment.
Franklin County |  | Unclassifiable/Attainment.
Halifax County |  | Unclassifiable/Attainment.
Henry County |  | Unclassifiable/Attainment.
Lunenburg County |  | Unclassifiable/Attainment.
Mecklenburg County |  | Unclassifiable/Attainment.
Nottoway County |  | Unclassifiable/Attainment.
Patrick County |  | Unclassifiable/Attainment.
Pittsylvania County |  | Unclassifiable/Attainment.
Prince Edward County |  | Unclassifiable/Attainment.
Bedford City |  | Unclassifiable/Attainment.
Danville City |  | Unclassifiable/Attainment.
Lynchburg City |  | Unclassifiable/Attainment.
Martinsville City |  | Unclassifiable/Attainment.
AQCR 223 Hampton Roads Intrastate (remainder of):
Southampton County |  | Unclassifiable/Attainment.
Franklin City |  | Unclassifiable/Attainment.
AQCR 224 NE Virginia Intrastate (remainder of):
Accomack County |  | Unclassifiable/Attainment.
Albemarle County |  | Unclassifiable/Attainment.
Caroline County |  | Unclassifiable/Attainment.
Culpeper County |  | Unclassifiable/Attainment.
Essex County |  | Unclassifiable/Attainment.
Fauquier County |  | Unclassifiable/Attainment.
Fluvanna County |  | Unclassifiable/Attainment.
Greene County |  | Unclassifiable/Attainment.
King and Queen County |  | Unclassifiable/Attainment.
King George County |  | Unclassifiable/Attainment.
King William County |  | Unclassifiable/Attainment.
Lancaster County |  | Unclassifiable/Attainment.
Louisa County |  | Unclassifiable/Attainment.
Madison County |  | Unclassifiable/Attainment.
Mathews County |  | Unclassifiable/Attainment.
Middlesex County |  | Unclassifiable/Attainment.
Nelson County |  | Unclassifiable/Attainment.
Northampton County |  | Unclassifiable/Attainment.
Northumberland County |  | Unclassifiable/Attainment.
Orange County |  | Unclassifiable/Attainment.
Rappahannock County |  | Unclassifiable/Attainment.
Richmond County |  | Unclassifiable/Attainment.
Westmoreland County |  | Unclassifiable/Attainment.
Charlottesville City |  | Unclassifiable/Attainment.
AQCR 225 State Capital Intrastate (remainder of):
Dinwiddie County |  | Unclassifiable/Attainment.
Goochland County |  | Unclassifiable/Attainment.
Greensville County |  | Unclassifiable/Attainment.
New Kent County |  | Unclassifiable/Attainment.
Powhatan County |  | Unclassifiable/Attainment.
Surry County |  | Unclassifiable/Attainment.
Sussex County |  | Unclassifiable/Attainment.
Emporia City |  | Unclassifiable/Attainment.
Petersburg City |  | Unclassifiable/Attainment.
AQCR 226 Valley of Virginia Intrastate:
Alleghany County |  | Unclassifiable/Attainment.
Augusta County |  | Unclassifiable/Attainment.
Bath County |  | Unclassifiable/Attainment.
Clarke County |  | Unclassifiable/Attainment.
Craig County |  | Unclassifiable/Attainment.
Floyd County |  | Unclassifiable/Attainment.
Giles County |  | Unclassifiable/Attainment.
Highland County |  | Unclassifiable/Attainment.
Montgomery County |  | Unclassifiable/Attainment.
Page County |  | Unclassifiable/Attainment.
Pulaski County |  | Unclassifiable/Attainment.
Rockbridge County |  | Unclassifiable/Attainment.
Rockingham County |  | Unclassifiable/Attainment.
Shenandoah County |  | Unclassifiable/Attainment.
Warren County |  | Unclassifiable/Attainment.
Buena Vista City |  | Unclassifiable/Attainment.
Covington City |  | Unclassifiable/Attainment.
Harrisonburg City |  | Unclassifiable/Attainment.
Lexington City |  | Unclassifiable/Attainment.
Radford City |  | Unclassifiable/Attainment.
Staunton City |  | Unclassifiable/Attainment.
Waynesboro City |  | Unclassifiable/Attainment.
Frederick Co., VA:
Frederick County |  | Unclassifiable/Attainment.
Winchester City |  | Unclassifiable/Attainment.
Fredericksburg, VA:
Spotsylvania County |  | Unclassifiable/Attainment.
Stafford County |  | Unclassifiable/Attainment.
City of Fredericksburg |  | Unclassifiable/Attainment.
Norfolk-Virginia-Beach Newport News (Hampton Roads), VA:
Gloucester County |  | Unclassifiable/Attainment.
Isle of Wight County |  | Unclassifiable/Attainment.
James City County |  | Unclassifiable/Attainment.
York County |  | Unclassifiable/Attainment.
Chesapeake City |  | Unclassifiable/Attainment.
Hampton City |  | Unclassifiable/Attainment.
Newport News City |  | Unclassifiable/Attainment.
Norfolk City |  | Unclassifiable/Attainment.
Poquoson City |  | Unclassifiable/Attainment.
Portsmouth City |  | Unclassifiable/Attainment.
Suffolk City |  | Unclassifiable/Attainment.
Virginia Beach City |  | Unclassifiable/Attainment.
Williamsburg City |  | Unclassifiable/Attainment.
Richmond-Petersburg, VA:
Charles City County |  | Unclassifiable/Attainment.
Chesterfield County |  | Unclassifiable/Attainment.
Hanover County |  | Unclassifiable/Attainment.
Henrico County |  | Unclassifiable/Attainment.
Prince George County |  | Unclassifiable/Attainment.
Colonial Heights City |  | Unclassifiable/Attainment.
Hopewell City |  | Unclassifiable/Attainment.
Richmond City |  | Unclassifiable/Attainment.
Roanoke, VA:
Botetourt County |  | Unclassifiable/Attainment.
Roanoke County |  | Unclassifiable/Attainment.
Roanoke City |  | Unclassifiable/Attainment.
Salem City |  | Unclassifiable/Attainment.
ᵃ Includes Indian Country located in each county or area, except as otherwise specified.
¹ This date is 30 days after November 13, 2009, unless otherwise noted.

* * * * *

49. Section 81.348 is amended as follows:

a. By removing the tables titled “Washington—PM2.5 (Annual NAAQS)” and “Washington—PM2.5 [24-hour NAAQS]”.

b. By adding three tables titled “Washington—1997 Annual PM2.5 NAAQS (Primary and Secondary)” and “Washington—1997 24-hour PM2.5 NAAQS (Primary and Secondary)” and “Washington—2006 24-hour PM2.5 NAAQS (Primary and Secondary)” before the table titled “Washington—NO2 (1971 Annual Standard)”.

The additions read as follows:

§ 81.348 Washington.

* * * * *

Washington—1997 Annual PM2.5 NAAQS
[Primary and secondary]
Designated area | Designation ᵃ: Date ¹ | Designation ᵃ: Type | Classification: Date | Classification: Type
Portland—Vancouver AQMA:
Clark County (part) |  | Unclassifiable/Attainment
Air quality maintenance area
Seattle—Tacoma Area: |  | Unclassifiable/Attainment
The following boundary includes all of Pierce County, and all of King County except a small portion on the north-east corner and the western portion of Snohomish County: Starting at the mouth of the Nisqually River extend northwesterly along the Pierce County line to the southernmost point of the west county line of King County; thence northerly along the county line to the southernmost point of the west county line of Snohomish County; thence northerly along the county line to the intersection with SR 532; thence easterly along the north line of SR 532 to the intersection of I-5, continuing east along the same road now identified as Henning Rd., to the intersection with SR 9 at Bryant; thence continuing easterly on Bryant East Rd. and Rock Creek Rd., also identified as Grandview Rd., approximately 3 miles to the point at which it is crossed by the existing BPA electrical transmission line; thence southeasterly along the BPA transmission line approximately 8 miles to point of the crossing of the south fork of the Stillaguamish River; thence continuing in a southeasterly direction in a meander line following the bed of the River to Jordan Road; southerly along Jordan Road to the north city limits of Granite Falls; thence following the north and east city limits to 92nd St. N.E. and Menzel Lake Rd.; thence south-southeasterly along the Menzel Lake Rd. and the Lake Roesiger Rd. a distance of approximately 6 miles to the northernmost point of Lake Roesiger; thence southerly along a meander line following the middle of the Lake and Roesiger Creek to Woods Creek; thence southerly along a meander line following the bed of the Creek approximately 6 miles to the point the Creek is crossed by the existing BPA electrical transmission line; thence easterly along the BPA transmission line approximately 0.2 miles; thence southerly along the BPA Chief Joseph-Covington electrical transmission line approximately 3 miles to the north line of SR 2; thence southeasterly along SR 2 to the intersection with the east county line of King County; thence south along the county line to the northernmost point of the east county line of Pierce County; thence along the county line to the point of beginning at the mouth of the Nisqually River.
AQCR 062 E Washington-N Idaho Interstate (part):
Spokane County |  | Unclassifiable/Attainment
AQCR 062 E Washington-N Idaho Interstate (remainder of):
Adams County |  | Unclassifiable/Attainment
Asotin County |  | Unclassifiable/Attainment
Columbia County |  | Unclassifiable/Attainment
Garfield County |  | Unclassifiable/Attainment
Grant County |  | Unclassifiable/Attainment
Lincoln County |  | Unclassifiable/Attainment
Whitman County |  | Unclassifiable/Attainment
AQCR 193 Portland Interstate (remainder of):
Clark County (remainder) |  | Unclassifiable/Attainment
Cowlitz County |  | Unclassifiable/Attainment
Lewis County |  | Unclassifiable/Attainment
Skamania County |  | Unclassifiable/Attainment
Wahkiakum County |  | Unclassifiable/Attainment
AQCR 227 Northern Washington Intrastate:
Chelan County |  | Unclassifiable/Attainment
Douglas County |  | Unclassifiable/Attainment
Ferry County |  | Unclassifiable/Attainment
Okanogan County |  | Unclassifiable/Attainment
Pend Oreille County |  | Unclassifiable/Attainment
Stevens County |  | Unclassifiable/Attainment
AQCR 228 Olympic-Northwest Washington Intrastate:
Clallam County |  | Unclassifiable/Attainment
Grays Harbor County |  | Unclassifiable/Attainment
Island County |  | Unclassifiable/Attainment
Jefferson County |  | Unclassifiable/Attainment
Mason County |  | Unclassifiable/Attainment
Pacific County |  | Unclassifiable/Attainment
San Juan County |  | Unclassifiable/Attainment
Skagit County |  | Unclassifiable/Attainment
Thurston County |  | Unclassifiable/Attainment
Whatcom County |  | Unclassifiable/Attainment
AQCR 229 Puget Sound Intrastate (remainder of):
King County (remainder) |  | Unclassifiable/Attainment
Kitsap County |  | Unclassifiable/Attainment
Snohomish County (remainder) |  | Unclassifiable/Attainment
AQCR 230 South Central Washington Intrastate:
Benton County |  | Unclassifiable/Attainment
Franklin County |  | Unclassifiable/Attainment
Kittitas County |  | Unclassifiable/Attainment
Klickitat County |  | Unclassifiable/Attainment
Walla Walla County |  | Unclassifiable/Attainment
Yakima County |  | Unclassifiable/Attainment
Seattle-Tacoma Area:
Pierce County |  | Unclassifiable/Attainment
ᵃ Includes Indian Country located in each county or area, except as otherwise specified.
¹ This date is 90 days after January 5, 2005, unless otherwise noted.

Washington—1997 24-Hour PM2.5 NAAQS
[Primary and secondary]
Designated area | Designation ᵃ: Date ¹ | Designation ᵃ: Type | Classification: Date | Classification: Type
Tacoma, WA:
Pierce County (part) |  | Unclassifiable/Attainment |  |
Starting from where an extension of Kennedy Road Northeast would intersect Commencement Bay, proceed north to the intersection of Marine View Drive (State Route 509) and Kennedy Road Northeast. Proceed south on Marine View Drive to Hylebos Creek. Proceed south along Hylebos Creek to 12th Street East. Proceed east on 12th Street East to 70th Avenue East. Proceed south on 70th Avenue East to State Route 99 (S.R. 99). Proceed north on S.R. 99 0.1 mile north of Birch Street to a driveway to the east. Proceed east along the driveway and continue east along the same alignment to the Pierce County Line/Comprehensive Urban Growth Area (CUGA) boundary. Proceed east along the Pierce County Line/CUGA boundary to the eastern boundary of Edgewood. Proceed south along the eastern boundary of Edgewood to eastern boundary of the Sumner Urban Service Area. Proceed south along eastern boundary of the Sumner Urban Service Area to the eastern boundary of the Puyallup Urban Service Area. Proceed south along the eastern boundary of the Puyallup Urban Service Area to the eastern boundary of Puyallup/CUGA boundary. Proceed south and then west along the CUGA boundary to the eastern boundary of McChord Air Force Base. Proceed north along the eastern boundary of McChord Air Force Base to the northernmost point on the eastern boundary. Proceed from the northernmost point on the eastern boundary of McChord Air Force Base to the south right-of-way of S.R. 512. Proceed west along the south right-of-way of S.R. 512 to the south right-of-way of I-5. Proceed south along the south right-of-way to I-5 to the point opposite the boundary between Lakewood and Camp Murray. Proceed north across I-5 to the boundary between Lakewood and Camp Murray. Proceed north along the western boundary of Lakewood to the point where the western boundary coincides with the CUGA boundary. Proceed north along the CUGA boundary to the southern boundary of Point Defiance Park. Proceed east along the southern boundary of Point Defiance Park to Commencement Bay/CUGA boundary. Proceed southeast, then northeast, and finally northwest along the CUGA boundary to the starting point. |  |  |  |
Rest of State:
Adams County |  | Unclassifiable/Attainment |  |
Asotin County |  | Unclassifiable/Attainment |  |
Benton County |  | Unclassifiable/Attainment |  |
Clark County |  | Unclassifiable/Attainment |  |
Clallam County |  | Unclassifiable/Attainment |  |
Columbia County |  | Unclassifiable/Attainment |  |
Cowlitz County |  | Unclassifiable/Attainment |  |
Douglas County |  | Unclassifiable/Attainment |  |
Ferry County |  | Unclassifiable/Attainment |  |
Franklin County |  | Unclassifiable/Attainment |  |
Garfield County |  | Unclassifiable/Attainment |  |
Grant County |  | Unclassifiable/Attainment |  |
Grays Harbor County |  | Unclassifiable/Attainment |  |
Island County |  | Unclassifiable/Attainment |  |
Jefferson County |  | Unclassifiable/Attainment |  |
King County |  | Unclassifiable/Attainment |  |
Kitsap County |  | Unclassifiable/Attainment |  |
Kittitas County |  | Unclassifiable/Attainment |  |
Klickitat County |  | Unclassifiable/Attainment |  |
Lincoln County |  | Unclassifiable/Attainment |  |
Mason County |  | Unclassifiable/Attainment |  |
Okanogan County |  | Unclassifiable/Attainment |  |
Pacific County |  | Unclassifiable/Attainment |  |
Pend Oreille County |  | Unclassifiable/Attainment |  |
Pierce County (remainder) |  | Unclassifiable/Attainment |  |
San Juan County |  | Unclassifiable/Attainment |  |
Skagit County |  | Unclassifiable/Attainment |  |
Skamania County |  | Unclassifiable/Attainment |  |
Snohomish County |  | Unclassifiable/Attainment |  |
Spokane County |  | Unclassifiable/Attainment |  |
Stevens County |  | Unclassifiable/Attainment |  |
Thurston County |  | Unclassifiable/Attainment |  |
Wahkiakum County |  | Unclassifiable/Attainment |  |
Walla Walla County |  | Unclassifiable/Attainment |  |
Whatcom County |  | Unclassifiable/Attainment |  |
Whitman County |  | Unclassifiable/Attainment |  |
Yakima County |  | Unclassifiable/Attainment |  |
ᵃ Includes Indian Country located in each county or area, except as otherwise specified.
¹ This date is 90 days after January 5, 2005, unless otherwise noted.

Washington—2006 24-Hour PM2.5 NAAQS
[Primary and secondary]
Designated area | Designation ᵃ: Date ¹ | Designation ᵃ: Type | Classification: Date ² | Classification: Type
Tacoma, WA:
Pierce County (part) |  | Nonattainment |  | Moderate.
Starting from where an extension of Kennedy Road Northeast would intersect Commencement Bay, proceed north to the intersection of Marine View Drive (State Route 509) and Kennedy Road Northeast. Proceed south on Marine View Drive to Hylebos Creek. Proceed south along Hylebos Creek to 12th Street East. Proceed east on 12th Street East to 70th Avenue East. Proceed south on 70th Avenue East to State Route 99 (S.R. 99). Proceed north on S.R. 99 0.1 mile north of Birch Street to a driveway to the east. Proceed east along the driveway and continue east along the same alignment to the Pierce County Line/Comprehensive Urban Growth Area (CUGA) boundary. Proceed east along the Pierce County Line/CUGA boundary to the eastern boundary of Edgewood. Proceed south along the eastern boundary of Edgewood to eastern boundary of the Sumner Urban Service Area. Proceed south along eastern boundary of the Sumner Urban Service Area to the eastern boundary of the Puyallup Urban Service Area. Proceed south along the eastern boundary of the Puyallup Urban Service Area to the eastern boundary of Puyallup/CUGA boundary. Proceed south and then west along the CUGA boundary to the eastern boundary of McChord Air Force Base. Proceed north along the eastern boundary of McChord Air Force Base to the northernmost point on the eastern boundary. Proceed from the northernmost point on the eastern boundary of McChord Air Force Base to the south right-of-way of S.R. 512. Proceed west along the south right-of-way of S.R. 512 to the south right-of-way of I-5. Proceed south along the south right-of-way to I-5 to the point opposite the boundary between Lakewood and Camp Murray. Proceed north across I-5 to the boundary between Lakewood and Camp Murray. Proceed north along the western boundary of Lakewood to the point where the western boundary coincides with the CUGA boundary. Proceed north along the CUGA boundary to the southern boundary of Point Defiance Park. Proceed east along the southern boundary of Point Defiance Park to Commencement Bay/CUGA boundary. Proceed southeast, then northeast, and finally northwest along the CUGA boundary to the starting point.
Rest of State:
Adams County |  | Unclassifiable/Attainment
Asotin County |  | Unclassifiable/Attainment |  |
Benton County |  | Unclassifiable/Attainment |  |
Clark County |  | Unclassifiable/Attainment |  |
Clallam County |  | Unclassifiable/Attainment |  |
Columbia County |  | Unclassifiable/Attainment
Cowlitz County |  | Unclassifiable/Attainment |  |
Douglas County |  | Unclassifiable/Attainment |  |
Ferry County |  | Unclassifiable/Attainment |  |
Franklin County |  | Unclassifiable/Attainment |  |
Garfield County |  | Unclassifiable/Attainment |  |
Grant County |  | Unclassifiable/Attainment |  |
Grays Harbor County |  | Unclassifiable/Attainment |  |
Island County |  | Unclassifiable/Attainment |  |
Jefferson County |  | Unclassifiable/Attainment |  |
King County |  | Unclassifiable/Attainment |  |
Kitsap County |  | Unclassifiable/Attainment |  |
Kittitas County |  | Unclassifiable/Attainment |  |
Klickitat County |  | Unclassifiable/Attainment |  |
Lincoln County |  | Unclassifiable/Attainment |  |
Mason County |  | Unclassifiable/Attainment |  |
Okanogan County |  | Unclassifiable/Attainment |  |
Pacific County |  | Unclassifiable/Attainment |  |
Pend Oreille County |  | Unclassifiable/Attainment |  |
Pierce County (remainder) |  | Unclassifiable/Attainment |  |
San Juan County |  | Unclassifiable/Attainment |  |
Skagit County |  | Unclassifiable/Attainment |  |
Skamania County |  | Unclassifiable/Attainment |  |
Snohomish County |  | Unclassifiable/Attainment |  |
Spokane County |  | Unclassifiable/Attainment |  |
Stevens County |  | Unclassifiable/Attainment |  |
Thurston County |  | Unclassifiable/Attainment |  |
Wahkiakum County |  | Unclassifiable/Attainment |  |
Walla Walla County |  | Unclassifiable/Attainment |  |
Whatcom County |  | Unclassifiable/Attainment |  |
Whitman County |  | Unclassifiable/Attainment |  |
Yakima County |  | Unclassifiable/Attainment |  |

ᵃIncludes Indian Country located in each county or area, except as otherwise specified.

¹This date is 30 days after November 13, 2009, unless otherwise noted.

²This date is July 2, 2034, unless otherwise noted.

* * * * *

50. Section 81.349 is amended as follows:

a. By removing the tables titled “West Virginia—PM2.5 (Annual NAAQS)” and “West Virginia—PM2.5 [24-hour NAAQS]”.

b. By adding three tables titled “West Virginia—1997 Annual PM2.5 NAAQS (Primary and Secondary)” and “West Virginia—1997 24-hour PM2.5 NAAQS (Primary and Secondary)” and “West Virginia—2006 24-hour PM2.5 NAAQS (Primary and Secondary)” before the table titled “West Virginia—NO2 (1971 Annual Standard)”.

The additions read as follows:

§ 81.349 West Virginia.

* * * * *

West Virginia—1997 Annual PM2.5 NAAQS
[Primary and secondary]
Designated area | Designationᵃ: Date¹ | Designationᵃ: Type | Classification: Date² | Classification: Type
Charleston, WV: |  |  |  |
Kanawha County |  | NonAttainment. |  | Moderate.
Putnam County |  | NonAttainment. |  | Moderate.
Huntington-Ashland, WV-KY-OH: |  |  |  |
Cabell County | 12/28/12 | Attainment. |  |
Mason County (part) | 12/28/12 | Attainment. |  |
Graham Tax District |  |  |  |
Wayne County | 12/28/12 | Attainment. |  |
Marion County, WV (aka Fairmont CBSA): |  |  |  |
Harrison County (part) |  |  |  |
Tax District of Clay |  | Unclassifiable/Attainment. |  |
Marion County |  | Unclassifiable/Attainment. |  |
Monongalia County (part) |  |  |  |
Tax District of Cass |  | Unclassifiable/Attainment. |  |
Martinsburg, WV-Hagerstown, MD: |  |  |  |
Berkeley County |  | NonAttainment. |  | Moderate.
Parkersburg-Marietta, WV-OH: |  |  |  |
Pleasants County (part) | 9/12/13 | Attainment. |  |
Tax District of Grant |  |  |  |
Wood County | 9/12/13 | Attainment. |  |
Steubenville-Weirton, OH-WV: |  |  |  |
Brooke County |  | NonAttainment. |  | Moderate.
Hancock County |  | NonAttainment. |  | Moderate.
Wheeling, WV-OH: |  |  |  |
Marshall County | 9/30/13 | Attainment. |  |
Ohio County | 9/30/13 | Attainment. |  |
Rest of State: |  |  |  |
Barbour County |  | Unclassifiable/Attainment. |  |
Boone County |  | Unclassifiable/Attainment. |  |
Braxton County |  | Unclassifiable/Attainment. |  |
Calhoun County |  | Unclassifiable/Attainment. |  |
Clay County |  | Unclassifiable/Attainment. |  |
Doddridge County |  | Unclassifiable/Attainment. |  |
Fayette County |  | Unclassifiable/Attainment. |  |
Gilmer County |  | Unclassifiable/Attainment. |  |
Grant County |  | Unclassifiable/Attainment. |  |
Greenbrier County |  | Unclassifiable/Attainment. |  |
Hampshire County |  | Unclassifiable/Attainment. |  |
Hardy County |  | Unclassifiable/Attainment. |  |
Harrison County (remainder) |  | Unclassifiable/Attainment. |  |
Jackson County |  | Unclassifiable/Attainment. |  |
Jefferson County |  | Unclassifiable/Attainment. |  |
Lewis County |  | Unclassifiable/Attainment. |  |
Lincoln County |  | Unclassifiable/Attainment. |  |
Logan County |  | Unclassifiable/Attainment. |  |
McDowell County |  | Unclassifiable/Attainment. |  |
Mason County (remainder) |  | Unclassifiable/Attainment. |  |
Mercer County |  | Unclassifiable/Attainment. |  |
Mineral County |  | Unclassifiable/Attainment. |  |
Mingo County |  | Unclassifiable/Attainment. |  |
Monongalia County (remainder) |  | Unclassifiable/Attainment. |  |
Monroe County |  | Unclassifiable/Attainment. |  |
Morgan County |  | Unclassifiable/Attainment. |  |
Nicholas County |  | Unclassifiable/Attainment. |  |
Pendleton County |  | Unclassifiable/Attainment. |  |
Pleasants County (remainder) |  | Unclassifiable/Attainment. |  |
Pocahontas County |  | Unclassifiable/Attainment. |  |
Preston County |  | Unclassifiable/Attainment. |  |
Raleigh County |  | Unclassifiable/Attainment. |  |
Randolph County |  | Unclassifiable/Attainment. |  |
Ritchie County |  | Unclassifiable/Attainment. |  |
Roane County |  | Unclassifiable/Attainment. |  |
Summers County |  | Unclassifiable/Attainment. |  |
Taylor County |  | Unclassifiable/Attainment. |  |
Tucker County |  | Unclassifiable/Attainment. |  |
Tyler County |  | Unclassifiable/Attainment. |  |
Upshur County |  | Unclassifiable/Attainment. |  |
Webster County |  | Unclassifiable/Attainment. |  |
Wetzel County |  | Unclassifiable/Attainment. |  |
Wirt County |  | Unclassifiable/Attainment. |  |
Wyoming County |  | Unclassifiable/Attainment. |  |
ᵃIncludes Indian Country located in each county or area, except as otherwise specified.
¹This date is 90 days after January 5, 2005, unless otherwise noted.
²This date is July 2, 2034, unless otherwise noted.

West Virginia—1997 24-Hour PM2.5 NAAQS
(Primary and Secondary)
Designated area | Designationᵃ: Date¹ | Designationᵃ: Type | Classification: Date | Classification: Type
Charleston, WV: |  |  |  |
Kanawha County |  | Unclassifiable/Attainment. |  |
Putnam County |  | Unclassifiable/Attainment. |  |
Steubenville-Weirton, OH-WV: |  |  |  |
Brooke County |  | Unclassifiable/Attainment. |  |
Hancock County |  | Unclassifiable/Attainment. |  |
Rest of State: |  |  |  |
Barbour County |  | Unclassifiable/Attainment. |  |
Berkley County |  | Unclassifiable/Attainment. |  |
Boone County |  | Unclassifiable/Attainment. |  |
Braxton County |  | Unclassifiable/Attainment. |  |
Cabell County |  | Unclassifiable/Attainment. |  |
Calhoun County |  | Unclassifiable/Attainment. |  |
Clay County |  | Unclassifiable/Attainment. |  |
Doddridge County |  | Unclassifiable/Attainment. |  |
Fayette County |  | Unclassifiable/Attainment. |  |
Gilmer County |  | Unclassifiable/Attainment. |  |
Grant County |  | Unclassifiable/Attainment. |  |
Greenbrier County |  | Unclassifiable/Attainment. |  |
Hampshire County |  | Unclassifiable/Attainment. |  |
Hardy County |  | Unclassifiable/Attainment. |  |
Harrison County |  | Unclassifiable/Attainment. |  |
Jackson County |  | Unclassifiable/Attainment. |  |
Jefferson County |  | Unclassifiable/Attainment. |  |
Lewis County |  | Unclassifiable/Attainment. |  |
Lincoln County |  | Unclassifiable/Attainment. |  |
Logan County |  | Unclassifiable/Attainment. |  |
McDowell County |  | Unclassifiable/Attainment. |  |
Mason County |  | Unclassifiable/Attainment. |  |
Marion County |  | Unclassifiable/Attainment. |  |
Marshall County |  | Unclassifiable/Attainment. |  |
Mercer County |  | Unclassifiable/Attainment. |  |
Mineral County |  | Unclassifiable/Attainment. |  |
Mingo County |  | Unclassifiable/Attainment. |  |
Monongalia County |  | Unclassifiable/Attainment. |  |
Monroe County |  | Unclassifiable/Attainment. |  |
Morgan County |  | Unclassifiable/Attainment. |  |
Nicholas County |  | Unclassifiable/Attainment. |  |
Ohio County |  | Unclassifiable/Attainment. |  |
Pendleton County |  | Unclassifiable/Attainment. |  |
Pleasants County |  | Unclassifiable/Attainment. |  |
Pocahontas County |  | Unclassifiable/Attainment. |  |
Preston County |  | Unclassifiable/Attainment. |  |
Raleigh County |  | Unclassifiable/Attainment. |  |
Randolph County |  | Unclassifiable/Attainment. |  |
Ritchie County |  | Unclassifiable/Attainment. |  |
Roane County |  | Unclassifiable/Attainment. |  |
Summers County |  | Unclassifiable/Attainment. |  |
Taylor County |  | Unclassifiable/Attainment. |  |
Tucker County |  | Unclassifiable/Attainment. |  |
Tyler County |  | Unclassifiable/Attainment. |  |
Upshur County |  | Unclassifiable/Attainment. |  |
Wayne County |  | Unclassifiable/Attainment. |  |
Webster County |  | Unclassifiable/Attainment. |  |
Wetzel County |  | Unclassifiable/Attainment. |  |
Wirt County |  | Unclassifiable/Attainment. |  |
Wood County |  | Unclassifiable/Attainment. |  |
Wyoming County |  | Unclassifiable/Attainment. |  |
ᵃ Includes Indian Country located in each county or area, except as otherwise specified.
¹ This date is 90 days after January 5, 2005, unless otherwise noted.

West Virginia—2006 24-Hour PM2.5 NAAQS
[Primary and secondary]
Designated area | Designation ᵃ: Date ¹ | Designation ᵃ: Type | Classification: Date ² | Classification: Type
Charleston, WV:
Kanawha County |  | Nonattainment |  | Moderate.
Putnam County |  | Nonattainment |  | Moderate.
Steubenville-Weirton, OH-WV:
Brooke County |  | Nonattainment |  | Moderate.
Hancock County |  | Nonattainment |  | Moderate.
Rest of State:
Barbour County |  | Unclassifiable/Attainment. |  |
Berkley County |  | Unclassifiable/Attainment. |  |
Boone County |  | Unclassifiable/Attainment. |  |
Braxton County |  | Unclassifiable/Attainment. |  |
Cabell County |  | Unclassifiable/Attainment. |  |
Calhoun County |  | Unclassifiable/Attainment. |  |
Clay County |  | Unclassifiable/Attainment. |  |
Doddridge County |  | Unclassifiable/Attainment. |  |
Fayette County |  | Unclassifiable/Attainment. |  |
Gilmer County |  | Unclassifiable/Attainment. |  |
Grant County |  | Unclassifiable/Attainment. |  |
Greenbrier County |  | Unclassifiable/Attainment. |  |
Hampshire County |  | Unclassifiable/Attainment. |  |
Hardy County |  | Unclassifiable/Attainment. |  |
Harrison County |  | Unclassifiable/Attainment. |  |
Jackson County |  | Unclassifiable/Attainment. |  |
Jefferson County |  | Unclassifiable/Attainment. |  |
Lewis County |  | Unclassifiable/Attainment. |  |
Lincoln County |  | Unclassifiable/Attainment. |  |
Logan County |  | Unclassifiable/Attainment. |  |
McDowell County |  | Unclassifiable/Attainment. |  |
Mason County |  | Unclassifiable/Attainment. |  |
Marion County |  | Unclassifiable/Attainment. |  |
Marshall County |  | Unclassifiable/Attainment. |  |
Mercer County |  | Unclassifiable/Attainment. |  |
Mineral County |  | Unclassifiable/Attainment. |  |
Mingo County |  | Unclassifiable/Attainment. |  |
Monongalia County |  | Unclassifiable/Attainment. |  |
Monroe County |  | Unclassifiable/Attainment. |  |
Morgan County |  | Unclassifiable/Attainment. |  |
Nicholas County |  | Unclassifiable/Attainment. |  |
Ohio County |  | Unclassifiable/Attainment. |  |
Pendleton County |  | Unclassifiable/Attainment. |  |
Pleasants County |  | Unclassifiable/Attainment. |  |
Pocahontas County |  | Unclassifiable/Attainment. |  |
Preston County |  | Unclassifiable/Attainment. |  |
Raleigh County |  | Unclassifiable/Attainment. |  |
Randolph County |  | Unclassifiable/Attainment. |  |
Ritchie County |  | Unclassifiable/Attainment. |  |
Roane County |  | Unclassifiable/Attainment. |  |
Summers County |  | Unclassifiable/Attainment. |  |
Taylor County |  | Unclassifiable/Attainment. |  |
Tucker County |  | Unclassifiable/Attainment. |  |
Tyler County |  | Unclassifiable/Attainment. |  |
Upshur County |  | Unclassifiable/Attainment. |  |
Wayne County |  | Unclassifiable/Attainment. |  |
Webster County |  | Unclassifiable/Attainment. |  |
Wetzel County |  | Unclassifiable/Attainment. |  |
Wirt County |  | Unclassifiable/Attainment. |  |
Wood County |  | Unclassifiable/Attainment. |  |
Wyoming County |  | Unclassifiable/Attainment. |  |
ᵃ Includes Indian Country located in each county or area, except as otherwise specified.
¹ This date is 30 days after November 13, 2009, unless otherwise noted.
² This date is July 2, 2014, unless otherwise noted.

* * * * *

51. Section 81.350 is amended as follows:

a. By removing the tables titled “Wisconsin—PM2.5 (Annual NAAQS)” and “Wisconsin—PM2.5 [24-hour NAAQS]”.

b. By adding three tables titled “Wisconsin—1997 Annual PM2.5 NAAQS (Primary and Secondary)” and “Wisconsin—1997 24-hour PM2.5 NAAQS (Primary and Secondary)” and “Wisconsin—2006 24-hour PM2.5 NAAQS (Primary and Secondary)” before the table titled “Wisconsin—NO2 (1971 Annual Standard)”.

The additions read as follows:

§ 81.350 Wisconsin.

* * * * *

Wisconsin—1997 Annual PM2.5 NAAQS
[Primary and secondary]
Designated area | Designation ᵃ: Date ¹ | Designation ᵃ: Type | Classification: Date ² | Classification: Type
Statewide: |  |  |  |
Adams County |  | Unclassifiable/Attainment. |  |
Ashland County |  | Unclassifiable/Attainment. |  |
Barron County |  | Unclassifiable/Attainment. |  |
Bayfield County |  | Unclassifiable/Attainment. |  |
Brown County |  | Unclassifiable/Attainment. |  |
Buffalo County |  | Unclassifiable/Attainment. |  |
Burnett County |  | Unclassifiable/Attainment. |  |
Calumet County |  | Unclassifiable/Attainment. |  |
Chippewa County |  | Unclassifiable/Attainment. |  |
Clark County |  | Unclassifiable/Attainment. |  |
Columbia County |  | Unclassifiable/Attainment. |  |
Crawford County |  | Unclassifiable/Attainment. |  |
Dane County |  | Unclassifiable/Attainment. |  |
Dodge County |  | Unclassifiable/Attainment. |  |
Door County |  | Unclassifiable/Attainment. |  |
Douglas County |  | Unclassifiable/Attainment. |  |
Dunn County |  | Unclassifiable/Attainment. |  |
Eau Claire County |  | Unclassifiable/Attainment. |  |
Florence County |  | Unclassifiable/Attainment. |  |
Fond du Lac County |  | Unclassifiable/Attainment. |  |
Forest County |  | Unclassifiable/Attainment. |  |
Grant County |  | Unclassifiable/Attainment. |  |
Green County |  | Unclassifiable/Attainment. |  |
Green Lake County |  | Unclassifiable/Attainment. |  |
Iowa County |  | Unclassifiable/Attainment. |  |
Iron County |  | Unclassifiable/Attainment. |  |
Jackson County |  | Unclassifiable/Attainment. |  |
Jefferson County |  | Unclassifiable/Attainment. |  |
Juneau County |  | Unclassifiable/Attainment. |  |
Kenosha County |  | Unclassifiable/Attainment. |  |
Kewaunee County |  | Unclassifiable/Attainment. |  |
La Crosse County |  | Unclassifiable/Attainment. |  |
Lafayette County |  | Unclassifiable/Attainment. |  |
Langlade County |  | Unclassifiable/Attainment. |  |
Lincoln County |  | Unclassifiable/Attainment. |  |
Manitowoc County |  | Unclassifiable/Attainment. |  |
Marathon County |  | Unclassifiable/Attainment. |  |
Marinette County |  | Unclassifiable/Attainment. |  |
Marquette County |  | Unclassifiable/Attainment. |  |
Menominee County |  | Unclassifiable/Attainment. |  |
Milwaukee County |  | Unclassifiable/Attainment. |  |
Monroe County |  | Unclassifiable/Attainment. |  |
Oconto County |  | Unclassifiable/Attainment. |  |
Oneida County |  | Unclassifiable/Attainment. |  |
Outagamie County |  | Unclassifiable/Attainment. |  |
Ozaukee County |  | Unclassifiable/Attainment. |  |
Pepin County |  | Unclassifiable/Attainment. |  |
Pierce County |  | Unclassifiable/Attainment. |  |
Polk County |  | Unclassifiable/Attainment. |  |
Portage County |  | Unclassifiable/Attainment. |  |
Price County |  | Unclassifiable/Attainment. |  |
Racine County |  | Unclassifiable/Attainment. |  |
Richland County |  | Unclassifiable/Attainment. |  |
Rock County |  | Unclassifiable/Attainment. |  |
Rusk County |  | Unclassifiable/Attainment. |  |
St. Croix County |  | Unclassifiable/Attainment. |  |
Sauk County |  | Unclassifiable/Attainment. |  |
Sawyer County |  | Unclassifiable/Attainment. |  |
Shawano County |  | Unclassifiable/Attainment. |  |
Sheboygan County |  | Unclassifiable/Attainment. |  |
Taylor County |  | Unclassifiable/Attainment. |  |
Trempealeau County |  | Unclassifiable/Attainment. |  |
Vernon County |  | Unclassifiable/Attainment. |  |
Vilas County |  | Unclassifiable/Attainment. |  |
Walworth County |  | Unclassifiable/Attainment. |  |
Washburn County |  | Unclassifiable/Attainment. |  |
Washington County |  | Unclassifiable/Attainment. |  |
Waukesha County |  | Unclassifiable/Attainment. |  |
Waupaca County |  | Unclassifiable/Attainment. |  |
Waushara County |  | Unclassifiable/Attainment. |  |
Winnebago County |  | Unclassifiable/Attainment. |  |
Wood County |  | Unclassifiable/Attainment. |  |
ᵃ Includes Indian Country located in each county or area, except as otherwise specified.
¹ This date is 90 days after January 5, 2005, unless otherwise noted.

Wisconsin—1997 24-Hour PM2.5 NAAQS
[Primary and secondary]
Designated area | Designation ᵃ: Date ¹ | Designation ᵃ: Type | Classification: Date ² | Classification: Type
Milwaukee-Racine, WI: |  |  |  |
Milwaukee County |  | Unclassifiable/Attainment. |  |
Racine County |  | Unclassifiable/Attainment. |  |
Waukesha County |  | Unclassifiable/Attainment. |  |
Rest of State: |  |  |  |
Adams County |  | Unclassifiable/Attainment. |  |
Ashland County |  | Unclassifiable/Attainment. |  |
Barron County |  | Unclassifiable/Attainment. |  |
Bayfield County |  | Unclassifiable/Attainment. |  |
Brown County |  | Unclassifiable/Attainment. |  |
Buffalo County |  | Unclassifiable/Attainment. |  |
Burnett County |  | Unclassifiable/Attainment. |  |
Calumet County |  | Unclassifiable/Attainment. |  |
Chippewa County |  | Unclassifiable/Attainment. |  |
Clark County |  | Unclassifiable/Attainment. |  |
Columbia County |  | Unclassifiable/Attainment. |  |
Crawford County |  | Unclassifiable/Attainment. |  |
Dane County |  | Unclassifiable/Attainment. |  |
Dodge County |  | Unclassifiable/Attainment. |  |
Door County |  | Unclassifiable/Attainment. |  |
Douglas County |  | Unclassifiable/Attainment. |  |
Dunn County |  | Unclassifiable/Attainment. |  |
Eau Claire County |  | Unclassifiable/Attainment. |  |
Florence County |  | Unclassifiable/Attainment. |  |
Fond du Lac County |  | Unclassifiable/Attainment. |  |
Forest County |  | Unclassifiable/Attainment. |  |
Grant County |  | Unclassifiable/Attainment. |  |
Green County |  | Unclassifiable/Attainment. |  |
Green Lake County |  | Unclassifiable/Attainment. |  |
Iowa County |  | Unclassifiable/Attainment. |  |
Iron County |  | Unclassifiable/Attainment. |  |
Jackson County |  | Unclassifiable/Attainment. |  |
Jefferson County |  | Unclassifiable/Attainment. |  |
Juneau County |  | Unclassifiable/Attainment. |  |
Kenosha County |  | Unclassifiable/Attainment. |  |
Kewaunee County |  | Unclassifiable/Attainment. |  |
La Crosse County |  | Unclassifiable/Attainment. |  |
Lafayette County |  | Unclassifiable/Attainment. |  |
Langlade County |  | Unclassifiable/Attainment. |  |
Lincoln County |  | Unclassifiable/Attainment. |  |
Manitowoc County |  | Unclassifiable/Attainment. |  |
Marathon County |  | Unclassifiable/Attainment. |  |
Marinette County |  | Unclassifiable/Attainment. |  |
Marquette County |  | Unclassifiable/Attainment. |  |
Menominee County |  | Unclassifiable/Attainment. |  |
Monroe County |  | Unclassifiable/Attainment. |  |
Oconto County |  | Unclassifiable/Attainment. |  |
Oneida County |  | Unclassifiable/Attainment. |  |
Outagamie County |  | Unclassifiable/Attainment. |  |
Ozaukee County |  | Unclassifiable/Attainment. |  |
Pepin County |  | Unclassifiable/Attainment. |  |
Pierce County |  | Unclassifiable/Attainment. |  |
Polk County |  | Unclassifiable/Attainment. |  |
Portage County |  | Unclassifiable/Attainment. |  |
Price County |  | Unclassifiable/Attainment. |  |
Richland County |  | Unclassifiable/Attainment. |  |
Rock County |  | Unclassifiable/Attainment. |  |
Rusk County |  | Unclassifiable/Attainment. |  |
St. Croix County |  | Unclassifiable/Attainment. |  |
Sauk County |  | Unclassifiable/Attainment. |  |
Sawyer County |  | Unclassifiable/Attainment. |  |
Shawano County |  | Unclassifiable/Attainment. |  |
Sheboygan County |  | Unclassifiable/Attainment. |  |
Taylor County |  | Unclassifiable/Attainment. |  |
Trempealeau County |  | Unclassifiable/Attainment. |  |
Vernon County |  | Unclassifiable/Attainment. |  |
Vilas County |  | Unclassifiable/Attainment. |  |
Walworth County |  | Unclassifiable/Attainment. |  |
Washburn County |  | Unclassifiable/Attainment. |  |
Washington County |  | Unclassifiable/Attainment. |  |
Waupaca County |  | Unclassifiable/Attainment. |  |
Waushara County |  | Unclassifiable/Attainment. |  |
Winnebago County |  | Unclassifiable/Attainment. |  |
Wood County |  | Unclassifiable/Attainment. |  |
ᵃ Includes Indian Country located in each county or area, except as otherwise specified.
¹ This date is 90 days after January 5, 2005, unless otherwise noted.

Wisconsin—2006 24-Hour PM2.5 NAAQS
[Primary and secondary]
Designated area | Designation ᵃ: Date ¹ | Designation ᵃ: Type | Classification: Date ² | Classification: Type
Milwaukee-Racine, WI:
Milwaukee County |  | Nonattainment. |  | Moderate.
Racine County |  | Nonattainment. |  | Moderate.
Waukesha County |  | Nonattainment. |  | Moderate.
Rest of State:
Adams County |  | Unclassifiable/Attainment.
Ashland County |  | Unclassifiable/Attainment.
Barron County |  | Unclassifiable/Attainment.
Bayfield County |  | Unclassifiable/Attainment.
Brown County |  | Unclassifiable/Attainment.
Buffalo County |  | Unclassifiable/Attainment.
Burnett County |  | Unclassifiable/Attainment.
Calumet County |  | Unclassifiable/Attainment.
Chippewa County |  | Unclassifiable/Attainment.
Clark County |  | Unclassifiable/Attainment.
Columbia County |  | Unclassifiable/Attainment.
Crawford County |  | Unclassifiable/Attainment.
Dane County |  | Unclassifiable/Attainment.
Dodge County |  | Unclassifiable/Attainment.
Door County |  | Unclassifiable/Attainment.
Douglas County |  | Unclassifiable/Attainment.
Dunn County |  | Unclassifiable/Attainment.
Eau Claire County |  | Unclassifiable/Attainment.
Florence County |  | Unclassifiable/Attainment.
Fond du Lac County |  | Unclassifiable/Attainment.
Forest County |  | Unclassifiable/Attainment.
Grant County |  | Unclassifiable/Attainment.
Green County |  | Unclassifiable/Attainment.
Green Lake County |  | Unclassifiable/Attainment.
Iowa County |  | Unclassifiable/Attainment.
Iron County |  | Unclassifiable/Attainment.
Jackson County |  | Unclassifiable/Attainment.
Jefferson County |  | Unclassifiable/Attainment.
Juneau County |  | Unclassifiable/Attainment.
Kenosha County |  | Unclassifiable/Attainment.
Kewaunee County |  | Unclassifiable/Attainment.
La Crosse County |  | Unclassifiable/Attainment.
Lafayette County |  | Unclassifiable/Attainment.
Langlade County |  | Unclassifiable/Attainment.
Lincoln County |  | Unclassifiable/Attainment.
Manitowoc County |  | Unclassifiable/Attainment.
Marathon County |  | Unclassifiable/Attainment.
Marinette County |  | Unclassifiable/Attainment.
Marquette County |  | Unclassifiable/Attainment.
Menominee County |  | Unclassifiable/Attainment.
Monroe County |  | Unclassifiable/Attainment.
Oconto County |  | Unclassifiable/Attainment.
Oneida County |  | Unclassifiable/Attainment.
Outagamie County |  | Unclassifiable/Attainment.
Ozaukee County |  | Unclassifiable/Attainment.
Pepin County |  | Unclassifiable/Attainment.
Pierce County |  | Unclassifiable/Attainment.
Polk County |  | Unclassifiable/Attainment.
Portage County |  | Unclassifiable/Attainment.
Price County |  | Unclassifiable/Attainment.
Richland County |  | Unclassifiable/Attainment.
Rock County |  | Unclassifiable/Attainment.
Rusk County |  | Unclassifiable/Attainment.
St. Croix County |  | Unclassifiable/Attainment.
Sauk County |  | Unclassifiable/Attainment.
Sawyer County |  | Unclassifiable/Attainment.
Shawano County |  | Unclassifiable/Attainment.
Sheboygan County |  | Unclassifiable/Attainment.
Taylor County |  | Unclassifiable/Attainment.
Trempealeau County |  | Unclassifiable/Attainment.
Vernon County |  | Unclassifiable/Attainment.
Vilas County |  | Unclassifiable/Attainment.
Walworth County |  | Unclassifiable/Attainment.
Washburn County |  | Unclassifiable/Attainment.
Washington County |  | Unclassifiable/Attainment.
Waupaca County |  | Unclassifiable/Attainment.
Waushara County |  | Unclassifiable/Attainment.
Winnebago County |  | Unclassifiable/Attainment.
Wood County |  | Unclassifiable/Attainment.
ᵃ Includes Indian Country located in each county or area, except as otherwise specified.
¹ This date is 30 days after November 13, 2009, unless otherwise noted.
² This date is July 2, 2014, unless otherwise noted.

* * * * *

52. Section 81.351 is amended as follows:

a. By removing the tables titled “Wyoming—PM2.5 (Annual NAAQS)” and “Wyoming—PM2.5 [24-hour NAAQS]”.

b. By adding three tables titled “Wyoming—1997 Annual PM2.5 NAAQS (Primary and Secondary)” and “Wyoming—1997 24-hour PM2.5 NAAQS (Primary and Secondary)” and “Wyoming—2006 24-hour PM2.5 NAAQS (Primary and Secondary)” before the table titled “Wyoming—NO2 (1971 Annual Standard)”.

The additions read as follows:

§ 81.351 Wyoming.

* * * * *

Wyoming—1997 Annual PM2.5 NAAQS
[Primary and secondary]
Designated area | Designation ᵃ: Date ¹ | Designation ᵃ: Type | Classification: Date | Classification: Type
Casper, WY:
Natrona County (part) |  | Unclassifiable/Attainment.
The portion within the City of Casper.
Cheyenne, WY:
Laramie County (part) |  | Unclassifiable/Attainment.
The portion within the City of Cheyenne.
Evanston, WY:
Uinta County (part) |  | Unclassifiable/Attainment.
The portion within the City of Evanston.
Gillette, WY:
Campbell County (part) |  | Unclassifiable/Attainment.
The portion within the City of Gillette.
Jackson, WY:
Teton County (part) |  | Unclassifiable/Attainment.
The portion within the City of Jackson.
Lander, WY:
Fremont County (part) |  | Unclassifiable/Attainment.
The portion within the City of Lander.
Laramie, WY:
Albany County (part) |  | Unclassifiable/Attainment.
The portion within the City of Laramie.
Riverton, WY:
Fremont County (part) |  | Unclassifiable/Attainment.
The portion within the City of Riverton.
Rock Springs, WY:
Sweetwater County (part) |  | Unclassifiable/Attainment.
The portion within the City of Rock Springs.
Sheridan, WY:
Sheridan County (part) |  | Unclassifiable/Attainment.
The portion within the City of Sheridan.
Rest of State:
Albany County (remainder) |  | Unclassifiable/Attainment.
Big Horn County |  | Unclassifiable/Attainment.
Campbell County |  | Unclassifiable/Attainment.
Carbon County |  | Unclassifiable/Attainment.
Converse County |  | Unclassifiable/Attainment.
Crook County |  | Unclassifiable/Attainment.
Fremont County (remainder) |  | Unclassifiable/Attainment.
Goshen County |  | Unclassifiable/Attainment.
Hot Springs County |  | Unclassifiable/Attainment.
Johnson County |  | Unclassifiable/Attainment.
Laramie County (remainder) |  | Unclassifiable/Attainment.
Lincoln County |  | Unclassifiable/Attainment.
Natrona County (remainder) |  | Unclassifiable/Attainment.
Niobrara County |  | Unclassifiable/Attainment.
Park County |  | Unclassifiable/Attainment.
Platte County |  | Unclassifiable/Attainment.
Sheridan County (remainder) |  | Unclassifiable/Attainment.
Sublette County |  | Unclassifiable/Attainment.
Sweetwater County |  | Unclassifiable/Attainment.
Teton County (remainder) |  | Unclassifiable/Attainment.
Uinta County (remainder) |  | Unclassifiable/Attainment.
Washakie County |  | Unclassifiable/Attainment.
Weston County |  | Unclassifiable/Attainment.
ᵃ Includes Indian Country located in each county or area, except as otherwise specified.
¹ This date is 90 days after January 5, 2005, unless otherwise noted.

Wyoming—1997 24-Hour PM2.5 NAAQS
[Primary and secondary]
Designated area | Designation ᵃ: Date ¹ | Designation ᵃ: Type | Classification: Date | Classification: Type
Casper, WY:
Natrona County (part) |  | Unclassifiable/Attainment
The portion within the City of Casper.
Cheyenne, WY:
Laramie County (part) |  | Unclassifiable/Attainment
The portion within the City of Cheyenne.
Evanston, WY:
Uinta County (part) |  | Unclassifiable/Attainment
The portion within the City of Evanston.
Gillette, WY:
Campbell County (part) |  | Unclassifiable/Attainment
The portion within the City of Gillette.
Jackson, WY:
Teton County (part) |  | Unclassifiable/Attainment
The portion within the City of Jackson.
Lander, WY:
Fremont County (part) |  | Unclassifiable/Attainment
The portion within the City of Lander.
Laramie, WY:
Albany County (part) |  | Unclassifiable/Attainment
The portion within the City of Laramie.
Riverton, WY:
Fremont County (part) |  | Unclassifiable/Attainment
The portion within the City of Riverton.
Rock Springs, WY:
Sweetwater County (part) |  | Unclassifiable/Attainment
The portion within the City of Rock Springs.
Sheridan, WY:
Sheridan County (part) |  | Unclassifiable/Attainment
The portion within the City of Sheridan.
Rest of State:
Albany County (remainder) |  | Unclassifiable/Attainment
Big Horn County |  | Unclassifiable/Attainment
Campbell County |  | Unclassifiable/Attainment
Carbon County |  | Unclassifiable/Attainment
Converse County |  | Unclassifiable/Attainment
Crook County |  | Unclassifiable/Attainment
Fremont County (remainder) |  | Unclassifiable/Attainment
Goshen County |  | Unclassifiable/Attainment
Hot Springs County |  | Unclassifiable/Attainment
Johnson County |  | Unclassifiable/Attainment
Laramie County (remainder) |  | Unclassifiable/Attainment
Lincoln County |  | Unclassifiable/Attainment
Natrona County (remainder) |  | Unclassifiable/Attainment
Niobrara County |  | Unclassifiable/Attainment
Park County |  | Unclassifiable/Attainment
Platte County |  | Unclassifiable/Attainment
Sheridan County (remainder) |  | Unclassifiable/Attainment
Sublette County |  | Unclassifiable/Attainment
Sweetwater County |  | Unclassifiable/Attainment
Teton County (remainder) |  | Unclassifiable/Attainment
Uinta County (remainder) |  | Unclassifiable/Attainment
Washakie County |  | Unclassifiable/Attainment
Weston County |  | Unclassifiable/Attainment
ᵃ Includes Indian Country located in each county or area, except as otherwise specified.
¹ This date is 90 days after January 5, 2005, unless otherwise noted.

Wyoming—2006 24-Hour PM2.5 NAAQS
[Primary and secondary]
Designated area | Designation ᵃ: Date ¹ | Designation ᵃ: Type | Classification: Date | Classification: Type
Casper, WY:
Natrona County (part) |  | Unclassifiable/Attainment
The portion within the City of Casper.
Cheyenne, WY:
Laramie County (part) |  | Unclassifiable/Attainment
The portion within the City of Cheyenne.
Evanston, WY:
Uinta County (part) |  | Unclassifiable/Attainment
The portion within the City of Evanston.
Gillette, WY:
Campbell County (part) |  | Unclassifiable/Attainment
The portion within the City of Gillette.
Jackson, WY:
Teton County (part) |  | Unclassifiable/Attainment
The portion within the City of Jackson.
Lander, WY:
Fremont County (part) |  | Unclassifiable/Attainment
The portion within the City of Lander.
Laramie, WY:
Albany County (part) |  | Unclassifiable/Attainment
The portion within the City of Laramie.
Riverton, WY:
Fremont County (part) |  | Unclassifiable/Attainment
The portion within the City of Riverton.
Rock Springs, WY:
Sweetwater County (part) |  | Unclassifiable/Attainment
The portion within the City of Rock Springs.
Sheridan, WY:
Sheridan County (part) |  | Unclassifiable/Attainment
The portion within the City of Sheridan.
Rest of State:
Albany County (remainder) |  | Unclassifiable/Attainment
Big Horn County |  | Unclassifiable/Attainment
Campbell County |  | Unclassifiable/Attainment
Carbon County |  | Unclassifiable/Attainment
Converse County |  | Unclassifiable/Attainment
Crook County |  | Unclassifiable/Attainment
Fremont County (remainder) |  | Unclassifiable/Attainment
Goshen County |  | Unclassifiable/Attainment
Hot Springs County |  | Unclassifiable/Attainment
Johnson County |  | Unclassifiable/Attainment
Laramie County (remainder) |  | Unclassifiable/Attainment
Lincoln County |  | Unclassifiable/Attainment
Natrona County (remainder) |  | Unclassifiable/Attainment
Niobrara County |  | Unclassifiable/Attainment
Park County |  | Unclassifiable/Attainment
Platte County |  | Unclassifiable/Attainment
Sheridan County (remainder) |  | Unclassifiable/Attainment
Sublette County |  | Unclassifiable/Attainment
Sweetwater County |  | Unclassifiable/Attainment
Teton County (remainder) |  | Unclassifiable/Attainment
Uinta County (remainder) |  | Unclassifiable/Attainment.
Washakie County |  | Unclassifiable/Attainment
Weston County |  | Unclassifiable/Attainment
ᵃ Includes Indian Country located in each county or area, except as otherwise specified.
¹ This date is 30 days after November 13, 2009, unless otherwise noted.

* * * * *

53. Section 81.352 is amended as follows:

a. By removing the tables titled “American Samoa—PM2.5 (Annual NAAQS)” and “American Samoa—PM2.5 [24-hour NAAQS]”.

b. By adding three tables titled “American Samoa—1997 Annual PM2.5 NAAQS (Primary and Secondary)” and “American Samoa—1997 24-hour PM2.5 NAAQS (Primary and Secondary)” and “American Samoa—2006 24-hour PM2.5 NAAQS (Primary and Secondary)” before the table titled “American Samoa—NO2 (1971 Annual Standard)”.

The additions read as follows:

§ 81.352 American Samoa.

* * * * *

American Samoa—1997 Annual PM2.5 NAAQS
[Primary and secondary]
Designated area | Designation ᵃ: Date ¹ | Designation ᵃ: Type | Classification: Date | Classification: Type
Territory wide:
Eastern District |  | Unclassifiable/Attainment.
Manu`a District |  | Unclassifiable/Attainment.
Rose Island |  | Unclassifiable/Attainment.
Swains Island |  | Unclassifiable/Attainment.
Western District |  | Unclassifiable/Attainment.
ᵃ Includes Indian Country located in each county or area, except as otherwise specified.
¹ This date is 90 days after January 5, 2005, unless otherwise noted.

American Samoa—1997 24-Hour PM2.5 NAAQS
[Primary and secondary]
Designated area | Designation ᵃ: Date ¹ | Designation ᵃ: Type | Classification: Date | Classification: Type
Territory wide:
Eastern District |  | Unclassifiable/Attainment. |  |
Manu`a District |  | Unclassifiable/Attainment. |  |
Rose Island |  | Unclassifiable/Attainment. |  |
Swains Island |  | Unclassifiable/Attainment. |  |
Western District |  | Unclassifiable/Attainment. |  |
ᵃ Includes Indian Country located in each county or area, except as otherwise specified.
¹ This date is 90 days after January 5, 2005, unless otherwise noted.

American Samoa—2006 24-Hour PM2.5 NAAQS
[Primary and secondary]
Designated area | Designation ᵃ: Date ¹ | Designation ᵃ: Type | Classification: Date | Classification: Type
Territory wide:
Eastern District |  | Unclassifiable/Attainment. |  |
Manu`a District |  | Unclassifiable/Attainment. |  |
Rose Island |  | Unclassifiable/Attainment. |  |
Swains Island |  | Unclassifiable/Attainment. |  |
Western District |  | Unclassifiable/Attainment. |  |
ᵃ Includes Indian Country located in each county or area, except as otherwise specified.
¹ This date is 30 days after November 13, 2009, unless otherwise noted.

* * * * *

54. Section 81.353 is amended as follows:

a. By removing the tables titled “Guam—PM2.5 (Annual NAAQS)” and “Guam—PM2.5 [24-hour NAAQS]”.

b. By adding three tables titled “Guam—1997 Annual PM2.5 NAAQS (Primary and Secondary)” and “Guam—1997 24-hour PM2.5 NAAQS (Primary and Secondary)” and “Guam—2006 24-hour PM2.5 NAAQS (Primary and Secondary)” before the table titled “Guam—NO2 (1971 Annual Standard)”.

The additions read as follows:

§ 81.353 Guam.

* * * * *

Guam—1997 Annual PM2.5 NAAQS
[Primary and secondary]
Designated area | Designation ᵃ: Date ¹ | Designation ᵃ: Type | Classification: Date | Classification: Type
Territory wide:
Guam |  | Unclassifiable/Attainment. |  |
ᵃ Includes Indian Country located in each county or area, except as otherwise specified.
¹ This date is 90 days after January 5, 2005, unless otherwise noted.

Guam—1997 24-Hour PM2.5 NAAQS
[Primary and secondary]
Designated area | Designation ᵃ: Date ¹ | Designation ᵃ: Type | Classification: Date | Classification: Type
Territory wide:
Guam |  | Unclassifiable/Attainment. |  |
ᵃ Includes Indian Country located in each county or area, except as otherwise specified.
¹ This date is 90 days after January 5, 2005, unless otherwise noted.

Guam—2006 24-Hour PM2.5 NAAQS
[Primary and secondary]
Designated area | Designation ᵃ: Date ¹ | Designation ᵃ: Type | Classification: Date | Classification: Type
Territory wide:
Guam |  | Unclassifiable/Attainment. |  |
ᵃ Includes Indian Country located in each county or area, except as otherwise specified.
¹ This date is 30 days after November 13, 2009, unless otherwise noted.

* * * * *

55. Section 81.354 is amended as follows:

a. By removing the tables titled “Northern Mariana Islands—PM2.5 (Annual NAAQS)” and “Northern Mariana Islands—PM2.5 [24-hour NAAQS]”.

b. By adding three tables titled “Northern Mariana Islands—1997 Annual PM2.5 NAAQS (Primary and Secondary)” and “Northern Mariana Islands—1997 24-hour PM2.5 NAAQS (Primary and Secondary)” and “Northern Mariana Islands—2006 24-hour PM2.5 NAAQS (Primary and Secondary)” before the table titled “Northern Mariana Islands—NO2 (1971 Annual Standard)”.

The additions read as follows:

§ 81.354 Northern Mariana Islands.

* * * * *

Northern Mariana Islands—1997 Annual PM2.5 NAAQS
[Primary and secondary]
Designated area | Designation ᵃ: Date ¹ | Designation ᵃ: Type | Classification: Date | Classification: Type
Territory wide:
Northern Islands Municipality |  | Unclassifiable/Attainment. |  |
Rota Municipality |  | Unclassifiable/Attainment. |  |
Saipan Municipality |  | Unclassifiable/Attainment. |  |
Tinian Municipality |  | Unclassifiable/Attainment. |  |
ᵃ Includes Indian Country located in each county or area, except as otherwise specified.
¹ This date is 90 days after January 5, 2005, unless otherwise noted.

Northern Mariana Islands—1997 24-Hour PM2.5 NAAQS
[Primary and secondary]
Designated area | Designation ᵃ: Date ¹ | Designation ᵃ: Type | Classification: Date | Classification: Type
Territory wide:
Northern Islands Municipality |  | Unclassifiable/Attainment. |  |
Rota Municipality |  | Unclassifiable/Attainment. |  |
Saipan Municipality |  | Unclassifiable/Attainment. |  |
Tinian Municipality |  | Unclassifiable/Attainment. |  |
ᵃIncludes Indian Country located in each county or area, except as otherwise specified.
¹This date is 90 days after January 5, 2005, unless otherwise noted.

Northern Mariana Islands—2006 24-Hour PM2.5 NAAQS
[Primary and secondary]
Designated area | Designation ᵃ: Date ¹ | Designation ᵃ: Type | Classification: Date | Classification: Type
Territory wide:
Northern Islands Municipality |  | Unclassifiable/Attainment. |  |
Rota Municipality |  | Unclassifiable/Attainment. |  |
Saipan Municipality |  | Unclassifiable/Attainment. |  |
Tinian Municipality |  | Unclassifiable/Attainment. |  |
ᵃ Includes Indian Country located in each county or area, except as otherwise specified.
¹ This date is 30 days after November 13, 2009, unless otherwise noted.

* * * * *

56. Section 81.355 is amended as follows:

a. By removing the tables titled “Puerto Rico—PM2.5 (Annual NAAQS)” and “Puerto Rico—PM2.5 [24-hour NAAQS]”.

b. By adding three tables titled “Puerto Rico—1997 Annual PM2.5 NAAQS (Primary and Secondary)” and “Puerto Rico—1997 24-hour PM2.5 NAAQS (Primary and Secondary)” and “Puerto Rico—2006 24-hour PM2.5 NAAQS (Primary and Secondary)” before the table titled “Puerto Rico—NO2 (1971 Annual Standard)”.

The additions read as follows:

§ 81.355 Puerto Rico.

* * * * *

Puerto Rico—1997 Annual PM2.5 NAAQS
[Primary and secondary]
Designated area | Designation ᵃ: Date ¹ | Designation ᵃ: Type | Classification: Date | Classification: Type
Statewide:
Adjuntas Municipio |  | Unclassifiable/Attainment
Aguada Municipio |  | Unclassifiable/Attainment.
Aguadilla Municipio |  | Unclassifiable/Attainment.
Aguas Buenas Municipio |  | Unclassifiable/Attainment.
Aibonito Municipio |  | Unclassifiable/Attainment.
Añasco Municipio |  | Unclassifiable/Attainment.
Arecibo Municipio |  | Unclassifiable/Attainment.
Arroyo Municipio |  | Unclassifiable/Attainment.
Barceloneta Municipio |  | Unclassifiable/Attainment.
Barranquitas Municipio |  | Unclassifiable/Attainment.
Bayamón County |  | Unclassifiable/Attainment.
Cabo Rojo Municipio |  | Unclassifiable/Attainment.
Caguas Municipio |  | Unclassifiable/Attainment.
Camuy Municipio |  | Unclassifiable/Attainment.
Canóvanas Municipio |  | Unclassifiable/Attainment.
Carolina Municipio |  | Unclassifiable/Attainment.
Cataño County |  | Unclassifiable/Attainment.
Cayey Municipio |  | Unclassifiable/Attainment.
Ceiba Municipio |  | Unclassifiable/Attainment.
Ciales Municipio |  | Unclassifiable/Attainment.
Cidra Municipio |  | Unclassifiable/Attainment.
Coamo Municipio |  | Unclassifiable/Attainment.
Comerío Municipio |  | Unclassifiable/Attainment.
Corozal Municipio |  | Unclassifiable/Attainment.
Culebra Municipio |  | Unclassifiable/Attainment.
Dorado Municipio |  | Unclassifiable/Attainment.
Fajardo Municipio |  | Unclassifiable/Attainment.
Florida Municipio |  | Unclassifiable/Attainment.
Guánica Municipio |  | Unclassifiable/Attainment.
Guayama Municipio |  | Unclassifiable/Attainment.
Guayanilla Municipio |  | Unclassifiable/Attainment.
Guaynabo County |  | Unclassifiable/Attainment.
Gurabo Municipio |  | Unclassifiable/Attainment.
Hatillo Municipio |  | Unclassifiable/Attainment.
Hormigueros Municipio |  | Unclassifiable/Attainment.
Humacao Municipio |  | Unclassifiable/Attainment.
Isabela Municipio |  | Unclassifiable/Attainment.
Jayuya Municipio |  | Unclassifiable/Attainment.
Juana Díaz Municipio |  | Unclassifiable/Attainment.
Juncos Municipio |  | Unclassifiable/Attainment.
Lajas Municipio |  | Unclassifiable/Attainment.
Lares Municipio |  | Unclassifiable/Attainment.
Las Marías Municipio |  | Unclassifiable/Attainment.
Las Piedras Municipio |  | Unclassifiable/Attainment.
Loíza Municipio |  | Unclassifiable/Attainment.
Luquillo Municipio |  | Unclassifiable/Attainment.
Manatí Municipio |  | Unclassifiable/Attainment.
Maricao Municipio |  | Unclassifiable/Attainment.
Maunabo Municipio |  | Unclassifiable/Attainment.
Mayagnez Municipio |  | Unclassifiable/Attainment.
Moca Municipio |  | Unclassifiable/Attainment.
Morovis Municipio |  | Unclassifiable/Attainment.
Naguabo Municipio |  | Unclassifiable/Attainment.
Naranjito Municipio |  | Unclassifiable/Attainment.
Orocovis Municipio |  | Unclassifiable/Attainment.
Patillas Municipio |  | Unclassifiable/Attainment.
Peñuelas Municipio |  | Unclassifiable/Attainment.
Ponce Municipio |  | Unclassifiable/Attainment.
Quebradillas Municipio |  | Unclassifiable/Attainment.
Rincón Municipio |  | Unclassifiable/Attainment.
Río Grande Municipio |  | Unclassifiable/Attainment.
Sabana Grande Municipio |  | Unclassifiable/Attainment.
Salinas Municipio |  | Unclassifiable/Attainment.
San Germán Municipio |  | Unclassifiable/Attainment.
San Juan Municipio |  | Unclassifiable/Attainment.
San Lorenzo Municipio |  | Unclassifiable/Attainment.
San Sebastián Municipio |  | Unclassifiable/Attainment.
Santa Isabel Municipio |  | Unclassifiable/Attainment.
Toa Alta Municipio |  | Unclassifiable/Attainment.
Toa Baja Municipio |  | Unclassifiable/Attainment.
Trujillo Alto Municipio |  | Unclassifiable/Attainment
Utuado Municipio |  | Unclassifiable/Attainment
Vega Alta Municipio |  | Unclassifiable/Attainment
Vega Baja Municipio |  | Unclassifiable/Attainment
Vieques Municipio |  | Unclassifiable/Attainment
Villalba Municipio |  | Unclassifiable/Attainment
Yabucoa Municipio |  | Unclassifiable/Attainment
Yauco Municipio |  | Unclassifiable/Attainment
ᵃ Includes Indian Country located in each county or area, except as otherwise specified.
¹ This date is 90 days after January 5, 2005, unless otherwise noted.

Puerto Rico—1997 24-Hour PM2.5 NAAQS
[Primary and secondary]
Designated area | Designation ᵃ: Date ¹ | Designation ᵃ: Type | Classification: Date | Classification: Type
Territory wide:
Adjuntas Municipio |  | Unclassifiable/Attainment
Aguada Municipio |  | Unclassifiable/Attainment
Aguadilla Municipio |  | Unclassifiable/Attainment
Aguas Buenas Municipio |  | Unclassifiable/Attainment
Aibonito Municipio |  | Unclassifiable/Attainment
Añasco Municipio |  | Unclassifiable/Attainment
Arecibo Municipio |  | Unclassifiable/Attainment
Arroyo Municipio |  | Unclassifiable/Attainment
Barceloneta Municipio |  | Unclassifiable/Attainment
Barranquitas Municipio |  | Unclassifiable/Attainment
Bayamón County |  | Unclassifiable/Attainment
Cabo Rojo Municipio |  | Unclassifiable/Attainment
Caguas Municipio |  | Unclassifiable/Attainment
Camuy Municipio |  | Unclassifiable/Attainment
Canóvanas Municipio |  | Unclassifiable/Attainment
Carolina Municipio |  | Unclassifiable/Attainment
Cataño County |  | Unclassifiable/Attainment
Cayey Municipio |  | Unclassifiable/Attainment
Ceiba Municipio |  | Unclassifiable/Attainment
Ciales Municipio |  | Unclassifiable/Attainment
Cidra Municipio |  | Unclassifiable/Attainment
Coamo Municipio |  | Unclassifiable/Attainment
Comerío Municipio |  | Unclassifiable/Attainment
Corozal Municipio |  | Unclassifiable/Attainment
Culebra Municipio |  | Unclassifiable/Attainment
Dorado Municipio |  | Unclassifiable/Attainment
Fajardo Municipio |  | Unclassifiable/Attainment
Florida Municipio |  | Unclassifiable/Attainment
Guánica Municipio |  | Unclassifiable/Attainment
Guayama Municipio |  | Unclassifiable/Attainment
Guayanilla Municipio |  | Unclassifiable/Attainment
Guaynabo County |  | Unclassifiable/Attainment
Gurabo Municipio |  | Unclassifiable/Attainment
Hatillo Municipio |  | Unclassifiable/Attainment
Hormigueros Municipio |  | Unclassifiable/Attainment
Humacao Municipio |  | Unclassifiable/Attainment
Isabela Municipio |  | Unclassifiable/Attainment
Jayuya Municipio |  | Unclassifiable/Attainment
Juana Díaz Municipio |  | Unclassifiable/Attainment
Juncos Municipio |  | Unclassifiable/Attainment
Lajas Municipio |  | Unclassifiable/Attainment
Lares Municipio |  | Unclassifiable/Attainment
Las Marías Municipio |  | Unclassifiable/Attainment
Las Piedras Municipio |  | Unclassifiable/Attainment
Loíza Municipio |  | Unclassifiable/Attainment
Luquillo Municipio |  | Unclassifiable/Attainment
Manatí Municipio |  | Unclassifiable/Attainment
Maricao Municipio |  | Unclassifiable/Attainment
Maunabo Municipio |  | Unclassifiable/Attainment
Mayagnez Municipio |  | Unclassifiable/Attainment
Moca Municipio |  | Unclassifiable/Attainment
Morovis Municipio |  | Unclassifiable/Attainment
Naguabo Municipio |  | Unclassifiable/Attainment
Naranjito Municipio |  | Unclassifiable/Attainment
Orocovis Municipio |  | Unclassifiable/Attainment
Patillas Municipio |  | Unclassifiable/Attainment
Peñuelas Municipio |  | Unclassifiable/Attainment
Ponce Municipio |  | Unclassifiable/Attainment
Quebradillas Municipio |  | Unclassifiable/Attainment
Rincón Municipio |  | Unclassifiable/Attainment
Río Grande Municipio |  | Unclassifiable/Attainment
Sabana Grande Municipio |  | Unclassifiable/Attainment
Salinas Municipio |  | Unclassifiable/Attainment
San Germán Municipio |  | Unclassifiable/Attainment
San Juan Municipio |  | Unclassifiable/Attainment
San Lorenzo Municipio |  | Unclassifiable/Attainment
San Sebastián Municipio |  | Unclassifiable/Attainment
Santa Isabel Municipio |  | Unclassifiable/Attainment
Toa Alta Municipio |  | Unclassifiable/Attainment
Toa Baja County |  | Unclassifiable/Attainment
Trujillo Alto Municipio |  | Unclassifiable/Attainment
Utuado Municipio |  | Unclassifiable/Attainment
Vega Alta Municipio |  | Unclassifiable/Attainment
Vega Baja Municipio |  | Unclassifiable/Attainment
Vieques Municipio |  | Unclassifiable/Attainment
Villalba Municipio |  | Unclassifiable/Attainment
Yabucoa Municipio |  | Unclassifiable/Attainment
Yauco Municipio |  | Unclassifiable/Attainment
ᵃ Includes Indian Country located in each county or area, except as otherwise specified.
¹ This date is 90 days after January 5, 2005, unless otherwise noted.

Puerto Rico—2006 24-Hour PM2.5 NAAQS
[Primary and secondary]
Designated Area | Designation ᵃ: Date ¹ | Designation ᵃ: Type | Classification: Date | Classification: Type
Territory wide:
Adjuntas Municipio |  | Unclassifiable/Attainment. |  |
Aguada Municipio |  | Unclassifiable/Attainment. |  |
Aguadilla Municipio |  | Unclassifiable/Attainment. |  |
Aguas Buenas Municipio |  | Unclassifiable/Attainment. |  |
Aibonito Municipio |  | Unclassifiable/Attainment. |  |
Añasco Municipio |  | Unclassifiable/Attainment. |  |
Arecibo Municipio |  | Unclassifiable/Attainment. |  |
Arroyo Municipio |  | Unclassifiable/Attainment. |  |
Barceloneta Municipio |  | Unclassifiable/Attainment. |  |
Barranquitas Municipio |  | Unclassifiable/Attainment. |  |
Bayamón County |  | Unclassifiable/Attainment. |  |
Cabo Rojo Municipio |  | Unclassifiable/Attainment. |  |
Caguas Municipio |  | Unclassifiable/Attainment. |  |
Camuy Municipio |  | Unclassifiable/Attainment. |  |
Canóvanas Municipio |  | Unclassifiable/Attainment. |  |
Carolina Municipio |  | Unclassifiable/Attainment. |  |
Cataño County |  | Unclassifiable/Attainment. |  |
Cayey Municipio |  | Unclassifiable/Attainment. |  |
Ceiba Municipio |  | Unclassifiable/Attainment. |  |
Ciales Municipio |  | Unclassifiable/Attainment. |  |
Cidra Municipio |  | Unclassifiable/Attainment. |  |
Coamo Municipio |  | Unclassifiable/Attainment. |  |
Comerío Municipio |  | Unclassifiable/Attainment. |  |
Corozal Municipio |  | Unclassifiable/Attainment. |  |
Culebra Municipio |  | Unclassifiable/Attainment. |  |
Dorado Municipio |  | Unclassifiable/Attainment. |  |
Fajardo Municipio |  | Unclassifiable/Attainment. |  |
Florida Municipio |  | Unclassifiable/Attainment. |  |
Guánica Municipio |  | Unclassifiable/Attainment. |  |
Guayama Municipio |  | Unclassifiable/Attainment. |  |
Guayanilla Municipio |  | Unclassifiable/Attainment. |  |
Guaynabo County |  | Unclassifiable/Attainment. |  |
Gurabo Municipio |  | Unclassifiable/Attainment. |  |
Hatillo Municipio |  | Unclassifiable/Attainment. |  |
Hormigueros Municipio |  | Unclassifiable/Attainment. |  |
Humacao Municipio |  | Unclassifiable/Attainment. |  |
Isabela Municipio |  | Unclassifiable/Attainment. |  |
Jayuya Municipio |  | Unclassifiable/Attainment. |  |
Juana Díaz Municipio |  | Unclassifiable/Attainment. |  |
Juncos Municipio |  | Unclassifiable/Attainment. |  |
Lajas Municipio |  | Unclassifiable/Attainment. |  |
Lares Municipio |  | Unclassifiable/Attainment. |  |
Las Marías Municipio |  | Unclassifiable/Attainment. |  |
Las Piedras Municipio |  | Unclassifiable/Attainment. |  |
Loíza Municipio |  | Unclassifiable/Attainment. |  |
Luquillo Municipio |  | Unclassifiable/Attainment. |  |
Manatí Municipio |  | Unclassifiable/Attainment. |  |
Maricao Municipio |  | Unclassifiable/Attainment. |  |
Maunabo Municipio |  | Unclassifiable/Attainment. |  |
Mayagnez Municipio |  | Unclassifiable/Attainment. |  |
Moca Municipio |  | Unclassifiable/Attainment. |  |
Morovis Municipio |  | Unclassifiable/Attainment. |  |
Naguabo Municipio |  | Unclassifiable/Attainment. |  |
Naranjito Municipio |  | Unclassifiable/Attainment. |  |
Orocovis Municipio |  | Unclassifiable/Attainment. |  |
Patillas Municipio |  | Unclassifiable/Attainment. |  |
Peñuelas Municipio |  | Unclassifiable/Attainment. |  |
Ponce Municipio |  | Unclassifiable/Attainment. |  |
Quebradillas Municipio |  | Unclassifiable/Attainment. |  |
Rincón Municipio |  | Unclassifiable/Attainment. |  |
Río Grande Municipio |  | Unclassifiable/Attainment. |  |
Sabana Grande Municipio |  | Unclassifiable/Attainment. |  |
Salinas Municipio |  | Unclassifiable/Attainment. |  |
San Germán Municipio |  | Unclassifiable/Attainment. |  |
San Juan Municipio |  | Unclassifiable/Attainment. |  |
San Lorenzo Municipio |  | Unclassifiable/Attainment. |  |
San Sebastián Municipio |  | Unclassifiable/Attainment. |  |
Santa Isabel Municipio |  | Unclassifiable/Attainment. |  |
Toa Alta Municipio |  | Unclassifiable/Attainment. |  |
Toa Baja County |  | Unclassifiable/Attainment. |  |
Trujillo Alto Municipio |  | Unclassifiable/Attainment. |  |
Utuado Municipio |  | Unclassifiable/Attainment. |  |
Vega Alta Municipio |  | Unclassifiable/Attainment. |  |
Vega Baja Municipio |  | Unclassifiable/Attainment. |  |
Vieques Municipio |  | Unclassifiable/Attainment. |  |
Villalba Municipio |  | Unclassifiable/Attainment. |  |
Yabucoa Municipio |  | Unclassifiable/Attainment. |  |
Yauco Municipio |  | Unclassifiable/Attainment. |  |
ᵃ Includes Indian Country located in each county or area, except as otherwise specified.
¹ This date is 30 days after November 13, 2009, unless otherwise noted.

* * * * *

57. Section 81.356 is amended as follows:

a. By removing the tables titled “Virgin Islands—PM2.5 (Annual NAAQS)” and “Virgin Islands—PM2.5 [24-hour NAAQS]”.

b. By adding three tables titled “Virgin Islands—1997 Annual PM2.5 NAAQS (Primary and Secondary)” and “Virgin Islands—1997 24-hour PM2.5 NAAQS (Primary and Secondary)” and “Virgin Islands—2006 24-hour PM2.5 NAAQS (Primary and Secondary)” before the table titled “Virgin Islands—NO2 (1971 Annual Standard)”.

The additions read as follows:

§ 81.356 Virgin Islands.

* * * * *

Virgin Islands—1997 Annual PM2.5 NAAQS
[Primary and secondary]
Designated area | Designation ᵃ: Date ¹ | Designation ᵃ: Type | Classification: Date | Classification: Type
Statewide:
St. Croix |  | Unclassifiable/Attainment. |  |
St. John |  | Unclassifiable/Attainment. |  |
St. Thomas |  | Unclassifiable/Attainment. |  |
ᵃ Includes Indian Country located in each county or area, except as otherwise specified.
¹ This date is 90 days after January 5, 2005, unless otherwise noted.

Virgin Islands—1997 24-Hour PM2.5 NAAQS
[Primary and secondary]
Designated area | Designation ᵃ: Date ¹ | Designation ᵃ: Type | Classification: Date | Classification: Type
Territory wide:
St. Croix |  | Unclassifiable/Attainment. |  |
St. John |  | Unclassifiable/Attainment. |  |
St. Thomas |  | Unclassifiable/Attainment. |  |
ᵃ Includes Indian Country located in each county or area, except as otherwise specified.
¹ This date is 90 days after November 13, 2009, unless otherwise noted.

Virgin Islands—2006 24-Hour PM2.5 NAAQS
[Primary and secondary]
Designated area | Designation ᵃ: Date ¹ | Designation ᵃ: Type | Classification: Date | Classification: Type
Territory wide:
St. Croix |  | Unclassifiable/Attainment. |  |
St. John |  | Unclassifiable/Attainment. |  |
St. Thomas |  | Unclassifiable/Attainment. |  |
ᵃ Includes Indian Country located in each county or area, except as otherwise specified.
¹ This date is 30 days after November 13, 2009, unless otherwise noted.

[FR Doc. 2014-10395 Filed 5-30-14; 8:45 am]

BILLING CODE 6560-50-P